ENVIRONMENTAL PROTECTION AGENCY

40 CFR Part 81

[EPA-HQ-OAR-2007-0562; FRL-8969-2]

RIN-2060-AP27

Air Quality Designations for the 2006 24-Hour Fine Particle (PM2.5) National Ambient Air Quality Standards

AGENCY: Environmental Protection Agency (EPA).

ACTION: Final rule.

SUMMARY: This rule establishes the initial air quality designations for most areas in the United States (U.S.), including Indian Country, for the 2006 24-hour fine particle (PM2.5) National Ambient Air Quality Standards (NAAQS). Through these designations, EPA is identifying areas that meet or violate these NAAQS. In particular, EPA is identifying the geographic boundaries of areas that violate, or contribute to violations of, the 2006 24-hour PM2.5 NAAQS. This is an important step toward providing the public health and welfare protections of the 2006 24-hour PM2.5 NAAQS. The Clean Air Act (CAA) requires states with areas designated nonattainment to undertake certain planning and pollution control activities within these areas in order to attain the standards as quickly as reasonably possible. Designating areas also helps citizens know whether the air quality where they live and work is healthful or unhealthful. Health studies have shown significant associations between exposure to PM2.5 and premature death from heart and lung disease. PM2.5 can also aggravate heart and lung diseases and has been linked to effects such as cardiovascular symptoms, cardiac arrhythmias, heart attacks, respiratory symptoms, asthma attacks, and bronchitis. These effects can result in increased hospital admissions, emergency room visits, absences from school or work, and restricted activity days. Individuals that may be particularly sensitive to PM2.5 exposure include people with heart or lung disease, older adults, and children.

DATES: Effective Date: The effective date of this rule is December 14, 2009.

ADDRESSES: The EPA has established a docket for this action under Docket ID NO. EPA-HQ-OAR-2007-0562. All documents in the docket are listed in the index at http://www.regulations.gov. Although listed in the index, some information is not publicly available, i.e., Confidential Business Information (CBI) or other information whose disclosure is restricted by statute. Certain other material, such as copyrighted material, is not placed on the Internet and will be publicly available only in hard copy form. Publicly available docket materials are available either electronically in the docket or in hard copy at the Docket, EPA/DC, EPA West, Room 3334, 1301 Constitution Ave., NW., Washington, DC. The Public Reading Room is open from 8:30 a.m. to 4:30 p.m. Monday through Friday, excluding legal holidays. The telephone number for the Public Reading Room is (202) 566-1744, and the telephone number for the Office of Air and Radiation Docket and Information Center is (202) 566-1742.

In addition, EPA has established a Web Site for this rulemaking at: http://www.epa.gov/pmdesignations/2006standards/index.htm. The Web site includes EPA's final state and tribal designations, as well as state initial recommendation letters, EPA modification letters, technical support documents, responses to comments and other related technical information.

FOR FURTHER INFORMATION CONTACT: Amy Vasu, Office of Air Quality Planning and Standards, U. S. Environmental Protection Agency, Mail Code C539-01, Research Triangle Park, NC, 27711, phone number (919) 541-0107 or by e-mail at: vasu.amy@epa.gov or Rich Damberg, Office of Air Quality Planning and Standards, U. S. Environmental Protection Agency, Mail Code C539-01, Research Triangle Park, NC, 27711, phone number (919) 541-5592 or by e-mail at: damberg.rich@epa.gov.

Regional Office Contacts:

Region I—Alison Simcox (617) 918-1684,

Region II—Kenneth Fradkin (212) 637-3702,

Region III—Maria Pino (215) 814-2181,

Region IV—Steve Scofield (404) 562-9034,

Region V—John Summerhays (312) 886-6067,

Region VI—Joe Kordzi (214) 665-7186,

Region VII—Tracey Casburn (913) 551-7016,

Region VIII—Catherine Roberts (303) 312-6025,

Region IX—Eleanor Kaplan (415) 744-1286,

Region X—Krishna Viswanathan (206) 553-2684.

SUPPLEMENTARY INFORMATION: The public may inspect the rule and the technical support information at the following locations:

Regional offices | States
Dave Conroy, Chief, Air Programs Branch, EPA New England, 1 Congress Street, Suite 1100, Boston, MA 02114-2023, (617) 918-1661 | Connecticut, Maine, Massachusetts, New Hampshire, Rhode Island, and Vermont.
Raymond Werner, Chief, Air Programs Branch, EPA Region II, 290 Broadway, 25th Floor, New York, NY 10007-1866, (212) 637-3706 | New Jersey, New York, Puerto Rico, and Virgin Islands.
Cristina Fernandez, Branch Chief, Air Quality Planning Branch, EPA Region III, 1650 Arch Street, Philadelphia, PA 19103-2187, (215) 814-2178 | Delaware, District of Columbia, Maryland, Pennsylvania, Virginia, and West Virginia.
Richard A. Schutt, Chief, Air Planning Branch, EPA Region IV, Sam Nunn Atlanta Federal Center, 61 Forsyth Street, SW, 12th Floor, Atlanta, GA 30303, (404) 562-9033 | Alabama, Florida, Georgia, Kentucky, Mississippi, North Carolina, South Carolina, and Tennessee.
Jay Bortzer, Chief, Air Programs Branch, EPA Region V, 77 West Jackson Street, Chicago, IL 60604, (312) 886-1430 | Illinois, Indiana, Michigan, Minnesota, Ohio, and Wisconsin.
Guy Donaldson, Chief, Air Planning Section, EPA Region VI, 1445 Ross Avenue, Dallas, TX 75202, (214) 665-7242 | Arkansas, Louisiana, New Mexico, Oklahoma, and Texas.
Joshua A. Tapp, Chief, Air Programs Branch, EPA Region VII, 901 North 5th Street, Kansas City, Kansas 66101-2907, (913) 551-7606 | Iowa, Kansas, Missouri, and Nebraska.
Monica Morales, Leader, Air Quality Planning Unit, EPA Region VIII, U.S. EPA Region VIII, 1595 Wynkoop Street, Denver, CO 80202-1129, (303) 312-6936 | Colorado, Montana, North Dakota, South Dakota, Utah, and Wyoming.
Lisa Hanf, Air Planning Office, EPA Region IX, 75 Hawthorne Street, San Francisco, CA 94105, (415) 972-3854 | American Samoa, Arizona, California, Guam, Hawaii, Nevada, and Northern Mariana Islands.
Mahbubul Islam, Manager, State and Tribal Air Programs, EPA Region X, Office of Air, Waste, and Toxics, Mail Code OAQ-107, 1200 Sixth Avenue, Seattle, WA 98101, (206) 553-6985 | Alaska, Idaho, Oregon, and Washington.

Table of Contents

The following is an outline of the Preamble.

I. Preamble Glossary of Terms and Acronyms

II. What Is the Purpose of This Document?

III. What Are Fine Particles and the Health Concerns Associated With Fine Particles?

IV. What Air Quality Standards Has EPA Established To Address Fine Particles?

V. What Are the Clean Air Act (CAA) Requirements for Air Quality Designations?

VI. How Did EPA Comply With the Clean Air Act (CAA) Requirements for Air Quality Designations?

VII. How Did EPA Apply the Statutory Requirements and Applicable Guidance To Determine Nonattainment Area Designations and Boundaries for the 2006 24-Hour PM2.5 NAAQS?

VIII. What Areas Is EPA Designating Nonattainment for the 2006 24-Hour PM2.5 NAAQS?

IX. How Has EPA Used 2008 Air Quality Data?

X. How Do Designations Affect Indian Country?

XI. Where Can I Find Information Forming the Basis for This Rule and Exchanges Between EPA, States, and Tribes Related to This Rule?

XII. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions That Significantly Affect Energy Supply, Distribution, or Use

I. National Technology Transfer Advancement Act (NTTAA)

J. Executive Order 12898: Federal Actions To Address Environmental Justice in Minority Populations and Low-Income Populations

K. Congressional Review Act

L. Judicial Review

I. Preamble Glossary of Terms and Acronyms

The following are abbreviations of terms used in the preamble.

APA Administrative Procedure Act

CAA Clean Air Act

CBSA Core Based Statistical Area

CES Contributing Emissions Score

CFR Code of Federal Regulations

CSA Combined Statistical Area

DC District of Columbia

EO Executive Order

EPA Environmental Protection Agency

FR Federal Register

FRM Federal Reference Method

MPO Metropolitan Planning Organizations

NAAQS National Ambient Air Quality Standards

NO3 Nitrate

NOX Nitrogen Oxides

NTTAA National Technology Transfer Advancement Act

OMB Office of Management and Budget

RFA Regulatory Flexibility Act

SIP State Implementation Plan

SO2 Sulfur Dioxide

SO4 Sulfate

μg/m³ micrograms per cubic meter

UMRA Unfunded Mandate Reform Act of 1995

TAR Tribal Authority Rule

TSD Technical Support Document

U.S. United States

VCS Voluntary Consensus Standards

VOC Volatile Organic Compounds

II. What Is the Purpose of This Document?

The purpose of this document is to announce and promulgate initial designations and boundaries for areas across the country with respect to the 2006 24-hour PM2.5 NAAQS, in accordance with the requirements of CAA section 107(d). The list of areas in each state and in Indian Country, and the designation for each area, appear in the table at the end of this final rule (amendments to 40 CFR 81.300-356). For those areas designated nonattainment, states must develop a State Implementation Plan (SIP) and tribes may develop a Tribal Implementation Plan that provides for attainment of the NAAQS as expeditiously as practicable, in accordance with the requirements of the CAA and applicable EPA regulations. Pursuant to section 172(b), EPA is announcing that states and tribes must submit these plans no later than three years from the effective date of these designations. Such plans must meet the requirements of section 172(c). EPA's current implementation regulations for PM2.5 at 40 CFR section 51.1000-1012 apply expressly only to the 1997 PM2.5 NAAQS. EPA is considering amending those regulations explicitly to encompass the 2006 PM2.5 NAAQS, and whether any other revisions to the regulations are necessary for these new standards. The Agency anticipates that the SIP requirements for the 2006 PM2.5 NAAQS should be comparable to those for the 1997 PM2.5 NAAQS, so that the regulations at sections 51.1000-1012 can be used as a guide to SIP planning for the 2006 NAAQS pending any revisions to the regulations. For those areas designated unclassifiable or attainment, states must meet other statutory and regulatory requirements to prevent significant deterioration of air quality in those areas.

This notice identifies the 31 areas, listed in Table 1 below, comprised of one or more whole or partial counties, as nonattainment areas for the 2006 24-hour PM2.5 NAAQS. The basis for establishing these areas as “nonattainment” is monitored air quality data for 2006-2008 indicating a violation of the NAAQS. EPA has also identified three additional areas with monitoring data now indicating potential violations of the 2006 24-hour PM2.5 NAAQS, and we are in the process of working with affected states and tribes in accordance with CAA section 107(d) to establish nonattainment boundaries for these areas. Accordingly, EPA is deferring the designations for these areas until EPA and the states and tribes can develop sufficient information to determine the appropriate boundaries for these nonattainment areas. Table 3 below identifies these areas.

EPA completed initial designations for the annual PM2.5 NAAQS in 2005 (70 FR 944). EPA's review of 2006-2008 monitoring data indicates that two areas initially designated as “unclassifiable/attainment” for the annual PM2.5 NAAQS are now violating that NAAQS. For these two areas, EPA intends to initiate the process to redesignate these currently violating areas to nonattainment in accordance with the procedures of CAA section 107(d)(3). The outcome of the redesignation process will be announced in a separate future notice.

This rule also lists the current designations for the 1997 24-hour PM2.5 NAAQS designations, which remain in place. EPA has not previously, and is not by this action, revoking the 1997 annual or 24-hour PM2.5 NAAQS. Areas currently designated nonattainment for the 1997 annual or 24-hour NAAQS remain so after this action, and remain obligated to comply with the statutory and regulatory requirements applicable to such areas. EPA is not by this action promulgating any designations for the 1997 PM2.5 NAAQS, but is announcing its intention to initiate the redesignation process under CAA section 107(d)(3) by a later action.

III. What Are Fine Particles and the Health Concerns Associated With Fine Particles?

Fine particles are extremely small airborne particles. Airborne particles with a nominal aerodynamic diameter of 2.5 micrometers or less (a micrometer is one-millionth of a meter; 2.5 micrometers is less than about one-thirtieth the thickness of a human hair) are considered to be “fine particles” and are also known as PM2.5. Due to their small size, they can penetrate deeply into the lungs of people who inhale them, where they can accumulate, react, or be absorbed into the body. Epidemiological studies have shown a significant association between elevated PM2.5 levels and a number of serious health effects, including premature mortality, aggravation of respiratory and cardiovascular disease (as indicated by increased hospital admissions, emergency room visits, absences from school or work, and restricted activity days), lung disease, decreased lung function, asthma attacks, and certain cardiovascular problems such as heart attacks and cardiac arrhythmia. Individuals particularly sensitive to PM2.5 exposure include older adults, people with heart and lung disease, and children.

Fine particles in the atmosphere are made up of a complex mixture of components, both liquid and solid. Common constituents of ambient PM2.5 include: Sulfate (SO4); nitrate (NO3); ammonium (NH4); elemental carbon; a great variety of organic compounds; and inorganic material (including metals, dust, sea salt, and other trace elements), which often is referred to as “crustal” material. Ambient PM2.5 is typically comprised of a mixture of primary and secondary particles. “Primary” particles are emitted directly into the air as a solid or liquid particle (e.g., elemental carbon and organic particles from diesel engines or burning activities). “Secondary” particles (e.g., SO4 and NO3) form in the atmosphere as a result of various chemical transformations of gaseous precursors such as sulfur dioxide (SO2) and oxides of nitrogen (NOX). These primary and secondary particles result from a broad variety of sources and emissions activities. Chemical precursors to secondary particles include SO2, NOX, volatile organic compounds (VOCs), and ammonia.

Fine particles are emitted by, and formed from emissions of, a wide range of sources. For example, SO4 particles usually result from reactions of SO2 emissions (from sources like power plants and industrial boilers) with ammonia emissions (from sources like animal feeding operations and fertilizer production, and to a lesser extent from mobile sources and power plants). Nitrate particles usually result from reactions of NOX emissions (from such as mobile sources, power plants, or other industrial sources) with ammonia emissions. Crustal particles typically result from sources or activities that cause suspension of soils or metals in the air, such as re-entrained road dust, agriculture, or mining. Carbonaceous particles result from emissions from a wide range of sources or activities that cause the suspension of soil or metals in the air, such as re-entrained road dust, agriculture, or mining. Carbonaceous particles emanate directly from diesel and gasoline powered engines in mobile sources and heavy equipment, wildfires, waste burning, power generation, and other industrial sources. They also result from secondary reactions of VOCs in the atmosphere. Speciated data for PM2.5 can provide information useful in identifying contributing emission sources and areas.

The relative proportion of primary and secondary particles, and the relative proportions of different species of particles found in a given geographic area, can vary widely, depending upon factors such as the mix of sources in the area, the mix of PM2.5 precursors, and meteorology. The sources of PM2.5 and PM2.5 precursors in any area also vary by type, amount, and number. Thus, the ambient PM2.5 in areas results from complex interaction of emissions that, in the aggregate, comprise the total ambient PM2.5 level.

Additionally, PM2.5 and its precursors can transport hundreds or thousands of miles suspended in the atmosphere. The extent and direction of transport are affected by meteorological conditions and winds. Wind direction, speed, and strength all vary over the course of a single day, as well as by season, and, thus, over the entire year. Consequently, ambient PM2.5 in an area may be the combination of primary and secondary PM2.5 particles that result from the emissions of sources in that area, nearby areas, and areas much farther away.

Given the complex nature of PM2.5, including its serious adverse health impacts, multiple precursors, numerous sources, meteorological considerations, and the need to distinguish between impacts of local and non-local sources at any violating monitor, EPA has developed a case-by-case approach to determining designations for PM2.5. In particular, to determine which areas are violating, and which nearby areas are contributing to those violations, EPA considers the specific facts and circumstances of each area.

IV. What Air Quality Standards Has EPA Established To Address Fine Particles?

On July 18, 1997, EPA revised the NAAQS for particulate matter to add new standards for fine particle pollution, using PM2.5 as the indicator. EPA established annual and 24-hour standards for PM2.5 (62 FR 38652). The primary and secondary annual PM2.5 standards were set at a level of 15 micrograms per cubic meter (μg/m³), based on a 3-year average of annual mean PM2.5 concentrations. The primary and secondary 24-hour PM2.5 standards were set at a level of 65 μg/m³, based on a 3-year average of the 98th percentile of 24-hour PM2.5 concentrations. The 1997 annual and 24-hour PM2.5 NAAQS are codified at 40 CFR section 50.7. EPA promulgated the designations for the 1997 PM2.5 NAAQS on January 5, 2005, and these designations became effective on April 5, 2005 (70 FR 944). The U.S. Court of Appeals for the District of Columbia has recently upheld EPA's designations for the 1997 PM2.5 NAAQS for all but one area.¹

¹ See, Catawba et al. v. EPA, No. 05-1064 and consolidated cases, decided July 7, 2009.

In 2006, EPA strengthened the primary and secondary 24-hour PM2.5 NAAQS from 65 μg/m³ to 35 μg/m³, and retained the current primary and secondary annual PM2.5 NAAQS at 15 μg/m³. The revised 24-hour PM2.5 standards were published on October 17, 2006 (71 FR 61144) and became effective on December 18, 2006. The 2006 annual and 24-hour PM2.5 NAAQS are codified at 40 CFR 50.13. The more stringent 2006 24-hour PM2.5 standards are based on significant evidence and numerous health studies demonstrating that serious health effects are associated with short-term exposures to PM2.5 at this level.

Many petitioners challenged EPA's 2006 annual PM2.5 standards but not the 2006 24-hour PM2.5 standards. As a result of that challenge, the U.S. Court of Appeals for the District of Columbia has remanded the 2006 annual PM2.5 standards to EPA for further proceedings.² Though remanded, the standards remain in effect while EPA determines how to respond to the concerns raised in the court's opinion. EPA is currently evaluating a petition concerning the designations for the 2006 annual PM2.5 standards and is not promulgating them at this time. Because the 2006 24-hour PM2.5 NAAQS are in effect and the court did not remand them, EPA is proceeding to promulgate the designations for these standards in this rulemaking action.

² See, American Farm Bureau Federation and National Pork Producers Council, et al. v. EPA, 559 F.3d 512 (DC Cir. 2009).

V. What Are the Clean Air Act (CAA) Requirements for Air Quality Designations?

This section summarizes the provisions of section 107(d) of the CAA, which governs the process that the states and EPA must follow in order to promulgate designations. Section 107(d)(1) provides that, after EPA promulgates any new or revised NAAQS, EPA must promulgate designations for all areas nationwide through a specific administrative process governed by the terms of section 107(d). The designations process is explicitly exempt from the usual notice and comment procedures required by the Administrative Procedures Act (APA) pursuant to section 107(d)(2)(B). The process is likewise exempt from the procedural requirements of section 307(d), unless EPA invokes it, by virtue of the fact that designations are not included in the statutory list of actions in section 307(d)(1).³

³ This view has been confirmed in Catawba et al. v. EPA, No. 05-1064 and consolidated cases, decided July 7, 2009.

The designation process begins with initial recommendations for designations from the states and tribes for areas within their jurisdictions. Section 107(d)(1)(A) provides that, by not later than one year after promulgation of a new or revised standard, each state is required to submit its recommendations for air quality designations for all areas under its jurisdiction to EPA, including the appropriate boundaries for nonattainment areas. Within section 107(d)(1)(A), the CAA establishes three types of designations: (i) Attainment areas that meet the NAAQS; (ii) unclassifiable areas, for which there is insufficient information to determine whether or not the area meets the NAAQS; and (iii) nonattainment areas that either do not meet the NAAQS, or that contribute to violations in a nearby area that does not meet the NAAQS. With respect to nonattainment areas, it should be noted that the statute does not define what constitutes a violation of the NAAQS. Nor does the statute define the terms “area,” “contributes,” or “nearby” for purposes of designations for any NAAQS.

EPA reviews state recommendations and, under section 107(d)(1)(B), is authorized to make any modifications to those recommendations that the Administrator deems necessary. The statute does not define the term “necessary,” but EPA interprets this to authorize the Administrator to modify designations that did not meet the statutory requirements or were otherwise inconsistent with the facts or analysis deemed appropriate by EPA. If EPA is considering modifications to a state's initial recommendation, EPA is required to notify the state of any such intended modifications to its recommendation not less than 120 days prior to EPA's promulgation of the final designation. If the state does not agree with EPA's modification, it then has an opportunity to respond to EPA and to demonstrate why it believes the modification proposed by EPA is inappropriate, as contemplated by section 107(d)(1)(B)(ii). Even if a state fails to provide any recommendation for an area, in whole or in part, EPA still must promulgate a designation that the Administrator deems appropriate, pursuant to section 107(d)(1)(B)(ii).

Section 107(d)(1)(B)(i) directs EPA to promulgate the designations as expeditiously as practicable, but not later than two years from the date of promulgation of new or revised air quality standards. However, in the event that EPA has insufficient information to promulgate the designation for an area, EPA may extend the period for up to one additional year.

EPA believes that section 107(d) provides the Agency with discretion to determine how best to interpret the terms in the definition of a nonattainment area (e.g., “contributes to” and “nearby”) for a new or revised NAAQS, given considerations such as the nature of a specific pollutant, the types of sources that may contribute to violations, the form of the standards for the pollutant, and other relevant information. In particular, EPA believes that the statute does not require the Agency to establish bright line tests or thresholds for what constitutes contribution or nearby for purposes of designations.⁴

⁴ This view has been confirmed in Catawba et al. v. EPA, No. 05-1064 and consolidated cases, decided July 7, 2009.

Similarly, EPA believes that the statute permits EPA to evaluate the appropriate application of the term “area” to include geographic areas based upon full or partial county boundaries, and contiguous or non-contiguous areas, as may be appropriate for a particular NAAQS. For example, section 107(d)(1)(B)(ii) explicitly provides that EPA can make modifications to designation recommendations for an area “or portions thereof,” and under section 107(d)(1)(B)(iv), a designation remains in effect for an area “or portion thereof” until EPA redesignates it. See footnote 4.

Section 107(d) contains additional specific provisions applicable to other NAAQS, such as ozone or lead in section 107(d)(4) and (5). The designations for the 2006 24-hour PM2.5 NAAQS are governed by the general provisions of section 107(d)(1) and (2). However, EPA has concluded that it has discretion to look to other provisions of section 107(d) by analogy, as appropriate, to inform the process for designations for the 2006 24-hour PM2.5 NAAQS. See footnote 4. For example, EPA recommended that states assess boundaries for nonattainment areas using information related to various factors similar to those that EPA had previously recommended for the 1997 annual PM2.5 NAAQS designations, and which, in turn, relate to similar types of information that Congress provided for consideration in designations for ozone in section 107(d)(4)(A)(v). See footnote 4.

Another key distinction of section 107(d) is that it directs EPA to identify areas that violate the NAAQS, and nearby areas that “contribute” to those violations. Some have asserted that this term should be controlled by EPA's interpretation of comparable terms in section 110(a)(2)(D) and section 126. In other actions, such as the Clean Air Interstate Rule, EPA has relied on the term “contribute significantly to nonattainment” to support regulatory efforts to address regional interstate transport of pollutants, such as SO2 and NOX, that exacerbate nonattainment of the PM2.5 NAAQS in downwind areas. In these actions, EPA has, through regulation, evaluated amounts of emissions that occur on a statewide basis, and EPA has used this information to develop a threshold to determine which states should be considered to contribute significantly to nonattainment in another state, at a level sufficient to require inclusion within a regional control strategy.

EPA believes that the explicit wording of section 107(d) and section 110(a)(2)(D) differs markedly, and that the purposes of the two provisions are likewise distinct. For example, EPA believes that section 110(a)(2)(D) requires some quantification of the amount of transport from a state, because the provision directs EPA to insure that there are provisions to prevent emissions “in amounts” that would “significantly” contribute to violations of a NAAQS in another state. By comparison, section 107(d) includes no such explicit requirement for any quantification of emissions or contribution and does not use the term “significant” to modify the word “contributes.” Moreover, section 107(d) is intended to accomplish a distinctly different purpose from section 110(a)(2)(D). Section 107(d) directs EPA to identify those areas that are violating, and those nearby areas that are contributing to the violations, as the geographic areas within which states must address local emission sources for purposes of local attainment needs, in accordance with the requirements of section 172 and applicable regulations. By contrast, section 110(a)(2)(D) authorizes EPA to take action to address interstate transport of pollutants from one or more states that affect other states. To be sure, these provisions can work in concert to address the local and regional components of nonattainment for a given NAAQS. They are not, however, identical in wording or purpose.

Designation activities for federally-recognized tribes are covered under the authority of section 301(d) of the CAA. This provision of the CAA authorizes EPA to treat eligible tribes in a similar manner as states. Pursuant to section 301(d)(2), EPA promulgated regulations, known as the Tribal Authority Rule (TAR) (63 FR 7254). The TAR is codified at 40 CFR part 49. That rule specifies those provisions of the CAA for which it is appropriate to treat tribes in a similar manner as states. Under the TAR, tribes may choose to develop and implement their own CAA programs, but are not required to do so. The TAR also establishes procedures and criteria by which tribes may request from EPA a determination of eligibility for such treatment.

The designations process contained in section 107(d) of the CAA is included among those provisions determined to be appropriate by EPA for treatment of tribes in the same manner as states. Under the TAR, tribes generally are not subject to the same submission schedules imposed by the CAA on states. However, EPA itself is required to meet statutory deadlines for promulgation of designations and must observe those deadlines, notwithstanding the discretion EPA has to adjust schedules for tribes. As authorized by the TAR, tribes may seek eligibility to submit designation recommendations to EPA. In addition, CAA section 301(d)(4) gives EPA discretionary authority, in cases where it determines that treatment of tribes as identical to states is “inappropriate or administratively infeasible,” to provide for direct administration by regulation to achieve the appropriate purpose.

To date, one tribe has applied for eligibility under the TAR to submit its own initial designation recommendations under section 107(d)(1). Nonetheless, EPA invites all tribes to submit designation recommendations for new NAAQS. EPA works closely with tribes that request an opportunity to submit designation recommendations and supporting documentation. EPA reviews and acts on recommended designations in consultation with the tribes, and as with states, makes modifications to tribal recommendations as EPA deems necessary.

VI. How Did EPA Comply With the Clean Air Act (CAA) Requirements for Air Quality Designations?

Following the December 18, 2006 effective date of the 2006 PM2.5 NAAQS, EPA invited all states and tribes to submit area and boundary recommendations within one year. On June 8, 2007, EPA provided guidance making recommendations concerning various aspects of the designations, including timing, process, and factors reflecting the types of information that could be relevant to the evaluation of a specific area.⁵

⁵ See, Memorandum from Robert J. Meyers, Acting Assistant Administrator, to EPA Regional Administrators—Regions I-X, “Area Designations for the Revised 24-Hour Fine Particle National Ambient Air Quality Standard,” June 8, 2007.

Most states, and those tribes who elected to do so, submitted initial designation recommendations and supporting documentation to EPA by December 18, 2007.⁶ In general, state and tribal area recommendations were based on Federal Reference Method pair quality monitoring data from the 2004-2006 time period.⁷ After reviewing and evaluating each of these recommendations, EPA provided responses to the states and tribes on August 19-20, 2008. In these letters, EPA indicated whether or not EPA intended to make modifications to the initial state or tribal recommendations and explained EPA's reasons for suggesting any such modifications. As part of this process, EPA incorporated consideration of the most recent air quality data then available, for the 2005-2007 time period. EPA requested that states and tribes respond to any proposed EPA modifications to their initial recommendations by October 20, 2008.

⁶ At this time, one tribe has applied for eligibility under the TAR to submit recommendations formally under section 107(d)(1). Nonetheless, EPA solicited and received submittals from tribes containing recommendations regarding EPA's designations for Indian country. For convenience, EPA will refer to these submittals as “recommendations” in this notice.

⁷ At each of these stages of the process, states, tribes and EPA have used the three most recent full calendar years of air quality monitoring data then available. By regulation, states and tribes must submit fully quality assured air quality monitoring data for a calendar year to EPA by July of the following year. Hence, at the time of the initial recommendations, 2004-2006 was the most recent set of data; at the time of EPA's consideration of those recommendations, 2005-2007 was the most recent set of data; at the time of these designations, 2006-2008 is the most recent set of data.

Although not required by section 107(d) of the CAA, EPA also provided an opportunity for comment by members of the public in order to gather additional information for EPA to consider before making final designations.⁸ EPA published a notice on September 2, 2008 (73 FR 51259) which invited the public to comment on EPA's intended designations. In this notice, EPA offered a 30-day comment period to all interested parties, other than states and tribes, as they already have statutorily provided opportunities to participate in the designations process. EPA posted the state and tribal initial recommendations and EPA's responses, including suggested modifications, on a Web site which was accessible to the public to provide information to inform their comments: (http://www.epa.gov/pmdesignations/2006standards/index.htm). Timely comments from the public, and EPA's responses to significant public comments, are in the docket for this action.

⁸ EPA did not elect to invoke section 307(d) for these designations. Pursuant to section 107(d)(2)(B), EPA may elect to use a notice and comment process as part of the designations process for a given NAAQS at the Agency's discretion. In this instance, EPA concluded that this extra process could provide additional helpful information. Normally, members of the public could of course express their views through the states and tribes who have a formal role in the designations process provided in section 107(d).

The Agency received letters from many states and tribes suggesting changes to EPA's proposed modifications and providing additional information. EPA evaluated each letter and all of the timely technical support information that was provided before arriving at the final designation decisions. Some of the final designations reflect EPA's modifications to the initial state and tribal recommendations. Some reflect changes to EPA's suggested modifications, based upon information that states and tribes subsequently provided in response. Through this iterative process, EPA developed the information necessary to inform the final designations decisions.

On December 22, 2008, then EPA Administrator Johnson signed a notice concerning the designations for the 2006 24-hour PM2.5 NAAQS, and the notice was made available to the public on the EPA Web site at that time. However, that signed notice was never published in the Federal Register and, therefore, designations were not officially promulgated. Section 107(d)(2)(A) requires EPA to publish the notice in the Federal Register in order to promulgate designations. The December 2008 notice was awaiting publication in January 2009 when the newly-elected Administration identified the notice as one that should receive additional review before publication.⁹

⁹ See, “Memorandum For The Heads of Executive Departments and Agencies,” from Rahm Emanuel, Assistant to the President and Chief of Staff, dated January 20, 2009.

Since January 2009, EPA has thus been reviewing the designation decisions for the 2006 24-hour PM2.5 NAAQS. Three significant events have occurred in the interim that relate to the designations. First, the U.S. Court of Appeals for the District of Columbia issued its opinion in the litigation challenging EPA's 2006 annual PM2.5 NAAQS.¹⁰ This decision resulted in, among other things, a remand of the annual standards to EPA for further consideration, but did not affect the 2006 24-hour PM2.5 NAAQS. Second, monitoring data for 2008 has now become available for areas across the U.S. Accordingly, EPA has had the opportunity to evaluate whether data from 2006-2008 would result in previously violating areas now attaining the NAAQS, or previously attaining areas now violating the NAAQS. Third, the U.S. Court of Appeals for the District of Columbia issued its opinion in the litigation challenging EPA's 2005 designations for the 1997 annual PM2.5 NAAQS.¹¹ In that decision, the court has affirmed EPA's interpretation of section 107(d) and general approach to promulgating designations for that NAAQS. The final designations that EPA will promulgate through publication of this rule have been informed by these more recent events.

¹⁰ See, American Farm Bureau Federation and National Pork Producers Council, et al. v. EPA, 559 F.3d 512 (DC Cir. 2009).

¹¹ See, Catawba et al. v. EPA, No. 05-1064 and consolidated cases, decided July 7, 2009.

EPA has already received a number of petitions concerning the designations for the 2006 24-hour PM2.5 NAAQS. Of these, two in particular require specific discussion because of the significant issues they raise. The first petition, from the American Lung Association and other groups, requests that EPA take action to promulgate designations for the 2006 annual PM2.5 NAAQS.¹² EPA is currently evaluating that petition and will determine later whether to grant or deny it. In the meantime, however, EPA's review of the 2006-2008 monitoring data indicates that two areas currently designated as “unclassifiable/attainment” for the 1997 annual PM2.5 NAAQS are now violating that NAAQS. For these two areas, EPA intends to initiate the process to redesignate these areas, including both violating and contributing areas, to nonattainment in accordance with the procedures of CAA section 107(d)(3), as appropriate.

¹² Letter to Lisa Jackson, Administrator, U.S. EPA, dated February 6, 2009, from the American Lung Association, Clean Air Task Force, EarthJustice, Environmental Defense Fund, Natural Resources Defense Council, and Southern Environmental Law Center.

The second petition, from the Environmental Defense Fund and other groups, requests that EPA delay or reconsider designations for attainment areas that contain heavily travelled roadways because the monitoring network in such areas may not adequately reflect near-roadway exposure to PM2.5.¹³ EPA will respond to this petition separately in more detail, but believes that it is not appropriate to delay designations for the 2006 24-hour PM2.5 NAAQS further, based on the concerns raised by these petitioners. EPA intends to evaluate the issues raised by these petitioners in the context of the ongoing review of the PM2.5 NAAQS and the associated monitoring regulations.

¹³ Letter to Lisa Jackson, Administrator, U.S. EPA, dated March 6, 2009, from Environmental Defense Fund, Natural Resources Defense Council, and Sierra Club.

VII. How Did EPA Apply the Statutory Requirements and Applicable Guidance To Determine Nonattainment Area Designations and Boundaries for the 2006 24-Hour PM2.5 NAAQS?

Section 107(d)(1)(A)(i) of the CAA defines a nonattainment area as any area that does not meet an ambient air quality standard, or that contributes to ambient air quality in a nearby area that does not meet the standard. If an area meets either prong of this definition, then EPA is required to designate the area as “nonattainment.” In June 2007, EPA issued guidance concerning how to determine boundaries for nonattainment areas for the 2006 24-hour PM2.5 NAAQS (the 2007 Guidance).¹⁴ As part of the 2007 Guidance, EPA recommended that the three most recent calendar years of air quality monitoring data for PM2.5 be used to identify a violation of the 2006 24-hour PM2.5 NAAQS. This is appropriate because the form of the 24-hour PM2.5 NAAQS is calculated over a 3-year period. For the final designations, EPA has identified violating monitors based on air quality monitoring data from Federal Reference Method (FRM) monitors for calendar years 2006-2008.

¹⁴ See, “Area Designations for the Revised 24-Hour Fine Particle National Ambient Air Quality Standards,” memorandum to Regional Administrators, Regions I-X, from Robert J. Meyers, Acting Assistant Administrator, OAR, dated June 8, 2007.

By definition, areas may need to be designated nonattainment because they contribute to violations in another nearby area, even if they do not themselves have a monitor with violating data, or even if they do not have any monitor at all. As a result, states, tribes, and EPA need to consider additional relevant information in order to assess contributing areas as part of identifying the appropriate boundaries for nonattainment areas. Thus, in the 2007 Guidance, EPA recommended nine factors that pertained to types of information that EPA considered relevant for designations, and indicated that it would evaluate these factors along with any other relevant information or circumstances specific to a particular area, in determining appropriate nonattainment area boundaries.

EPA also noted in the 2007 Guidance that, in making boundary recommendations for nonattainment areas, states and tribes should evaluate each area on a case-by-case basis. EPA intentionally did not attempt to create any bright line test or threshold for any factor or form of information. EPA believes that section 107(d) does not require any such bright lines or thresholds to determine contribution, and that to create one could result in over-inclusion or under-inclusion of areas in nonattainment areas, as compared to a more robust and fact-specific analysis of each area on its merits. This approach is especially appropriate for PM2.5, given the multiple precursors, numerous sources, meteorological considerations, and need to distinguish between impacts of local and non-local sources at any given violating monitor.

Finally, EPA indicated that it would promulgate nonattainment area boundaries that cover a sufficiently large area to include both the area that violates the standard and the nearby areas that contribute to the violations, as required by section 107, to assure that nonattainment area plans developed for these areas would attain the NAAQS as expeditiously as practicable. Unlike the guidance for the 1997 PM2.5 NAAQS designations, EPA did not recommend the metropolitan area boundaries established by the U.S. Office of Management and Budget (OMB) as a rebuttable presumption for designations for the 2006 24-hour PM2.5 NAAQS in the 2007 Guidance. Given the differences in the form of the standards between a 24-hour and an annual standard, EPA was less certain that such a presumption would be appropriate for all areas. For existing PM2.5 nonattainment areas, based on early technical analyses of PM2.5 composition and contributing source types, combined with an understanding of the existing PM2.5 nonattainment areas, EPA noted its anticipation that the same boundaries established for implementing the 1997 annual PM2.5 NAAQS might also be appropriate for implementing the 2006 24-hour PM2.5 NAAQS in areas where both standards are violated. EPA also observed that maintaining the same nonattainment area boundaries for both the 1997 annual standards and the 2006 24-hour standards could more easily facilitate overall air quality planning for attaining the suite of PM2.5 standards.

Section 107(d)(1)(A)(i) of the CAA requires EPA to designate as nonattainment not only violating areas, but also nearby areas that contribute to those violations. As noted above, the statute does not, however, define key terms such are “area,” “contributes,” or “nearby.”

With respect to the term “contributes,” EPA believes that this term does not mean “cause.” The term “contributes” indicates that those areas with emissions that add to the aggregate ambient pollution recorded by a given monitor might be appropriate for inclusion in a nonattainment area. To interpret the term contribute to mean “cause” would be to require a degree of certainty and precision that is inherently unreasonable for evaluating violations that result from the impact of emissions from many different sources of PM2.5 and PM2.5 precursors, and would simultaneously undermine the purpose of designations by excluding every area with emissions that added to the aggregate problem, yet did not individually “cause” the violation. EPA also has concluded that a bright line test or threshold for what would constitute contribution for purposes of designations is not appropriate for the 2006 24-hour PM2.5 NAAQS. Such an approach could result in over- or under-inclusive areas, compared to robust analysis of the facts and circumstances of each area. Similarly, EPA does not interpret the term “contributes” to mean “significantly contributes,” and does not believe that precise quantification of the contribution to violations in a nearby area is necessary or appropriate for designations. EPA generally agrees that areas with no sources of emissions, or areas that are otherwise demonstrated not to be contributing to violations, need not be included in a designated nonattainment area. However, EPA has concluded that the assessment of the “causation” and “materiality” of contribution to nearby violations is best accomplished through a more careful evaluation of the relevant information on an area-by-area basis.

As to what areas should be considered “nearby,” EPA believes that this term must likewise be viewed in light of the specific pollutant at issue. In the case of the 2006 24-hour PM2.5 NAAQS, this entails consideration of the relatively long distances across which PM2.5 and PM2.5 precursors can be transported, but balanced with a key purpose of designations, which is to identify those nearby or local contributing areas that properly should be included within a designated nonattainment area to ensure the development of an appropriate SIP for the area. Thus, EPA's guidance also does not provide a bright line or threshold or specific geographic distance for what constitutes a “nearby” area. The determination of which areas are nearby, for purposes of designations, requires an evaluation of the facts and circumstances of each area. EPA considered the geography of each area, meteorological data, chemical speciation data, and other relevant information in light of the significant distances across which PM2.5 and PM2.5 precursors can be transported. EPA has used this process to identify those nearby areas with emissions that contribute to the violations and to distinguish these emissions from more distant or regional sources that are not appropriate for inclusion within the nonattainment area. In particular, EPA does not believe that the term “nearby” requires that the area be contiguous with the violating area or the remainder of the nonattainment area, if the facts support such a conclusion for a given area.

As to the term “area,” EPA concluded that it also should be interpreted as appropriate to the specific NAAQS at issue. In drawing nonattainment areas boundaries, EPA started with county boundaries as the basic jurisdictional element, consistent with past designation practice. Although EPA determined that county boundaries are a useful starting point, relevant facts and circumstances could support making partial county boundary designations for violating or contributing counties in a given area.

EPA began its technical analyses by first identifying violating monitors. In evaluating areas potentially contributing to a monitored violation, EPA initially examined those counties located in the surrounding metropolitan statistical area (i.e., the core-based statistical area (CBSA)) and those counties one to two adjacent rings beyond the metropolitan area. In its Notice on Standards for Defining Metropolitan and Micropolitan Areas (65 FR 82228, December 27, 2000), the Office of Management and Budget (OMB) notes that the general concept of a metropolitan statistical area is that of “an area containing a recognized population nucleus and adjacent communities that have a high degree of integration with that nucleus.” Further, the metropolitan statistical area serves as a “statistical representation of the social and economic linkages between an urban core and outlying, integrated areas.” Because of the inherent linkage between air pollution and pollution-producing human and economic activity, EPA believes that the CBSA, plus one to two adjacent rings beyond the metropolitan area, is an appropriate starting point for evaluation of contributing areas.¹⁵

¹⁵ This consideration is important because EPA needs a reasonable method to distinguish between the “local” and the “non-local” or “regional” components of ambient fine particles at a violating monitor. Section 107(d) directs EPA to include those “nearby” areas that contribute, and therefore are logically appropriate for inclusion in the designated nonattainment area, whereas other sections of the CAA better address the regional element of a nonattainment problem, such as section 110(a)(2)(D) and section 126.

EPA evaluated the types of information recommended in the 2007 Guidance, as well as other relevant information that states or tribes provided or that became available, in determining appropriate nonattainment area boundaries. The nine factors EPA recommended in the 2007 Guidance are: (1) Emissions data, (2) air quality data, (3) population density and degree of urbanization including commercial development in included versus excluded areas, (4) traffic and commuting patterns, (5) expected growth (including extent, pattern and rate of growth), (6) meteorology (weather/transport patterns), (7) geography/topography (e.g., mountain ranges or other air basin boundaries), (8) jurisdictional boundaries (e.g., counties, air districts, Reservations), and (9) level of existing controls on emission sources. This was neither a mandatory nor an exclusive list of types of relevant information, and was intended by EPA only as guidance concerning the types of information that might be appropriate for consideration in a given area. These factors are by their nature general and open ended, and EPA intended them to facilitate analysis of each area on its specific facts. Some factors were more relevant or important in some areas than in others in establishing the boundaries of a given area.

As part of the technical analysis, EPA also used an analytical tool to produce a metric referred to as the “contributing emissions score” (CES). The CES takes into consideration emissions data, meteorological data, and air quality monitoring information to provide a relative ranking of the potential contribution from counties near a specific county with a violating monitor. EPA did not use this metric as the exclusive way of considering data for these three factors, nor as the single deciding factor for determining designations. The CES was merely an additional method for evaluating the potential contribution of nearby counties.¹⁶

¹⁶ The CES only provides relative contribution within the area under evaluation and does not provide a reliable means for comparison between counties in different areas. A more detailed description of the CES can be found at http://www.epa.gov/ttn/naaqs/pm/pm25_2006_techinfo.html#C. and in the technical support document (TSD) [Docket ID NO. EPA-HQ-OAR-2007-0562].

To evaluate an area, EPA also used additional data and analytical tools as appropriate, including speciated PM2.5 data, area maps, and tools for assessing wind patterns. For purposes of determining appropriate nonattainment area boundaries, EPA examined data from PM2.5 speciation monitors, where available, in addition to the ambient PM2.5 concentration data from FRM monitors. The speciated PM2.5 data indicated the relative proportions of specific types of particles at monitors (e.g., SO2, NO3, carbonaceous, or crustal particles). These data provided insights as to likely sources of emissions contributing to the ambient PM2.5 concentrations at the violating monitor on days with high PM2.5 levels, thus allowing EPA to better evaluate which, if any, of the nearby areas were contributing to the ambient PM2.5 concentrations at the violating monitor.

EPA used maps of each area that depicted key geographic information. These maps portrayed relevant information such as the locations of FRM monitors and their design values, jurisdictional boundaries, topographic features, major transportation arteries, major emission sources, and existing nonattainment boundaries for other NAAQS. The maps assisted in the evaluation of basic information such as the directions and distances between monitors and sources and the locations of jurisdictional boundaries.

EPA also assessed wind pattern data through the development and use of “pollution roses” that depict monitoring data and meteorological data for monitors in each area. In some cases, where a more detailed assessment of air movement was thought to provide additional relevant information, EPA also used wind trajectory analyses. These tools for assessing wind movement and pollutant concentrations provided further information on likely emission sources contributing to PM2.5 levels at monitors on days at or near the level of the 24-hour PM2.5 NAAQS.

In evaluating emissions in areas under consideration for their contribution, EPA generally relied on the best county-level emissions inventory information available. In some areas, EPA reviewed whether significant pollution controls that would be installed in the near-term and with certainty at a specific source or sources, could be relevant to evaluating whether that area is contributing to violations in an adjacent area. EPA examined this type of information when states provided the requisite data and requested its evaluation as part of the process. EPA considered such information on a case-by-case basis, with attention to whether the controls in question would dramatically reduce the emissions of PM2.5 and all PM2.5 precursors, the timing of such controls, and the federal enforceability of such controls. EPA considered only controls that would be in place no later than December 2008 (i.e., controls resulting in emissions reductions during the last year of the period for which air quality monitoring data was relevant).

By contrast, EPA did not rely on planned or potential emissions reduction strategies through measures such as the Clean Air Interstate Rule, in making nonattainment designations, even if those strategies might help an area attain the standards in the future. The Agency recognizes that air quality modeling of future emissions reductions (e.g., from state and/or national programs) may indicate that some areas with a violating monitor based upon 2006-2008 data may come into attainment in the future. However, the present tense formulation of section 107(d) indicates that EPA should make nonattainment designations based on current data.¹⁷ Future potential reductions, especially those that are at this time speculative or uncertain, are not appropriate for consideration in the designations context. Such programs might, however, be an appropriate consideration in the development of SIPs for designated nonattainment areas, if they otherwise meet statutory and regulatory requirements.

¹⁷ While EPA cannot consider projected future attainment in determining current designations, nonattainment areas that are meeting the NAAQS but are not yet redesignated to attainment can use EPA's Clean Data Policy to streamline the required planning process. See “Clean Data Policy for the Fine Particle National Ambient Air Quality Standards” memorandum to Air Division Directors, Regions I-X from Stephen Page, Director, Office of Air Quality Planning and Standards, December 14, 2004.

In order to identify the appropriate boundaries for nonattainment areas, EPA considered the county boundary as the basic jurisdictional element for determining area boundaries, consistent with past designation practice. The Agency believes that such county boundaries are generally an appropriate boundary because they are easily recognized jurisdictional boundaries with indisputable legal descriptions. County boundaries are often the boundaries for the legal jurisdiction of local governments or air quality planning organizations that are responsible for air quality management.

In most cases, if a PM2.5 monitor was violating the NAAQS, EPA designated the entire county in which that monitor is located as nonattainment. EPA also often included whole nearby counties that it determined to be contributing to PM2.5 levels at the violating monitor. In some cases, however, EPA determined that only part of a county (e.g., the part of the county that contained the sources of contributing emissions) was contributing to the violation at the monitor. In those instances, EPA designated only that portion of the county nonattainment and, to the extent possible, relied on recognized governmental boundaries for smaller geographic areas that encompassed the relevant emission sources (e.g., townships).

For example, in some cases, EPA determined that the emissions from a large individual source such as a power plant were contributing to violations in a nearby area. If EPA's assessment identified little or no other emissions or emitting activity elsewhere in the county (based on assessment of factors such as emissions, population, and commuting), EPA concluded that it was appropriate to designate as nonattainment only the portion of the county where the large individual source is located, even if that portion is not contiguous with the remainder of the nonattainment area. The Agency adopted this approach for areas where EPA determined it to be inappropriate to include portions of a county merely because those portions were located between, and contiguous with, the large stationary source and the remainder of the designated nonattainment area. In most cases, EPA selected boundaries for these noncontiguous portions of nonattainment areas by relying on legally recognized governmental boundaries (e.g., townships, tax districts, or census blocks) in which the source is located.

EPA also determined partial county boundaries to be appropriate for some areas where a topographic feature, such as a mountain range, helps to define the airshed in which the violation of PM2.5 standards occurs, or separates contributing from non-contributing areas. In some areas, EPA determined that only a portion of a county was determined to be contributing, due to such a topographic barrier. In a few cases, especially in the West, an area with a violating monitor was topographically isolated from other portions of a much larger county or borough with few or no sources of emissions. EPA considered a partial county to be appropriate for such areas and selected boundaries based on topography, using recognized governmental boundaries (e.g., township ranges), where possible.

Where topography was not an isolating feature, EPA considered the geographic location of the sources of PM2.5 and PM2.5 precursors in the area, and other relevant information, such as chemical speciation data and meteorological data, in determining if a partial county boundary was technically justified and appropriate. EPA also considered a partial county boundary for violating counties in situations where a unique situation is shown to exist, in which the sources encompassed by a partial county boundary could account for nearly all of the total fine particle mass from local sources on days with a monitored exceedance. In such areas, given compelling evidence, EPA considered designations of partial violating counties to be appropriate. These areas are typically in the mountainous portions of the West, where emissions activity in a relatively small and isolated geographic area is surrounded by large areas that are largely unpopulated and otherwise lack sources that could contribute to the monitored violations. EPA notes that the 24-hour averaging period of the 2006 24-hour PM2.5 NAAQS was an important consideration in these areas. EPA selected the boundaries for these areas by relying on legally recognized governmental boundaries (e.g., townships) in which the contributing sources are located.

EPA analyzed the information provided by each state or tribe in its recommendation letter, subsequently submitted information, and any other pertinent information available to EPA, in order to determine whether a county or part of a county should be designated nonattainment. EPA evaluated each state's or tribe's designation recommendation in light of the recommended nine factors, and any other relevant information, including, for example, the CES, PM2.5 speciation data, and wind pattern data, bringing to bear our best technical and policy judgment. If, as a result of the evaluation, EPA concluded that a county or part of a county contributes to the violation in a nearby area with a violating monitor, EPA included the county or part of the county in the nonattainment area.

VIII. What Areas is EPA Designating Nonattainment for the 2006 24-Hour PM2.5 NAAQS?

Following the process described above, EPA is designating the 31 areas in Table 1 below, comprised of one or more entire counties or partial counties, as nonattainment areas for the 2006 24-hour PM2.5 NAAQS.

Table 1—Areas Designated Nonattainment for the 2006 24-Hour PM2.5 NAAQS
Allentown, PA
Birmingham, AL
Canton-Massillon, OH
Charleston, WV
Chico, CA
Cleveland-Akron-Lorain, OH
Detroit-Ann Arbor, MI
Fairbanks, AK
Harrisburg-Lebanon-Carlisle-York, PA
Imperial County, CA
Johnstown, PA
Klamath Falls, OR
Knoxville-Sevierville-La Follette, TN
Lancaster, PA
Liberty-Clairton, PA
Logan, UT-ID
Los Angeles-South Coast Air Basin, CA
Milwaukee-Racine, WI
New York-N. New Jersey-Long Island, NY-NJ-CT
Nogales, AZ
Oakridge, OR
Philadelphia-Wilmington, PA-NJ-DE
Pittsburgh-Beaver Valley, PA
Provo, UT
Sacramento, CA
Salt Lake City, UT
San Francisco Bay Area, CA
San Joaquin Valley, CA
Tacoma, WA
Steubenville-Weirton, OH-WV
Yuba City-Marysville, CA

EPA's specific analysis of these areas, including the determination of the appropriate nonattainment area boundaries for each of these areas, is described in detail in the TSD, with additional information provided in the Supplemental TSD. Both documents are located in the docket for this action. In addition, the letters containing the initial state or tribal recommendations for each of these areas, any EPA modification to those recommendations, and any additional information provided by the state or tribe in response to EPA modifications, is also located in the docket. The specific area or areas within the boundaries for each of these designated nonattainment areas is described in the amendments to 40 CFR part 81 below, and is graphically portrayed in the maps located in the docket for this action.

IX. How Has EPA Used 2008 Air Quality Data?

In December 2008, EPA identified 58 areas as violating the 2006 24-hour PM2.5 NAAQS based on air quality monitoring data for the 2005-2007 time period. In the 2007 Guidance, EPA recommended that designation decisions be based on the most recent three years of data available. In the December 2008 notice, which was not published in the Federal Register in order to allow additional Agency review, and in communications with states and tribes, EPA had indicated that it would consider state requests to include consideration of 2008 air quality monitoring data for specific areas prior to the effective date of designations under certain circumstances. Due to the delay in the designations, however, EPA now has received and reviewed quality assured, state-certified 2008 air quality monitoring data for all areas.

EPA continues to believe that inclusion of the most recent air quality monitoring data available is appropriate for designation decisions. Thus, EPA is designating as attainment those areas for which complete, quality assured, certified air quality monitoring data for the 2006-2008 time period show attainment of the 2006 24-hour PM2.5 NAAQS throughout the area. EPA is not reconsidering the boundaries for the areas identified as nonattainment in December 2008 and for which consideration of 2006-2008 air quality data does not change the overall status of the area. The boundaries EPA identified in December 2008 were based upon thorough consideration of the relevant information by EPA. EPA believes that it is appropriate to rely on the 2008 air quality monitoring data and the extensive information and analyses used in the decision making process that spanned the period from approximately June 2007-December 2008. EPA does not believe that the introduction of additional non-air quality information into the process at this time would yield different designation outcomes; and, in fact doing so would cause unjustified delay in issuing these final designations based upon 2006-2008 air quality monitoring data.

Consideration of 2006-2008 air quality monitoring data reduced the number of areas violating the 2006 24-hour PM2.5 NAAQS from 58 to 31. Table 2 provides a list of the 26 areas that changed from nonattainment to attainment and their design values for 2005-2007 and 2006-2008. For one area no longer violating the 2006 24-hour PM2.5 NAAQS based on 2006-2008 data, York County, PA, EPA concluded that it nevertheless contributes to violations in another nearby violating area, Harrisburg-Lebanon-Carlisle, PA, and thus EPA has included York County, PA in that nonattainment area. Five of the areas that changed from a designation status of nonattainment to attainment had one or more monitors with incomplete data for 2006-2008. However, data from the highest design value monitor for the area in 2005-2007, as well as other monitors, are complete and show attainment of the 24-hour PM2.5 NAAQS for 2006-2008. As explained in detail in the Supplemental TSD, based on the relative values of the various monitors, EPA believes it is reasonable to expect that, if the incomplete site had complete 2006-2008 data, it would have a design value equal to or lower than the other sites with complete data that are attaining the NAAQS based on the 2006-2008 data. The additional technical information to support the change in status for all of the areas, including the supporting evaluation for the inclusion of York County in the Harrisburg-Lebanon-Carlisle, PA nonattainment area and for the five areas noted above, is included in the Supplemental TSD, which is located in the docket for this action.

Table 2—Previously Violating Areas Now Attaining the 24-Hour PM2.5 NAAQS Based on 2006-2008 Data
Area name | PM2.5 2005-2007 24-hr design value | PM2.5 2006-2008 24-hr design value
Baltimore, MD | 37 | 35
Chicago-Gary-Lake County, IL-IN | 40 | 35
Cincinnati-Hamilton, OH-KY-IN | 41 | 35
Clarksville, TN-KY | 38 | 32
Columbus, OH | 38 | 32
Davenport-Moline-Rock Island, IA-IL | 37 | 34
Dayton-Springfield, OH | 37 | 32
Evansville, IN | 36 | 30
Grand Rapids, MI | 36 | 29
Green Bay, WI | 37 | 35
Huntington-Ashland, WV-KY-OH | 37 | 32
Indianapolis, IN | 40 | 35
Juneau, AK | 36 | 34
Lafayette-Frankfort, IN | 36 | 29
Libby, MT | 41 | 34
Louisville, KY-IN | 39 | 35
Madison-Baraboo, WI | 37 | 34
Morgantown, WV | 36 | 34
Muscatine, IA | 36 | 35
Paducah-Mayfield, KY-IL | 36 | 32
Parkersburg-Marietta, WV-OH | 37 | 34
Pinehurst, ID | 37 | 34
Reading, PA | 38 | 34
St. Louis, MO-IL | 39 | 35
Vincennes, IN | 36 | 30
Youngstown, OH | 36 | 32

EPA's evaluation of 2006-2008 air quality monitoring data also indicated that monitors in three areas which had not violated the 2006 24-hour PM2.5 NAAQS based on 2005-2007 data now violate those standards based on 2006-2008 data. These monitors are located in Pinal County, AZ (2006-2008 24-hour design value of 48); Plumas County, CA (2006-2008 24-hour design value of 49); and, Shasta County, CA (2006-2008 24-hour design value of 48). In this notice, EPA is not finalizing initial designations for these newly violating areas. Because these areas are newly violating the 2006 24-hour PM2.5 NAAQS, EPA and the states and tribes in these areas need further information in order to determine the appropriate nonattainment area boundaries for these areas, in accordance with the process that EPA has used for other nonattainment area designations, as provided by section 107(d).

Because EPA has information indicating that there is a violation in each of these areas, a designation of “unclassifiable” is not appropriate under section 107(d)(1)(A)(iii). Notwithstanding data indicating violations of the 24-hour PM2.5 NAAQS, EPA has insufficient information to determine the necessary boundaries for these areas. Accordingly, EPA will use the additional time available to it under section 107(d)(1)(B) to assess these areas, complete evaluation of any pending exceptional event claims, and promulgate initial designations for these areas. Consistent with the approach used to assess other potential nonattainment areas, EPA intends to evaluate relevant technical data for the ring of counties immediately surrounding the violating county to determine whether any of these nearby counties contribute to the violation. EPA is deferring the designations for these counties for the 2006 24-hour PM2.5 NAAQS so that EPA can collect additional information sufficient to assess these areas before promulgating these designations. We recognize that these are large geographical areas. Including all counties surrounding the county with the violating monitor is only a starting point for the evaluation; it should not be assumed that the final designated nonattainment area will include all of these counties. Table 3 provides a list of the counties with violating monitors and the additional nearby areas that EPA believes should be evaluated for potential contribution to those violations.

EPA will work with the relevant states and tribes to finalize the designations for these counties over the next several months. EPA will send letters notifying the states and tribes in question that EPA believes a modification is now necessary to the initial recommendations they made for these areas. Each state and tribe will thereafter have an opportunity to respond to EPA's proposed designations and boundaries. Pursuant to section 107(d), EPA cannot promulgate the designation for these areas less than 120 days from the date of the EPA modification letter. EPA will promulgate the designations for these areas by a separate final rule.

Table 3—Counties With Newly Violating Monitors for the 24-Hour PM2.5 NAAQS (Based on 2006-2008 Data) and Potentially Contributing Counties
Pinal County, AZ | Plumas County, CA | Shasta County, CA
Cochise County, AZ | Butte County, CA (part) | Lassen County, CA
Gila County, AZ | Lassen County, CA | Modoc County, CA
Graham County, AZ | Shasta County, CA | Plumas County, CA
La Paz County, AZ | Sierra County, CA | Siskiyou County, CA
Maricopa County, AZ | Tehama County, CA | Tehama County, CA
Pima County, AZ | Yuba County, CA (part) | Trinity County, CA
Yavapai County, AZ
Yuma County, AZ

The quality assured, certified air quality monitoring data for 2006-2008 also indicate that two counties that EPA designated in 2005 as attainment for the 1997 annual PM2.5 NAAQS now have monitors which are potentially violating that NAAQS.¹⁸ These counties are Pinal County, AZ (2006-2008 annual average design value of 21.6) and Harris County, TX (2006-2008 annual average design value of 15.2). Consequently, EPA intends to initiate the redesignation process under section 107(d)(3) for these areas for the 1997 annual PM2.5 NAAQS. EPA will work with the relevant states and tribes to evaluate the air quality data and other technical information in order to determine whether these areas should be redesignated to nonattainment, and if so, the appropriate boundaries for those nonattainment areas. EPA will promulgate these redesignations by a later final rule.

¹⁸ In the 2006 revision of the PM NAAQS, the level of the annual standard remained unchanged at 15 μg/m3. Petitioners challenged this decision. On February 24, 2009, the U.S. Court of Appeals for the DC Circuit remanded the annual PM2.5 standard to the Agency for reconsideration on the basis that EPA did not adequately explain why retaining this level would be sufficient to protect public health. To address those areas now violating the 1997 annual PM2.5 NAAQS, EPA intends to initiate redesignations, as appropriate.

X. How Do Designations Affect Indian Country?

All full counties, partial counties or Air Quality Control Regions listed in the Part 81 table at the end of this document are designated as indicated, and include Indian Country geographically located within such areas, except as otherwise indicated in the table.

In general, and consistent with relevant air quality information, EPA intends to include Indian Country encompassed within the nonattainment area, in order to protect public health and welfare. In most cases, relevant air quality information will indicate that areas of Indian Country located within a nonattainment area should have the same designation as the surrounding area. See discussion above about tribal responsibility.

EPA does not recognize state recommendations for area designations as applying to Indian country. However, the conditions that support a state's designation recommendation, such as air quality data at the location of the sources, may indicate the likelihood that similar conditions exist in adjacent Indian Country. States generally have neither the responsibility nor the authority for planning and regulatory activities under the CAA in Indian country.

XI. Where Can I Find Information Forming the Basis for This Rule and Exchanges Between EPA, States, and Tribes Related to This Rule?

Information providing the basis for this action and related decisions are provided in the TSD, response to comments documents, and other information in the docket. The TSD, applicable EPA guidance memoranda, copies of correspondence regarding this process between EPA and the states, tribes, and other parties, and EPA's responses to comments, are available for review at the EPA Docket Center listed above in the addresses section of this document and on our designation Web site at http://www.epa.gov/pmdesignations/2006standards/index.htm. Other related state specific information is available at the EPA Regional Offices.

XII. Statutory and Executive Order Reviews

Upon promulgation of a new or revised NAAQS, the CAA requires EPA to designate areas as attaining or not attaining the NAAQS. The CAA then specifies requirements for areas based on whether such areas are attaining or not attaining the NAAQS. In this final rule, EPA assigns designations to areas as required.

A. Executive Order 12866: Regulatory Planning and Review

This action is not a “significant regulatory action” under the terms of Executive Order (EO) 12866 (58 FR 51735, October 4, 1993) and is therefore not subject to review under the EO.

B. Paperwork Reduction Act

This action does not impose an information collection burden under the provisions of the Paperwork Reduction Act, 44 U.S.C. 3501 et seq. Burden is defined at 5 CFR 1320.3(b). This rule responds to the requirement to promulgate air quality designations after promulgation of a NAAQS. This requirement is prescribed in the CAA section 107 of title 1. The present final rule does not establish any new information collection apart from that required by law.

C. Regulatory Flexibility Act

This final rule is not subject to the Regulatory Flexibility Act (RFA), which generally requires an agency to prepare a regulatory flexibility analysis for any rule that will have a significant economic impact on a substantial number of small entities. The RFA applies only to rules subject to notice and comment rulemaking requirements under the Administrative Procedure Act (APA) or any other statute. This rule is not subject to notice and comment requirements under the APA or any other statute because the rule is not subject to the APA and is subject to CAA section 107(d)(2)(B), which does not require that the Agency issue a notice of proposed rulemaking before issuing this rule.

D. Unfunded Mandates Reform Act

This action contains no federal mandate under the provisions of Title II of the Unfunded Mandates Reform Act of 1995 (UMRA), 2 U.S.C. 1531-1538 for state, local, or tribal governments or the private sector. The action imposes no enforceable duty on any state, local or tribal governments or the private sector. Therefore, this action is not subject to the requirements of sections 202 and 205 of the UMRA.

This action is also not subject to the requirements of section 203 of UMRA because it contains no regulatory requirements that might significantly or uniquely affect small governments. It does not create any additional requirements beyond those of the PM2.5 NAAQS (40 CFR 50.13), therefore, no UMRA analysis is needed. This rule establishes the application of the PM2.5 standard and the designation for each area of the country for the PM2.5 NAAQS. The CAA requires states to develop plans, including control measures, based on their designations and classifications.

One mandate that may apply as a consequence of this action to all designated nonattainment areas is the requirement under CAA section 176(c) and associated regulations to demonstrate conformity of federal actions to SIPs. These rules apply to federal agencies and Metropolitan Planning Organizations making conformity determinations. The EPA concludes that such conformity determinations will not cost $100 million or more in the aggregate.

The EPA believes that any new controls imposed as a result of this action will not cost in the aggregate $100 million or more annually. Thus, this federal action will not impose mandates that will require expenditures of $100 million or more in the aggregate in any one year.

Nonetheless, EPA carried out consultation with government entities affected by this rule, including states, tribal governments, and local air pollution control agencies.

E. Executive Order 13132: Federalism

Executive Order 13132, entitled “Federalism” (64 FR 43255, August 10, 1999), requires EPA to develop an accountable process to ensure meaningful and timely input by state and local officials in the development of regulatory policies that have federalism implications. “Policies that have federalism implications” is defined in the Executive Order to include regulations that have “substantial direct effects on the states, or the relationship between the national government and the states, or on the distribution of power and responsibilities among the various levels of government.”

This final rule does not have federalism implications. It will not have substantial direct effects on the states, on the relationship between the national government and the states, or on the distribution of power and responsibilities among the various levels of government, as specified in Executive Order 13132. The CAA establishes the process whereby states take the lead in developing plans to meet the NAAQS. This rule will not modify the relationship of the states and EPA for purposes of developing programs to implement the NAAQS. Thus, Executive Order 13132 does not apply to this rule.

F. Executive Order 13175: Consultation and Coordination With Indian Tribal Governments

Executive Order 13175, entitled “Consultation and Coordination with Indian Tribal Governments” (65 FR 67249, November 2, 2000), requires EPA to develop an accountable process to ensure “meaningful and timely input by tribal officials in the development of regulatory policies that have Tribal implications.” This action does not have tribal implications, as specified in Executive Order 13175 (65 FR 67249, November 9, 2000). This rule concerns the designation and classification of areas as attainment and nonattainment for the PM2.5 national ambient air quality standards. The CAA provides for states and eligible tribes to develop plans to regulate emissions of air pollutants within their areas based on their designations. The TAR provides tribes the opportunity to apply for eligibility to develop and implement CAA programs such as programs to attain and maintain the PM2.5 NAAQS, but it leaves to the discretion of the tribe the decision of whether to apply to develop these programs and which programs, or appropriate elements of a program, the tribe will seek to adopt. This rule does not have a substantial direct effect on one or more Indian tribes. It does not create any additional requirements beyond those of the PM2.5 NAAQS (40 CFR 50.13). This rule establishes the application of the PM2.5 standard and the designation and classification for each area of the country for the PM2.5 NAAQS. Additionally, no tribe has implemented a CAA program to attain the PM2.5 NAAQS at this time. Furthermore, this rule does not affect the relationship or distribution of power and responsibilities between the federal government and Indian tribes. The CAA and the TAR establish the relationship of the federal government and tribes in developing plans to attain the NAAQS, and this rule does nothing to modify that relationship. Because this rule does not have tribal implications, Executive Order 13175 does not apply.

Although Executive Order 13175 does not apply to this rule, EPA communicated with tribal leaders and environmental staff regarding the designations process. EPA also sent individualized letters to all federally recognized tribes to explain the designation process for the 2006 24-hour PM2.5 NAAQS, to provide the EPA designations guidance, and to offer consultation with EPA. EPA provided further information to tribes through presentations at the National Tribal Forum and through participation in National Tribal Air Association conference calls. EPA also sent individualized letters to all federally recognized tribes about EPA's intended area designations for the 24-hour PM2.5 standards and offered tribal leaders the opportunity for consultation. These communications provided opportunities for tribes to voice concerns to EPA about the general designations process for the 24-hour PM2.5 NAAQS, as well as concerns specific to a tribe, and informed EPA about key tribal concerns regarding designations as the rule was under development.

G. Executive Order 13045: Protection of Children From Environmental Health and Safety Risks

The action is not subject to Executive Order 13045 (62 FR 19885, April 23, 1997) because it is not economically significant as defined in Executive Order 12866, and because EPA does not have reason to believe that the environmental health risks or safety risks addressed by this rule present a disproportionate risk or safety risk to children. Nonetheless, we have evaluated the environmental health or safety effects of the PM2.5 NAAQS on children. The results of this risk assessment are contained in the NAAQS for the 2006 24-hour PM2.5, Final Rule (October 17, 2006, 71 FR 61144).

H. Executive Order 13211: Actions That Significantly Affect Energy Supply, Distribution, or Use

This action is not subject to Executive Order 13211 (66 FR 28355 (May 22, 2001)), because it is not a significant regulatory action under Executive Order 12866.

I. National Technology Transfer and Advancement Act (NTTAA)

Section 12(d) of the NTTAA of 1995, Public Law No. 104-113, section 12(d) (15 U.S.C. 272 note), directs EPA to use voluntary consensus standards (VCS) in its regulatory activities unless to do so would be inconsistent with applicable law or otherwise impracticable. Voluntary consensus standards are technical standards (e.g., materials specifications, test methods, sampling procedures, and business practices) that are developed or adopted by VCS bodies. The NTTAA directs EPA to provide Congress, through OMB, explanations when the Agency decides not to use available and applicable VCS.

This action does not involve technical standards. Therefore, EPA did not consider the use of any VCS.

J. Executive Order 12898: Federal Actions To Address Environmental Justice in Minority Populations and Low-Income Populations

Executive Order 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the U.S.

The EPA has determined that this final rule will not have disproportionately high and adverse human health or environmental effects on minority or low-income populations because this rule does not affect the level of protection provided to human health or the environment.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the U.S. The EPA will submit a report containing this rule and other required information to the U.S. Senate, the U.S. House of Representatives, and the Comptroller General of the U.S. prior to publication of the rule in the Federal Register. A major rule cannot take effect until 60 days after it is published in the Federal Register. This action is not a “major rule” as defined by 5 U.S.C. 804(2). This rule will be effective December 14, 2009.

L. Judicial Review

Section 307(b)(1) of the CAA indicates which Federal Courts of Appeal have venue for petitions of review of final actions by EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.”

This rule designating areas for the 2006 24-hour PM2.5 NAAQS is “nationally applicable” within the meaning of section 307(b)(1). This rule establishes designations for areas across the U.S. for the 2006 24-hour PM2.5 NAAQS. At the core of this rulemaking is EPA's interpretation of the definition of nonattainment under section 107(d)(1) of the CAA. In determining which areas should be designated nonattainment (or conversely, should be designated attainment or unclassifiable), EPA used an analytical approach that it applied consistently across the U.S..

For the same reasons, the Administrator also is determining that the final designations are of nationwide scope and effect for the purposes of section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this rulemaking extends to numerous judicial circuits since the designations apply to all areas of the country. In these circumstances, section 307(b)(1) and its legislative history calls for the Administrator to find the rule to be of “nationwide scope or effect” and for venue to be in the DC Circuit.

Thus, any petitions for review of final designations must be filed in the Court of Appeals for the District of Columbia Circuit within 60 days from the date final action is published in the Federal Register.

List of Subjects in 40 CFR Part 81

Environmental protection, Air pollution control, National parks, Wilderness areas.

Dated: October 8, 2009.
Lisa P. Jackson,
Administrator.

For the reasons set forth in the preamble, 40 CFR part 81, subpart C is amended as follows:

PART 81—DESIGNATIONS OF AREAS FOR AIR QUALITY PLANNING PURPOSES

1. The authority citation for part 81 continues to read as follows:

Authority: 42 U.S.C. 7401, et seq.

Subpart C—Section 107 Attainment Status Designations

2. Section 81.300 is amended by revising paragraph (a) to read as follows:

§ 81.300 Scope.

* * * * *

(a) Attainment status designations as approved or designated by the Environmental Protection Agency (EPA) pursuant to section 107 of the CAA are listed in this subpart. Area designations are subject to revision whenever sufficient data become available to warrant a redesignation. Both the state and EPA can initiate changes to these designations, but any state redesignation request must be submitted to EPA for concurrence. The EPA has replaced the national ambient air quality standards for particulate matter measured as total suspended particulate with standards measured as particulate matter with an aerodynamic diameter less than or equal to a nominal 10 micrometers (PM-10). Accordingly, area designations for PM-10 are included in the lists in subpart C of this part. However, the TSP area designations will also remain in effect until the Administrator determines that the designations are no longer necessary for implementing the maximum allowable increases in concentrations of particulate matter pursuant to section 163(b) of the CAA, as explained in paragraph (b) of this section. The EPA has also added national ambient air quality standards for fine particulate matter measured as particulate matter with an aerodynamic diameter less than or equal to a nominal 2.5 micrometers (PM2.5). Accordingly, area designations for PM2.5 are included in the lists in subpart C of this part.

* * * * *

2a. Section 81.301 is amended as follows:

a. By revising the table heading for “Alabama—PM2.5” to read as set forth below.

b. By adding a new table entitled “Alabama—PM2.5 (24-Hour NAAQS)” to the end of the section.

§ 81.301 Alabama.

* * * * *

Alabama—PM2.5 (Annual NAAQS)

* * * * *

Alabama—PM2.5
[24-hour NAAQS]
Designation area | Designation for the 1997 NAAQS ᵃ: Date ¹ | Designation for the 1997 NAAQS ᵃ: Type | Designation for the 2006 NAAQS ᵃ: Date ² | Designation for the 2006 NAAQS ᵃ: Type
Birmingham, AL:
Jefferson County |  | Unclassifiable/Attainment |  | Nonattainment.
Shelby County |  | Unclassifiable/Attainment |  | Nonattainment.
Walker County (part) |  | Unclassifiable/Attainment |  | Nonattainment.
The area described by U.S. Census 2000 block group identifiers 01-127-0214-5, 01-127-0215-4, and 01-127-0216-2.
Etowah County |  | Unclassifiable/Attainment |  | Unclassifiable.
Rest of State:
Autauga County |  | Unclassifiable/Attainment |  | Unclassifiable/Attainment.
Baldwin County |  | Unclassifiable/Attainment |  | Unclassifiable/Attainment.
Barbour County |  | Unclassifiable/Attainment |  | Unclassifiable/Attainment.
Bibb County |  | Unclassifiable/Attainment |  | Unclassifiable/Attainment.
Blount County |  | Unclassifiable/Attainment |  | Unclassifiable/Attainment.
Bullock County |  | Unclassifiable/Attainment |  | Unclassifiable/Attainment.
Butler County |  | Unclassifiable/Attainment |  | Unclassifiable/Attainment.
Calhoun County |  | Unclassifiable/Attainment |  | Unclassifiable/Attainment.
Chambers County |  | Unclassifiable/Attainment |  | Unclassifiable/Attainment.
Cherokee County |  | Unclassifiable/Attainment |  | Unclassifiable/Attainment.
Chilton County |  | Unclassifiable/Attainment |  | Unclassifiable/Attainment.
Choctaw County |  | Unclassifiable/Attainment |  | Unclassifiable/Attainment.
Clarke County |  | Unclassifiable/Attainment |  | Unclassifiable/Attainment.
Clay County |  | Unclassifiable/Attainment |  | Unclassifiable/Attainment.
Cleburne County |  | Unclassifiable/Attainment |  | Unclassifiable/Attainment.
Coffee County |  | Unclassifiable/Attainment |  | Unclassifiable/Attainment.
Colbert County |  | Unclassifiable/Attainment |  | Unclassifiable/Attainment.
Conecuh County |  | Unclassifiable/Attainment |  | Unclassifiable/Attainment.
Coosa County |  | Unclassifiable/Attainment |  | Unclassifiable/Attainment.
Covington County |  | Unclassifiable/Attainment |  | Unclassifiable/Attainment.
Crenshaw County |  | Unclassifiable/Attainment |  | Unclassifiable/Attainment.
Cullman County |  | Unclassifiable/Attainment |  | Unclassifiable/Attainment.
Dale County |  | Unclassifiable/Attainment |  | Unclassifiable/Attainment.
Dallas County |  | Unclassifiable/Attainment |  | Unclassifiable/Attainment.
DeKalb County |  | Unclassifiable/Attainment |  | Unclassifiable/Attainment.
Elmore County |  | Unclassifiable/Attainment |  | Unclassifiable/Attainment.
Escambia County |  | Unclassifiable/Attainment |  | Unclassifiable/Attainment.
Fayette County |  | Unclassifiable/Attainment |  | Unclassifiable/Attainment.
Franklin County |  | Unclassifiable/Attainment |  | Unclassifiable/Attainment.
Geneva County |  | Unclassifiable/Attainment |  | Unclassifiable/Attainment.
Greene County |  | Unclassifiable/Attainment |  | Unclassifiable/Attainment.
Hale County |  | Unclassifiable/Attainment |  | Unclassifiable/Attainment.
Henry County |  | Unclassifiable/Attainment |  | Unclassifiable/Attainment.
Houston County |  | Unclassifiable/Attainment |  | Unclassifiable/Attainment.
Jackson County |  | Unclassifiable/Attainment |  | Unclassifiable/Attainment.
Lamar County |  | Unclassifiable/Attainment |  | Unclassifiable/Attainment.
Lauderdale County |  | Unclassifiable/Attainment |  | Unclassifiable/Attainment.
Lawrence County |  | Unclassifiable/Attainment |  | Unclassifiable/Attainment.
Lee County |  | Unclassifiable/Attainment |  | Unclassifiable/Attainment.
Limestone County |  | Unclassifiable/Attainment |  | Unclassifiable/Attainment.
Lowndes County |  | Unclassifiable/Attainment |  | Unclassifiable/Attainment.
Macon County |  | Unclassifiable/Attainment |  | Unclassifiable/Attainment.
Madison County |  | Unclassifiable/Attainment |  | Unclassifiable/Attainment.
Marengo County |  | Unclassifiable/Attainment |  | Unclassifiable/Attainment.
Marion County |  | Unclassifiable/Attainment |  | Unclassifiable/Attainment.
Marshall County |  | Unclassifiable/Attainment |  | Unclassifiable/Attainment.
Mobile County |  | Unclassifiable/Attainment |  | Unclassifiable/Attainment.
Monroe County |  | Unclassifiable/Attainment |  | Unclassifiable/Attainment.
Montgomery County |  | Unclassifiable/Attainment |  | Unclassifiable/Attainment.
Morgan County |  | Unclassifiable/Attainment |  | Unclassifiable/Attainment.
Perry County |  | Unclassifiable/Attainment |  | Unclassifiable/Attainment.
Pickens County |  | Unclassifiable/Attainment |  | Unclassifiable/Attainment.
Pike County |  | Unclassifiable/Attainment |  | Unclassifiable/Attainment.
Randolph County |  | Unclassifiable/Attainment |  | Unclassifiable/Attainment.
Russell County |  | Unclassifiable/Attainment |  | Unclassifiable/Attainment.
St. Clair County |  | Unclassifiable/Attainment |  | Unclassifiable/Attainment.
Sumter County |  | Unclassifiable/Attainment |  | Unclassifiable/Attainment.
Talladega County |  | Unclassifiable/Attainment |  | Unclassifiable/Attainment.
Tallapoosa County |  | Unclassifiable/Attainment |  | Unclassifiable/Attainment.
Tuscaloosa County |  | Unclassifiable/Attainment |  | Unclassifiable/Attainment.
Walker County (remainder) |  | Unclassifiable/Attainment |  | Unclassifiable/Attainment.
Washington County |  | Unclassifiable/Attainment |  | Unclassifiable/Attainment.
Wilcox County |  | Unclassifiable/Attainment |  | Unclassifiable/Attainment.
Winston County |  | Unclassifiable/Attainment |  | Unclassifiable/Attainment.
ᵃ Includes Indian Country located in each county or area, except as otherwise specified.
¹ This date is 90 days after January 5, 2005, unless otherwise noted.
² This date is 30 days after November 13, 2009, unless otherwise noted.

3. Section 81.302 is amended as follows:

a. By revising the table heading for “Alaska—PM2.5” to read as set forth below.

b. By adding a new table entitled “Alaska—PM2.5 (24-Hour NAAQS)” to the end of the section.

§ 81.302 Alaska.

* * * * *

Alaska—PM2.5 (Annual NAAQS)

* * * * *

Alaska—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Fairbanks, AK:
AQCR 09 Northern Alaska Intrastate:
Fairbanks North Star Borough (part) |  | Unclassifiable/Attainment |  | Nonattainment.
The following townships and ranges:
—MTRS F001N001—All Sections; —MTRS F001N001E—Sections 2-11, 14-23, 26-34; —MTRS F001N002—Sections 1-5, 8-17, 20-29, 32-36; —MTRS F001S001E—Sections 1, 3-30, 32-36; —MTRS F001S001W—Sections 1-30; —MTRS F001S002E—Sections 6-8, 17-20, 29-36; —MTRS F001S002W—Sections 1-5, 8-17, 20-29, 32-33; —MTRS F001S003E—Sections 31-32; —MTRS F002N001E—Sections 31-35; —MTRS F002N001—Sections 28, 31-36; —MTRS F002N002—Sections 32-33, 36; —MTRS F002S001E—Sections 1-2; —MTRS F002S002E—Sections 1-17, 21-24; —MTRS F002S003E—Sections 5-8, 18.
Rest of State:
AQCR 08 Cook Inlet Intrastate:
Anchorage Borough |  | Unclassifiable/Attainment |  | Unclassifiable/Attainment.
Kenai Peninsula Borough |  | Unclassifiable/Attainment |  | Unclassifiable/Attainment.
Matanuska-Susitna Borough |  | Unclassifiable/Attainment |  | Unclassifiable/Attainment.
AQCR 09 Northern Alaska Intrastate:
Denali Borough |  | Unclassifiable/Attainment |  | Unclassifiable/Attainment.
Fairbanks North Star Borough (remainder) |  | Unclassifiable/Attainment |  | Unclassifiable/Attainment.
Nome Census Area |  | Unclassifiable/Attainment |  | Unclassifiable/Attainment.
North Slope Borough |  | Unclassifiable/Attainment |  | Unclassifiable/Attainment.
Northwest Arctic Borough |  | Unclassifiable/Attainment |  | Unclassifiable/Attainment.
Southeast Fairbanks Census Area |  | Unclassifiable/Attainment |  | Unclassifiable/Attainment.
Yukon-Koyukuk Census Area |  | Unclassifiable/Attainment |  | Unclassifiable/Attainment.
AQCR 10 South Central Alaska Intrastate:
Aleutians East Borough |  | Unclassifiable/Attainment |  | Unclassifiable/Attainment.
Aleutians West Census Area |  | Unclassifiable/Attainment |  | Unclassifiable/Attainment.
Bethel Census Area |  | Unclassifiable/Attainment |  | Unclassifiable/Attainment.
Bristol Bay Borough |  | Unclassifiable/Attainment |  | Unclassifiable/Attainment.
Dillingham Census Area |  | Unclassifiable/Attainment |  | Unclassifiable/Attainment.
Kodiak Island Borough |  | Unclassifiable/Attainment |  | Unclassifiable/Attainment.
Lake and Peninsula Borough |  | Unclassifiable/Attainment |  | Unclassifiable/Attainment.
Valdez-Cordova Census Area |  | Unclassifiable/Attainment |  | Unclassifiable/Attainment.
Wade Hampton Census Area |  | Unclassifiable/Attainment |  | Unclassifiable/Attainment.
AQCR 11 Southeastern Alaska Intrastate:
Haines Borough |  | Unclassifiable/Attainment |  | Unclassifiable/Attainment.
Juneau Borough |  | Unclassifiable/Attainment |  | Unclassifiable/Attainment.
Ketchikan Gateway Borough |  | Unclassifiable/Attainment |  | Unclassifiable/Attainment.
Prince of Wales-Outer Ketchikan Census |  | Unclassifiable/Attainment |  | Unclassifiable/Attainment.
Sitka Borough |  | Unclassifiable/Attainment |  | Unclassifiable/Attainment.
Skagway-Hoonah-Angoon Census Area |  | Unclassifiable/Attainment |  | Unclassifiable/Attainment.
Wrangell-Petersburg Census Area |  | Unclassifiable/Attainment |  | Unclassifiable/Attainment.
Yakutat Borough |  | Unclassifiable/Attainment |  | Unclassifiable/Attainment.
ᵃ Includes Indian Country located in each county or area, except as otherwise specified.
¹ This date is 90 days after January 5, 2005, unless otherwise noted.
² This date is 30 days after November 13, 2009, unless otherwise noted.

4. Section 81.303 is amended as follows:

a. By revising the table heading for “Arizona—PM2.5” to read as set forth below.

b. By adding a new table entitled “Arizona—PM2.5 (24-Hour NAAQS)” to the end of the section.

§ 81.303 Arizona.

* * * * *

Arizona—PM2.5 (Annual NAAQS)

* * * * *

Arizona—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Nogales:
Santa Cruz County (part) |  | Unclassifiable/Attainment |  | Nonattainment.
Nogales planning area bounded as follows: The portions of the following Townships which are within the State of Arizona and lie east of 111 longitude: T23S, R13E; T23S, R14E; T24S, R13E; T24S, R14E.
Rest of State:
Apache County |  | Unclassifiable/Attainment |  | Unclassifiable/Attainment.
Cochise County |  | Unclassifiable/Attainment
Coconino County |  | Unclassifiable/Attainment |  | Unclassifiable/Attainment.
Gila County |  | Unclassifiable/Attainment
Graham County |  | Unclassifiable/Attainment
Greenlee County |  | Unclassifiable/Attainment |  | Unclassifiable/Attainment.
La Paz County |  | Unclassifiable/Attainment
Maricopa County |  | Unclassifiable/Attainment
Mohave County |  | Unclassifiable/Attainment |  | Unclassifiable/Attainment.
Navajo County |  | Unclassifiable/Attainment |  | Unclassifiable/Attainment.
Pima County |  | Unclassifiable/Attainment
Pinal County |  | Unclassifiable/Attainment
Santa Cruz County (remainder) |  | Unclassifiable/Attainment |  | Unclassifiable/Attainment.
Yavapai County |  | Unclassifiable/Attainment
Yuma County |  | Unclassifiable/Attainment
ᵃ Includes Indian Country located in each county or area, except as otherwise specified.
¹ This date is 90 days after January 5, 2005, unless otherwise noted.
² This date is 30 days after November 13, 2009, unless otherwise noted.

5. Section 81.304 is amended as follows:

a. By revising the table heading for “Arkansas—PM2.5” to read as set forth below.

b. By adding a new table entitled “Arkansas—PM2.5 (24-Hour NAAQS)” to the end of the section.

§ 81.304 Arkansas.

* * * * *

Arkansas—PM2.5 (Annual NAAQS)

* * * * *

Arkansas—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
AQCR 016 Central Arkansas Intrastate:
Chicot County |  | Unclassifiable/Attainment |  | Unclassifiable/Attainment.
Clark County |  | Unclassifiable/Attainment |  | Unclassifiable/Attainment.
Cleveland County |  | Unclassifiable/Attainment |  | Unclassifiable/Attainment.
Conway County |  | Unclassifiable/Attainment |  | Unclassifiable/Attainment.
Dallas County |  | Unclassifiable/Attainment |  | Unclassifiable/Attainment.
Desha County |  | Unclassifiable/Attainment |  | Unclassifiable/Attainment.
Drew County |  | Unclassifiable/Attainment |  | Unclassifiable/Attainment.
Faulkner County |  | Unclassifiable/Attainment |  | Unclassifiable/Attainment.
Garland County |  | Unclassifiable/Attainment |  | Unclassifiable/Attainment.
Grant County |  | Unclassifiable/Attainment |  | Unclassifiable/Attainment.
Hot Spring County |  | Unclassifiable/Attainment |  | Unclassifiable/Attainment.
Jefferson County |  | Unclassifiable/Attainment |  | Unclassifiable/Attainment.
Lincoln County |  | Unclassifiable/Attainment |  | Unclassifiable/Attainment.
Lonoke County |  | Unclassifiable/Attainment |  | Unclassifiable/Attainment.
Perry County |  | Unclassifiable/Attainment |  | Unclassifiable/Attainment.
Pope County |  | Unclassifiable/Attainment |  | Unclassifiable/Attainment.
Pulaski County |  | Unclassifiable/Attainment |  | Unclassifiable/Attainment.
Saline County |  | Unclassifiable/Attainment |  | Unclassifiable/Attainment.
Yell County |  | Unclassifiable/Attainment |  | Unclassifiable/Attainment.
AQCR 017 Metropolitan Fort Smith Interstate:
Benton County |  | Unclassifiable/Attainment |  | Unclassifiable/Attainment.
Crawford County |  | Unclassifiable/Attainment |  | Unclassifiable/Attainment.
Sebastian County |  | Unclassifiable/Attainment |  | Unclassifiable/Attainment.
Washington County |  | Unclassifiable/Attainment |  | Unclassifiable/Attainment.
AQCR 019 Monroe-El Dorado Interstate:
Ashley County |  | Unclassifiable/Attainment |  | Unclassifiable/Attainment.
Bradley County |  | Unclassifiable/Attainment |  | Unclassifiable/Attainment.
Calhoun County |  | Unclassifiable/Attainment |  | Unclassifiable/Attainment.
Nevada County |  | Unclassifiable/Attainment |  | Unclassifiable/Attainment.
Ouachita County |  | Unclassifiable/Attainment |  | Unclassifiable/Attainment.
Union County |  | Unclassifiable/Attainment |  | Unclassifiable/Attainment.
AQCR 020 Northeast Arkansas Intrastate:
Arkansas County |  | Unclassifiable/Attainment |  | Unclassifiable/Attainment.
Clay County |  | Unclassifiable/Attainment |  | Unclassifiable/Attainment.
Craighead County |  | Unclassifiable/Attainment |  | Unclassifiable/Attainment.
Cross County |  | Unclassifiable/Attainment |  | Unclassifiable/Attainment.
Greene County |  | Unclassifiable/Attainment |  | Unclassifiable/Attainment.
Independence County |  | Unclassifiable/Attainment |  | Unclassifiable/Attainment.
Jackson County |  | Unclassifiable/Attainment |  | Unclassifiable/Attainment.
Lawrence County |  | Unclassifiable/Attainment |  | Unclassifiable/Attainment.
Lee County |  | Unclassifiable/Attainment |  | Unclassifiable/Attainment.
Mississippi County |  | Unclassifiable/Attainment |  | Unclassifiable/Attainment.
Monroe County |  | Unclassifiable/Attainment |  | Unclassifiable/Attainment.
Phillips County |  | Unclassifiable/Attainment |  | Unclassifiable/Attainment.
Poinsett County |  | Unclassifiable/Attainment |  | Unclassifiable/Attainment.
Prairie County |  | Unclassifiable/Attainment |  | Unclassifiable/Attainment.
Randolph County |  | Unclassifiable/Attainment |  | Unclassifiable/Attainment.
St. Francis County |  | Unclassifiable/Attainment |  | Unclassifiable/Attainment.
Sharp County |  | Unclassifiable/Attainment |  | Unclassifiable/Attainment.
White County |  | Unclassifiable/Attainment |  | Unclassifiable/Attainment.
Woodruff County |  | Unclassifiable/Attainment |  | Unclassifiable/Attainment.
AQCR 021 Northwest Arkansas Intrastate:
Baxter County |  | Unclassifiable/Attainment |  | Unclassifiable/Attainment.
Boone County |  | Unclassifiable/Attainment |  | Unclassifiable/Attainment.
Carroll County |  | Unclassifiable/Attainment |  | Unclassifiable/Attainment.
Cleburne County |  | Unclassifiable/Attainment |  | Unclassifiable/Attainment.
Franklin County |  | Unclassifiable/Attainment |  | Unclassifiable/Attainment.
Fulton County |  | Unclassifiable/Attainment |  | Unclassifiable/Attainment.
Izard County |  | Unclassifiable/Attainment |  | Unclassifiable/Attainment.
Johnson County |  | Unclassifiable/Attainment |  | Unclassifiable/Attainment.
Logan County |  | Unclassifiable/Attainment |  | Unclassifiable/Attainment.
Madison County |  | Unclassifiable/Attainment |  | Unclassifiable/Attainment.
Marion County |  | Unclassifiable/Attainment |  | Unclassifiable/Attainment.
Montgomery County |  | Unclassifiable/Attainment |  | Unclassifiable/Attainment.
Newton County |  | Unclassifiable/Attainment |  | Unclassifiable/Attainment.
Pike County |  | Unclassifiable/Attainment |  | Unclassifiable/Attainment.
Polk County |  | Unclassifiable/Attainment |  | Unclassifiable/Attainment.
Scott County |  | Unclassifiable/Attainment |  | Unclassifiable/Attainment.
Searcy County |  | Unclassifiable/Attainment |  | Unclassifiable/Attainment.
Stone County |  | Unclassifiable/Attainment |  | Unclassifiable/Attainment.
Van Buren County |  | Unclassifiable/Attainment |  | Unclassifiable/Attainment.
AQCR 022 Shreveport-Texarkana-Tyler Interstate:
Columbia County |  | Unclassifiable/Attainment |  | Unclassifiable/Attainment.
Hempstead County |  | Unclassifiable/Attainment |  | Unclassifiable/Attainment.
Howard County |  | Unclassifiable/Attainment |  | Unclassifiable/Attainment.
Lafayette County |  | Unclassifiable/Attainment |  | Unclassifiable/Attainment.
Little River County |  | Unclassifiable/Attainment |  | Unclassifiable/Attainment.
Miller County |  | Unclassifiable/Attainment |  | Unclassifiable/Attainment.
Sevier County |  | Unclassifiable/Attainment |  | Unclassifiable/Attainment.
Memphis, TN-AR: (AQCR 018 Metropolitan Memphis Interstate):
Crittenden County |  | Unclassifiable/Attainment |  | Unclassifiable/Attainment.
ᵃ Includes Indian Country located in each county or area, except as otherwise specified.
¹ This date is 90 days after January 5, 2005, unless otherwise noted.
² This date is 30 days after November 13, 2009, unless otherwise noted.

6. Section 81.305 is amended as follows:

a. By revising the table heading for “California—PM2.5” to read as set forth below.

b. By adding a new table entitled “California—PM2.5 (24-Hour NAAQS)” to the end of the section.

§ 81.305 California.

* * * * *

California—PM2.5 (Annual NAAQS)

* * * * *

California—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Chico, CA:
Butte County (part) |  | Unclassifiable/Attainment |  | Nonattainment.
That portion of Butte County which lies west of the line described as follows: (Mount Diablo Base and Meridian) Beginning at the intersection of the Butte-Yuba county line and the township line common to T18N R6E and T19N R6E, west to the township line common to T18N R6E and T19N R6E, then north along the range line common to R5E and R6E, then west along the township line common to T21N and T20N, then north along the range line common to R4E and R5E, then west along the township line common to T24N and T23N to the Butte-Tehama County boundary.
Imperial County, CA:
(part) |  | Unclassifiable/Attainment |  | Nonattainment.
That portion of Imperial County which lies within the line described as follows: (San Bernardino Base and Meridan) Beginning at the intersection of the United States-Mexico border and the southeast corner of T17S R11E, then north along the range line of the eastern edge of range R11E, then east along the township line of the southern edge of T12S to the northeast corner of T13S R15E, then south along the range line common to R15E and R16E, to the United States-Mexico border.
Los Angeles-South Coast Air Basin, CA:
Los Angeles County (part) |  | Nonattainment |  | Nonattainment.
That portion of Los Angeles County which lies south and west of a line described as follows: Beginning at the Los Angeles-San Bernardino County boundary and running west along the Township line common to Township 3 North and Township 2 North, San Bernardino Base and Meridian; then North along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17 and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
Orange County |  | Nonattainment |  | Nonattainment.
Riverside County (part) |  | Nonattainment |  | Nonattainment.
That portion of Riverside County which lies to the west of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County Line (excluding the lands of the Santa Rosa Band of Cahuilla Mission Indians).
That part of the lands of the Santa Rosa Band of Cahuilla Mission Indians which is excluded from the Riverside County (part) nonattainment area |  | Nonattainment |  | Unclassifiable/Attainment.
San Bernardino County (part) |  | Nonattainment |  | Nonattainment.
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary.
Sacramento, CA:
El Dorado County (part) |  | Unclassifiable/Attainment |  | Nonattainment.
That portion of El Dorado County which lies west of the line described as follows: (Mount Diablo Base and Meridian) Beginning at the intersection of El Dorado-Amador county line and the township line common to townships T8N R10E and T8N R11E, then north along the range line common to ranges R10E and R11E, then east along the township line common to T9N and T8N, then north along the range line common to ranges R12E and R13E, then west along the township line common to T12N and T11N, then north along the range line common to ranges R10E and R11E, then west along the township line common to T13N and T12N, then north along the range line common to ranges R9E and R10E, to the El Dorado-Placer County boundary.
Placer County (part) |  | Unclassifiable/Attainment |  | Nonattainment.
That portion of Placer County which lies west of the line described as follows: (Mount Diablo Base and Meridian) Beginning at the intersection of the Placer-El Dorado County line and the township line common to townships T12N R9E and T13N R9E, then running west along the township line common to townships T12N R9E and T13N R9E, then north along the range line common to ranges R8E and R9E, to the Placer-Nevada County boundary.
Sacramento County |  | Unclassifiable/Attainment |  | Nonattainment.
Solano County (part) |  | Unclassifiable/Attainment |  | Nonattainment.
That portion of Solano County which lies north and east of a line described as follows: beginning at the intersection of the westerly boundary of Solano County and the ¼ section line running east and west through the center of Section 34; Township 6 North, Range 2 West, Mount Diablo Base and Meridian, thence east along said ¼ section line to the east boundary of Section 36, Township 6 North, Range 2 West, thence south ½ mile and east 2.0 miles, more or less, along the west and south boundary of Los Putos Rancho to the northwest corner of Section 4, Township 5 North, Range 1 West, thence east along a line common to Township 5 North and Township 6 North to the northeast corner of Section 3, Township 5 North, Range 1 East, thence south along section lines to the southeast corner of Section 10, Township 3 North, Range 1 East, thence east along section lines to the south ¼ corner of Section 8, Township 3 North, Range 2 East, thence east to the boundary between Solano and Sacramento Counties.
Yolo County (part) |  | Unclassifiable/Attainment |  | Nonattainment.
That portion of Yolo County which lies east of the line described as follows: (Mount Diablo Base and Meridian) Beginning at the intersection of Yolo-Solano County boundary and the range line of the eastern edge of township T8N R2W, north along the range line of the eastern edge of township T8N R2W, continuing north along the range line common to ranges R2W and R1W, to the Yolo-Colusa County boundary.
San Francisco Bay Area, CA:
Alameda County |  | Unclassifiable/Attainment |  | Nonattainment.
Contra Costa County |  | Unclassifiable/Attainment |  | Nonattainment.
Marin County |  | Unclassifiable/Attainment |  | Nonattainment.
Napa County |  | Unclassifiable/Attainment |  | Nonattainment.
San Francisco County |  | Unclassifiable/Attainment |  | Nonattainment.
San Mateo County |  | Unclassifiable/Attainment |  | Nonattainment.
Santa Clara County |  | Unclassifiable/Attainment |  | Nonattainment.
Solano County (part) |  | Unclassifiable/Attainment |  | Nonattainment.
That portion of Solano County which lies south and west of a line described as follows: Beginning at the intersection of the westerly boundary of Solano County and the ¼ section line running east and west through the center of Section 34, Township 6 North, Range 2 West, Mount Diablo Base and Meridian, thence east along said ¼ section line to the east boundary of Section 36, Township 6 North, Range 2 West, thence south ½ mile and east 2.0 miles, more or less, along the west and south boundary of Los Putos Rancho to the northwest corner of Section 4, Township 5 North, Range 1 West thence east along a line common to T5N and T6N to the northeast corner of Section 3, T5N, R1E, thence south along section lines to the southeast corner of Section 10, T3N, R1E, thence east along section lines to the south ¼ corner of Section 8, T3N, R2E, thence east to the boundary between Solano and Sacramento Counties.
Sonoma County (part) |  | Unclassifiable/Attainment |  | Nonattainment.
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties.
San Joaquin Valley, CA:
Fresno County |  | Nonattainment |  | Nonattainment.
Kern County (part) |  | Nonattainment |  | Nonattainment.
That portion of Kern County which lies west and north of a line described as follows: Beginning at the Kern-Los Angeles County boundary and running north and east along the northwest boundary of the Rancho La Liebre Land Grant to the point of intersection with the range line common to R. 16 W. and R. 17 W., San Bernardino Base and Meridian; north along the range line to the point of intersection with the Rancho El Tejon Land Grant boundary; then southeast, northeast, and northwest along the boundary of the Rancho El Tejon Land Grant to the northwest corner of Sec. 3, T11N, R17W; then west 1.2 miles; then north to the Rancho El Tejon Land Grant boundary; then northwest along the Rancho El Tejon line to the southeast corner of Sec. 34, T32S, R30E Mount Diablo Base And Meridian; then north to the northwest corner of Sec. 35, T31S, R30E; then Northeast along the boundary of the Rancho El Tejon Land Grant to the southwest corner of Sec. 18, T. 31 S., R. 31 E.; then east to the southeast corner of Sec. 13, T. 31 S., R. 31 E.; then north along the range line common to R. 31 E. and R. 32 E., Mount Diablo Base and Meridian, to the northwest corner of Sec. 6, T. 29 S., R. 32 E.; then east to the southwest corner of Sec. 31, T. 28 S., R. 32 E.; then north along the range line common to R. 31 E. and R. 32 E. to the northwest corner of Sec. 6, T. 28 S., R. 32 E., then west to the southeast corner of Sec. 36, T. 27 S., R. 31 E., then north along the range line common to R. 31 E. and R. 32 E. to the Kern-Tulare County boundary.
Kings County |  | Nonattainment |  | Nonattainment
Madera County |  | Nonattainment |  | Nonattainment.
Merced County |  | Nonattainment |  | Nonattainment.
San Joaquin County |  | Nonattainment |  | Nonattainment.
Stanislaus County |  | Nonattainment |  | Nonattainment.
Tulare County |  | Nonattainment |  | Nonattainment.
Yuba City-Marysville, CA:
Sutter County |  | Unclassifiable/Attainment |  | Nonattainment.
Yuba County (part) |  | Unclassifiable/Attainment |  | Nonattainment.
That portion of Yuba County which lies west of the line described as follows: (Mount Diablo Base and Meridian) Beginning at the intersection of the Yuba-Nevada county line and the range line common to ranges R7E and R8E, north to the southeast corner of township T18N R7E, then west along the township line common to T17N and T18N, then north along the range line common to ranges R6E and R7E, then west along the township line common to T19N and T18N to the Yuba-Butte County boundary.
Rest of State:
North Coast Air Basin:
Del Norte County |  | Unclassifiable/Attainment |  | Unclassifiable/Attainment.
Humboldt County |  | Unclassifiable/Attainment |  | Unclassifiable/Attainment.
Mendocino County |  | Unclassifiable/Attainment |  | Unclassifiable/Attainment.
Sonoma County (part) |  | Unclassifiable/Attainment |  | Unclassifiable/Attainment.
That portion of Sonoma County which lies north and west of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive, thence running along said boundary of Rancho Canada de Jonive westerly; northerly and easterly to its intersection with the easterly line of Graton Road; thence running along the easterly and southerly line of Graton Road northerly and easterly to its intersection with the easterly line of Sullivan Road; thence running northerly along said easterly line of Sullivan Road to the southerly line of Green Valley Road; thence running easterly along the said southerly line of Green Valley Road and easterly along the southerly line of State Highway 116, to the westerly and northerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road to the easterly line of Eastside Road: thence running northerly along said easterly line of Eastside Road to its intersection with the southerly line of Rancho Sotoyome; thence running easterly along said southerly line of Rancho Sotoyome to its intersection with the Township line common to Townships 8 and 9 north, Mt. Diablo Base and Meridian; thence running easterly along said Township line to its intersection with the boundary line between Sonoma and Napa Counties, State of California.
Trinity County |  | Unclassifiable/Attainment
Northeast Plateau Air Basin:
Lassen County |  | Unclassifiable/Attainment
Modoc County |  | Unclassifiable/Attainment
Siskiyou County |  | Unclassifiable/Attainment
Lake County Air Basin:
Lake County |  | Unclassifiable/Attainment |  | Unclassifiable/Attainment.
Upper Sacramento Valley Region:
Butte County (remainder) |  | Unclassifiable/Attainment
Colusa County |  | Unclassifiable/Attainment |  | Unclassifiable/Attainment.
Glenn County |  | Unclassifiable/Attainment |  | Unclassifiable/Attainment.
Shasta County |  | Unclassifiable/Attainment
Tehama County |  | Unclassifiable/Attainment
Yuba County (remainder) |  | Unclassifiable/Attainment
Sacramento Metropolitan Region:
Yolo County (remainder) |  | Unclassifiable/Attainment |  | Unclassifiable/Attainment.
Northern Mountain Counties:
Nevada County |  | Unclassifiable/Attainment |  | Unclassifiable/Attainment.
Plumas County |  | Unclassifiable/Attainment
Sierra County |  | Unclassifiable/Attainment
Central Mountain Counties:
Amador County |  | Unclassifiable/Attainment |  | Unclassifiable/Attainment.
Calaveras County |  | Unclassifiable/Attainment |  | Unclassifiable/Attainment.
Southern Mountain Counties:
Mariposa County |  | Unclassifiable/Attainment |  | Unclassifiable/Attainment.
Tuolumne County |  | Unclassifiable/Attainment |  | Unclassifiable/Attainment.
Lake Tahoe Air Basin:
El Dorado County (remainder) |  | Unclassifiable/Attainment |  | Unclassifiable/Attainment.
Placer County (remainder) |  | Unclassifiable/Attainment |  | Unclassifiable/Attainment.
North Central Coast Air Basin:
Monterey County |  | Unclassifiable/Attainment |  | Unclassifiable/Attainment.
San Benito County |  | Unclassifiable/Attainment |  | Unclassifiable/Attainment.
Santa Cruz County |  | Unclassifiable/Attainment |  | Unclassifiable/Attainment.
San Luis Obispo County:
San Luis Obispo County |  | Unclassifiable/Attainment |  | Unclassifiable/Attainment.
Santa Barbara County:
Santa Barbara County (part) excluding |  | Unclassifiable/Attainment |  | Unclassifiable/Attainment.
Channel Islands Ventura County:
Ventura County (part) excluding Anacapa and San Nicolas Islands |  | Unclassifiable/Attainment |  | Unclassifiable/Attainment.
Northern Channel Islands:
Santa Barbara County (part) the islands located in the South Central Coast Air Basin, including San Miguel, Santa Rosa, Santa Cruz, and San Nicolas |  | Unclassifiable/Attainment |  | Unclassifiable/Attainment.
Ventura County (part) Anacapa and San Nicolas Islands |  | Unclassifiable/Attainment |  | Unclassifiable/Attainment.
Great Basin Valleys Air Basin:
Alpine County |  | Unclassifiable/Attainment |  | Unclassifiable/Attainment.
Inyo County (part) |  | Unclassifiable/Attainment |  | Unclassifiable/Attainment.
That portion of Inyo County that Lies outside Hydrologic Unit Number 18090205.
Mono County |  | Unclassifiable/Attainment |  | Unclassifiable/Attainment.
Coso Junction:
Inyo County (part) |  | Unclassifiable/Attainment |  | Unclassifiable/Attainment.
That portion of Inyo County that lies inside Hydrologic Unit Number 18090205.
Eastern Kern County:
Kern County (part) |  | Unclassifiable/Attainment |  | Unclassifiable/Attainment.
That portion of Kern County (with the exception of that portion in Hydrologic Unit Number 18090205—the Indian Wells Valley) east and south of a line described as follows: Beginning at the Kern-Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; Then northwest Along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary.
Indian Wells Valley:
Kern County (part) |  | Unclassifiable/Attainment |  | Unclassifiable/Attainment.
That portion of Kern County that lies inside Hydrologic Unit Number 18090205.
Western Mojave Desert and Antelope Valley:
Los Angeles County (part) |  | Unclassifiable/Attainment |  | Unclassifiable/Attainment.
That portion of Los Angeles County which lies north and east of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
San Bernardino County (part) |  | Unclassifiable/Attainment |  | Unclassifiable/Attainment.
That portion of San Bernardino County (with the exception of that portion in Hydrologic Unit Number 18090205) which lies north and east of a line described as follows: Beginning at the San Bernardino-Riverside County boundary and running north along the range line common to Range 3 East and Range 2 East, San Bernardino Base and Meridian; then west along the Township line common to Township 3 North and Township 2 North to the San Bernardino-Los Angeles County boundary; And that portion of San Bernardino County which lies south and west of a line described as follows: latitude 35 degrees, 10 minutes north and longitude 115 degrees, 45 minutes west.
Trona:
San Bernardino County (part) |  | Unclassifiable/Attainment |  | Unclassifiable/Attainment.
That portion of San Bernardino County that lies inside Hydrologic Unit Number 18090205.
Coachella Valley:
Riverside County (part) |  | Unclassifiable/Attainment |  | Unclassifiable/Attainment.
That portion of Riverside County which lies to the east of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then North along the range line common to Range 2 East and Range 3 East; to the Riverside-San Bernardino County line: And that portion of Riverside County which lies to the west of a line described as follows: That segment of the southwestern boundary line of Hydrologic Unit Number 18100100 within Riverside County, further described as follows: Beginning at the Riverside-Imperial County boundary and running north along the range line common to Range 17 East and Range 16 East, San Bernardino Base and Meridian; then northwest along the ridge line of the Chuckwalla Mountains, through Township 8 South, Range 16 East and Township 7 South, Range 16 East, until the Black Butte Mountain, Elevation 4504′; then west and northwest along the ridge line to the southwest corner of Township 5 South, Range 14 East; then north along the range line common to Range 14 East and Range 13 East; then west and northwest along the ridge line to Monument Mountain, elevation 4834′; then southwest and then northwest along the ridge line of the Little San Bernardino Mountains to Quail Mountain, elev. 5814′; then northwest along the ridge line to the Riverside-San Bernardino County line.
Far Eastern Riverside and San Bernardino Counties:
San Bernardino County (remainder) |  | Unclassifiable/Attainment |  | Unclassifiable/Attainment.
Riverside County (remainder) |  | Unclassifiable/Attainment |  | Unclassifiable/Attainment.
Imperial County (remainder) |  | Unclassifiable/Attainment |  | Unclassifiable Attainment.
San Diego County |  | Unclassifiable/Attainment |  | Unclassifiable/Attainment.
ᵃ Includes Indian Country located in each county or area, except as otherwise specified.
¹ This date is 90 days after January 5, 2005, unless otherwise noted.
² This date is 30 days after November 13, 2009, unless otherwise noted.

7. Section 81.306 is amended as follows:

a. By revising the table heading for “Colorado—PM2.5” to read as set forth below.

b. By adding a new table entitled “Colorado—PM2.5 (24-Hour NAAQS)” to the end of the section.

§ 81.306 Colorado.

* * * * *

Colorado—PM2.5 (Annual NAAQS)

* * * * *

Colorado—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Denver-Boulder Area:
Adams County (part) West of Kiowa Creek |  | Unclassifiable/Attainment |  | Unclassifiable/Attainment.
Arapahoe County (part) West of Kiowa Creek |  | Unclassifiable/Attainment |  | Unclassifiable/Attainment.
Boulder County (part) Excluding Rocky Mountain National Park |  | Unclassifiable/Attainment |  | Unclassifiable/Attainment.
Broomfield County |  | Unclassifiable/Attainment |  | Unclassifiable/Attainment.
Denver County |  | Unclassifiable/Attainment |  | Unclassifiable/Attainment.
Douglas County |  | Unclassifiable/Attainment |  | Unclassifiable/Attainment.
Jefferson County |  | Unclassifiable/Attainment |  | Unclassifiable/Attainment.
State AQCR 01:
Logan County |  | Unclassifiable/Attainment |  | Unclassifiable/Attainment.
Morgan County |  | Unclassifiable/Attainment |  | Unclassifiable/Attainment.
Phillips County |  | Unclassifiable/Attainment |  | Unclassifiable/Attainment.
Sedgwick County |  | Unclassifiable/Attainment |  | Unclassifiable/Attainment.
Washington County |  | Unclassifiable/Attainment |  | Unclassifiable/Attainment.
Yuma County |  | Unclassifiable/Attainment |  | Unclassifiable/Attainment.
State AQCR 02:
Larimer County |  | Unclassifiable/Attainment |  | Unclassifiable/Attainment.
Weld County |  | Unclassifiable/Attainment |  | Unclassifiable/Attainment.
State AQCR 03 (remainder of):
Adams County (remainder) |  | Unclassifiable/Attainment |  | Unclassifiable/Attainment.
Arapahoe County (remainder) |  | Unclassifiable/Attainment |  | Unclassifiable/Attainment.
Boulder County (remainder) |  | Unclassifiable/Attainment |  | Unclassifiable/Attainment.
Clear Creek County |  | Unclassifiable/Attainment |  | Unclassifiable/Attainment.
Gilpin County |  | Unclassifiable/Attainment |  | Unclassifiable/Attainment.
State AQCR 04:
El Paso County |  | Unclassifiable/Attainment |  | Unclassifiable/Attainment.
Park County |  | Unclassifiable/Attainment |  | Unclassifiable/Attainment.
Teller County |  | Unclassifiable/Attainment |  | Unclassifiable/Attainment.
State AQCR 05:
Cheyenne County |  | Unclassifiable/Attainment |  | Unclassifiable/Attainment.
Elbert County |  | Unclassifiable/Attainment |  | Unclassifiable/Attainment.
Kit Carson County |  | Unclassifiable/Attainment |  | Unclassifiable/Attainment.
Lincoln County |  | Unclassifiable/Attainment |  | Unclassifiable/Attainment.
State AQCR 06:
Baca County |  | Unclassifiable/Attainment |  | Unclassifiable/Attainment.
Bent County |  | Unclassifiable/Attainment |  | Unclassifiable/Attainment.
Crowley County |  | Unclassifiable/Attainment |  | Unclassifiable/Attainment.
Kiowa County |  | Unclassifiable/Attainment |  | Unclassifiable/Attainment.
Otero County |  | Unclassifiable/Attainment |  | Unclassifiable/Attainment.
Prowers County |  | Unclassifiable/Attainment |  | Unclassifiable/Attainment.
State AQCR 07:
Huerfano County |  | Unclassifiable/Attainment |  | Unclassifiable/Attainment.
Las Animas County |  | Unclassifiable/Attainment |  | Unclassifiable/Attainment.
Pueblo County |  | Unclassifiable/Attainment |  | Unclassifiable/Attainment.
State AQCR 08:
Alamosa County |  | Unclassifiable/Attainment |  | Unclassifiable/Attainment.
Conejos County |  | Unclassifiable/Attainment |  | Unclassifiable/Attainment.
Costilla County |  | Unclassifiable/Attainment |  | Unclassifiable/Attainment.
Mineral County |  | Unclassifiable/Attainment |  | Unclassifiable/Attainment.
Rio Grande County |  | Unclassifiable/Attainment |  | Unclassifiable/Attainment.
Saguache County |  | Unclassifiable/Attainment |  | Unclassifiable/Attainment.
State AQCR 09:
Archuleta County |  | Unclassifiable/Attainment |  | Unclassifiable/Attainment.
Dolores County |  | Unclassifiable/Attainment |  | Unclassifiable/Attainment.
La Plata County |  | Unclassifiable/Attainment |  | Unclassifiable/Attainment.
Montezuma County |  | Unclassifiable/Attainment |  | Unclassifiable/Attainment.
San Juan County |  | Unclassifiable/Attainment |  | Unclassifiable/Attainment.
State AQCR 10:
Delta County |  | Unclassifiable/Attainment |  | Unclassifiable/Attainment.
Gunnison County |  | Unclassifiable/Attainment |  | Unclassifiable/Attainment.
Hinsdale County |  | Unclassifiable/Attainment |  | Unclassifiable/Attainment.
Montrose County |  | Unclassifiable/Attainment |  | Unclassifiable/Attainment.
Ouray County |  | Unclassifiable/Attainment |  | Unclassifiable/Attainment.
San Miguel County |  | Unclassifiable/Attainment |  | Unclassifiable/Attainment.
State AQCR 11:
Garfield County |  | Unclassifiable/Attainment |  | Unclassifiable/Attainment.
Mesa County |  | Unclassifiable/Attainment |  | Unclassifiable/Attainment.
Moffat County |  | Unclassifiable/Attainment |  | Unclassifiable/Attainment.
Rio Blanco County |  | Unclassifiable/Attainment |  | Unclassifiable/Attainment.
State AQCR 12:
Eagle County |  | Unclassifiable/Attainment |  | Unclassifiable/Attainment.
Grand County |  | Unclassifiable/Attainment |  | Unclassifiable/Attainment.
Jackson County |  | Unclassifiable/Attainment |  | Unclassifiable/Attainment.
Pitkin County |  | Unclassifiable/Attainment |  | Unclassifiable/Attainment.
Routt County |  | Unclassifiable/Attainment |  | Unclassifiable/Attainment.
Summit County |  | Unclassifiable/Attainment |  | Unclassifiable/Attainment.
State AQCR 13:
Chaffee County |  | Unclassifiable/Attainment |  | Unclassifiable/Attainment.
Custer County |  | Unclassifiable/Attainment |  | Unclassifiable/Attainment.
Fremont County |  | Unclassifiable/Attainment |  | Unclassifiable/Attainment.
Lake County |  | Unclassifiable/Attainment |  | Unclassifiable/Attainment.
ᵃ Includes Indian Country located in each county or area, except as otherwise specified.
¹ This date is 90 days after January 5, 2005, unless otherwise noted.
² This date is 30 days after November 13, 2009, unless otherwise noted.

8. Section 81.307 is amended as follows:

a. By revising the table heading for “Connecticut—PM2.5” to read as set forth below.

b. By adding a new table entitled “Connecticut—PM2.5 (24-Hour NAAQS)” to the end of the section.

§ 81.307 Connecticut.

* * * * *

Connecticut—PM2.5 (Annual NAAQS)

* * * * *

Connecticut—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
New York-N. New Jersey-Long Island, NY-NJ-CT:
Fairfield County |  | Unclassifiable/Attainment |  | Nonattainment.
New Haven County |  | Unclassifiable/Attainment |  | Nonattainment.
Rest of State:
Hartford County |  | Unclassifiable/Attainment |  | Unclassifiable/Attainment.
Litchfield County |  | Unclassifiable/Attainment |  | Unclassifiable/Attainment.
Middlesex County |  | Unclassifiable/Attainment |  | Unclassifiable/Attainment.
New London County |  | Unclassifiable/Attainment |  | Unclassifiable/Attainment.
Tolland County |  | Unclassifiable/Attainment |  | Unclassifiable/Attainment.
Windham County |  | Unclassifiable/Attainment |  | Unclassifiable/Attainment.
ᵃ Includes Indian Country located in each county or area, except as otherwise specified.
¹ This date is 90 days after January 5, 2005, unless otherwise noted
² This date is 30 days after November 13, 2009, unless otherwise noted.

9. Section 81.308 is amended as follows:

a. By revising the table heading for “Delaware—PM2.5” to read as set forth below.

b. By adding a new table entitled “Delaware—PM2.5 (24-Hour NAAQS)” to the end of the section.

§ 81.308 Delaware.

* * * * *

Delaware—PM2.5 (Annual NAAQS)

* * * * *

Delaware—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Philadelphia-Wilmington, PA-NJ-DE:
New Castle County |  | Unclassifiable/Attainment |  | Nonattainment.
Southern Delaware Intrastate AQCR:
Kent County |  | Unclassifiable/Attainment |  | Unclassifiable/Attainment.
Sussex County |  | Unclassifiable/Attainment |  | Unclassifiable/Attainment.
ᵃ Includes Indian Country located in each county or area, except as otherwise specified.
¹ This date is 90 days after January 5, 2005, unless otherwise noted.
² This date is 30 days after November 13, 2009, unless otherwise noted.

10. Section 81.309 is amended as follows:

a. By revising the table heading for “District of Columbia—PM2.5” to read as set forth below.

b. By adding a new table entitled “District of Columbia—PM2.5 (24-Hour NAAQS)” to the end of the section.

§ 81.302 District of Columbia.

* * * * *

District of Columbia—PM2.5 (Annual NAAQS)

* * * * *

District of Columbia—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
AQCR 047 National Capital Interstate (DC-MD-VA) (part)
District of Columbia |  | Unclassifiable/Attainment |  | Unclassifiable/Attainment.
ᵃ Includes Indian Country located in each county or area, except as otherwise specified.
¹ This date is 90 days after January 5, 2005, unless otherwise noted.
² This date is 30 days after November 13, 2009, unless otherwise noted.

11. Section 81.310 is amended as follows:

a. By revising the table heading for “Florida—PM2.5” to read as set forth below.

b. By adding a new table entitled “Florida—PM2.5 (24-Hour NAAQS)” to the end of the section

§ 81.310 Florida

* * * * *

Florida—PM2.5 (Annual NAAQS)

* * * * *

Florida—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Alachua County |  | Unclassifiable/Attainment |  | Unclassifiable/Attainment.
Baker County |  | Unclassifiable/Attainment |  | Unclassifiable/Attainment.
Bay County |  | Unclassifiable/Attainment |  | Unclassifiable/Attainment.
Bradford County |  | Unclassifiable/Attainment |  | Unclassifiable/Attainment.
Brevard County |  | Unclassifiable/Attainment |  | Unclassifiable/Attainment.
Broward County |  | Unclassifiable/Attainment |  | Unclassifiable/Attainment.
Calhoun County |  | Unclassifiable/Attainment |  | Unclassifiable/Attainment.
Charlotte County |  | Unclassifiable/Attainment |  | Unclassifiable/Attainment.
Citrus County |  | Unclassifiable/Attainment |  | Unclassifiable/Attainment.
Clay County |  | Unclassifiable/Attainment |  | Unclassifiable/Attainment.
Collier County |  | Unclassifiable/Attainment |  | Unclassifiable/Attainment.
Columbia County |  | Unclassifiable/Attainment |  | Unclassifiable/Attainment.
DeSoto County |  | Unclassifiable/Attainment |  | Unclassifiable/Attainment.
Dixie County |  | Unclassifiable/Attainment |  | Unclassifiable/Attainment.
Duval County |  | Unclassifiable/Attainment |  | Unclassifiable/Attainment.
Escambia County |  | Unclassifiable/Attainment |  | Unclassifiable/Attainment.
Flagler County |  | Unclassifiable/Attainment |  | Unclassifiable/Attainment.
Franklin County |  | Unclassifiable/Attainment |  | Unclassifiable/Attainment.
Gadsden County |  | Unclassifiable/Attainment |  | Unclassifiable/Attainment.
Gilchrist County |  | Unclassifiable/Attainment |  | Unclassifiable/Attainment.
Glades County |  | Unclassifiable/Attainment |  | Unclassifiable/Attainment.
Gulf County |  | Unclassifiable/Attainment |  | Unclassifiable/Attainment.
Hamilton County |  | Unclassifiable/Attainment |  | Unclassifiable/Attainment.
Hardee County |  | Unclassifiable/Attainment |  | Unclassifiable/Attainment.
Hendry County |  | Unclassifiable/Attainment |  | Unclassifiable/Attainment.
Hernando County |  | Unclassifiable/Attainment |  | Unclassifiable/Attainment.
Highlands County |  | Unclassifiable/Attainment |  | Unclassifiable/Attainment.
Hillsborough County |  | Unclassifiable/Attainment |  | Unclassifiable/Attainment.
Holmes County |  | Unclassifiable/Attainment |  | Unclassifiable/Attainment.
Indian River County |  | Unclassifiable/Attainment |  | Unclassifiable/Attainment.
Jackson County |  | Unclassifiable/Attainment |  | Unclassifiable/Attainment.
Jefferson County |  | Unclassifiable/Attainment |  | Unclassifiable/Attainment.
Lafayette County |  | Unclassifiable/Attainment |  | Unclassifiable/Attainment.
Lake County |  | Unclassifiable/Attainment |  | Unclassifiable/Attainment.
Lee County |  | Unclassifiable/Attainment |  | Unclassifiable/Attainment.
Leon County |  | Unclassifiable/Attainment |  | Unclassifiable/Attainment.
Levy County |  | Unclassifiable/Attainment |  | Unclassifiable/Attainment.
Liberty County |  | Unclassifiable/Attainment |  | Unclassifiable/Attainment.
Madison County |  | Unclassifiable/Attainment |  | Unclassifiable/Attainment.
Manatee County |  | Unclassifiable/Attainment |  | Unclassifiable/Attainment.
Marion County |  | Unclassifiable/Attainment |  | Unclassifiable/Attainment.
Martin County |  | Unclassifiable/Attainment |  | Unclassifiable/Attainment.
Miami-Dade County |  | Unclassifiable/Attainment |  | Unclassifiable/Attainment.
Monroe County |  | Unclassifiable/Attainment |  | Unclassifiable/Attainment.
Nassau County |  | Unclassifiable/Attainment |  | Unclassifiable/Attainment.
Okaloosa County |  | Unclassifiable/Attainment |  | Unclassifiable/Attainment.
Okeechobee County |  | Unclassifiable/Attainment |  | Unclassifiable/Attainment.
Orange County |  | Unclassifiable/Attainment |  | Unclassifiable/Attainment.
Osceola County |  | Unclassifiable/Attainment |  | Unclassifiable/Attainment.
Palm Beach County |  | Unclassifiable/Attainment |  | Unclassifiable/Attainment.
Pasco County |  | Unclassifiable/Attainment |  | Unclassifiable/Attainment.
Pinellas County |  | Unclassifiable/Attainment |  | Unclassifiable/Attainment.
Polk County |  | Unclassifiable/Attainment |  | Unclassifiable/Attainment.
Putnam County |  | Unclassifiable/Attainment |  | Unclassifiable/Attainment.
St. Johns County |  | Unclassifiable/Attainment |  | Unclassifiable/Attainment.
St. Lucie County |  | Unclassifiable/Attainment |  | Unclassifiable/Attainment.
Santa Rosa County |  | Unclassifiable/Attainment |  | Unclassifiable/Attainment.
Sarasota County |  | Unclassifiable/Attainment |  | Unclassifiable/Attainment.
Seminole County |  | Unclassifiable/Attainment |  | Unclassifiable/Attainment.
Sumter County |  | Unclassifiable/Attainment |  | Unclassifiable/Attainment.
Suwannee County |  | Unclassifiable/Attainment |  | Unclassifiable/Attainment.
Taylor County |  | Unclassifiable/Attainment |  | Unclassifiable/Attainment.
Union County |  | Unclassifiable/Attainment |  | Unclassifiable/Attainment.
Volusia County |  | Unclassifiable/Attainment |  | Unclassifiable/Attainment.
Wakulla County |  | Unclassifiable/Attainment |  | Unclassifiable/Attainment.
Walton County |  | Unclassifiable/Attainment |  | Unclassifiable/Attainment.
Washington County |  | Unclassifiable/Attainment |  | Unclassifiable/Attainment.
ᵃ Includes Indian Country located in each county or area, except as otherwise specified.
¹ This date is 90 days after January 5, 2005, unless otherwise noted.
² This date is 30 days after November 13, 2009, unless otherwise noted.

12. Section 81.311 is amended as follows:

a. By revising the table heading for “Georgia—PM2.5” to read as set forth below.

b. By adding a new table entitled “Georgia—PM2.5 (24-Hour NAAQS)” to the end of the section.

§ 81.302 Georgia.

* * * * *

Georgia—PM2.5 (Annual NAAQS)

* * * * *

Georgia—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Appling County |  | Unclassifiable/Attainment |  | Unclassifiable/Attainment.
Atkinson County |  | Unclassifiable/Attainment |  | Unclassifiable/Attainment.
Bacon County |  | Unclassifiable/Attainment |  | Unclassifiable/Attainment.
Baker County |  | Unclassifiable/Attainment |  | Unclassifiable/Attainment.
Baldwin County |  | Unclassifiable/Attainment |  | Unclassifiable/Attainment.
Banks County |  | Unclassifiable/Attainment |  | Unclassifiable/Attainment.
Barrow County |  | Unclassifiable/Attainment |  | Unclassifiable/Attainment.
Bartow County |  | Unclassifiable/Attainment |  | Unclassifiable/Attainment.
Ben Hill County |  | Unclassifiable/Attainment |  | Unclassifiable/Attainment.
Berrien County |  | Unclassifiable/Attainment |  | Unclassifiable/Attainment.
Bibb County |  | Unclassifiable/Attainment |  | Unclassifiable/Attainment.
Bleckley County |  | Unclassifiable/Attainment |  | Unclassifiable/Attainment.
Brantley County |  | Unclassifiable/Attainment |  | Unclassifiable/Attainment.
Brooks County |  | Unclassifiable/Attainment |  | Unclassifiable/Attainment.
Bryan County |  | Unclassifiable/Attainment |  | Unclassifiable/Attainment.
Bulloch County |  | Unclassifiable/Attainment |  | Unclassifiable/Attainment.
Burke County |  | Unclassifiable/Attainment |  | Unclassifiable/Attainment.
Butts County |  | Unclassifiable/Attainment |  | Unclassifiable/Attainment.
Calhoun County |  | Unclassifiable/Attainment |  | Unclassifiable/Attainment.
Camden County |  | Unclassifiable/Attainment |  | Unclassifiable/Attainment.
Candler County |  | Unclassifiable/Attainment |  | Unclassifiable/Attainment.
Carroll County |  | Unclassifiable/Attainment |  | Unclassifiable/Attainment.
Catoosa County |  | Unclassifiable/Attainment |  | Unclassifiable/Attainment.
Charlton County |  | Unclassifiable/Attainment |  | Unclassifiable/Attainment.
Chatham County |  | Unclassifiable/Attainment |  | Unclassifiable/Attainment.
Chattahoochee County |  | Unclassifiable/Attainment |  | Unclassifiable/Attainment.
Chattooga County |  | Unclassifiable/Attainment |  | Unclassifiable/Attainment.
Cherokee County |  | Unclassifiable/Attainment |  | Unclassifiable/Attainment.
Clarke County |  | Unclassifiable/Attainment |  | Unclassifiable/Attainment.
Clay County |  | Unclassifiable/Attainment |  | Unclassifiable/Attainment.
Clayton County |  | Unclassifiable/Attainment |  | Unclassifiable/Attainment.
Clinch County |  | Unclassifiable/Attainment |  | Unclassifiable/Attainment.
Cobb County |  | Unclassifiable/Attainment |  | Unclassifiable/Attainment.
Coffee County |  | Unclassifiable/Attainment |  | Unclassifiable/Attainment.
Colquitt County |  | Unclassifiable/Attainment |  | Unclassifiable/Attainment.
Columbia County |  | Unclassifiable/Attainment |  | Unclassifiable/Attainment.
Cook County |  | Unclassifiable/Attainment |  | Unclassifiable/Attainment.
Coweta County |  | Unclassifiable/Attainment |  | Unclassifiable/Attainment.
Crawford County |  | Unclassifiable/Attainment |  | Unclassifiable/Attainment.
Crisp County |  | Unclassifiable/Attainment |  | Unclassifiable/Attainment.
Dade County |  | Unclassifiable/Attainment |  | Unclassifiable/Attainment.
Dawson County |  | Unclassifiable/Attainment |  | Unclassifiable/Attainment.
Decatur County |  | Unclassifiable/Attainment |  | Unclassifiable/Attainment.
DeKalb County |  | Unclassifiable/Attainment |  | Unclassifiable/Attainment.
Dodge County |  | Unclassifiable/Attainment |  | Unclassifiable/Attainment.
Dooly County |  | Unclassifiable/Attainment |  | Unclassifiable/Attainment.
Dougherty County |  | Unclassifiable/Attainment |  | Unclassifiable/Attainment.
Douglass County |  | Unclassifiable/Attainment |  | Unclassifiable/Attainment.
Early County |  | Unclassifiable/Attainment |  | Unclassifiable/Attainment.
Echols County |  | Unclassifiable/Attainment |  | Unclassifiable/Attainment.
Effingham County |  | Unclassifiable/Attainment |  | Unclassifiable/Attainment.
Elbert County |  | Unclassifiable/Attainment |  | Unclassifiable/Attainment.
Emanuel County |  | Unclassifiable/Attainment |  | Unclassifiable/Attainment.
Evans County |  | Unclassifiable/Attainment |  | Unclassifiable/Attainment.
Fannin County |  | Unclassifiable/Attainment |  | Unclassifiable/Attainment.
Fayette County |  | Unclassifiable/Attainment |  | Unclassifiable/Attainment.
Floyd County |  | Unclassifiable/Attainment |  | Unclassifiable/Attainment.
Forsyth County |  | Unclassifiable/Attainment |  | Unclassifiable/Attainment.
Franklin County |  | Unclassifiable/Attainment |  | Unclassifiable/Attainment.
Fulton County |  | Unclassifiable/Attainment |  | Unclassifiable/Attainment.
Gilmer County |  | Unclassifiable/Attainment |  | Unclassifiable/Attainment.
Glascock County |  | Unclassifiable/Attainment |  | Unclassifiable/Attainment.
Glynn County |  | Unclassifiable/Attainment |  | Unclassifiable/Attainment.
Gordon County |  | Unclassifiable/Attainment |  | Unclassifiable/Attainment.
Grady County |  | Unclassifiable/Attainment |  | Unclassifiable/Attainment.
Greene County |  | Unclassifiable/Attainment |  | Unclassifiable/Attainment.
Gwinnett County |  | Unclassifiable/Attainment |  | Unclassifiable/Attainment.
Habersham County |  | Unclassifiable/Attainment |  | Unclassifiable/Attainment.
Hall County |  | Unclassifiable/Attainment |  | Unclassifiable/Attainment.
Hancock County |  | Unclassifiable/Attainment |  | Unclassifiable/Attainment.
Haralson County |  | Unclassifiable/Attainment |  | Unclassifiable/Attainment.
Harris County |  | Unclassifiable/Attainment |  | Unclassifiable/Attainment.
Hart County |  | Unclassifiable/Attainment |  | Unclassifiable/Attainment.
Heard County |  | Unclassifiable/Attainment |  | Unclassifiable/Attainment.
Henry County |  | Unclassifiable/Attainment |  | Unclassifiable/Attainment.
Houston County |  | Unclassifiable/Attainment |  | Unclassifiable/Attainment.
Irwin County |  | Unclassifiable/Attainment |  | Unclassifiable/Attainment.
Jackson County |  | Unclassifiable/Attainment |  | Unclassifiable/Attainment.
Jasper County |  | Unclassifiable/Attainment |  | Unclassifiable/Attainment.
Jeff Davis County |  | Unclassifiable/Attainment |  | Unclassifiable/Attainment.
Jefferson County |  | Unclassifiable/Attainment |  | Unclassifiable/Attainment.
Jenkins County |  | Unclassifiable/Attainment |  | Unclassifiable/Attainment.
Johnson County |  | Unclassifiable/Attainment |  | Unclassifiable/Attainment.
Jones County |  | Unclassifiable/Attainment |  | Unclassifiable/Attainment.
Lamar County |  | Unclassifiable/Attainment |  | Unclassifiable/Attainment.
Lanier County |  | Unclassifiable/Attainment |  | Unclassifiable/Attainment.
Laurens County |  | Unclassifiable/Attainment |  | Unclassifiable/Attainment.
Lee County |  | Unclassifiable/Attainment |  | Unclassifiable/Attainment.
Liberty County |  | Unclassifiable/Attainment |  | Unclassifiable/Attainment.
Lincoln County |  | Unclassifiable/Attainment |  | Unclassifiable/Attainment.
Long County |  | Unclassifiable/Attainment |  | Unclassifiable/Attainment.
Lowdes County |  | Unclassifiable/Attainment |  | Unclassifiable/Attainment.
Lumpkin County |  | Unclassifiable/Attainment |  | Unclassifiable/Attainment.
McDuffie County |  | Unclassifiable/Attainment |  | Unclassifiable/Attainment.
McIntosh County |  | Unclassifiable/Attainment |  | Unclassifiable/Attainment.
Macon County |  | Unclassifiable/Attainment |  | Unclassifiable/Attainment.
Madison County |  | Unclassifiable/Attainment |  | Unclassifiable/Attainment.
Marion County |  | Unclassifiable/Attainment |  | Unclassifiable/Attainment.
Meriwether County |  | Unclassifiable/Attainment |  | Unclassifiable/Attainment.
Miller County |  | Unclassifiable/Attainment |  | Unclassifiable/Attainment.
Mitchell County |  | Unclassifiable/Attainment |  | Unclassifiable/Attainment.
Monroe County |  | Unclassifiable/Attainment |  | Unclassifiable/Attainment.
Montgomery County |  | Unclassifiable/Attainment |  | Unclassifiable/Attainment.
Morgan County |  | Unclassifiable/Attainment |  | Unclassifiable/Attainment.
Murray County |  | Unclassifiable/Attainment |  | Unclassifiable/Attainment.
Muscogee County |  | Unclassifiable/Attainment |  | Unclassifiable/Attainment.
Newton County |  | Unclassifiable/Attainment |  | Unclassifiable/Attainment.
Oconee County |  | Unclassifiable/Attainment |  | Unclassifiable/Attainment.
Oglethorpe County |  | Unclassifiable/Attainment |  | Unclassifiable/Attainment.
Pauling County |  | Unclassifiable/Attainment |  | Unclassifiable/Attainment.
Peach County |  | Unclassifiable/Attainment |  | Unclassifiable/Attainment.
Pickens County |  | Unclassifiable/Attainment |  | Unclassifiable/Attainment.
Pierce County |  | Unclassifiable/Attainment |  | Unclassifiable/Attainment.
Pike County |  | Unclassifiable/Attainment |  | Unclassifiable/Attainment.
Polk County |  | Unclassifiable/Attainment |  | Unclassifiable/Attainment.
Pulaski County |  | Unclassifiable/Attainment |  | Unclassifiable/Attainment.
Putnam County |  | Unclassifiable/Attainment |  | Unclassifiable/Attainment.
Quitman County |  | Unclassifiable/Attainment |  | Unclassifiable/Attainment.
Rabun County |  | Unclassifiable/Attainment |  | Unclassifiable/Attainment.
Randolph County |  | Unclassifiable/Attainment |  | Unclassifiable/Attainment.
Richmond County |  | Unclassifiable/Attainment |  | Unclassifiable/Attainment.
Rockdale County |  | Unclassifiable/Attainment |  | Unclassifiable/Attainment.
Schley County |  | Unclassifiable/Attainment |  | Unclassifiable/Attainment.
Screven County |  | Unclassifiable/Attainment |  | Unclassifiable/Attainment.
Seminole County |  | Unclassifiable/Attainment |  | Unclassifiable/Attainment.
Spalding County |  | Unclassifiable/Attainment |  | Unclassifiable/Attainment.
Stephens County |  | Unclassifiable/Attainment |  | Unclassifiable/Attainment.
Stewart County |  | Unclassifiable/Attainment |  | Unclassifiable/Attainment.
Sumter County |  | Unclassifiable/Attainment |  | Unclassifiable/Attainment.
Talbot County |  | Unclassifiable/Attainment |  | Unclassifiable/Attainment.
Taliaferro County |  | Unclassifiable/Attainment |  | Unclassifiable/Attainment.
Tattnall County |  | Unclassifiable/Attainment |  | Unclassifiable/Attainment.
Taylor County |  | Unclassifiable/Attainment |  | Unclassifiable/Attainment.
Telfair County |  | Unclassifiable/Attainment |  | Unclassifiable/Attainment.
Terrell County |  | Unclassifiable/Attainment |  | Unclassifiable/Attainment.
Thomas County |  | Unclassifiable/Attainment |  | Unclassifiable/Attainment.
Tift County |  | Unclassifiable/Attainment |  | Unclassifiable/Attainment.
Toombs County |  | Unclassifiable/Attainment |  | Unclassifiable/Attainment.
Towns County |  | Unclassifiable/Attainment |  | Unclassifiable/Attainment.
Treutlen County |  | Unclassifiable/Attainment |  | Unclassifiable/Attainment.
Troup County |  | Unclassifiable/Attainment |  | Unclassifiable/Attainment.
Turner County |  | Unclassifiable/Attainment |  | Unclassifiable/Attainment.
Twiggs County |  | Unclassifiable/Attainment |  | Unclassifiable/Attainment.
Union County |  | Unclassifiable/Attainment |  | Unclassifiable/Attainment.
Upson County |  | Unclassifiable/Attainment |  | Unclassifiable/Attainment.
Walker County |  | Unclassifiable/Attainment |  | Unclassifiable/Attainment.
Walton County |  | Unclassifiable/Attainment |  | Unclassifiable/Attainment.
Ware County |  | Unclassifiable/Attainment |  | Unclassifiable/Attainment.
Warren County |  | Unclassifiable/Attainment |  | Unclassifiable/Attainment.
Washington County |  | Unclassifiable/Attainment |  | Unclassifiable/Attainment.
Wayne County |  | Unclassifiable/Attainment |  | Unclassifiable/Attainment.
Webster County |  | Unclassifiable/Attainment |  | Unclassifiable/Attainment.
Wheeler County |  | Unclassifiable/Attainment |  | Unclassifiable/Attainment.
White County |  | Unclassifiable/Attainment |  | Unclassifiable/Attainment.
Whitfield County |  | Unclassifiable/Attainment |  | Unclassifiable/Attainment.
Wilcox County |  | Unclassifiable/Attainment |  | Unclassifiable/Attainment.
Wilkes County |  | Unclassifiable/Attainment |  | Unclassifiable/Attainment.
Wilkinson County |  | Unclassifiable/Attainment |  | Unclassifiable/Attainment.
Worth County |  | Unclassifiable/Attainment |  | Unclassifiable/Attainment.
ᵃ Includes Indian Country located in each county or area, except as otherwise specified.
¹ This date is 90 days after January 5, 2005, unless otherwise noted.
² This date is 30 days after November 13, 2009, unless otherwise noted.

13. Section 81.312 is amended as follows:

a. By revising the table heading for “Hawaii—PM2.5” to read as set forth below.

b. By adding a new table entitled “Hawaii—PM2.5 (24-Hour NAAQS)” to the end of the section.

§ 81.312 Hawaii.

* * * * *

Hawaii—PM2.5 (Annual NAAQS)

* * * * *

Hawaii—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Hawaii County |  | Unclassifiable/Attainment |  | Unclassifiable/Attainment.
Honolulu County |  | Unclassifiable/Attainment |  | Unclassifiable/Attainment.
Kalawao County |  | Unclassifiable/Attainment |  | Unclassifiable/Attainment.
Kauai County |  | Unclassifiable/Attainment |  | Unclassifiable/Attainment.
Maui County |  | Unclassifiable/Attainment |  | Unclassifiable/Attainment.
ᵃ Includes Indian Country located in each county or area, except as otherwise specified.
¹ This date is 90 days after January 5, 2005, unless otherwise noted.
² This date is 30 days after November 13, 2009, unless otherwise noted.

14. Section 81.313 is amended as follows:

a. By revising the table heading for “Idaho—PM2.5” to read as set forth below.

b. By adding a new table entitled “Idaho—PM2.5 (24-Hour NAAQS)” to the end of the section.

§ 81.313 Idaho.

* * * * *

Idaho—PM2.5 (Annual NAAQS)

* * * * *

Idaho—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Logan, UT-ID:
Franklin County (part) |  | Unclassifiable/Attainment |  | Nonattainment.
Begin in the bottom left corner (southwest) of the nonattainment area boundary, southwest corner of the PLSS-Boise Meridian, Township 16 South, Range 37 East, Section 25. The boundary then proceeds north to the northwest corner of Township 15 South, Range 37 East, Section 25; then the boundary proceeds east to the southeast corner of Township 15 South, Range 38 East, Section 19; then north to the Franklin County boundary at the northwest corner of Township 13 South, Range 38 East, Section 20. From this point the boundary proceeds east 3.5 sections along the northern border of the county boundary where it then turns south 2 sections, and then proceeds east 5 more sections, and then north 2 sections more. At this point, the boundary leaves the county boundary and proceeds east at the southeast corner of Township 13 South, Range 39 East, Section 14; then the boundary heads north 2 sections to northwest corner of Township 13 South, Range 39 east, Section 12; then the boundary proceeds east 2 sections to the northeast corner of Township 13 South, Range 40 East, Section 7. The boundary then proceeds south 2 sections to the northwest corner of Township 13 South, Range 40 East, Section 20; the boundary then proceeds east 6 sections to the northeast corner of Township 13 South, Range 41 East, Section 19. The boundary then proceeds south 20 sections to the southeast corner of Township 16 South, Range 41 East, Section 30. Finally, the boundary is completed as it proceeds west 20 sections along the southern Idaho state boundary to the southwest corner of the Township 16 South, Range 37 East, Section 25.
Rest of State: AQCR 61 Eastern Idaho Intrastate:
Bannock County |  | Unclassifiable/Attainment |  | Unclassifiable/Attainment.
Bear Lake County |  | Unclassifiable/Attainment |  | Unclassifiable/Attainment.
Bingham County |  | Unclassifiable/Attainment |  | Unclassifiable/Attainment.
Bonneville County |  | Unclassifiable/Attainment |  | Unclassifiable/Attainment.
Butte County |  | Unclassifiable/Attainment |  | Unclassifiable/Attainment.
Caribou County |  | Unclassifiable/Attainment |  | Unclassifiable/Attainment.
Clark County |  | Unclassifiable/Attainment |  | Unclassifiable/Attainment.
Franklin County (remainder) |  | Unclassifiable/Attainment |  | Unclassifiable/Attainment.
Fremont County |  | Unclassifiable/Attainment |  | Unclassifiable/Attainment.
Jefferson County |  | Unclassifiable/Attainment |  | Unclassifiable/Attainment.
Madison County |  | Unclassifiable/Attainment |  | Unclassifiable/Attainment.
Oneida County |  | Unclassifiable/Attainment |  | Unclassifiable/Attainment.
Power County |  | Unclassifiable/Attainment |  | Unclassifiable/Attainment.
Teton County |  | Unclassifiable/Attainment |  | Unclassifiable/Attainment.
AQCR 62 E Washington-N Idaho Interstate:
Benewah County |  | Unclassifiable/Attainment |  | Unclassifiable/Attainment.
Kootenai County |  | Unclassifiable/Attainment |  | Unclassifiable/Attainment.
Latah County |  | Unclassifiable/Attainment |  | Unclassifiable/Attainment.
Nez Perce County |  | Unclassifiable/Attainment |  | Unclassifiable/Attainment.
Shoshone County |  | Unclassifiable/Attainment |  | Unclassifiable/Attainment.
AQCR 63 Idaho Intrastate:
Adams County |  | Unclassifiable/Attainment |  | Unclassifiable/Attainment.
Blaine County |  | Unclassifiable/Attainment |  | Unclassifiable/Attainment.
Boise County |  | Unclassifiable/Attainment |  | Unclassifiable/Attainment.
Bonner County |  | Unclassifiable/Attainment |  | Unclassifiable/Attainment.
Boundary County |  | Unclassifiable/Attainment |  | Unclassifiable/Attainment.
Camas County |  | Unclassifiable/Attainment |  | Unclassifiable/Attainment.
Cassia County |  | Unclassifiable/Attainment |  | Unclassifiable/Attainment.
Clearwater County |  | Unclassifiable/Attainment |  | Unclassifiable/Attainment.
Custer County |  | Unclassifiable/Attainment |  | Unclassifiable/Attainment.
Elmore County |  | Unclassifiable/Attainment |  | Unclassifiable/Attainment.
Gem County |  | Unclassifiable/Attainment |  | Unclassifiable/Attainment.
Gooding County |  | Unclassifiable/Attainment |  | Unclassifiable/Attainment.
Idaho County |  | Unclassifiable/Attainment |  | Unclassifiable/Attainment.
Jerome County |  | Unclassifiable/Attainment |  | Unclassifiable/Attainment.
Lemhi County |  | Unclassifiable/Attainment |  | Unclassifiable/Attainment.
Lewis County |  | Unclassifiable/Attainment |  | Unclassifiable/Attainment.
Lincoln County |  | Unclassifiable/Attainment |  | Unclassifiable/Attainment.
Minidoka County |  | Unclassifiable/Attainment |  | Unclassifiable/Attainment.
Owyhee County |  | Unclassifiable/Attainment |  | Unclassifiable/Attainment.
Payette County |  | Unclassifiable/Attainment |  | Unclassifiable/Attainment.
Twin Falls County |  | Unclassifiable/Attainment |  | Unclassifiable/Attainment.
Valley County |  | Unclassifiable/Attainment |  | Unclassifiable/Attainment.
Washington County |  | Unclassifiable/Attainment |  | Unclassifiable/Attainment.
AQCR 64 Metropolitan Boise Interstate:
Ada County |  | Unclassifiable/Attainment |  | Unclassifiable/Attainment.
Canyon County |  | Unclassifiable/Attainment |  | Unclassifiable/Attainment.
ᵃ Includes Indian Country located in each county or area, except as otherwise specified.
¹ This date is 90 days after January 5, 2005, unless otherwise noted.
² This date is 30 days after November 13, 2009, unless otherwise noted.

15. Section 81.314 is amended as follows:

a. By revising the table heading for “Illinois—PM2.5” to read as set forth below.

b. By adding a new table entitled “Illinois—PM2.5 (24-Hour NAAQS)” to the end of the section.

§ 81.314 Illinois.

* * * * *

Illinois—PM2.5 (Annual NAAQS)

* * * * *

Illinois—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Adams County |  | Unclassifiable/Attainment |  | Unclassifiable/Attainment.
Alexander County |  | Unclassifiable/Attainment |  | Unclassifiable/Attainment.
Bond County |  | Unclassifiable/Attainment |  | Unclassifiable/Attainment.
Boone County |  | Unclassifiable/Attainment |  | Unclassifiable/Attainment.
Brown County |  | Unclassifiable/Attainment |  | Unclassifiable/Attainment.
Bureau County |  | Unclassifiable/Attainment |  | Unclassifiable/Attainment.
Calhoun County |  | Unclassifiable/Attainment |  | Unclassifiable/Attainment.
Carroll County |  | Unclassifiable/Attainment |  | Unclassifiable/Attainment.
Cass County |  | Unclassifiable/Attainment |  | Unclassifiable/Attainment.
Champaign County |  | Unclassifiable/Attainment |  | Unclassifiable/Attainment.
Christian County |  | Unclassifiable/Attainment |  | Unclassifiable/Attainment.
Clark County |  | Unclassifiable/Attainment |  | Unclassifiable/Attainment.
Clay County |  | Unclassifiable/Attainment |  | Unclassifiable/Attainment.
Clinton County |  | Unclassifiable/Attainment |  | Unclassifiable/Attainment.
Coles County |  | Unclassifiable/Attainment |  | Unclassifiable/Attainment.
Cook County |  | Unclassifiable/Attainment |  | Unclassifiable/Attainment.
Crawford County |  | Unclassifiable/Attainment |  | Unclassifiable/Attainment.
Cumberland County |  | Unclassifiable/Attainment |  | Unclassifiable/Attainment.
DeKalb County |  | Unclassifiable/Attainment |  | Unclassifiable/Attainment.
De Witt County |  | Unclassifiable/Attainment |  | Unclassifiable/Attainment.
Douglas County |  | Unclassifiable/Attainment |  | Unclassifiable/Attainment.
DuPage County |  | Unclassifiable/Attainment |  | Unclassifiable/Attainment.
Edgar County |  | Unclassifiable/Attainment |  | Unclassifiable/Attainment.
Edwards County |  | Unclassifiable/Attainment |  | Unclassifiable/Attainment.
Effingham County |  | Unclassifiable/Attainment |  | Unclassifiable/Attainment.
Fayette County |  | Unclassifiable/Attainment |  | Unclassifiable/Attainment.
Ford County |  | Unclassifiable/Attainment |  | Unclassifiable/Attainment.
Franklin County |  | Unclassifiable/Attainment |  | Unclassifiable/Attainment.
Fulton County |  | Unclassifiable/Attainment |  | Unclassifiable/Attainment.
Gallatin County |  | Unclassifiable/Attainment |  | Unclassifiable/Attainment.
Greene County |  | Unclassifiable/Attainment |  | Unclassifiable/Attainment.
Grundy County |  | Unclassifiable/Attainment |  | Unclassifiable/Attainment.
Hamilton County |  | Unclassifiable/Attainment |  | Unclassifiable/Attainment.
Hancock County |  | Unclassifiable/Attainment |  | Unclassifiable/Attainment.
Hardin County |  | Unclassifiable/Attainment |  | Unclassifiable/Attainment.
Henderson County |  | Unclassifiable/Attainment |  | Unclassifiable/Attainment.
Henry County |  | Unclassifiable/Attainment |  | Unclassifiable/Attainment.
Iroquois County |  | Unclassifiable/Attainment |  | Unclassifiable/Attainment.
Jackson County |  | Unclassifiable/Attainment |  | Unclassifiable/Attainment.
Jasper County |  | Unclassifiable/Attainment |  | Unclassifiable/Attainment.
Jefferson County |  | Unclassifiable/Attainment |  | Unclassifiable/Attainment.
Jersey County |  | Unclassifiable/Attainment |  | Unclassifiable/Attainment.
Jo Daviess County |  | Unclassifiable/Attainment |  | Unclassifiable/Attainment.
Johnson County |  | Unclassifiable/Attainment |  | Unclassifiable/Attainment.
Kane County |  | Unclassifiable/Attainment |  | Unclassifiable/Attainment.
Kankakee County |  | Unclassifiable/Attainment |  | Unclassifiable/Attainment.
Kendall County |  | Unclassifiable/Attainment |  | Unclassifiable/Attainment.
Knox County |  | Unclassifiable/Attainment |  | Unclassifiable/Attainment.
La Salle County |  | Unclassifiable/Attainment |  | Unclassifiable/Attainment.
Lake County |  | Unclassifiable/Attainment |  | Unclassifiable/Attainment.
Lawrence County |  | Unclassifiable/Attainment |  | Unclassifiable/Attainment.
Lee County |  | Unclassifiable/Attainment |  | Unclassifiable/Attainment.
Livingston County |  | Unclassifiable/Attainment |  | Unclassifiable/Attainment.
Logan County |  | Unclassifiable/Attainment |  | Unclassifiable/Attainment.
McDonough County |  | Unclassifiable/Attainment |  | Unclassifiable/Attainment.
McHenry County |  | Unclassifiable/Attainment |  | Unclassifiable/Attainment.
McLean County |  | Unclassifiable/Attainment |  | Unclassifiable/Attainment.
Macon County |  | Unclassifiable/Attainment |  | Unclassifiable/Attainment.
Macoupin County |  | Unclassifiable/Attainment |  | Unclassifiable/Attainment.
Madison County |  | Unclassifiable/Attainment |  | Unclassifiable/Attainment.
Marion County |  | Unclassifiable/Attainment |  | Unclassifiable/Attainment.
Marshall County |  | Unclassifiable/Attainment |  | Unclassifiable/Attainment.
Mason County |  | Unclassifiable/Attainment |  | Unclassifiable/Attainment.
Massac County |  | Unclassifiable/Attainment |  | Unclassifiable/Attainment.
Menard County |  | Unclassifiable/Attainment |  | Unclassifiable/Attainment.
Mercer County |  | Unclassifiable/Attainment |  | Unclassifiable/Attainment.
Monroe County |  | Unclassifiable/Attainment |  | Unclassifiable/Attainment.
Montgomery County |  | Unclassifiable/Attainment |  | Unclassifiable/Attainment.
Morgan County |  | Unclassifiable/Attainment |  | Unclassifiable/Attainment.
Moultrie County |  | Unclassifiable/Attainment |  | Unclassifiable/Attainment.
Ogle County |  | Unclassifiable/Attainment |  | Unclassifiable/Attainment.
Peoria County |  | Unclassifiable/Attainment |  | Unclassifiable/Attainment.
Perry County |  | Unclassifiable/Attainment |  | Unclassifiable/Attainment.
Piatt County |  | Unclassifiable/Attainment |  | Unclassifiable/Attainment.
Pike County |  | Unclassifiable/Attainment |  | Unclassifiable/Attainment.
Pope County |  | Unclassifiable/Attainment |  | Unclassifiable/Attainment.
Pulaski County |  | Unclassifiable/Attainment |  | Unclassifiable/Attainment.
Putnam County |  | Unclassifiable/Attainment |  | Unclassifiable/Attainment.
Randolph County |  | Unclassifiable/Attainment |  | Unclassifiable/Attainment.
Richland County |  | Unclassifiable/Attainment |  | Unclassifiable/Attainment.
Rock Island County |  | Unclassifiable/Attainment |  | Unclassifiable/Attainment.
St. Clair County |  | Unclassifiable/Attainment |  | Unclassifiable/Attainment.
Saline County |  | Unclassifiable/Attainment |  | Unclassifiable/Attainment.
Sangamon County |  | Unclassifiable/Attainment |  | Unclassifiable/Attainment.
Schuyler County |  | Unclassifiable/Attainment |  | Unclassifiable/Attainment.
Scott County |  | Unclassifiable/Attainment |  | Unclassifiable/Attainment.
Shelby County |  | Unclassifiable/Attainment |  | Unclassifiable/Attainment.
Stark County |  | Unclassifiable/Attainment |  | Unclassifiable/Attainment.
Stephenson County |  | Unclassifiable/Attainment |  | Unclassifiable/Attainment.
Tazewell County |  | Unclassifiable/Attainment |  | Unclassifiable/Attainment.
Union County |  | Unclassifiable/Attainment |  | Unclassifiable/Attainment.
Vermilion County |  | Unclassifiable/Attainment |  | Unclassifiable/Attainment.
Wabash County |  | Unclassifiable/Attainment |  | Unclassifiable/Attainment.
Warren County |  | Unclassifiable/Attainment |  | Unclassifiable/Attainment.
Washington County |  | Unclassifiable/Attainment |  | Unclassifiable/Attainment.
Wayne County |  | Unclassifiable/Attainment |  | Unclassifiable/Attainment.
White County |  | Unclassifiable/Attainment |  | Unclassifiable/Attainment.
Whiteside County |  | Unclassifiable/Attainment |  | Unclassifiable/Attainment.
Will County |  | Unclassifiable/Attainment |  | Unclassifiable/Attainment.
Williamson County |  | Unclassifiable/Attainment |  | Unclassifiable/Attainment.
Winnebago County |  | Unclassifiable/Attainment |  | Unclassifiable/Attainment.
Woodford County |  | Unclassifiable/Attainment |  | Unclassifiable/Attainment.
ᵃ Includes Indian Country located in each county or area, except as otherwise specified.
¹ This date is 90 days after January 5, 2005, unless otherwise noted.
² This date is 30 days after November 13, 2009, unless otherwise noted.

16. Section 81.315 is amended as follows:

a. By revising the table heading for “Indiana PM2.5” to read as set forth below.

b. By adding a new table entitled “Indiana PM2.5 (24-Hour NAAQS)” to the end of the section.

§ 81.315 Indiana.

* * * * *

Indiana PM2.5 (Annual NAAQS)

* * * * *

Indiana—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Adams County |  | Unclassifiable/Attainment |  | Unclassifiable/Attainment.
Allen County |  | Unclassifiable/Attainment |  | Unclassifiable/Attainment.
Bartholomew County |  | Unclassifiable/Attainment |  | Unclassifiable/Attainment.
Benton County |  | Unclassifiable/Attainment |  | Unclassifiable/Attainment.
Blackford County |  | Unclassifiable/Attainment |  | Unclassifiable/Attainment.
Boone County |  | Unclassifiable/Attainment |  | Unclassifiable/Attainment.
Brown County |  | Unclassifiable/Attainment |  | Unclassifiable/Attainment.
Carroll County |  | Unclassifiable/Attainment |  | Unclassifiable/Attainment.
Cass County |  | Unclassifiable/Attainment |  | Unclassifiable/Attainment.
Clark County |  | Unclassifiable/Attainment |  | Unclassifiable/Attainment.
Clay County |  | Unclassifiable/Attainment |  | Unclassifiable/Attainment.
Clinton County |  | Unclassifiable/Attainment |  | Unclassifiable/Attainment.
Crawford County |  | Unclassifiable/Attainment |  | Unclassifiable/Attainment.
Daviess County |  | Unclassifiable/Attainment |  | Unclassifiable/Attainment.
Dearborn County |  | Unclassifiable/Attainment |  | Unclassifiable/Attainment.
Decatur County |  | Unclassifiable/Attainment |  | Unclassifiable/Attainment.
De Kalb County |  | Unclassifiable/Attainment |  | Unclassifiable/Attainment.
Elkhart County |  | Unclassifiable/Attainment |  | Unclassifiable/Attainment.
Delaware County |  | Unclassifiable/Attainment |  | Unclassifiable/Attainment.
Dubois County |  | Unclassifiable/Attainment |  | Unclassifiable/Attainment.
Elkhart County |  | Unclassifiable/Attainment |  | Unclassifiable/Attainment.
Fayette County |  | Unclassifiable/Attainment |  | Unclassifiable/Attainment.
Floyd County |  | Unclassifiable/Attainment |  | Unclassifiable/Attainment.
Fountain County |  | Unclassifiable/Attainment |  | Unclassifiable/Attainment.
Franklin County |  | Unclassifiable/Attainment |  | Unclassifiable/Attainment.
Fulton County |  | Unclassifiable/Attainment |  | Unclassifiable/Attainment.
Gibson County |  | Unclassifiable/Attainment |  | Unclassifiable/Attainment.
Grant County |  | Unclassifiable/Attainment |  | Unclassifiable/Attainment.
Greene County |  | Unclassifiable/Attainment |  | Unclassifiable/Attainment.
Hamilton County |  | Unclassifiable/Attainment |  | Unclassifiable/Attainment.
Hancock County |  | Unclassifiable/Attainment |  | Unclassifiable/Attainment.
Harrison County |  | Unclassifiable/Attainment |  | Unclassifiable/Attainment.
Hendricks County |  | Unclassifiable/Attainment |  | Unclassifiable/Attainment.
Henry County |  | Unclassifiable/Attainment |  | Unclassifiable/Attainment.
Howard County |  | Unclassifiable/Attainment |  | Unclassifiable/Attainment.
Huntington County |  | Unclassifiable/Attainment |  | Unclassifiable/Attainment.
Jackson County |  | Unclassifiable/Attainment |  | Unclassifiable/Attainment.
Jasper County |  | Unclassifiable/Attainment |  | Unclassifiable/Attainment.
Jay County |  | Unclassifiable/Attainment |  | Unclassifiable/Attainment.
Jefferson County |  | Unclassifiable/Attainment |  | Unclassifiable/Attainment.
Jennings County |  | Unclassifiable/Attainment |  | Unclassifiable/Attainment.
Johnson County |  | Unclassifiable/Attainment |  | Unclassifiable/Attainment.
Knox County |  | Unclassifiable/Attainment |  | Unclassifiable/Attainment.
Kosciusko County |  | Unclassifiable/Attainment |  | Unclassifiable/Attainment.
LaGrange County |  | Unclassifiable/Attainment |  | Unclassifiable/Attainment.
La Porte County |  | Unclassifiable/Attainment |  | Unclassifiable/Attainment.
Lake County |  | Unclassifiable/Attainment |  | Unclassifiable/Attainment.
Lawrence County |  | Unclassifiable/Attainment |  | Unclassifiable/Attainment.
Madison County |  | Unclassifiable/Attainment |  | Unclassifiable/Attainment.
Marion County |  | Unclassifiable/Attainment |  | Unclassifiable/Attainment.
Marshall County |  | Unclassifiable/Attainment |  | Unclassifiable/Attainment.
Martin County |  | Unclassifiable/Attainment |  | Unclassifiable/Attainment.
Miami County |  | Unclassifiable/Attainment |  | Unclassifiable/Attainment.
Monroe County |  | Unclassifiable/Attainment |  | Unclassifiable/Attainment.
Montgomery County |  | Unclassifiable/Attainment |  | Unclassifiable/Attainment.
Morgan County |  | Unclassifiable/Attainment |  | Unclassifiable/Attainment.
Newton County |  | Unclassifiable/Attainment |  | Unclassifiable/Attainment.
Noble County |  | Unclassifiable/Attainment |  | Unclassifiable/Attainment.
Ohio County |  | Unclassifiable/Attainment |  | Unclassifiable/Attainment.
Orange County |  | Unclassifiable/Attainment |  | Unclassifiable/Attainment.
Owen County |  | Unclassifiable/Attainment |  | Unclassifiable/Attainment.
Parke County |  | Unclassifiable/Attainment |  | Unclassifiable/Attainment.
Perry County |  | Unclassifiable/Attainment |  | Unclassifiable/Attainment.
Pike County |  | Unclassifiable/Attainment |  | Unclassifiable/Attainment.
Porter County |  | Unclassifiable/Attainment |  | Unclassifiable/Attainment.
Posey County |  | Unclassifiable/Attainment |  | Unclassifiable/Attainment.
Pulaski County |  | Unclassifiable/Attainment |  | Unclassifiable/Attainment.
Putnam County |  | Unclassifiable/Attainment |  | Unclassifiable/Attainment.
Randolph County |  | Unclassifiable/Attainment |  | Unclassifiable/Attainment.
Ripley County |  | Unclassifiable/Attainment |  | Unclassifiable/Attainment.
Rush County |  | Unclassifiable/Attainment |  | Unclassifiable/Attainment.
St Joseph County |  | Unclassifiable/Attainment |  | Unclassifiable/Attainment.
Scott County |  | Unclassifiable/Attainment |  | Unclassifiable/Attainment.
Shelby County |  | Unclassifiable/Attainment |  | Unclassifiable/Attainment.
Spencer County |  | Unclassifiable/Attainment |  | Unclassifiable/Attainment.
Starke County |  | Unclassifiable/Attainment |  | Unclassifiable/Attainment.
Steuben County |  | Unclassifiable/Attainment |  | Unclassifiable/Attainment.
Sullivan County |  | Unclassifiable/Attainment |  | Unclassifiable/Attainment.
Switzerland County |  | Unclassifiable/Attainment |  | Unclassifiable/Attainment.
Tippecanoe County |  | Unclassifiable/Attainment |  | Unclassifiable/Attainment.
Tipton County |  | Unclassifiable/Attainment |  | Unclassifiable/Attainment.
Union County |  | Unclassifiable/Attainment |  | Unclassifiable/Attainment.
Vandenberg County |  | Unclassifiable/Attainment |  | Unclassifiable/Attainment.
Vermillion County |  | Unclassifiable/Attainment |  | Unclassifiable/Attainment.
Vigo County |  | Unclassifiable/Attainment |  | Unclassifiable/Attainment.
Wabash County |  | Unclassifiable/Attainment |  | Unclassifiable/Attainment.
Warren County |  | Unclassifiable/Attainment |  | Unclassifiable/Attainment.
Warrick County |  | Unclassifiable/Attainment |  | Unclassifiable/Attainment.
Washington County |  | Unclassifiable/Attainment |  | Unclassifiable/Attainment.
Wayne County |  | Unclassifiable/Attainment |  | Unclassifiable/Attainment.
Wells County |  | Unclassifiable/Attainment |  | Unclassifiable/Attainment.
White County |  | Unclassifiable/Attainment |  | Unclassifiable/Attainment.
Whitley County |  | Unclassifiable/Attainment |  | Unclassifiable/Attainment.
ᵃ Includes Indian Country located in each county or area, except as otherwise specified.
¹ This date is 90 days after January 5, 2005, unless otherwise noted.
² This date is 30 days after November 13, 2009, unless otherwise noted.

17. Section 81.316 is amended as follows:

a. By revising the table heading for “Iowa PM2.5” to read as set forth below.

b. By adding a new table entitled “Iowa PM2.5 (24-Hour NAAQS)” to the end of the section.

§ 81.316 Iowa.

* * * * *

Iowa—PM2.5 (Annual NAAQS)

* * * * *

Iowa—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Adair County |  | Unclassifiable/Attainment |  | Unclassifiable/Attainment.
Adams County |  | Unclassifiable/Attainment |  | Unclassifiable/Attainment.
Allamakee County |  | Unclassifiable/Attainment |  | Unclassifiable/Attainment.
Appanoose County |  | Unclassifiable/Attainment |  | Unclassifiable/Attainment.
Audubon County |  | Unclassifiable/Attainment |  | Unclassifiable/Attainment.
Benton County |  | Unclassifiable/Attainment |  | Unclassifiable/Attainment.
Black Hawk County |  | Unclassifiable/Attainment |  | Unclassifiable/Attainment.
Boone County |  | Unclassifiable/Attainment |  | Unclassifiable/Attainment.
Bremer County |  | Unclassifiable/Attainment |  | Unclassifiable/Attainment.
Buchanan County |  | Unclassifiable/Attainment |  | Unclassifiable/Attainment.
Buena Vista County |  | Unclassifiable/Attainment |  | Unclassifiable/Attainment.
Butler County |  | Unclassifiable/Attainment |  | Unclassifiable/Attainment.
Calhoun County |  | Unclassifiable/Attainment |  | Unclassifiable/Attainment.
Carroll County |  | Unclassifiable/Attainment |  | Unclassifiable/Attainment.
Cass County |  | Unclassifiable/Attainment |  | Unclassifiable/Attainment.
Cedar County |  | Unclassifiable/Attainment |  | Unclassifiable/Attainment.
Cerro Gordo County |  | Unclassifiable/Attainment |  | Unclassifiable/Attainment.
Cherokee County |  | Unclassifiable/Attainment |  | Unclassifiable/Attainment.
Chickasaw County |  | Unclassifiable/Attainment |  | Unclassifiable/Attainment.
Clarke County |  | Unclassifiable/Attainment |  | Unclassifiable/Attainment.
Clay County |  | Unclassifiable/Attainment |  | Unclassifiable/Attainment.
Clayton County |  | Unclassifiable/Attainment |  | Unclassifiable/Attainment.
Clinton County |  | Unclassifiable/Attainment |  | Unclassifiable/Attainment.
Crawford County |  | Unclassifiable/Attainment |  | Unclassifiable/Attainment.
Dallas County |  | Unclassifiable/Attainment |  | Unclassifiable/Attainment.
Davis County |  | Unclassifiable/Attainment |  | Unclassifiable/Attainment.
Decatur County |  | Unclassifiable/Attainment |  | Unclassifiable/Attainment.
Delaware County |  | Unclassifiable/Attainment |  | Unclassifiable/Attainment.
Des Moines County |  | Unclassifiable/Attainment |  | Unclassifiable/Attainment.
Dickinson County |  | Unclassifiable/Attainment |  | Unclassifiable/Attainment.
Dubuque County |  | Unclassifiable/Attainment |  | Unclassifiable/Attainment.
Emmet County |  | Unclassifiable/Attainment |  | Unclassifiable/Attainment.
Fayette County |  | Unclassifiable/Attainment |  | Unclassifiable/Attainment.
Floyd County |  | Unclassifiable/Attainment |  | Unclassifiable/Attainment.
Franklin County |  | Unclassifiable/Attainment |  | Unclassifiable/Attainment.
Fremont County |  | Unclassifiable/Attainment |  | Unclassifiable/Attainment.
Greene County |  | Unclassifiable/Attainment |  | Unclassifiable/Attainment.
Grundy County |  | Unclassifiable/Attainment |  | Unclassifiable/Attainment.
Guthrie County |  | Unclassifiable/Attainment |  | Unclassifiable/Attainment.
Hamilton County |  | Unclassifiable/Attainment |  | Unclassifiable/Attainment.
Hancock County |  | Unclassifiable/Attainment |  | Unclassifiable/Attainment.
Hardin County |  | Unclassifiable/Attainment |  | Unclassifiable/Attainment.
Harrison County |  | Unclassifiable/Attainment |  | Unclassifiable/Attainment.
Henry County |  | Unclassifiable/Attainment |  | Unclassifiable/Attainment.
Howard County |  | Unclassifiable/Attainment |  | Unclassifiable/Attainment.
Humboldt County |  | Unclassifiable/Attainment |  | Unclassifiable/Attainment.
Ida County |  | Unclassifiable/Attainment |  | Unclassifiable/Attainment.
Iowa County |  | Unclassifiable/Attainment |  | Unclassifiable/Attainment.
Jackson County |  | Unclassifiable/Attainment |  | Unclassifiable/Attainment.
Jasper County |  | Unclassifiable/Attainment |  | Unclassifiable/Attainment.
Jefferson County |  | Unclassifiable/Attainment |  | Unclassifiable/Attainment.
Johnson County |  | Unclassifiable/Attainment |  | Unclassifiable/Attainment.
Jones County |  | Unclassifiable/Attainment |  | Unclassifiable/Attainment.
Keokuk County |  | Unclassifiable/Attainment |  | Unclassifiable/Attainment.
Kossuth County |  | Unclassifiable/Attainment |  | Unclassifiable/Attainment.
Lee County |  | Unclassifiable/Attainment |  | Unclassifiable/Attainment.
Linn County |  | Unclassifiable/Attainment |  | Unclassifiable/Attainment.
Louisa County |  | Unclassifiable/Attainment |  | Unclassifiable/Attainment.
Lucas County |  | Unclassifiable/Attainment |  | Unclassifiable/Attainment.
Lyon County |  | Unclassifiable/Attainment |  | Unclassifiable/Attainment.
Madison County |  | Unclassifiable/Attainment |  | Unclassifiable/Attainment.
Mahaska County |  | Unclassifiable/Attainment |  | Unclassifiable/Attainment.
Marion County |  | Unclassifiable/Attainment |  | Unclassifiable/Attainment.
Marshall County |  | Unclassifiable/Attainment |  | Unclassifiable/Attainment.
Mills County |  | Unclassifiable/Attainment |  | Unclassifiable/Attainment.
Mitchell County |  | Unclassifiable/Attainment |  | Unclassifiable/Attainment.
Monona County |  | Unclassifiable/Attainment |  | Unclassifiable/Attainment.
Monroe County |  | Unclassifiable/Attainment |  | Unclassifiable/Attainment.
Montgomery County |  | Unclassifiable/Attainment |  | Unclassifiable/Attainment.
Muscatine County |  | Unclassifiable/Attainment |  | Unclassifiable/Attainment.
O'Brien County |  | Unclassifiable/Attainment |  | Unclassifiable/Attainment.
Osceola County |  | Unclassifiable/Attainment |  | Unclassifiable/Attainment.
Page County |  | Unclassifiable/Attainment |  | Unclassifiable/Attainment.
Palo Alto County |  | Unclassifiable/Attainment |  | Unclassifiable/Attainment.
Plymouth County |  | Unclassifiable/Attainment |  | Unclassifiable/Attainment.
Pocahontas County |  | Unclassifiable/Attainment |  | Unclassifiable/Attainment.
Polk County |  | Unclassifiable/Attainment |  | Unclassifiable/Attainment.
Pottawattamie County |  | Unclassifiable/Attainment |  | Unclassifiable/Attainment.
Poweshiek County |  | Unclassifiable/Attainment |  | Unclassifiable/Attainment.
Ringgold County |  | Unclassifiable/Attainment |  | Unclassifiable/Attainment.
Sac County |  | Unclassifiable/Attainment |  | Unclassifiable/Attainment.
Scott County |  | Unclassifiable/Attainment |  | Unclassifiable/Attainment.
Shelby County |  | Unclassifiable/Attainment |  | Unclassifiable/Attainment.
Sioux County |  | Unclassifiable/Attainment |  | Unclassifiable/Attainment.
Story County |  | Unclassifiable/Attainment |  | Unclassifiable/Attainment.
Tama County |  | Unclassifiable/Attainment |  | Unclassifiable/Attainment.
Taylor County |  | Unclassifiable/Attainment |  | Unclassifiable/Attainment.
Union County |  | Unclassifiable/Attainment |  | Unclassifiable/Attainment.
Van Buren County |  | Unclassifiable/Attainment |  | Unclassifiable/Attainment.
Wapello County |  | Unclassifiable/Attainment |  | Unclassifiable/Attainment.
Warren County |  | Unclassifiable/Attainment |  | Unclassifiable/Attainment.
Washington County |  | Unclassifiable/Attainment |  | Unclassifiable/Attainment.
Wayne County |  | Unclassifiable/Attainment |  | Unclassifiable/Attainment.
Webster County |  | Unclassifiable/Attainment |  | Unclassifiable/Attainment.
Winnebago County |  | Unclassifiable/Attainment |  | Unclassifiable/Attainment.
Winneshiek County |  | Unclassifiable/Attainment |  | Unclassifiable/Attainment.
Woodbury County |  | Unclassifiable/Attainment |  | Unclassifiable/Attainment.
Worth County |  | Unclassifiable/Attainment |  | Unclassifiable/Attainment.
Wright County |  | Unclassifiable/Attainment |  | Unclassifiable/Attainment.
ᵃ Includes Indian Country located in each county or area, except as otherwise specified.
¹ This date is 90 days after January 5, 2005, unless otherwise noted.
² This date is 30 days after November 13, 2009, unless otherwise noted.

18. Section 81.317 is amended as follows:

a. By revising the table heading for “Kansas PM2.5” to read as set forth below.

b. By adding a new table entitled “Kansas PM2.5 (24-Hour NAAQS)” to the end of the section.

§ 81.317 Kansas.

* * * * *

Kansas—PM2.5 (Annual NAAQS)

* * * * *

Kansas—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Allen County |  | Unclassifiable/Attainment |  | Unclassifiable/Attainment.
Anderson County |  | Unclassifiable/Attainment |  | Unclassifiable/Attainment.
Atchison County |  | Unclassifiable/Attainment |  | Unclassifiable/Attainment.
Barber County |  | Unclassifiable/Attainment |  | Unclassifiable/Attainment.
Barton County |  | Unclassifiable/Attainment |  | Unclassifiable/Attainment.
Bourbon County |  | Unclassifiable/Attainment |  | Unclassifiable/Attainment.
Brown County |  | Unclassifiable/Attainment |  | Unclassifiable/Attainment.
Butler County |  | Unclassifiable/Attainment |  | Unclassifiable/Attainment.
Chase County |  | Unclassifiable/Attainment |  | Unclassifiable/Attainment.
Chautauqua County |  | Unclassifiable/Attainment |  | Unclassifiable/Attainment.
Cherokee County |  | Unclassifiable/Attainment |  | Unclassifiable/Attainment.
Cheyenne County |  | Unclassifiable/Attainment |  | Unclassifiable/Attainment.
Clark County |  | Unclassifiable/Attainment |  | Unclassifiable/Attainment.
Clay County |  | Unclassifiable/Attainment |  | Unclassifiable/Attainment.
Cloud County |  | Unclassifiable/Attainment |  | Unclassifiable/Attainment.
Coffey County |  | Unclassifiable/Attainment |  | Unclassifiable/Attainment.
Comanche County |  | Unclassifiable/Attainment |  | Unclassifiable/Attainment.
Cowley County |  | Unclassifiable/Attainment |  | Unclassifiable/Attainment.
Crawford County |  | Unclassifiable/Attainment |  | Unclassifiable/Attainment.
Decatur County |  | Unclassifiable/Attainment |  | Unclassifiable/Attainment.
Dickinson County |  | Unclassifiable/Attainment |  | Unclassifiable/Attainment.
Doniphan County |  | Unclassifiable/Attainment |  | Unclassifiable/Attainment.
Douglas County |  | Unclassifiable/Attainment |  | Unclassifiable/Attainment.
Edwards County |  | Unclassifiable/Attainment |  | Unclassifiable/Attainment.
Elk County |  | Unclassifiable/Attainment |  | Unclassifiable/Attainment.
Ellis County |  | Unclassifiable/Attainment |  | Unclassifiable/Attainment.
Ellsworth County |  | Unclassifiable/Attainment |  | Unclassifiable/Attainment.
Finney County |  | Unclassifiable/Attainment |  | Unclassifiable/Attainment.
Ford County |  | Unclassifiable/Attainment |  | Unclassifiable/Attainment.
Franklin County |  | Unclassifiable/Attainment |  | Unclassifiable/Attainment.
Geary County |  | Unclassifiable/Attainment |  | Unclassifiable/Attainment.
Gove County |  | Unclassifiable/Attainment |  | Unclassifiable/Attainment.
Graham County |  | Unclassifiable/Attainment |  | Unclassifiable/Attainment.
Grant County |  | Unclassifiable/Attainment |  | Unclassifiable/Attainment.
Gray County |  | Unclassifiable/Attainment |  | Unclassifiable/Attainment.
Greeley County |  | Unclassifiable/Attainment |  | Unclassifiable/Attainment.
Greenwood County |  | Unclassifiable/Attainment |  | Unclassifiable/Attainment.
Hamilton County |  | Unclassifiable/Attainment |  | Unclassifiable/Attainment.
Harper County |  | Unclassifiable/Attainment |  | Unclassifiable/Attainment.
Harvey County |  | Unclassifiable/Attainment |  | Unclassifiable/Attainment.
Haskell County |  | Unclassifiable/Attainment |  | Unclassifiable/Attainment.
Hodgeman County |  | Unclassifiable/Attainment |  | Unclassifiable/Attainment.
Jackson County |  | Unclassifiable/Attainment |  | Unclassifiable/Attainment.
Jefferson County |  | Unclassifiable/Attainment |  | Unclassifiable/Attainment.
Jewell County |  | Unclassifiable/Attainment |  | Unclassifiable/Attainment.
Johnson County |  | Unclassifiable/Attainment |  | Unclassifiable/Attainment.
Kearny County |  | Unclassifiable/Attainment |  | Unclassifiable/Attainment.
Kingman County |  | Unclassifiable/Attainment |  | Unclassifiable/Attainment.
Kiowa County |  | Unclassifiable/Attainment |  | Unclassifiable/Attainment.
Labette County |  | Unclassifiable/Attainment |  | Unclassifiable/Attainment.
Lane County |  | Unclassifiable/Attainment |  | Unclassifiable/Attainment.
Leavenworth County |  | Unclassifiable/Attainment |  | Unclassifiable/Attainment.
Lincoln County |  | Unclassifiable/Attainment |  | Unclassifiable/Attainment.
Linn County |  | Unclassifiable/Attainment |  | Unclassifiable/Attainment.
Logan County |  | Unclassifiable/Attainment |  | Unclassifiable/Attainment.
Lyon County |  | Unclassifiable/Attainment |  | Unclassifiable/Attainment.
McPherson County |  | Unclassifiable/Attainment |  | Unclassifiable/Attainment.
Marion County |  | Unclassifiable/Attainment |  | Unclassifiable/Attainment.
Marshall County |  | Unclassifiable/Attainment |  | Unclassifiable/Attainment.
Meade County |  | Unclassifiable/Attainment |  | Unclassifiable/Attainment.
Miami County |  | Unclassifiable/Attainment |  | Unclassifiable/Attainment.
Mitchell County |  | Unclassifiable/Attainment |  | Unclassifiable/Attainment.
Montgomery County |  | Unclassifiable/Attainment |  | Unclassifiable/Attainment.
Morris County |  | Unclassifiable/Attainment |  | Unclassifiable/Attainment.
Morton County |  | Unclassifiable/Attainment |  | Unclassifiable/Attainment.
Nemaha County |  | Unclassifiable/Attainment |  | Unclassifiable/Attainment.
Neosho County |  | Unclassifiable/Attainment |  | Unclassifiable/Attainment.
Ness County |  | Unclassifiable/Attainment |  | Unclassifiable/Attainment.
Norton County |  | Unclassifiable/Attainment |  | Unclassifiable/Attainment.
Osage County |  | Unclassifiable/Attainment |  | Unclassifiable/Attainment.
Osborne County |  | Unclassifiable/Attainment |  | Unclassifiable/Attainment.
Ottawa County |  | Unclassifiable/Attainment |  | Unclassifiable/Attainment.
Pawnee County |  | Unclassifiable/Attainment |  | Unclassifiable/Attainment.
Phillips County |  | Unclassifiable/Attainment |  | Unclassifiable/Attainment.
Pottawatomie County |  | Unclassifiable/Attainment |  | Unclassifiable/Attainment.
Pratt County |  | Unclassifiable/Attainment |  | Unclassifiable/Attainment.
Rawlins County |  | Unclassifiable/Attainment |  | Unclassifiable/Attainment.
Reno County |  | Unclassifiable/Attainment |  | Unclassifiable/Attainment.
Republic County |  | Unclassifiable/Attainment |  | Unclassifiable/Attainment.
Rice County |  | Unclassifiable/Attainment |  | Unclassifiable/Attainment.
Riley County |  | Unclassifiable/Attainment |  | Unclassifiable/Attainment.
Rooks County |  | Unclassifiable/Attainment |  | Unclassifiable/Attainment.
Rush County |  | Unclassifiable/Attainment |  | Unclassifiable/Attainment.
Russell County |  | Unclassifiable/Attainment |  | Unclassifiable/Attainment.
Saline County |  | Unclassifiable/Attainment |  | Unclassifiable/Attainment.
Scott County |  | Unclassifiable/Attainment |  | Unclassifiable/Attainment.
Sedgwick County |  | Unclassifiable/Attainment |  | Unclassifiable/Attainment.
Seward County |  | Unclassifiable/Attainment |  | Unclassifiable/Attainment.
Shawnee County |  | Unclassifiable/Attainment |  | Unclassifiable/Attainment.
Sheridan County |  | Unclassifiable/Attainment |  | Unclassifiable/Attainment.
Sherman County |  | Unclassifiable/Attainment |  | Unclassifiable/Attainment.
Smith County |  | Unclassifiable/Attainment |  | Unclassifiable/Attainment.
Stafford County |  | Unclassifiable/Attainment |  | Unclassifiable/Attainment.
Stanton County |  | Unclassifiable/Attainment |  | Unclassifiable/Attainment.
Stevens County |  | Unclassifiable/Attainment |  | Unclassifiable/Attainment.
Sumner County |  | Unclassifiable/Attainment |  | Unclassifiable/Attainment.
Thomas County |  | Unclassifiable/Attainment |  | Unclassifiable/Attainment.
Trego County |  | Unclassifiable/Attainment |  | Unclassifiable/Attainment.
Wabaunsee County |  | Unclassifiable/Attainment |  | Unclassifiable/Attainment.
Wallace County |  | Unclassifiable/Attainment |  | Unclassifiable/Attainment.
Washington County |  | Unclassifiable/Attainment |  | Unclassifiable/Attainment.
Wichita County |  | Unclassifiable/Attainment |  | Unclassifiable/Attainment.
Wilson County |  | Unclassifiable/Attainment |  | Unclassifiable/Attainment.
Woodson County |  | Unclassifiable/Attainment |  | Unclassifiable/Attainment.
Wyandotte County |  | Unclassifiable/Attainment |  | Unclassifiable/Attainment.
ᵃ Includes Indian Country located in each county or area, except as otherwise specified.
¹ This date is 90 days after January 5, 2005, unless otherwise noted.
² This date is 30 days after November 13, 2009, unless otherwise noted.

19. Section 81.318 is amended as follows:

a. By revising the table heading for “Kentucky—PM2.5” to read as set forth below.

b. By adding a new table entitled “Kentucky—PM2.5 (24-Hour NAAQS)” to the end of the section.

§ 81.318 Kentucky.

* * * * *

Kentucky—PM2.5 (Annual NAAQS)

* * * * *

Kentucky—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Adair County |  | Unclassifiable/Attainment |  | Unclassifiable/Attainment.
Allen County |  | Unclassifiable/Attainment |  | Unclassifiable/Attainment.
Anderson County |  | Unclassifiable/Attainment |  | Unclassifiable/Attainment.
Ballard County |  | Unclassifiable/Attainment |  | Unclassifiable/Attainment.
Barren County |  | Unclassifiable/Attainment |  | Unclassifiable/Attainment.
Bath County |  | Unclassifiable/Attainment |  | Unclassifiable/Attainment.
Bell County |  | Unclassifiable/Attainment |  | Unclassifiable/Attainment.
Boone County |  | Unclassifiable/Attainment |  | Unclassifiable/Attainment.
Bourbon County |  | Unclassifiable/Attainment |  | Unclassifiable/Attainment.
Boyd County |  | Unclassifiable/Attainment |  | Unclassifiable/Attainment.
Boyle County |  | Unclassifiable/Attainment |  | Unclassifiable/Attainment.
Bracken County |  | Unclassifiable/Attainment |  | Unclassifiable/Attainment.
Breathitt County |  | Unclassifiable/Attainment |  | Unclassifiable/Attainment.
Breckinridge County |  | Unclassifiable/Attainment |  | Unclassifiable/Attainment.
Bullitt County |  | Unclassifiable/Attainment |  | Unclassifiable/Attainment.
Butler County |  | Unclassifiable/Attainment |  | Unclassifiable/Attainment.
Caldwell County |  | Unclassifiable/Attainment |  | Unclassifiable/Attainment.
Calloway County |  | Unclassifiable/Attainment |  | Unclassifiable/Attainment.
Campbell County |  | Unclassifiable/Attainment |  | Unclassifiable/Attainment.
Carlisle County |  | Unclassifiable/Attainment |  | Unclassifiable/Attainment.
Carroll County |  | Unclassifiable/Attainment |  | Unclassifiable/Attainment.
Carter County |  | Unclassifiable/Attainment |  | Unclassifiable/Attainment.
Casey County |  | Unclassifiable/Attainment |  | Unclassifiable/Attainment.
Christian County |  | Unclassifiable/Attainment |  | Unclassifiable/Attainment.
Clark County |  | Unclassifiable/Attainment |  | Unclassifiable/Attainment.
Clay County |  | Unclassifiable/Attainment |  | Unclassifiable/Attainment.
Clinton County |  | Unclassifiable/Attainment |  | Unclassifiable/Attainment.
Crittenden County |  | Unclassifiable/Attainment |  | Unclassifiable/Attainment.
Cumberland County |  | Unclassifiable/Attainment |  | Unclassifiable/Attainment.
Daviess County |  | Unclassifiable/Attainment |  | Unclassifiable/Attainment.
Edmonson County |  | Unclassifiable/Attainment |  | Unclassifiable/Attainment.
Elliott County |  | Unclassifiable/Attainment |  | Unclassifiable/Attainment.
Estill County |  | Unclassifiable/Attainment |  | Unclassifiable/Attainment.
Fayette County |  | Unclassifiable/Attainment |  | Unclassifiable/Attainment.
Fleming County |  | Unclassifiable/Attainment |  | Unclassifiable/Attainment.
Floyd County |  | Unclassifiable/Attainment |  | Unclassifiable/Attainment.
Franklin County |  | Unclassifiable/Attainment |  | Unclassifiable/Attainment.
Fulton County |  | Unclassifiable/Attainment |  | Unclassifiable/Attainment.
Gallatin County |  | Unclassifiable/Attainment |  | Unclassifiable/Attainment.
Garrard County |  | Unclassifiable/Attainment |  | Unclassifiable/Attainment.
Grant County |  | Unclassifiable/Attainment |  | Unclassifiable/Attainment.
Graves County |  | Unclassifiable/Attainment |  | Unclassifiable/Attainment.
Grayson County |  | Unclassifiable/Attainment |  | Unclassifiable/Attainment.
Green County |  | Unclassifiable/Attainment |  | Unclassifiable/Attainment.
Greenup County |  | Unclassifiable/Attainment |  | Unclassifiable/Attainment.
Hancock County |  | Unclassifiable/Attainment |  | Unclassifiable/Attainment.
Hardin County |  | Unclassifiable/Attainment |  | Unclassifiable/Attainment.
Harlan County |  | Unclassifiable/Attainment |  | Unclassifiable/Attainment.
Harrison County |  | Unclassifiable/Attainment |  | Unclassifiable/Attainment.
Hart County |  | Unclassifiable/Attainment |  | Unclassifiable/Attainment.
Henderson County |  | Unclassifiable/Attainment |  | Unclassifiable/Attainment.
Henry County |  | Unclassifiable/Attainment |  | Unclassifiable/Attainment.
Hickman County |  | Unclassifiable/Attainment |  | Unclassifiable/Attainment.
Hopkins County |  | Unclassifiable/Attainment |  | Unclassifiable/Attainment.
Jackson County |  | Unclassifiable/Attainment |  | Unclassifiable/Attainment.
Jefferson County |  | Unclassifiable/Attainment |  | Unclassifiable/Attainment.
Jessamine County |  | Unclassifiable/Attainment |  | Unclassifiable/Attainment.
Johnson County |  | Unclassifiable/Attainment |  | Unclassifiable/Attainment.
Kenton County |  | Unclassifiable/Attainment |  | Unclassifiable/Attainment.
Knott County |  | Unclassifiable/Attainment |  | Unclassifiable/Attainment.
Knox County |  | Unclassifiable/Attainment |  | Unclassifiable/Attainment.
Larue County |  | Unclassifiable/Attainment |  | Unclassifiable/Attainment.
Laurel County |  | Unclassifiable/Attainment |  | Unclassifiable/Attainment.
Lawrence County |  | Unclassifiable/Attainment |  | Unclassifiable/Attainment.
Lee County |  | Unclassifiable/Attainment |  | Unclassifiable/Attainment.
Leslie County |  | Unclassifiable/Attainment |  | Unclassifiable/Attainment.
Letcher County |  | Unclassifiable/Attainment |  | Unclassifiable/Attainment.
Lewis County |  | Unclassifiable/Attainment |  | Unclassifiable/Attainment.
Lincoln County |  | Unclassifiable/Attainment |  | Unclassifiable/Attainment.
Livingston County |  | Unclassifiable/Attainment |  | Unclassifiable/Attainment.
Logan County |  | Unclassifiable/Attainment |  | Unclassifiable/Attainment.
Lyon County |  | Unclassifiable/Attainment |  | Unclassifiable/Attainment.
McCracken County |  | Unclassifiable/Attainment |  | Unclassifiable/Attainment.
McCreary County |  | Unclassifiable/Attainment |  | Unclassifiable/Attainment.
McLean County |  | Unclassifiable/Attainment |  | Unclassifiable/Attainment.
Madison County |  | Unclassifiable/Attainment |  | Unclassifiable/Attainment.
Magoffin County |  | Unclassifiable/Attainment |  | Unclassifiable/Attainment.
Marion County |  | Unclassifiable/Attainment |  | Unclassifiable/Attainment.
Marshall County |  | Unclassifiable/Attainment |  | Unclassifiable/Attainment.
Martin County |  | Unclassifiable/Attainment |  | Unclassifiable/Attainment.
Mason County |  | Unclassifiable/Attainment |  | Unclassifiable/Attainment.
Meade County |  | Unclassifiable/Attainment |  | Unclassifiable/Attainment.
Menifee County |  | Unclassifiable/Attainment |  | Unclassifiable/Attainment.
Mercer County |  | Unclassifiable/Attainment |  | Unclassifiable/Attainment.
Metcalfe County |  | Unclassifiable/Attainment |  | Unclassifiable/Attainment.
Monroe County |  | Unclassifiable/Attainment |  | Unclassifiable/Attainment.
Montgomery County |  | Unclassifiable/Attainment |  | Unclassifiable/Attainment.
Morgan County |  | Unclassifiable/Attainment |  | Unclassifiable/Attainment.
Muhlenberg County |  | Unclassifiable/Attainment |  | Unclassifiable/Attainment.
Nelson County |  | Unclassifiable/Attainment |  | Unclassifiable/Attainment.
Nicholas County |  | Unclassifiable/Attainment |  | Unclassifiable/Attainment.
Ohio County |  | Unclassifiable/Attainment |  | Unclassifiable/Attainment.
Oldham County |  | Unclassifiable/Attainment |  | Unclassifiable/Attainment.
Owen County |  | Unclassifiable/Attainment |  | Unclassifiable/Attainment.
Owsley County |  | Unclassifiable/Attainment |  | Unclassifiable/Attainment.
Pendleton County |  | Unclassifiable/Attainment |  | Unclassifiable/Attainment.
Perry County |  | Unclassifiable/Attainment |  | Unclassifiable/Attainment.
Pike County |  | Unclassifiable/Attainment |  | Unclassifiable/Attainment.
Powell County |  | Unclassifiable/Attainment |  | Unclassifiable/Attainment.
Pulaski County |  | Unclassifiable/Attainment |  | Unclassifiable/Attainment.
Robertson County |  | Unclassifiable/Attainment |  | Unclassifiable/Attainment.
Rockcastle County |  | Unclassifiable/Attainment |  | Unclassifiable/Attainment.
Rowan County |  | Unclassifiable/Attainment |  | Unclassifiable/Attainment.
Russell County |  | Unclassifiable/Attainment |  | Unclassifiable/Attainment.
Scott County |  | Unclassifiable/Attainment |  | Unclassifiable/Attainment.
Shelby County |  | Unclassifiable/Attainment |  | Unclassifiable/Attainment.
Simpson County |  | Unclassifiable/Attainment |  | Unclassifiable/Attainment.
Spencer County |  | Unclassifiable/Attainment |  | Unclassifiable/Attainment.
Taylor County |  | Unclassifiable/Attainment |  | Unclassifiable/Attainment.
Todd County |  | Unclassifiable/Attainment |  | Unclassifiable/Attainment.
Trigg County |  | Unclassifiable/Attainment |  | Unclassifiable/Attainment.
Trimble County |  | Unclassifiable/Attainment |  | Unclassifiable/Attainment.
Union County |  | Unclassifiable/Attainment |  | Unclassifiable/Attainment.
Warren County |  | Unclassifiable/Attainment |  | Unclassifiable/Attainment.
Washington County |  | Unclassifiable/Attainment |  | Unclassifiable/Attainment.
Wayne County |  | Unclassifiable/Attainment |  | Unclassifiable/Attainment.
Webster County |  | Unclassifiable/Attainment |  | Unclassifiable/Attainment.
Whitley County |  | Unclassifiable/Attainment |  | Unclassifiable/Attainment.
Wolfe County |  | Unclassifiable/Attainment |  | Unclassifiable/Attainment.
Woodford County |  | Unclassifiable/Attainment |  | Unclassifiable/Attainment.
ᵃ Includes Indian Country located in each county or area, except as otherwise specified.
¹ This date is 90 days after January 5, 2005, unless otherwise noted.
² This date is 30 days after November 13, 2009, unless otherwise noted.

20. Section 81.319 is amended as follows:

a. By revising the table heading for “Louisiana—PM2.5” to read as set forth below.

b. By adding a new table entitled “Louisiana—PM2.5 (24-Hour NAAQS)” to the end of the section.

§ 81.319 Louisiana.

* * * * *

Louisiana—PM2.5 (Annual NAAQS)

* * * * *

Louisiana—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
AQCR 019 Monroe-El Dorado Interstate:
Caldwell Parish |  | Unclassifiable/Attainment |  | Unclassifiable/Attainment.
Catahoula Parish |  | Unclassifiable/Attainment |  | Unclassifiable/Attainment.
Concordia Parish |  | Unclassifiable/Attainment |  | Unclassifiable/Attainment.
East Carroll Parish |  | Unclassifiable/Attainment |  | Unclassifiable/Attainment.
Franklin Parish |  | Unclassifiable/Attainment |  | Unclassifiable/Attainment.
La Salle Parish |  | Unclassifiable/Attainment |  | Unclassifiable/Attainment.
Madison Parish |  | Unclassifiable/Attainment |  | Unclassifiable/Attainment.
Morehouse Parish |  | Unclassifiable/Attainment |  | Unclassifiable/Attainment.
Ouachita Parish |  | Unclassifiable/Attainment |  | Unclassifiable/Attainment.
Richland Parish |  | Unclassifiable/Attainment |  | Unclassifiable/Attainment.
Tensas Parish |  | Unclassifiable/Attainment |  | Unclassifiable/Attainment.
Union Parish |  | Unclassifiable/Attainment |  | Unclassifiable/Attainment.
West Carroll Parish |  | Unclassifiable/Attainment |  | Unclassifiable/Attainment.
AQCR 022 Shreveport-Texarkana-Tyler Interstate:
Bienville Parish |  | Unclassifiable/Attainment |  | Unclassifiable/Attainment.
Bossier Parish |  | Unclassifiable/Attainment |  | Unclassifiable/Attainment.
Caddo Parish |  | Unclassifiable/Attainment |  | Unclassifiable/Attainment.
Claiborne Parish |  | Unclassifiable/Attainment |  | Unclassifiable/Attainment.
De Soto Parish |  | Unclassifiable/Attainment |  | Unclassifiable/Attainment.
Jackson Parish |  | Unclassifiable/Attainment |  | Unclassifiable/Attainment.
Lincoln Parish |  | Unclassifiable/Attainment |  | Unclassifiable/Attainment.
Natchitoches Parish |  | Unclassifiable/Attainment |  | Unclassifiable/Attainment.
Red River Parish |  | Unclassifiable/Attainment |  | Unclassifiable/Attainment.
Sabine Parish |  | Unclassifiable/Attainment |  | Unclassifiable/Attainment.
Webster Parish |  | Unclassifiable/Attainment |  | Unclassifiable/Attainment.
Winn Parish |  | Unclassifiable/Attainment |  | Unclassifiable/Attainment.
AQCR 106 S. Louisiana-S.E. Texas Interstate:
Acadia Parish |  | Unclassifiable/Attainment |  | Unclassifiable/Attainment.
Allen Parish |  | Unclassifiable/Attainment |  | Unclassifiable/Attainment.
Ascension Parish |  | Unclassifiable/Attainment |  | Unclassifiable/Attainment.
Assumption Parish |  | Unclassifiable/Attainment |  | Unclassifiable/Attainment.
Avoyelles Parish |  | Unclassifiable/Attainment |  | Unclassifiable/Attainment.
Beauregard Parish |  | Unclassifiable/Attainment |  | Unclassifiable/Attainment.
Calcasieu Parish |  | Unclassifiable/Attainment |  | Unclassifiable/Attainment.
Cameron Parish |  | Unclassifiable/Attainment |  | Unclassifiable/Attainment.
East Baton Rouge Parish |  | Unclassifiable/Attainment |  | Unclassifiable/Attainment.
East Feliciana Parish |  | Unclassifiable/Attainment |  | Unclassifiable/Attainment.
Evangeline Parish |  | Unclassifiable/Attainment |  | Unclassifiable/Attainment.
Grant Parish |  | Unclassifiable/Attainment |  | Unclassifiable/Attainment.
Iberia Parish |  | Unclassifiable/Attainment |  | Unclassifiable/Attainment.
Iberville Parish |  | Unclassifiable/Attainment |  | Unclassifiable/Attainment.
Jefferson Davis Parish |  | Unclassifiable/Attainment |  | Unclassifiable/Attainment.
Jefferson Parish |  | Unclassifiable/Attainment |  | Unclassifiable/Attainment.
Lafayette Parish |  | Unclassifiable/Attainment |  | Unclassifiable/Attainment.
Lafourche Parish |  | Unclassifiable/Attainment |  | Unclassifiable/Attainment.
Livingston Parish |  | Unclassifiable/Attainment |  | Unclassifiable/Attainment.
Orleans Parish |  | Unclassifiable/Attainment |  | Unclassifiable/Attainment.
Plaquemines Parish |  | Unclassifiable/Attainment |  | Unclassifiable/Attainment.
Pointe Coupee Parish |  | Unclassifiable/Attainment |  | Unclassifiable/Attainment.
Rapides Parish |  | Unclassifiable/Attainment |  | Unclassifiable/Attainment.
St. Bernard Parish |  | Unclassifiable/Attainment |  | Unclassifiable/Attainment.
St. Charles Parish |  | Unclassifiable/Attainment |  | Unclassifiable/Attainment.
St. Helena Parish |  | Unclassifiable/Attainment |  | Unclassifiable/Attainment.
St. James Parish |  | Unclassifiable/Attainment |  | Unclassifiable/Attainment.
St. John the Baptist Parish |  | Unclassifiable/Attainment |  | Unclassifiable/Attainment.
St. Landry Parish |  | Unclassifiable/Attainment |  | Unclassifiable/Attainment.
St. Martin Parish |  | Unclassifiable/Attainment |  | Unclassifiable/Attainment.
St. Tammany Parish |  | Unclassifiable/Attainment |  | Unclassifiable/Attainment.
Tangipahoa Parish |  | Unclassifiable/Attainment |  | Unclassifiable/Attainment.
Terrebonne Parish |  | Unclassifiable/Attainment |  | Unclassifiable/Attainment.
Vermilion Parish |  | Unclassifiable/Attainment |  | Unclassifiable/Attainment.
Vernon Parish |  | Unclassifiable/Attainment |  | Unclassifiable/Attainment.
Washington Parish |  | Unclassifiable/Attainment |  | Unclassifiable/Attainment.
West Baton Rouge Parish |  | Unclassifiable/Attainment |  | Unclassifiable/Attainment.
West Feliciana Parish |  | Unclassifiable/Attainment |  | Unclassifiable/Attainment.
ᵃ Includes Indian Country located in each county or area, except as otherwise specified.
¹ This date is 90 days after January 5, 2005, unless otherwise noted.
² This date is 30 days after November 13, 2009, unless otherwise noted.

21. Section 81.320 is amended as follows:

a. By revising the table heading for “Maine—PM2.5” to read as set forth below.

b. By adding a new table entitled “Maine—PM2.5 (24-Hour NAAQS)” to the end of the section.

§ 81.320 Maine.

* * * * *

Maine—PM2.5 (Annual NAAQS)

* * * * *

Maine—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Androscoggin County |  | Unclassifiable/Attainment |  | Unclassifiable/Attainment.
Aroostook County |  | Unclassifiable/Attainment |  | Unclassifiable/Attainment.
Cumberland County |  | Unclassifiable/Attainment |  | Unclassifiable/Attainment.
Franklin County |  | Unclassifiable/Attainment |  | Unclassifiable/Attainment.
Hancock County |  | Unclassifiable/Attainment |  | Unclassifiable/Attainment.
Kennebec County |  | Unclassifiable/Attainment |  | Unclassifiable/Attainment.
Knox County |  | Unclassifiable/Attainment |  | Unclassifiable/Attainment.
Lincoln County |  | Unclassifiable/Attainment |  | Unclassifiable/Attainment.
Oxford County |  | Unclassifiable/Attainment |  | Unclassifiable/Attainment.
Penobscot County |  | Unclassifiable/Attainment |  | Unclassifiable/Attainment.
Piscataquis County |  | Unclassifiable/Attainment |  | Unclassifiable/Attainment.
Sagadahoc County |  | Unclassifiable/Attainment |  | Unclassifiable/Attainment.
Somerset County |  | Unclassifiable/Attainment |  | Unclassifiable/Attainment.
Waldo County |  | Unclassifiable/Attainment |  | Unclassifiable/Attainment.
Washington County |  | Unclassifiable/Attainment |  | Unclassifiable/Attainment.
York County |  | Unclassifiable/Attainment |  | Unclassifiable/Attainment.
ᵃ Includes Indian Country located in each county or area, except as otherwise specified.
¹ This date is 90 days after January 5, 2005, unless otherwise noted.
² This date is 30 days after November 13, 2009, unless otherwise noted.

22. Section 81.321 is amended as follows:

a. By revising the table heading for “Maryland—PM2.5” to read as set forth below.

b. By adding a new table entitled “Maryland—PM2.5 (24-Hour NAAQS)” to the end of the section.

§ 81.321 Maryland.

* * * * *

Maryland—PM2.5 (Annual NAAQS)

* * * * *

Maryland—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
AQCR 047 National Capital Interstate (DC-MD-VA) (part):
Montgomery County |  | Unclassifiable/Attainment |  | Unclassifiable/Attainment.
Prince George's County |  | Unclassifiable/Attainment |  | Unclassifiable/Attainment.
Metropolitan Baltimore Intrastate AQCR:
Anne Arundel County |  | Unclassifiable/Attainment |  | Unclassifiable/Attainment.
Baltimore County |  | Unclassifiable/Attainment |  | Unclassifiable/Attainment.
City of Baltimore |  | Unclassifiable/Attainment |  | Unclassifiable/Attainment.
Carroll County |  | Unclassifiable/Attainment |  | Unclassifiable/Attainment.
Harford County |  | Unclassifiable/Attainment |  | Unclassifiable/Attainment.
Howard County |  | Unclassifiable/Attainment |  | Unclassifiable/Attainment.
AQCR 112 Central Maryland Intrastate:
Frederick County |  | Unclassifiable/Attainment |  | Unclassifiable/Attainment.
AQCR 113 Cumberland-Keyser Interstate:
Allegany County |  | Unclassifiable/Attainment |  | Unclassifiable/Attainment.
Garrett County |  | Unclassifiable/Attainment |  | Unclassifiable/Attainment.
Washington County |  | Unclassifiable/Attainment |  | Unclassifiable/Attainment.
AQCR 114 Eastern Shore Intrastate:
Caroline County |  | Unclassifiable/Attainment |  | Unclassifiable/Attainment.
Cecil County |  | Unclassifiable/Attainment |  | Unclassifiable/Attainment.
Dorchester County |  | Unclassifiable/Attainment |  | Unclassifiable/Attainment.
Kent County |  | Unclassifiable/Attainment |  | Unclassifiable/Attainment.
Queen Anne's County |  | Unclassifiable/Attainment |  | Unclassifiable/Attainment.
Somerset County |  | Unclassifiable/Attainment |  | Unclassifiable/Attainment.
Talbot County |  | Unclassifiable/Attainment |  | Unclassifiable/Attainment.
Wicomico County |  | Unclassifiable/Attainment |  | Unclassifiable/Attainment.
Worcester County |  | Unclassifiable/Attainment |  | Unclassifiable/Attainment.
AQCR 116 Southern Maryland Intrastate:
Calvert County |  | Unclassifiable/Attainment |  | Unclassifiable/Attainment.
Charles County |  | Unclassifiable/Attainment |  | Unclassifiable/Attainment.
St. Mary's County |  | Unclassifiable/Attainment |  | Unclassifiable/Attainment.
ᵃ Includes Indian Country located in each county or area, except as otherwise specified.
¹ This date is 90 days after January 5, 2005, unless otherwise noted.
² This date is 30 days after November 13, 2009, unless otherwise noted.

23. Section 81.322 is amended as follows:

a. By revising the table heading for “Massachusetts—PM2.5” to read as set forth below.

b. By adding a new table entitled “Massachusetts—PM2.5 (24-Hour NAAQS)” to the end of the section.

§ 81.322 Massachusetts.

* * * * *

Massachusetts—PM2.5 (24-Hour NAAQS)

Massachusetts—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Barnstable County |  | Unclassifiable/Attainment |  | Unclassifiable/Attainment.
Berkshire County |  | Unclassifiable/Attainment |  | Unclassifiable/Attainment.
Bristol County |  | Unclassifiable/Attainment |  | Unclassifiable/Attainment.
Dukes County |  | Unclassifiable/Attainment |  | Unclassifiable/Attainment.
Essex County |  | Unclassifiable/Attainment |  | Unclassifiable/Attainment.
Franklin County |  | Unclassifiable/Attainment |  | Unclassifiable/Attainment.
Hampden County |  | Unclassifiable/Attainment |  | Unclassifiable/Attainment.
Hampshire County |  | Unclassifiable/Attainment |  | Unclassifiable/Attainment.
Middlesex County |  | Unclassifiable/Attainment |  | Unclassifiable/Attainment.
Nantucket County |  | Unclassifiable/Attainment |  | Unclassifiable/Attainment.
Norfolk County |  | Unclassifiable/Attainment |  | Unclassifiable/Attainment.
Plymouth County |  | Unclassifiable/Attainment |  | Unclassifiable/Attainment.
Suffolk County |  | Unclassifiable/Attainment |  | Unclassifiable/Attainment.
Worcester County |  | Unclassifiable/Attainment |  | Unclassifiable/Attainment.
ᵃ Includes Indian Country located in each county or area, except as otherwise specified.
¹ This date is 90 days after January 5, 2005, unless otherwise noted.
² This date is 30 days after November 13, 2009, unless otherwise noted.

24. Section 81.323 is amended as follows:

a. By revising the table heading for “Michigan—PM2.5” to read as set forth below.

b. By adding a new table entitled “Michigan—PM2.5 (24-Hour NAAQS)” to the end of the section.

§ 81.323 Michigan.

* * * * *

Michigan—PM2.5 (Annual NAAQS)

* * * * *

Michigan—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Detroit-Ann Arbor, MI:
Livingston County |  | Unclassifiable/Attainment |  | Nonattainment.
Macomb County |  | Unclassifiable/Attainment |  | Nonattainment.
Monroe County |  | Unclassifiable/Attainment |  | Nonattainment.
Oakland County |  | Unclassifiable/Attainment |  | Nonattainment.
St. Clair County |  | Unclassifiable/Attainment |  | Nonattainment.
Washtenaw County |  | Unclassifiable/Attainment |  | Nonattainment.
Wayne County |  | Unclassifiable/Attainment |  | Nonattainment.
Rest of State:
Alcona County |  | Unclassifiable/Attainment |  | Unclassifiable/Attainment.
Alger County |  | Unclassifiable/Attainment |  | Unclassifiable/Attainment.
Allegan County |  | Unclassifiable/Attainment |  | Unclassifiable/Attainment.
Alpena County |  | Unclassifiable/Attainment |  | Unclassifiable/Attainment.
Antrim County |  | Unclassifiable/Attainment |  | Unclassifiable/Attainment.
Arenac County |  | Unclassifiable/Attainment |  | Unclassifiable/Attainment.
Baraga County |  | Unclassifiable/Attainment |  | Unclassifiable/Attainment.
Barry County |  | Unclassifiable/Attainment |  | Unclassifiable/Attainment.
Bay County |  | Unclassifiable/Attainment |  | Unclassifiable/Attainment.
Benzie County |  | Unclassifiable/Attainment |  | Unclassifiable/Attainment.
Berrien County |  | Unclassifiable/Attainment |  | Unclassifiable/Attainment.
Branch County |  | Unclassifiable/Attainment |  | Unclassifiable/Attainment.
Calhoun County |  | Unclassifiable/Attainment |  | Unclassifiable/Attainment.
Cass County |  | Unclassifiable/Attainment |  | Unclassifiable/Attainment.
Charlevoix County |  | Unclassifiable/Attainment |  | Unclassifiable/Attainment.
Cheboygan County |  | Unclassifiable/Attainment |  | Unclassifiable/Attainment.
Chippewa County |  | Unclassifiable/Attainment |  | Unclassifiable/Attainment.
Clare County |  | Unclassifiable/Attainment |  | Unclassifiable/Attainment.
Clinton County |  | Unclassifiable/Attainment |  | Unclassifiable/Attainment.
Crawford County |  | Unclassifiable/Attainment |  | Unclassifiable/Attainment.
Delta County |  | Unclassifiable/Attainment |  | Unclassifiable/Attainment.
Dickinson County |  | Unclassifiable/Attainment |  | Unclassifiable/Attainment.
Eaton County |  | Unclassifiable/Attainment |  | Unclassifiable/Attainment.
Emmet County |  | Unclassifiable/Attainment |  | Unclassifiable/Attainment.
Genesee County |  | Unclassifiable/Attainment |  | Unclassifiable/Attainment.
Gladwin County |  | Unclassifiable/Attainment |  | Unclassifiable/Attainment.
Gogebic County |  | Unclassifiable/Attainment |  | Unclassifiable/Attainment.
Grand Traverse County |  | Unclassifiable/Attainment |  | Unclassifiable/Attainment.
Gratiot County |  | Unclassifiable/Attainment |  | Unclassifiable/Attainment.
Hillsdale County |  | Unclassifiable/Attainment |  | Unclassifiable/Attainment.
Houghton County |  | Unclassifiable/Attainment |  | Unclassifiable/Attainment.
Huron County |  | Unclassifiable/Attainment |  | Unclassifiable/Attainment.
Ingham County |  | Unclassifiable/Attainment |  | Unclassifiable/Attainment.
Ionia County |  | Unclassifiable/Attainment |  | Unclassifiable/Attainment.
Iosco County |  | Unclassifiable/Attainment |  | Unclassifiable/Attainment.
Iron County |  | Unclassifiable/Attainment |  | Unclassifiable/Attainment.
Isabella County |  | Unclassifiable/Attainment |  | Unclassifiable/Attainment.
Jackson County |  | Unclassifiable/Attainment |  | Unclassifiable/Attainment.
Kalamazoo County |  | Unclassifiable/Attainment |  | Unclassifiable/Attainment.
Kalkaska County |  | Unclassifiable/Attainment |  | Unclassifiable/Attainment.
Kent County |  | Unclassifiable/Attainment |  | Unclassifiable/Attainment.
Keweenaw County |  | Unclassifiable/Attainment |  | Unclassifiable/Attainment.
Lake County |  | Unclassifiable/Attainment |  | Unclassifiable/Attainment.
Lapeer County |  | Unclassifiable/Attainment |  | Unclassifiable/Attainment.
Leelanau County |  | Unclassifiable/Attainment |  | Unclassifiable/Attainment.
Lenawee County |  | Unclassifiable/Attainment |  | Unclassifiable/Attainment.
Luce County |  | Unclassifiable/Attainment |  | Unclassifiable/Attainment.
Mackinac County |  | Unclassifiable/Attainment |  | Unclassifiable/Attainment.
Manistee County |  | Unclassifiable/Attainment |  | Unclassifiable/Attainment.
Marquette County |  | Unclassifiable/Attainment |  | Unclassifiable/Attainment.
Mason County |  | Unclassifiable/Attainment |  | Unclassifiable/Attainment.
Mecosta County |  | Unclassifiable/Attainment |  | Unclassifiable/Attainment.
Menominee County |  | Unclassifiable/Attainment |  | Unclassifiable/Attainment.
Midland County |  | Unclassifiable/Attainment |  | Unclassifiable/Attainment.
Missaukee County |  | Unclassifiable/Attainment |  | Unclassifiable/Attainment.
Montcalm County |  | Unclassifiable/Attainment |  | Unclassifiable/Attainment.
Montmorency County |  | Unclassifiable/Attainment |  | Unclassifiable/Attainment.
Muskegon County |  | Unclassifiable/Attainment |  | Unclassifiable/Attainment.
Newaygo County |  | Unclassifiable/Attainment |  | Unclassifiable/Attainment.
Oceana County |  | Unclassifiable/Attainment |  | Unclassifiable/Attainment.
Ogemaw County |  | Unclassifiable/Attainment |  | Unclassifiable/Attainment.
Ontonagon County |  | Unclassifiable/Attainment |  | Unclassifiable/Attainment.
Osceola County |  | Unclassifiable/Attainment |  | Unclassifiable/Attainment.
Oscoda County |  | Unclassifiable/Attainment |  | Unclassifiable/Attainment.
Otsego County |  | Unclassifiable/Attainment |  | Unclassifiable/Attainment.
Ottawa County |  | Unclassifiable/Attainment |  | Unclassifiable/Attainment.
Presque Isle County |  | Unclassifiable/Attainment |  | Unclassifiable/Attainment.
Roscommon County |  | Unclassifiable/Attainment |  | Unclassifiable/Attainment.
Saginaw County |  | Unclassifiable/Attainment |  | Unclassifiable/Attainment.
St. Joseph County |  | Unclassifiable/Attainment |  | Unclassifiable/Attainment.
Sanilac County |  | Unclassifiable/Attainment |  | Unclassifiable/Attainment.
Schoolcraft County |  | Unclassifiable/Attainment |  | Unclassifiable/Attainment.
Shiawassee County |  | Unclassifiable/Attainment |  | Unclassifiable/Attainment.
Tuscola County |  | Unclassifiable/Attainment |  | Unclassifiable/Attainment.
Van Buren County |  | Unclassifiable/Attainment |  | Unclassifiable/Attainment.
Wexford County |  | Unclassifiable/Attainment |  | Unclassifiable/Attainment.
ᵃ Includes Indian Country located in each county or area, except as otherwise specified.
¹ This date is 90 days after January 5, 2005, unless otherwise noted.
² This date is 30 days after November 13, 2009, unless otherwise noted.

25. Section 81.324 is amended as follows:

a. By revising the table heading for “Minnesota—PM2.5” to read as set forth below.

b. By adding a new table entitled “Minnesota—PM2.5 (24-Hour NAAQS)” to the end of the section.

§ 81.324 Minnesota.

* * * * *

Minnesota—PM2.5 (Annual NAAQS)

* * * * *

Minnesota—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Aitkin County |  | Unclassifiable/Attainment |  | Unclassifiable/Attainment.
Anoka County |  | Unclassifiable/Attainment |  | Unclassifiable/Attainment.
Becker County |  | Unclassifiable/Attainment |  | Unclassifiable/Attainment.
Beltrami County |  | Unclassifiable/Attainment |  | Unclassifiable/Attainment.
Benton County |  | Unclassifiable/Attainment |  | Unclassifiable/Attainment.
Big Stone County |  | Unclassifiable/Attainment |  | Unclassifiable/Attainment.
Blue Earth County |  | Unclassifiable/Attainment |  | Unclassifiable/Attainment.
Brown County |  | Unclassifiable/Attainment |  | Unclassifiable/Attainment.
Carlton County |  | Unclassifiable/Attainment |  | Unclassifiable/Attainment.
Carver County |  | Unclassifiable/Attainment |  | Unclassifiable/Attainment.
Cass County |  | Unclassifiable/Attainment |  | Unclassifiable/Attainment.
Chippewa County |  | Unclassifiable/Attainment |  | Unclassifiable/Attainment.
Chisago County |  | Unclassifiable/Attainment |  | Unclassifiable/Attainment.
Clay County |  | Unclassifiable/Attainment |  | Unclassifiable/Attainment.
Clearwater County |  | Unclassifiable/Attainment |  | Unclassifiable/Attainment.
Cook County |  | Unclassifiable/Attainment |  | Unclassifiable/Attainment.
Cottonwood County |  | Unclassifiable/Attainment |  | Unclassifiable/Attainment.
Crow Wing County |  | Unclassifiable/Attainment |  | Unclassifiable/Attainment.
Dakota County |  | Unclassifiable/Attainment |  | Unclassifiable/Attainment.
Dodge County |  | Unclassifiable/Attainment |  | Unclassifiable/Attainment.
Douglas County |  | Unclassifiable/Attainment |  | Unclassifiable/Attainment.
Faribault County |  | Unclassifiable/Attainment |  | Unclassifiable/Attainment.
Fillmore County |  | Unclassifiable/Attainment |  | Unclassifiable/Attainment.
Freeborn County |  | Unclassifiable/Attainment |  | Unclassifiable/Attainment.
Goodhue County |  | Unclassifiable/Attainment |  | Unclassifiable/Attainment.
Grant County |  | Unclassifiable/Attainment |  | Unclassifiable/Attainment.
Hennepin County |  | Unclassifiable/Attainment |  | Unclassifiable/Attainment.
Houston County |  | Unclassifiable/Attainment |  | Unclassifiable/Attainment.
Hubbard County |  | Unclassifiable/Attainment |  | Unclassifiable/Attainment.
Isanti County |  | Unclassifiable/Attainment |  | Unclassifiable/Attainment.
Itasca County |  | Unclassifiable/Attainment |  | Unclassifiable/Attainment.
Jackson County |  | Unclassifiable/Attainment |  | Unclassifiable/Attainment.
Kanabec County |  | Unclassifiable/Attainment |  | Unclassifiable/Attainment.
Kandiyohi County |  | Unclassifiable/Attainment |  | Unclassifiable/Attainment.
Kittson County |  | Unclassifiable/Attainment |  | Unclassifiable/Attainment.
Koochiching County |  | Unclassifiable/Attainment |  | Unclassifiable/Attainment.
Lac qui Parle County |  | Unclassifiable/Attainment |  | Unclassifiable/Attainment.
Lake County |  | Unclassifiable/Attainment |  | Unclassifiable/Attainment.
Lake of the Woods County |  | Unclassifiable/Attainment |  | Unclassifiable/Attainment.
Le Sueur County |  | Unclassifiable/Attainment |  | Unclassifiable/Attainment.
Lincoln County |  | Unclassifiable/Attainment |  | Unclassifiable/Attainment.
Lyon County |  | Unclassifiable/Attainment |  | Unclassifiable/Attainment.
McLeod County |  | Unclassifiable/Attainment |  | Unclassifiable/Attainment.
Mahnomen County |  | Unclassifiable/Attainment |  | Unclassifiable/Attainment.
Marshall County |  | Unclassifiable/Attainment |  | Unclassifiable/Attainment.
Martin County |  | Unclassifiable/Attainment |  | Unclassifiable/Attainment.
Meeker County |  | Unclassifiable/Attainment |  | Unclassifiable/Attainment.
Mille Lacs County |  | Unclassifiable/Attainment |  | Unclassifiable/Attainment.
Morrison County |  | Unclassifiable/Attainment |  | Unclassifiable/Attainment.
Mower County |  | Unclassifiable/Attainment |  | Unclassifiable/Attainment.
Murray County |  | Unclassifiable/Attainment |  | Unclassifiable/Attainment.
Nicollet County |  | Unclassifiable/Attainment |  | Unclassifiable/Attainment.
Nobles County |  | Unclassifiable/Attainment |  | Unclassifiable/Attainment.
Norman County |  | Unclassifiable/Attainment |  | Unclassifiable/Attainment.
Olmsted County |  | Unclassifiable/Attainment |  | Unclassifiable/Attainment.
Otter Tail County |  | Unclassifiable/Attainment |  | Unclassifiable/Attainment.
Pennington County |  | Unclassifiable/Attainment |  | Unclassifiable/Attainment.
Pine County |  | Unclassifiable/Attainment |  | Unclassifiable/Attainment.
Pipestone County |  | Unclassifiable/Attainment |  | Unclassifiable/Attainment.
Polk County |  | Unclassifiable/Attainment |  | Unclassifiable/Attainment.
Pope County |  | Unclassifiable/Attainment |  | Unclassifiable/Attainment.
Ramsey County |  | Unclassifiable/Attainment |  | Unclassifiable/Attainment.
Red Lake County |  | Unclassifiable/Attainment |  | Unclassifiable/Attainment.
Redwood County |  | Unclassifiable/Attainment |  | Unclassifiable/Attainment.
Renville County |  | Unclassifiable/Attainment |  | Unclassifiable/Attainment.
Rice County |  | Unclassifiable/Attainment |  | Unclassifiable/Attainment.
Rock County |  | Unclassifiable/Attainment |  | Unclassifiable/Attainment.
Roseau County |  | Unclassifiable/Attainment |  | Unclassifiable/Attainment.
St. Louis County |  | Unclassifiable/Attainment |  | Unclassifiable/Attainment.
Scott County |  | Unclassifiable/Attainment |  | Unclassifiable/Attainment.
Sherburne County |  | Unclassifiable/Attainment |  | Unclassifiable/Attainment.
Sibley County |  | Unclassifiable/Attainment |  | Unclassifiable/Attainment.
Stearns County |  | Unclassifiable/Attainment |  | Unclassifiable/Attainment.
Steele County |  | Unclassifiable/Attainment |  | Unclassifiable/Attainment.
Stevens County |  | Unclassifiable/Attainment |  | Unclassifiable/Attainment.
Swift County |  | Unclassifiable/Attainment |  | Unclassifiable/Attainment.
Todd County |  | Unclassifiable/Attainment |  | Unclassifiable/Attainment.
Traverse County |  | Unclassifiable/Attainment |  | Unclassifiable/Attainment.
Wabasha County |  | Unclassifiable/Attainment |  | Unclassifiable/Attainment.
Wadena County |  | Unclassifiable/Attainment |  | Unclassifiable/Attainment.
Waseca County |  | Unclassifiable/Attainment |  | Unclassifiable/Attainment.
Washington County |  | Unclassifiable/Attainment |  | Unclassifiable/Attainment.
Watonwan County |  | Unclassifiable/Attainment |  | Unclassifiable/Attainment.
Wilkin County |  | Unclassifiable/Attainment |  | Unclassifiable/Attainment.
Winona County |  | Unclassifiable/Attainment |  | Unclassifiable/Attainment.
Wright County |  | Unclassifiable/Attainment |  | Unclassifiable/Attainment.
Yellow Medicine County |  | Unclassifiable/Attainment |  | Unclassifiable/Attainment.
ᵃ Includes Indian Country located in each county or area, except as otherwise specified.
¹ This date is 90 days after January 5, 2005, unless otherwise noted.
² This date is 30 days after November 13, 2009, unless otherwise noted.

26. Section 81.325 is amended as follows:

a. By revising the table heading for “Mississippi—PM2.5” to read as set forth below.

b. By adding a new table entitled “Mississippi—PM2.5 (24-Hour NAAQS)” to the end of the section.

§ 81.325 Mississippi.

* * * * *

Mississippi—PM2.5 (Annual NAAQS)

* * * * *

Mississippi—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Adams County |  | Unclassifiable/Attainment |  | Unclassifiable/Attainment.
Alcorn County |  | Unclassifiable/Attainment |  | Unclassifiable/Attainment.
Amite County |  | Unclassifiable/Attainment |  | Unclassifiable/Attainment.
Attala County |  | Unclassifiable/Attainment |  | Unclassifiable/Attainment.
Benton County |  | Unclassifiable/Attainment |  | Unclassifiable/Attainment.
Bolivar County |  | Unclassifiable/Attainment |  | Unclassifiable/Attainment.
Calhoun County |  | Unclassifiable/Attainment |  | Unclassifiable/Attainment.
Carroll County |  | Unclassifiable/Attainment |  | Unclassifiable/Attainment.
Chickasaw County |  | Unclassifiable/Attainment |  | Unclassifiable/Attainment.
Choctaw County |  | Unclassifiable/Attainment |  | Unclassifiable/Attainment.
Claiborne County |  | Unclassifiable/Attainment |  | Unclassifiable/Attainment.
Clarke County |  | Unclassifiable/Attainment |  | Unclassifiable/Attainment.
Clay County |  | Unclassifiable/Attainment |  | Unclassifiable/Attainment.
Coahoma County |  | Unclassifiable/Attainment |  | Unclassifiable/Attainment.
Copiah County |  | Unclassifiable/Attainment |  | Unclassifiable/Attainment.
Covington County |  | Unclassifiable/Attainment |  | Unclassifiable/Attainment.
DeSoto County |  | Unclassifiable/Attainment |  | Unclassifiable/Attainment.
Forrest County |  | Unclassifiable/Attainment |  | Unclassifiable/Attainment.
Franklin County |  | Unclassifiable/Attainment |  | Unclassifiable/Attainment.
George County |  | Unclassifiable/Attainment |  | Unclassifiable/Attainment.
Greene County |  | Unclassifiable/Attainment |  | Unclassifiable/Attainment.
Grenada County |  | Unclassifiable/Attainment |  | Unclassifiable/Attainment.
Hancock County |  | Unclassifiable/Attainment |  | Unclassifiable/Attainment.
Harrison County |  | Unclassifiable/Attainment |  | Unclassifiable/Attainment.
Hinds County |  | Unclassifiable/Attainment |  | Unclassifiable/Attainment.
Holmes County |  | Unclassifiable/Attainment |  | Unclassifiable/Attainment.
Humphreys County |  | Unclassifiable/Attainment |  | Unclassifiable/Attainment.
Issaquena County |  | Unclassifiable/Attainment |  | Unclassifiable/Attainment.
Itawamba County |  | Unclassifiable/Attainment |  | Unclassifiable/Attainment.
Jackson County |  | Unclassifiable/Attainment |  | Unclassifiable/Attainment.
Jasper County |  | Unclassifiable/Attainment |  | Unclassifiable/Attainment.
Jefferson County |  | Unclassifiable/Attainment |  | Unclassifiable/Attainment.
Jefferson Davis County |  | Unclassifiable/Attainment |  | Unclassifiable/Attainment.
Jones County |  | Unclassifiable/Attainment |  | Unclassifiable/Attainment.
Kemper County |  | Unclassifiable/Attainment |  | Unclassifiable/Attainment.
Lafayette County |  | Unclassifiable/Attainment |  | Unclassifiable/Attainment.
Lamar County |  | Unclassifiable/Attainment |  | Unclassifiable/Attainment.
Lauderdale County |  | Unclassifiable/Attainment |  | Unclassifiable/Attainment.
Lawrence County |  | Unclassifiable/Attainment |  | Unclassifiable/Attainment.
Leake County |  | Unclassifiable/Attainment |  | Unclassifiable/Attainment.
Lee County |  | Unclassifiable/Attainment |  | Unclassifiable/Attainment.
Leflore County |  | Unclassifiable/Attainment |  | Unclassifiable/Attainment.
Lincoln County |  | Unclassifiable/Attainment |  | Unclassifiable/Attainment.
Lowndes County |  | Unclassifiable/Attainment |  | Unclassifiable/Attainment.
Madison County |  | Unclassifiable/Attainment |  | Unclassifiable/Attainment.
Marion County |  | Unclassifiable/Attainment |  | Unclassifiable/Attainment.
Marshall County |  | Unclassifiable/Attainment |  | Unclassifiable/Attainment.
Monroe County |  | Unclassifiable/Attainment |  | Unclassifiable/Attainment.
Montgomery County |  | Unclassifiable/Attainment |  | Unclassifiable/Attainment.
Neshoba County |  | Unclassifiable/Attainment |  | Unclassifiable/Attainment.
Newton County |  | Unclassifiable/Attainment |  | Unclassifiable/Attainment.
Noxubee County |  | Unclassifiable/Attainment |  | Unclassifiable/Attainment.
Oktibbeha County |  | Unclassifiable/Attainment |  | Unclassifiable/Attainment.
Panola County |  | Unclassifiable/Attainment |  | Unclassifiable/Attainment.
Pearl River County |  | Unclassifiable/Attainment |  | Unclassifiable/Attainment.
Perry County |  | Unclassifiable/Attainment |  | Unclassifiable/Attainment.
Pike County |  | Unclassifiable/Attainment |  | Unclassifiable/Attainment.
Pontotoc County |  | Unclassifiable/Attainment |  | Unclassifiable/Attainment.
Prentiss County |  | Unclassifiable/Attainment |  | Unclassifiable/Attainment.
Quitman County |  | Unclassifiable/Attainment |  | Unclassifiable/Attainment.
Rankin County |  | Unclassifiable/Attainment |  | Unclassifiable/Attainment.
Scott County |  | Unclassifiable/Attainment |  | Unclassifiable/Attainment.
Sharkey County |  | Unclassifiable/Attainment |  | Unclassifiable/Attainment.
Simpson County |  | Unclassifiable/Attainment |  | Unclassifiable/Attainment.
Smith County |  | Unclassifiable/Attainment |  | Unclassifiable/Attainment.
Stone County |  | Unclassifiable/Attainment |  | Unclassifiable/Attainment.
Sunflower County |  | Unclassifiable/Attainment |  | Unclassifiable/Attainment.
Tallahatchie County |  | Unclassifiable/Attainment |  | Unclassifiable/Attainment.
Tate County |  | Unclassifiable/Attainment |  | Unclassifiable/Attainment.
Tippah County |  | Unclassifiable/Attainment |  | Unclassifiable/Attainment.
Tishomingo County |  | Unclassifiable/Attainment |  | Unclassifiable/Attainment.
Tunica County |  | Unclassifiable/Attainment |  | Unclassifiable/Attainment.
Union County |  | Unclassifiable/Attainment |  | Unclassifiable/Attainment.
Walthall County |  | Unclassifiable/Attainment |  | Unclassifiable/Attainment.
Warren County |  | Unclassifiable/Attainment |  | Unclassifiable/Attainment.
Washington County |  | Unclassifiable/Attainment |  | Unclassifiable/Attainment.
Wayne County |  | Unclassifiable/Attainment |  | Unclassifiable/Attainment.
Webster County |  | Unclassifiable/Attainment |  | Unclassifiable/Attainment.
Wilkinson County |  | Unclassifiable/Attainment |  | Unclassifiable/Attainment.
Winston County |  | Unclassifiable/Attainment |  | Unclassifiable/Attainment.
Yalobusha County |  | Unclassifiable/Attainment |  | Unclassifiable/Attainment.
Yazoo County |  | Unclassifiable/Attainment |  | Unclassifiable/Attainment.
ᵃ Includes Indian Country located in each county or area, except as otherwise specified.
¹ This date is 90 days after January 5, 2005, unless otherwise noted.
² This date is 30 days after November 13, 2009, unless otherwise noted.

27. Section 81.326 is amended as follows:

a. By revising the table heading for “Missouri—PM2.5” to read as set forth below.

b. By adding a new table entitled “Missouri—PM2.5 (24-Hour NAAQS)” to the end of the section.

§ 81.326 Missouri.

* * * * *

Missouri—PM2.5 (Annual NAAQS)

* * * * *

Missouri—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Adair County |  | Unclassifiable/Attainment |  | Unclassifiable/Attainment.
Andrew County |  | Unclassifiable/Attainment |  | Unclassifiable/Attainment.
Atchison County |  | Unclassifiable/Attainment |  | Unclassifiable/Attainment.
Audrain County |  | Unclassifiable/Attainment |  | Unclassifiable/Attainment.
Barry County |  | Unclassifiable/Attainment |  | Unclassifiable/Attainment.
Barton County |  | Unclassifiable/Attainment |  | Unclassifiable/Attainment.
Bates County |  | Unclassifiable/Attainment |  | Unclassifiable/Attainment.
Benton County |  | Unclassifiable/Attainment |  | Unclassifiable/Attainment.
Bollinger County |  | Unclassifiable/Attainment |  | Unclassifiable/Attainment.
Boone County |  | Unclassifiable/Attainment |  | Unclassifiable/Attainment.
Buchanan County |  | Unclassifiable/Attainment |  | Unclassifiable/Attainment.
Butler County |  | Unclassifiable/Attainment |  | Unclassifiable/Attainment.
Caldwell County |  | Unclassifiable/Attainment |  | Unclassifiable/Attainment.
Callaway County |  | Unclassifiable/Attainment |  | Unclassifiable/Attainment.
Camden County |  | Unclassifiable/Attainment |  | Unclassifiable/Attainment.
Cape Girardeau County |  | Unclassifiable/Attainment |  | Unclassifiable/Attainment.
Carroll County |  | Unclassifiable/Attainment |  | Unclassifiable/Attainment.
Carter County |  | Unclassifiable/Attainment |  | Unclassifiable/Attainment.
Cass County |  | Unclassifiable/Attainment |  | Unclassifiable/Attainment.
Cedar County |  | Unclassifiable/Attainment |  | Unclassifiable/Attainment.
Chariton County |  | Unclassifiable/Attainment |  | Unclassifiable/Attainment.
Christian County |  | Unclassifiable/Attainment |  | Unclassifiable/Attainment.
Clark County |  | Unclassifiable/Attainment |  | Unclassifiable/Attainment.
Clay County |  | Unclassifiable/Attainment |  | Unclassifiable/Attainment.
Clinton County |  | Unclassifiable/Attainment |  | Unclassifiable/Attainment.
Cole County |  | Unclassifiable/Attainment |  | Unclassifiable/Attainment.
Cooper County |  | Unclassifiable/Attainment |  | Unclassifiable/Attainment.
Crawford County |  | Unclassifiable/Attainment |  | Unclassifiable/Attainment.
Dade County |  | Unclassifiable/Attainment |  | Unclassifiable/Attainment.
Dallas County |  | Unclassifiable/Attainment |  | Unclassifiable/Attainment.
Daviess County |  | Unclassifiable/Attainment |  | Unclassifiable/Attainment.
DeKalb County |  | Unclassifiable/Attainment |  | Unclassifiable/Attainment.
Dent County |  | Unclassifiable/Attainment |  | Unclassifiable/Attainment.
Douglas County |  | Unclassifiable/Attainment |  | Unclassifiable/Attainment.
Dunklin County |  | Unclassifiable/Attainment |  | Unclassifiable/Attainment.
Franklin County |  | Unclassifiable/Attainment |  | Unclassifiable/Attainment.
Gasconade County |  | Unclassifiable/Attainment |  | Unclassifiable/Attainment.
Gentry County |  | Unclassifiable/Attainment |  | Unclassifiable/Attainment.
Greene County |  | Unclassifiable/Attainment |  | Unclassifiable/Attainment.
Grundy County |  | Unclassifiable/Attainment |  | Unclassifiable/Attainment.
Harrison County |  | Unclassifiable/Attainment |  | Unclassifiable/Attainment.
Henry County |  | Unclassifiable/Attainment |  | Unclassifiable/Attainment.
Hickory County |  | Unclassifiable/Attainment |  | Unclassifiable/Attainment.
Holt County |  | Unclassifiable/Attainment |  | Unclassifiable/Attainment.
Howard County |  | Unclassifiable/Attainment |  | Unclassifiable/Attainment.
Howell County |  | Unclassifiable/Attainment |  | Unclassifiable/Attainment.
Iron County |  | Unclassifiable/Attainment |  | Unclassifiable/Attainment.
Jackson County |  | Unclassifiable/Attainment |  | Unclassifiable/Attainment.
Jasper County |  | Unclassifiable/Attainment |  | Unclassifiable/Attainment.
Jefferson County |  | Unclassifiable/Attainment |  | Unclassifiable/Attainment.
Johnson County |  | Unclassifiable/Attainment |  | Unclassifiable/Attainment.
Knox County |  | Unclassifiable/Attainment |  | Unclassifiable/Attainment.
Laclede County |  | Unclassifiable/Attainment |  | Unclassifiable/Attainment.
Lafayette County |  | Unclassifiable/Attainment |  | Unclassifiable/Attainment.
Lawrence County |  | Unclassifiable/Attainment |  | Unclassifiable/Attainment.
Lewis County |  | Unclassifiable/Attainment |  | Unclassifiable/Attainment.
Lincoln County |  | Unclassifiable/Attainment |  | Unclassifiable/Attainment.
Linn County |  | Unclassifiable/Attainment |  | Unclassifiable/Attainment.
Livingston County |  | Unclassifiable/Attainment |  | Unclassifiable/Attainment.
McDonald County |  | Unclassifiable/Attainment |  | Unclassifiable/Attainment.
Macon County |  | Unclassifiable/Attainment |  | Unclassifiable/Attainment.
Madison County |  | Unclassifiable/Attainment |  | Unclassifiable/Attainment.
Maries County |  | Unclassifiable/Attainment |  | Unclassifiable/Attainment.
Marion County |  | Unclassifiable/Attainment |  | Unclassifiable/Attainment.
Mercer County |  | Unclassifiable/Attainment |  | Unclassifiable/Attainment.
Miller County |  | Unclassifiable/Attainment |  | Unclassifiable/Attainment.
Mississippi County |  | Unclassifiable/Attainment |  | Unclassifiable/Attainment.
Moniteau County |  | Unclassifiable/Attainment |  | Unclassifiable/Attainment.
Monroe County |  | Unclassifiable/Attainment |  | Unclassifiable/Attainment.
Montgomery County |  | Unclassifiable/Attainment |  | Unclassifiable/Attainment.
Morgan County |  | Unclassifiable/Attainment |  | Unclassifiable/Attainment.
New Madrid County |  | Unclassifiable/Attainment |  | Unclassifiable/Attainment.
Newton County |  | Unclassifiable/Attainment |  | Unclassifiable/Attainment.
Nodaway County |  | Unclassifiable/Attainment |  | Unclassifiable/Attainment.
Oregon County |  | Unclassifiable/Attainment |  | Unclassifiable/Attainment.
Osage County |  | Unclassifiable/Attainment |  | Unclassifiable/Attainment.
Ozark County |  | Unclassifiable/Attainment |  | Unclassifiable/Attainment.
Pemiscot County |  | Unclassifiable/Attainment |  | Unclassifiable/Attainment.
Perry County |  | Unclassifiable/Attainment |  | Unclassifiable/Attainment.
Pettis County |  | Unclassifiable/Attainment |  | Unclassifiable/Attainment.
Phelps County |  | Unclassifiable/Attainment |  | Unclassifiable/Attainment.
Pike County |  | Unclassifiable/Attainment |  | Unclassifiable/Attainment.
Platte County |  | Unclassifiable/Attainment |  | Unclassifiable/Attainment.
Polk County |  | Unclassifiable/Attainment |  | Unclassifiable/Attainment.
Pulaski County |  | Unclassifiable/Attainment |  | Unclassifiable/Attainment.
Putnam County |  | Unclassifiable/Attainment |  | Unclassifiable/Attainment.
Ralls County |  | Unclassifiable/Attainment |  | Unclassifiable/Attainment.
Randolph County |  | Unclassifiable/Attainment |  | Unclassifiable/Attainment.
Ray County |  | Unclassifiable/Attainment |  | Unclassifiable/Attainment.
Reynolds County |  | Unclassifiable/Attainment |  | Unclassifiable/Attainment.
Ripley County |  | Unclassifiable/Attainment |  | Unclassifiable/Attainment.
St Charles County |  | Unclassifiable/Attainment |  | Unclassifiable/Attainment.
St Clair County |  | Unclassifiable/Attainment |  | Unclassifiable/Attainment.
St Genevieve County |  | Unclassifiable/Attainment |  | Unclassifiable/Attainment.
St Francois County |  | Unclassifiable/Attainment |  | Unclassifiable/Attainment.
St Louis City |  | Unclassifiable/Attainment |  | Unclassifiable/Attainment.
St Louis County |  | Unclassifiable/Attainment |  | Unclassifiable/Attainment.
Saline County |  | Unclassifiable/Attainment |  | Unclassifiable/Attainment.
Schuyler County |  | Unclassifiable/Attainment |  | Unclassifiable/Attainment.
Scotland County |  | Unclassifiable/Attainment |  | Unclassifiable/Attainment.
Scott County |  | Unclassifiable/Attainment |  | Unclassifiable/Attainment.
Shannon County |  | Unclassifiable/Attainment |  | Unclassifiable/Attainment.
Shelby County |  | Unclassifiable/Attainment |  | Unclassifiable/Attainment.
Stoddard County |  | Unclassifiable/Attainment |  | Unclassifiable/Attainment.
Stone County |  | Unclassifiable/Attainment |  | Unclassifiable/Attainment.
Sullivan County |  | Unclassifiable/Attainment |  | Unclassifiable/Attainment.
Taney County |  | Unclassifiable/Attainment |  | Unclassifiable/Attainment.
Texas County |  | Unclassifiable/Attainment |  | Unclassifiable/Attainment.
Vernon County |  | Unclassifiable/Attainment |  | Unclassifiable/Attainment.
Warren County |  | Unclassifiable/Attainment |  | Unclassifiable/Attainment.
Washington County |  | Unclassifiable/Attainment |  | Unclassifiable/Attainment.
Wayne County |  | Unclassifiable/Attainment |  | Unclassifiable/Attainment.
Webster County |  | Unclassifiable/Attainment |  | Unclassifiable/Attainment.
Worth County |  | Unclassifiable/Attainment |  | Unclassifiable/Attainment.
Wright County |  | Unclassifiable/Attainment |  | Unclassifiable/Attainment.
ᵃ Includes Indian Country located in each county or area, except as otherwise specified.
¹ This date is 90 days after January 5, 2005, unless otherwise noted.
² This date is 30 days after November 13, 2009, unless otherwise noted.

28. Section 81.327 is amended as follows:

a. By revising the table heading for “Montana—PM2.5” to read as set forth below.

b. By adding a new table entitled “Montana—PM2.5 (24-Hour NAAQS)” to the end of the section.

§ 81.327 Montana.

* * * * *

Montana—PM2.5 (Annual NAAQS)

* * * * *

Montana—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Ravalli County |  | Unclassifiable/Attainment |  | Unclassifiable.
Rest of State:
Beaverhead County |  | Unclassifiable/Attainment |  | Unclassifiable/Attainment.
Big Horn County |  | Unclassifiable/Attainment |  | Unclassifiable/Attainment.
Blaine County |  | Unclassifiable/Attainment |  | Unclassifiable/Attainment.
Broadwater County |  | Unclassifiable/Attainment |  | Unclassifiable/Attainment.
Carbon County |  | Unclassifiable/Attainment |  | Unclassifiable/Attainment.
Carter County |  | Unclassifiable/Attainment |  | Unclassifiable/Attainment.
Cascade County |  | Unclassifiable/Attainment |  | Unclassifiable/Attainment.
Chouteau County |  | Unclassifiable/Attainment |  | Unclassifiable/Attainment.
Custer County |  | Unclassifiable/Attainment |  | Unclassifiable/Attainment.
Daniels County |  | Unclassifiable/Attainment |  | Unclassifiable/Attainment.
Dawson County |  | Unclassifiable/Attainment |  | Unclassifiable/Attainment.
Deer Lodge County |  | Unclassifiable/Attainment |  | Unclassifiable/Attainment.
Fallon County |  | Unclassifiable/Attainment |  | Unclassifiable/Attainment.
Fergus County |  | Unclassifiable/Attainment |  | Unclassifiable/Attainment.
Flathead County |  | Unclassifiable/Attainment |  | Unclassifiable/Attainment.
Gallatin County |  | Unclassifiable/Attainment |  | Unclassifiable/Attainment.
Garfield County |  | Unclassifiable/Attainment |  | Unclassifiable/Attainment.
Glacier County |  | Unclassifiable/Attainment |  | Unclassifiable/Attainment.
Golden Valley County |  | Unclassifiable/Attainment |  | Unclassifiable/Attainment.
Granite County |  | Unclassifiable/Attainment |  | Unclassifiable/Attainment.
Hill County |  | Unclassifiable/Attainment |  | Unclassifiable/Attainment.
Jefferson County |  | Unclassifiable/Attainment |  | Unclassifiable/Attainment.
Judith Basin County |  | Unclassifiable/Attainment |  | Unclassifiable/Attainment.
Lake County |  | Unclassifiable/Attainment |  | Unclassifiable/Attainment.
Lewis and Clark County |  | Unclassifiable/Attainment |  | Unclassifiable/Attainment.
Liberty County |  | Unclassifiable/Attainment |  | Unclassifiable/Attainment.
Lincoln County |  | Unclassifiable/Attainment |  | Unclassifiable/Attainment.
McCone County |  | Unclassifiable/Attainment |  | Unclassifiable/Attainment.
Madison County |  | Unclassifiable/Attainment |  | Unclassifiable/Attainment.
Meagher County |  | Unclassifiable/Attainment |  | Unclassifiable/Attainment.
Mineral County |  | Unclassifiable/Attainment |  | Unclassifiable/Attainment.
Missoula County |  | Unclassifiable/Attainment |  | Unclassifiable/Attainment.
Musselshell County |  | Unclassifiable/Attainment |  | Unclassifiable/Attainment.
Park County |  | Unclassifiable/Attainment |  | Unclassifiable/Attainment.
Petroleum County |  | Unclassifiable/Attainment |  | Unclassifiable/Attainment.
Phillips County |  | Unclassifiable/Attainment |  | Unclassifiable/Attainment.
Pondera County |  | Unclassifiable/Attainment |  | Unclassifiable/Attainment.
Powder River County |  | Unclassifiable/Attainment |  | Unclassifiable/Attainment.
Powell County |  | Unclassifiable/Attainment |  | Unclassifiable/Attainment.
Prairie County |  | Unclassifiable/Attainment |  | Unclassifiable/Attainment.
Richland County |  | Unclassifiable/Attainment |  | Unclassifiable/Attainment.
Roosevelt County |  | Unclassifiable/Attainment |  | Unclassifiable/Attainment.
Rosebud County |  | Unclassifiable/Attainment |  | Unclassifiable/Attainment.
Sanders County |  | Unclassifiable/Attainment |  | Unclassifiable/Attainment.
Sheridan County |  | Unclassifiable/Attainment |  | Unclassifiable/Attainment.
Silver Bow County |  | Unclassifiable/Attainment |  | Unclassifiable/Attainment.
Stillwater County |  | Unclassifiable/Attainment |  | Unclassifiable/Attainment.
Sweet Grass County |  | Unclassifiable/Attainment |  | Unclassifiable/Attainment.
Teton County |  | Unclassifiable/Attainment |  | Unclassifiable/Attainment.
Toole County |  | Unclassifiable/Attainment |  | Unclassifiable/Attainment.
Treasure County |  | Unclassifiable/Attainment |  | Unclassifiable/Attainment.
Valley County |  | Unclassifiable/Attainment |  | Unclassifiable/Attainment.
Wheatland County |  | Unclassifiable/Attainment |  | Unclassifiable/Attainment.
Wibaux County |  | Unclassifiable/Attainment |  | Unclassifiable/Attainment.
Yellowstone County |  | Unclassifiable/Attainment |  | Unclassifiable/Attainment.
ᵃ Includes Indian Country located in each county or area, except as otherwise specified.
¹ This date is 90 days after January 5, 2005, unless otherwise noted.
² This date is 30 days after November 13, 2009, unless otherwise noted.

29. Section 81.328 is amended as follows:

a. By revising the table heading for “Nebraska—PM2.5” to read as set forth below.

b. By adding a new table entitled “Nebraska—PM2.5 (24-Hour NAAQS)” to the end of the section.

§ 81.328 Nebraska.

* * * * *

Nebraska—PM2.5 (Annual NAAQS)

* * * * *

Nebraska—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Adams County |  | Unclassifiable/Attainment |  | Unclassifiable/Attainment.
Antelope County |  | Unclassifiable/Attainment |  | Unclassifiable/Attainment.
Arthur County |  | Unclassifiable/Attainment |  | Unclassifiable/Attainment.
Banner County |  | Unclassifiable/Attainment |  | Unclassifiable/Attainment.
Blaine County |  | Unclassifiable/Attainment |  | Unclassifiable/Attainment.
Boone County |  | Unclassifiable/Attainment |  | Unclassifiable/Attainment.
Box Butte County |  | Unclassifiable/Attainment |  | Unclassifiable/Attainment.
Boyd County |  | Unclassifiable/Attainment |  | Unclassifiable/Attainment.
Brown County |  | Unclassifiable/Attainment |  | Unclassifiable/Attainment.
Buffalo County |  | Unclassifiable/Attainment |  | Unclassifiable/Attainment.
Burt County |  | Unclassifiable/Attainment |  | Unclassifiable/Attainment.
Butler County |  | Unclassifiable/Attainment |  | Unclassifiable/Attainment.
Cass County |  | Unclassifiable/Attainment |  | Unclassifiable/Attainment.
Cedar County |  | Unclassifiable/Attainment |  | Unclassifiable/Attainment.
Chase County |  | Unclassifiable/Attainment |  | Unclassifiable/Attainment.
Cherry County |  | Unclassifiable/Attainment |  | Unclassifiable/Attainment.
Cheyenne County |  | Unclassifiable/Attainment |  | Unclassifiable/Attainment.
Clay County |  | Unclassifiable/Attainment |  | Unclassifiable/Attainment.
Colfax County |  | Unclassifiable/Attainment |  | Unclassifiable/Attainment.
Cuming County |  | Unclassifiable/Attainment |  | Unclassifiable/Attainment.
Custer County |  | Unclassifiable/Attainment |  | Unclassifiable/Attainment.
Dakota County |  | Unclassifiable/Attainment |  | Unclassifiable/Attainment.
Dawes County |  | Unclassifiable/Attainment |  | Unclassifiable/Attainment.
Dawson County |  | Unclassifiable/Attainment |  | Unclassifiable/Attainment.
Deuel County |  | Unclassifiable/Attainment |  | Unclassifiable/Attainment.
Dixon County |  | Unclassifiable/Attainment |  | Unclassifiable/Attainment.
Dodge County |  | Unclassifiable/Attainment |  | Unclassifiable/Attainment.
Douglas County |  | Unclassifiable/Attainment |  | Unclassifiable/Attainment.
Dundy County |  | Unclassifiable/Attainment |  | Unclassifiable/Attainment.
Fillmore County |  | Unclassifiable/Attainment |  | Unclassifiable/Attainment.
Franklin County |  | Unclassifiable/Attainment |  | Unclassifiable/Attainment.
Frontier County |  | Unclassifiable/Attainment |  | Unclassifiable/Attainment.
Furnas County |  | Unclassifiable/Attainment |  | Unclassifiable/Attainment.
Gage County |  | Unclassifiable/Attainment |  | Unclassifiable/Attainment.
Garden County |  | Unclassifiable/Attainment |  | Unclassifiable/Attainment.
Garfield County |  | Unclassifiable/Attainment |  | Unclassifiable/Attainment.
Gosper County |  | Unclassifiable/Attainment |  | Unclassifiable/Attainment.
Grant County |  | Unclassifiable/Attainment |  | Unclassifiable/Attainment.
Greeley County |  | Unclassifiable/Attainment |  | Unclassifiable/Attainment.
Hall County |  | Unclassifiable/Attainment |  | Unclassifiable/Attainment.
Hamilton County |  | Unclassifiable/Attainment |  | Unclassifiable/Attainment.
Harlan County |  | Unclassifiable/Attainment |  | Unclassifiable/Attainment.
Hayes County |  | Unclassifiable/Attainment |  | Unclassifiable/Attainment.
Hitchcock County |  | Unclassifiable/Attainment |  | Unclassifiable/Attainment.
Holt County |  | Unclassifiable/Attainment |  | Unclassifiable/Attainment.
Hooker County |  | Unclassifiable/Attainment |  | Unclassifiable/Attainment.
Howard County |  | Unclassifiable/Attainment |  | Unclassifiable/Attainment.
Jefferson County |  | Unclassifiable/Attainment |  | Unclassifiable/Attainment.
Johnson County |  | Unclassifiable/Attainment |  | Unclassifiable/Attainment.
Kearney County |  | Unclassifiable/Attainment |  | Unclassifiable/Attainment.
Keith County |  | Unclassifiable/Attainment |  | Unclassifiable/Attainment.
Keya Paha County |  | Unclassifiable/Attainment |  | Unclassifiable/Attainment.
Kimball County |  | Unclassifiable/Attainment |  | Unclassifiable/Attainment.
Knox County |  | Unclassifiable/Attainment |  | Unclassifiable/Attainment.
Lancaster County |  | Unclassifiable/Attainment |  | Unclassifiable/Attainment.
Lincoln County |  | Unclassifiable/Attainment |  | Unclassifiable/Attainment.
Logan County |  | Unclassifiable/Attainment |  | Unclassifiable/Attainment.
Loup County |  | Unclassifiable/Attainment |  | Unclassifiable/Attainment.
McPherson County |  | Unclassifiable/Attainment |  | Unclassifiable/Attainment.
Madison County |  | Unclassifiable/Attainment |  | Unclassifiable/Attainment.
Merrick County |  | Unclassifiable/Attainment |  | Unclassifiable/Attainment.
Morrill County |  | Unclassifiable/Attainment |  | Unclassifiable/Attainment.
Nance County |  | Unclassifiable/Attainment |  | Unclassifiable/Attainment.
Nemaha County |  | Unclassifiable/Attainment |  | Unclassifiable/Attainment.
Nuckolls County |  | Unclassifiable/Attainment |  | Unclassifiable/Attainment.
Otoe County |  | Unclassifiable/Attainment |  | Unclassifiable/Attainment.
Pawnee County |  | Unclassifiable/Attainment |  | Unclassifiable/Attainment.
Perkins County |  | Unclassifiable/Attainment |  | Unclassifiable/Attainment.
Phelps County |  | Unclassifiable/Attainment |  | Unclassifiable/Attainment.
Pierce County |  | Unclassifiable/Attainment |  | Unclassifiable/Attainment.
Platte County |  | Unclassifiable/Attainment |  | Unclassifiable/Attainment.
Polk County |  | Unclassifiable/Attainment |  | Unclassifiable/Attainment.
Red Willow County |  | Unclassifiable/Attainment |  | Unclassifiable/Attainment.
Richardson County |  | Unclassifiable/Attainment |  | Unclassifiable/Attainment.
Rock County |  | Unclassifiable/Attainment |  | Unclassifiable/Attainment.
Saline County |  | Unclassifiable/Attainment |  | Unclassifiable/Attainment.
Sarpy County |  | Unclassifiable/Attainment |  | Unclassifiable/Attainment.
Saunders County |  | Unclassifiable/Attainment |  | Unclassifiable/Attainment.
Scotts Bluff County |  | Unclassifiable/Attainment |  | Unclassifiable/Attainment.
Seward County |  | Unclassifiable/Attainment |  | Unclassifiable/Attainment.
Sheridan County |  | Unclassifiable/Attainment |  | Unclassifiable/Attainment.
Sherman County |  | Unclassifiable/Attainment |  | Unclassifiable/Attainment.
Sioux County |  | Unclassifiable/Attainment |  | Unclassifiable/Attainment.
Stanton County |  | Unclassifiable/Attainment |  | Unclassifiable/Attainment.
Thayer County |  | Unclassifiable/Attainment |  | Unclassifiable/Attainment.
Thomas County |  | Unclassifiable/Attainment |  | Unclassifiable/Attainment.
Thurston County |  | Unclassifiable/Attainment |  | Unclassifiable/Attainment.
Valley County |  | Unclassifiable/Attainment |  | Unclassifiable/Attainment.
Washington County |  | Unclassifiable/Attainment |  | Unclassifiable/Attainment.
Wayne County |  | Unclassifiable/Attainment |  | Unclassifiable/Attainment.
Webster County |  | Unclassifiable/Attainment |  | Unclassifiable/Attainment.
Wheeler County |  | Unclassifiable/Attainment |  | Unclassifiable/Attainment.
York County |  | Unclassifiable/Attainment |  | Unclassifiable/Attainment.
ᵃ Includes Indian Country located in each county or area, except as otherwise specified.
¹ This date is 90 days after January 5, 2005, unless otherwise noted.
² This date is 30 days after November 13, 2009, unless otherwise noted.

30. Section 81.329 is amended as follows:

a. By revising the table heading for “Nevada—PM2.5” to read as set forth below.

b. By adding a new table entitled “Nevada—PM2.5 (24-Hour NAAQS)” to the end of the section.

§ 81.329 Nevada.

* * * * *

Nevada—PM2.5 (Annual NAAQS)

* * * * *

Nevada—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide ³ |  | Unclassifiable/Attainment |  | Unclassifiable/Attainment.
ᵃ Includes Indian Country located in each county or area, except as otherwise specified.
¹ This date is 90 days after January 5, 2005, unless otherwise noted.
² This date is 30 days after November 13, 2009, unless otherwise noted.
³ Statewide refers to hydrographic areas as shown on the State of Nevada Division of Water Resources' map titled “Water Resources and Inter-basin Flows” (September 1971), as revised to include a division of Carson Desert (area 101) into two areas, a smaller area 101 and area 101A, and a division of Boulder Flat (area 61) into an Upper Unit 61 and a Lower Unit 61. See also 67 FR 12474 (March 19, 2002).

31. Section 81.330 is amended as follows:

a. By revising the table heading for “New Hampshire—PM2.5” to read as set forth below.

b. By adding a new table entitled “New Hampshire—PM2.5 (24-Hour NAAQS)” to the end of the section.

§ 81.330 New Hampshire.

* * * * *

New Hampshire—PM2.5 (Annual NAAQS)

* * * * *

New Hampshire—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Belknap County |  | Unclassifiable/Attainment |  | Unclassifiable/Attainment.
Carroll County |  | Unclassifiable/Attainment |  | Unclassifiable/Attainment.
Cheshire County |  | Unclassifiable/Attainment |  | Unclassifiable/Attainment.
Coos County |  | Unclassifiable/Attainment |  | Unclassifiable/Attainment.
Grafton County |  | Unclassifiable/Attainment |  | Unclassifiable/Attainment.
Hillsborough County |  | Unclassifiable/Attainment |  | Unclassifiable/Attainment.
Merrimack County |  | Unclassifiable/Attainment |  | Unclassifiable/Attainment.
Rockingham County |  | Unclassifiable/Attainment |  | Unclassifiable/Attainment.
Strafford County |  | Unclassifiable/Attainment |  | Unclassifiable/Attainment.
Sullivan County |  | Unclassifiable/Attainment |  | Unclassifiable/Attainment.
ᵃ Includes Indian Country located in each county or area, except as otherwise specified.
¹ This date is 90 days after January 5, 2005, unless otherwise noted.
² This date is 30 days after November 13, 2009, unless otherwise noted.

32. Section 81.331 is amended as follows:

a. By revising the table heading for “New Jersey—PM2.5” to read as set forth below.

b. By adding a new table entitled “New Jersey—PM2.5 (24-Hour NAAQS)” to the end of the section.

§ 81.331 New Jersey.

* * * * *

New Jersey—PM2.5 (Annual NAAQS)

* * * * *

New Jersey—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
New York-N.New Jersey-Long Island, NY-NJ-CT:
Bergen County |  | Unclassifiable/Attainment |  | Nonattainment.
Essex County |  | Unclassifiable/Attainment |  | Nonattainment.
Hudson County |  | Unclassifiable/Attainment |  | Nonattainment.
Mercer County |  | Unclassifiable/Attainment |  | Nonattainment.
Middlesex County |  | Unclassifiable/Attainment |  | Nonattainment.
Monmouth County |  | Unclassifiable/Attainment |  | Nonattainment.
Morris County |  | Unclassifiable/Attainment |  | Nonattainment.
Passaic County |  | Unclassifiable/Attainment |  | Nonattainment.
Somerset County |  | Unclassifiable/Attainment |  | Nonattainment.
Union County |  | Unclassifiable/Attainment |  | Nonattainment.
Philadelphia-Wilmington, PA-NJ-DE:
Burlington County |  | Unclassifiable/Attainment |  | Nonattainment.
Camden County |  | Unclassifiable/Attainment |  | Nonattainment.
Gloucester County |  | Unclassifiable/Attainment |  | Nonattainment.
Rest of State:
New York-N. New Jersey-Long Island, NY-NJ-CT:
Hunterdon County |  | Unclassifiable/Attainment |  | Unclassifiable/Attainment.
Sussex County |  | Unclassifiable/Attainment |  | Unclassifiable/Attainment.
Warren County |  | Unclassifiable/Attainment |  | Unclassifiable/Attainment.
Atlantic City, NJ:
Atlantic County |  | Unclassifiable/Attainment |  | Unclassifiable/Attainment.
Cape May County |  | Unclassifiable/Attainment |  | Unclassifiable/Attainment.
Cumberland County |  | Unclassifiable/Attainment |  | Unclassifiable/Attainment.
Ocean County |  | Unclassifiable/Attainment |  | Unclassifiable/Attainment.
Salem County |  | Unclassifiable/Attainment |  | Unclassifiable/Attainment.
ᵃ Includes Indian Country located in each county or area, except as otherwise specified.
¹ This date is 90 days after January 5, 2005, unless otherwise noted.
² This date is 30 days after November 13, 2009, unless otherwise noted.

33. Section 81.332 is amended as follows:

a. By revising the table heading for “New Mexico—PM2.5” to read as set forth below.

b. By adding a new table entitled “New Mexico—PM2.5 (24-Hour NAAQS)” to the end of the section.

§ 81.332 New Mexico.

* * * * *

New Mexico—PM2.5 (Annual NAAQS)

* * * * *

New Mexico—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
AQCR 222 New Mexico-Southern Border Intrastate:
Grant County |  | Unclassifiable/Attainment |  | Unclassifiable/Attainment.
Hidalgo County |  | Unclassifiable/Attainment |  | Unclassifiable/Attainment.
Luna County |  | Unclassifiable/Attainment |  | Unclassifiable/Attainment.
AQCR 224 Four Corners Interstate (see 40 CFR 81.121):
McKinley County (part) |  | Unclassifiable/Attainment |  | Unclassifiable/Attainment.
Río Arriba County (part) |  | Unclassifiable/Attainment |  | Unclassifiable/Attainment.
Sandoval County (part) |  | Unclassifiable/Attainment |  | Unclassifiable/Attainment.
San Juan County |  | Unclassifiable/Attainment |  | Unclassifiable/Attainment.
Valencia County (part) |  | Unclassifiable/Attainment |  | Unclassifiable/Attainment.
AQCR 152 Albuquerque-Mid Rio Grande Intrastate:
Bernalillo County |  | Unclassifiable/Attainment |  | Unclassifiable/Attainment.
Sandoval County (part) |  | Unclassifiable/Attainment |  | Unclassifiable/Attainment.
Valencia County (part) |  | Unclassifiable/Attainment |  | Unclassifiable/Attainment.
AQCR 153 El Paso-Las Cruces-Alamogordo:
Doña Ana County (part) |  | Unclassifiable/Attainment |  | Unclassifiable/Attainment.
(Sunland Park Area) The area bounded by the New Mexico-Texas State line on the east, New Mexico-Mexico international line on the south, the range 3E-Range 2E line on the west, and the N3200 latitude line on the north.
Doña Ana County (remainder) |  | Unclassifiable/Attainment |  | Unclassifiable/Attainment.
Lincoln County |  | Unclassifiable/Attainment |  | Unclassifiable/Attainment.
Otero County |  | Unclassifiable/Attainment |  | Unclassifiable/Attainment.
Sierra County |  | Unclassifiable/Attainment |  | Unclassifiable/Attainment.
AQCR 154 Northeastern Plains Intrastate:
Colfax County |  | Unclassifiable/Attainment |  | Unclassifiable/Attainment.
Guadalupe County |  | Unclassifiable/Attainment |  | Unclassifiable/Attainment.
Harding County |  | Unclassifiable/Attainment |  | Unclassifiable/Attainment.
Mora County |  | Unclassifiable/Attainment |  | Unclassifiable/Attainment.
San Miguel County |  | Unclassifiable/Attainment |  | Unclassifiable/Attainment.
Torrance County |  | Unclassifiable/Attainment |  | Unclassifiable/Attainment.
Union County |  | Unclassifiable/Attainment |  | Unclassifiable/Attainment.
AQCR 155 Pecos-Permian Basin Intrastate:
Chaves County |  | Unclassifiable/Attainment |  | Unclassifiable/Attainment.
Curry County |  | Unclassifiable/Attainment |  | Unclassifiable/Attainment.
De Baca County |  | Unclassifiable/Attainment |  | Unclassifiable/Attainment.
Eddy County |  | Unclassifiable/Attainment |  | Unclassifiable/Attainment.
Lea County |  | Unclassifiable/Attainment |  | Unclassifiable/Attainment.
Quay County |  | Unclassifiable/Attainment |  | Unclassifiable/Attainment.
Roosevelt County |  | Unclassifiable/Attainment |  | Unclassifiable/Attainment.
AQCR 156 SW Mountains-Augustine Plains:
Catron County |  | Unclassifiable/Attainment |  | Unclassifiable/Attainment.
Cibola County |  | Unclassifiable/Attainment |  | Unclassifiable/Attainment.
McKinley County (part) see 40 CFR 81.241 |  | Unclassifiable/Attainment |  | Unclassifiable/Attainment.
Socorro County |  | Unclassifiable/Attainment |  | Unclassifiable/Attainment.
Valencia County (part) see 40 CFR 81.241 |  | Unclassifiable/Attainment |  | Unclassifiable/Attainment.
AQCR 157 Upper Rio Grande Valley Intrastate:
Los Alamos County |  | Unclassifiable/Attainment |  | Unclassifiable/Attainment.
Río Arriba County (part) see 40 CFR 81.239 |  | Unclassifiable/Attainment |  | Unclassifiable/Attainment.
Santa Fe County |  | Unclassifiable/Attainment |  | Unclassifiable/Attainment.
Taos County |  | Unclassifiable/Attainment |  | Unclassifiable/Attainment.
ᵃ Includes Indian Country located in each county or area, except as otherwise specified.
¹ This date is 90 days after January 5, 2005, unless otherwise noted.
² This date is 30 days after November 13, 2009, unless otherwise noted.

34. Section 81.333 is amended as follows:

a. By revising the table heading for “New York—PM2.5” to read as set forth below.

b. By adding a new table entitled “New York—PM2.5 (24-Hour NAAQS)” to the end of the section.

§ 81.333 New York.

* * * * *

New York—PM2.5 (Annual NAAQS)

* * * * *

New York—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
New York-N. New Jersey-Long Island, NY-NJ-CT:
Bronx County |  | Unclassifiable/Attainment |  | Nonattainment.
Kings County |  | Unclassifiable/Attainment |  | Nonattainment.
Nassau County |  | Unclassifiable/Attainment |  | Nonattainment.
New York County |  | Unclassifiable/Attainment |  | Nonattainment.
Orange County |  | Unclassifiable/Attainment |  | Nonattainment.
Queens County |  | Unclassifiable/Attainment |  | Nonattainment.
Richmond County |  | Unclassifiable/Attainment |  | Nonattainment.
Rockland County |  | Unclassifiable/Attainment |  | Nonattainment.
Suffolk County |  | Unclassifiable/Attainment |  | Nonattainment.
Westchester County |  | Unclassifiable/Attainment |  | Nonattainment.
Rest of State:
AQCR 158 Central New York Intrastate (remainder of):
Cortland County |  | Unclassifiable/Attainment |  | Unclassifiable/Attainment.
Herkimer County |  | Unclassifiable/Attainment |  | Unclassifiable/Attainment.
Lewis County |  | Unclassifiable/Attainment |  | Unclassifiable/Attainment.
Oneida County |  | Unclassifiable/Attainment |  | Unclassifiable/Attainment.
AQCR 159 Champlain Valley Interstate (remainder of):
Clinton County |  | Unclassifiable/Attainment |  | Unclassifiable/Attainment.
Franklin County |  | Unclassifiable/Attainment |  | Unclassifiable/Attainment.
Hamilton County |  | Unclassifiable/Attainment |  | Unclassifiable/Attainment.
St. Lawrence County |  | Unclassifiable/Attainment |  | Unclassifiable/Attainment.
Warren County |  | Unclassifiable/Attainment |  | Unclassifiable/Attainment.
Washington County |  | Unclassifiable/Attainment |  | Unclassifiable/Attainment.
AQCR 160 Finger Lake Intrastate:
Seneca County |  | Unclassifiable/Attainment |  | Unclassifiable/Attainment.
Wyoming County |  | Unclassifiable/Attainment |  | Unclassifiable/Attainment.
Yates County |  | Unclassifiable/Attainment |  | Unclassifiable/Attainment.
AQCR 161 Hudson Valley Intrastate (remainder of):
Columbia County |  | Unclassifiable/Attainment |  | Unclassifiable/Attainment.
Fulton County |  | Unclassifiable/Attainment |  | Unclassifiable/Attainment.
Ulster County |  | Unclassifiable/Attainment |  | Unclassifiable/Attainment.
AQCR 163 Southern Tier East Intrastate:
Broome County |  | Unclassifiable/Attainment |  | Unclassifiable/Attainment.
Chenango County |  | Unclassifiable/Attainment |  | Unclassifiable/Attainment.
Delaware County |  | Unclassifiable/Attainment |  | Unclassifiable/Attainment.
Otsego County |  | Unclassifiable/Attainment |  | Unclassifiable/Attainment.
Sullivan County |  | Unclassifiable/Attainment |  | Unclassifiable/Attainment.
Tioga County |  | Unclassifiable/Attainment |  | Unclassifiable/Attainment.
AQCR 164 Southern Tier West Intrastate:
Allegany County |  | Unclassifiable/Attainment |  | Unclassifiable/Attainment.
Cattaraugus County |  | Unclassifiable/Attainment |  | Unclassifiable/Attainment.
Chemung County |  | Unclassifiable/Attainment |  | Unclassifiable/Attainment.
Schuyler County |  | Unclassifiable/Attainment |  | Unclassifiable/Attainment.
Steuben County |  | Unclassifiable/Attainment |  | Unclassifiable/Attainment.
Tompkins County |  | Unclassifiable/Attainment |  | Unclassifiable/Attainment.
Albany-Schenectady-Troy, NY:
Albany County |  | Unclassifiable/Attainment |  | Unclassifiable/Attainment.
Greene County |  | Unclassifiable/Attainment |  | Unclassifiable/Attainment.
Montgomery County |  | Unclassifiable/Attainment |  | Unclassifiable/Attainment.
Rensselaer County |  | Unclassifiable/Attainment |  | Unclassifiable/Attainment.
Saratoga County |  | Unclassifiable/Attainment |  | Unclassifiable/Attainment.
Schenectady County |  | Unclassifiable/Attainment |  | Unclassifiable/Attainment.
Schoharie County |  | Unclassifiable/Attainment |  | Unclassifiable/Attainment.
Buffalo-Niagara Falls, NY:
Erie County |  | Unclassifiable/Attainment |  | Unclassifiable/Attainment.
Niagara County |  | Unclassifiable/Attainment |  | Unclassifiable/Attainment.
Essex County, NY:
Essex County |  | Unclassifiable/Attainment |  | Unclassifiable/Attainment.
Jamestown, NY:
Chautauqua County |  | Unclassifiable/Attainment |  | Unclassifiable/Attainment.
Jefferson County, NY:
Jefferson County |  | Unclassifiable/Attainment |  | Unclassifiable/Attainment.
Poughkeepsie, NY:
Dutchess County |  | Unclassifiable/Attainment |  | Unclassifiable/Attainment.
Putnam County |  | Unclassifiable/Attainment |  | Unclassifiable/Attainment.
Rochester, NY:
Genesee County |  | Unclassifiable/Attainment |  | Unclassifiable/Attainment.
Livingston County |  | Unclassifiable/Attainment |  | Unclassifiable/Attainment.
Monroe County |  | Unclassifiable/Attainment |  | Unclassifiable/Attainment.
Ontario County |  | Unclassifiable/Attainment |  | Unclassifiable/Attainment.
Orleans County |  | Unclassifiable/Attainment |  | Unclassifiable/Attainment.
Wayne County |  | Unclassifiable/Attainment |  | Unclassifiable/Attainment.
Syracuse, NY:
Cayuga County |  | Unclassifiable/Attainment |  | Unclassifiable/Attainment.
Madison County |  | Unclassifiable/Attainment |  | Unclassifiable/Attainment.
Onondaga County |  | Unclassifiable/Attainment |  | Unclassifiable/Attainment.
Oswego County |  | Unclassifiable/Attainment |  | Unclassifiable/Attainment.
ᵃ Includes Indian Country located in each county or area, except as otherwise specified.
¹ This date is 90 days after January 5, 2005, unless otherwise noted.
² This date is 30 days after November 13, 2009, unless otherwise noted.

35. Section 81.334 is amended as follows:

a. By revising the table heading for “North Carolina—PM2.5” to read as set forth below.

b. By adding a new table entitled “North Carolina—PM2.5 (24-Hour NAAQS)” to the end of the section.

§ 81.334 North Carolina.

* * * * *

North Carolina—PM2.5 (Annual NAAQS)

* * * * *

North Carolina—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Alamance County |  | Unclassifiable/Attainment |  | Unclassifiable/Attainment.
Alexander County |  | Unclassifiable/Attainment |  | Unclassifiable/Attainment.
Alleghany County |  | Unclassifiable/Attainment |  | Unclassifiable/Attainment.
Anson County |  | Unclassifiable/Attainment |  | Unclassifiable/Attainment.
Ashe County |  | Unclassifiable/Attainment |  | Unclassifiable/Attainment.
Avery County |  | Unclassifiable/Attainment |  | Unclassifiable/Attainment.
Beaufort County |  | Unclassifiable/Attainment |  | Unclassifiable/Attainment.
Bertie County |  | Unclassifiable/Attainment |  | Unclassifiable/Attainment.
Bladen County |  | Unclassifiable/Attainment |  | Unclassifiable/Attainment.
Brunswick County |  | Unclassifiable/Attainment |  | Unclassifiable/Attainment.
Buncombe County |  | Unclassifiable/Attainment |  | Unclassifiable/Attainment.
Burke County |  | Unclassifiable/Attainment |  | Unclassifiable/Attainment.
Cabarrus County |  | Unclassifiable/Attainment |  | Unclassifiable/Attainment.
Caldwell County |  | Unclassifiable/Attainment |  | Unclassifiable/Attainment.
Camden County |  | Unclassifiable/Attainment |  | Unclassifiable/Attainment.
Carteret County |  | Unclassifiable/Attainment |  | Unclassifiable/Attainment.
Caswell County |  | Unclassifiable/Attainment |  | Unclassifiable/Attainment.
Catawba County |  | Unclassifiable/Attainment |  | Unclassifiable/Attainment.
Chatham County |  | Unclassifiable/Attainment |  | Unclassifiable/Attainment.
Cherokee County |  | Unclassifiable/Attainment |  | Unclassifiable/Attainment.
Chowan County |  | Unclassifiable/Attainment |  | Unclassifiable/Attainment.
Clay County |  | Unclassifiable/Attainment |  | Unclassifiable/Attainment.
Cleveland County |  | Unclassifiable/Attainment |  | Unclassifiable/Attainment.
Columbus County |  | Unclassifiable/Attainment |  | Unclassifiable/Attainment.
Craven County |  | Unclassifiable/Attainment |  | Unclassifiable/Attainment.
Cumberland County |  | Unclassifiable/Attainment |  | Unclassifiable/Attainment.
Currituck County |  | Unclassifiable/Attainment |  | Unclassifiable/Attainment.
Dare County |  | Unclassifiable/Attainment |  | Unclassifiable/Attainment.
Davidson County |  | Unclassifiable/Attainment |  | Unclassifiable/Attainment.
Davie County |  | Unclassifiable/Attainment |  | Unclassifiable/Attainment.
Duplin County |  | Unclassifiable/Attainment |  | Unclassifiable/Attainment.
Durham County |  | Unclassifiable/Attainment |  | Unclassifiable/Attainment.
Edgecombe County |  | Unclassifiable/Attainment |  | Unclassifiable/Attainment.
Forsyth County |  | Unclassifiable/Attainment |  | Unclassifiable/Attainment.
Franklin County |  | Unclassifiable/Attainment |  | Unclassifiable/Attainment.
Gaston County |  | Unclassifiable/Attainment |  | Unclassifiable/Attainment.
Gates County |  | Unclassifiable/Attainment |  | Unclassifiable/Attainment.
Graham County |  | Unclassifiable/Attainment |  | Unclassifiable/Attainment.
Granville County |  | Unclassifiable/Attainment |  | Unclassifiable/Attainment.
Greene County |  | Unclassifiable/Attainment |  | Unclassifiable/Attainment.
Guilford County |  | Unclassifiable/Attainment |  | Unclassifiable/Attainment.
Halifax County |  | Unclassifiable/Attainment |  | Unclassifiable/Attainment.
Harnett County |  | Unclassifiable/Attainment |  | Unclassifiable/Attainment.
Haywood County |  | Unclassifiable/Attainment |  | Unclassifiable/Attainment.
Henderson County |  | Unclassifiable/Attainment |  | Unclassifiable/Attainment.
Hertford County |  | Unclassifiable/Attainment |  | Unclassifiable/Attainment.
Hoke County |  | Unclassifiable/Attainment |  | Unclassifiable/Attainment.
Hyde County |  | Unclassifiable/Attainment |  | Unclassifiable/Attainment.
Iredell County |  | Unclassifiable/Attainment |  | Unclassifiable/Attainment.
Jackson County |  | Unclassifiable/Attainment |  | Unclassifiable/Attainment.
Johnston County |  | Unclassifiable/Attainment |  | Unclassifiable/Attainment.
Jones County |  | Unclassifiable/Attainment |  | Unclassifiable/Attainment.
Lee County |  | Unclassifiable/Attainment |  | Unclassifiable/Attainment.
Lenoir County |  | Unclassifiable/Attainment |  | Unclassifiable/Attainment.
Lincoln County |  | Unclassifiable/Attainment |  | Unclassifiable/Attainment.
McDowell County |  | Unclassifiable/Attainment |  | Unclassifiable/Attainment.
Macon County |  | Unclassifiable/Attainment |  | Unclassifiable/Attainment.
Madison County |  | Unclassifiable/Attainment |  | Unclassifiable/Attainment.
Martin County |  | Unclassifiable/Attainment |  | Unclassifiable/Attainment.
Mecklenburg County |  | Unclassifiable/Attainment |  | Unclassifiable/Attainment.
Mitchell County |  | Unclassifiable/Attainment |  | Unclassifiable/Attainment.
Montgomery County |  | Unclassifiable/Attainment |  | Unclassifiable/Attainment.
Moore County |  | Unclassifiable/Attainment |  | Unclassifiable/Attainment.
Nash County |  | Unclassifiable/Attainment |  | Unclassifiable/Attainment.
New Hanover County |  | Unclassifiable/Attainment |  | Unclassifiable/Attainment.
Northampton County |  | Unclassifiable/Attainment |  | Unclassifiable/Attainment.
Onslow County |  | Unclassifiable/Attainment |  | Unclassifiable/Attainment.
Orange County |  | Unclassifiable/Attainment |  | Unclassifiable/Attainment.
Pamlico County |  | Unclassifiable/Attainment |  | Unclassifiable/Attainment.
Pasquotank County |  | Unclassifiable/Attainment |  | Unclassifiable/Attainment.
Pender County |  | Unclassifiable/Attainment |  | Unclassifiable/Attainment.
Perquimans County |  | Unclassifiable/Attainment |  | Unclassifiable/Attainment.
Person County |  | Unclassifiable/Attainment |  | Unclassifiable/Attainment.
Pitt County |  | Unclassifiable/Attainment |  | Unclassifiable/Attainment.
Polk County |  | Unclassifiable/Attainment |  | Unclassifiable/Attainment.
Randolph County |  | Unclassifiable/Attainment |  | Unclassifiable/Attainment.
Richmond County |  | Unclassifiable/Attainment |  | Unclassifiable/Attainment.
Robeson County |  | Unclassifiable/Attainment |  | Unclassifiable/Attainment.
Rockingham County |  | Unclassifiable/Attainment |  | Unclassifiable/Attainment.
Rowan County |  | Unclassifiable/Attainment |  | Unclassifiable/Attainment.
Rutherford County |  | Unclassifiable/Attainment |  | Unclassifiable/Attainment.
Sampson County |  | Unclassifiable/Attainment |  | Unclassifiable/Attainment.
Scotland County |  | Unclassifiable/Attainment |  | Unclassifiable/Attainment.
Stanly County |  | Unclassifiable/Attainment |  | Unclassifiable/Attainment.
Stokes County |  | Unclassifiable/Attainment |  | Unclassifiable/Attainment.
Surry County |  | Unclassifiable/Attainment |  | Unclassifiable/Attainment.
Swain County |  | Unclassifiable/Attainment |  | Unclassifiable/Attainment.
Transylvania County |  | Unclassifiable/Attainment |  | Unclassifiable/Attainment.
Tyrrell County |  | Unclassifiable/Attainment |  | Unclassifiable/Attainment.
Union County |  | Unclassifiable/Attainment |  | Unclassifiable/Attainment.
Vance County |  | Unclassifiable/Attainment |  | Unclassifiable/Attainment.
Wake County |  | Unclassifiable/Attainment |  | Unclassifiable/Attainment.
Warren County |  | Unclassifiable/Attainment |  | Unclassifiable/Attainment.
Washington County |  | Unclassifiable/Attainment |  | Unclassifiable/Attainment.
Watauga County |  | Unclassifiable/Attainment |  | Unclassifiable/Attainment.
Wayne County |  | Unclassifiable/Attainment |  | Unclassifiable/Attainment.
Wilkes County |  | Unclassifiable/Attainment |  | Unclassifiable/Attainment.
Wilson County |  | Unclassifiable/Attainment |  | Unclassifiable/Attainment.
Yadkin County |  | Unclassifiable/Attainment |  | Unclassifiable/Attainment.
Yancey County |  | Unclassifiable/Attainment |  | Unclassifiable/Attainment.
ᵃ Includes Indian Country located in each county or area, except as otherwise specified.
¹ This date is 90 days after January 5, 2005, unless otherwise noted.
² This date is 30 days after November 13, 2009, unless otherwise noted.

36. Section 81.335 is amended as follows:

a. By revising the table heading for “North Dakota—PM2.5” to read as set forth below.

b. By adding a new table entitled “North Dakota—PM2.5 (24-Hour NAAQS)” to the end of the section.

§ 81.335 North Dakota.

* * * * *

North Dakota—PM2.5 (Annual NAAQS)

* * * * *

North Dakota—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
AQCR 130 Metropolitan Fargo-Moorhead Interstate:
Cass County |  | Unclassifiable/Attainment |  | Unclassifiable/Attainment.
Rest of State, AQCR 172:
Adams County |  | Unclassifiable/Attainment |  | Unclassifiable/Attainment.
Barnes County |  | Unclassifiable/Attainment |  | Unclassifiable/Attainment.
Benson County |  | Unclassifiable/Attainment |  | Unclassifiable/Attainment.
Billings County |  | Unclassifiable/Attainment |  | Unclassifiable/Attainment.
Bottineau County |  | Unclassifiable/Attainment |  | Unclassifiable/Attainment.
Bowman County |  | Unclassifiable/Attainment |  | Unclassifiable/Attainment.
Burke County |  | Unclassifiable/Attainment |  | Unclassifiable/Attainment.
Burleigh County |  | Unclassifiable/Attainment |  | Unclassifiable/Attainment.
Cavalier County |  | Unclassifiable/Attainment |  | Unclassifiable/Attainment.
Dickey County |  | Unclassifiable/Attainment |  | Unclassifiable/Attainment.
Divide County |  | Unclassifiable/Attainment |  | Unclassifiable/Attainment.
Dunn County |  | Unclassifiable/Attainment |  | Unclassifiable/Attainment.
Eddy County |  | Unclassifiable/Attainment |  | Unclassifiable/Attainment.
Emmons County |  | Unclassifiable/Attainment |  | Unclassifiable/Attainment.
Foster County |  | Unclassifiable/Attainment |  | Unclassifiable/Attainment.
Golden Valley County |  | Unclassifiable/Attainment |  | Unclassifiable/Attainment.
Grand Forks County |  | Unclassifiable/Attainment |  | Unclassifiable/Attainment.
Grant County |  | Unclassifiable/Attainment |  | Unclassifiable/Attainment.
Griggs County |  | Unclassifiable/Attainment |  | Unclassifiable/Attainment.
Hettinger County |  | Unclassifiable/Attainment |  | Unclassifiable/Attainment.
Kidder County |  | Unclassifiable/Attainment |  | Unclassifiable/Attainment.
LaMoure County |  | Unclassifiable/Attainment |  | Unclassifiable/Attainment.
Logan County |  | Unclassifiable/Attainment |  | Unclassifiable/Attainment.
McHenry County |  | Unclassifiable/Attainment |  | Unclassifiable/Attainment.
McIntosh County |  | Unclassifiable/Attainment |  | Unclassifiable/Attainment.
McKenzie County |  | Unclassifiable/Attainment |  | Unclassifiable/Attainment.
McLean County |  | Unclassifiable/Attainment |  | Unclassifiable/Attainment.
Mercer County |  | Unclassifiable/Attainment |  | Unclassifiable/Attainment.
Morton County |  | Unclassifiable/Attainment |  | Unclassifiable/Attainment.
Mountrail County |  | Unclassifiable/Attainment |  | Unclassifiable/Attainment.
Nelson County |  | Unclassifiable/Attainment |  | Unclassifiable/Attainment.
Oliver County |  | Unclassifiable/Attainment |  | Unclassifiable/Attainment.
Pembina County |  | Unclassifiable/Attainment |  | Unclassifiable/Attainment.
Pierce County |  | Unclassifiable/Attainment |  | Unclassifiable/Attainment.
Ramsey County |  | Unclassifiable/Attainment |  | Unclassifiable/Attainment.
Ransom County |  | Unclassifiable/Attainment |  | Unclassifiable/Attainment.
Renville County |  | Unclassifiable/Attainment |  | Unclassifiable/Attainment.
Richland County |  | Unclassifiable/Attainment |  | Unclassifiable/Attainment.
Rolette County |  | Unclassifiable/Attainment |  | Unclassifiable/Attainment.
Sargent County |  | Unclassifiable/Attainment |  | Unclassifiable/Attainment.
Sheridan County |  | Unclassifiable/Attainment |  | Unclassifiable/Attainment.
Sioux County |  | Unclassifiable/Attainment |  | Unclassifiable/Attainment.
Slope County |  | Unclassifiable/Attainment |  | Unclassifiable/Attainment.
Stark County |  | Unclassifiable/Attainment |  | Unclassifiable/Attainment.
Steele County |  | Unclassifiable/Attainment |  | Unclassifiable/Attainment.
Stutsman County |  | Unclassifiable/Attainment |  | Unclassifiable/Attainment.
Towner County |  | Unclassifiable/Attainment |  | Unclassifiable/Attainment.
Traill County |  | Unclassifiable/Attainment |  | Unclassifiable/Attainment.
Walsh County |  | Unclassifiable/Attainment |  | Unclassifiable/Attainment.
Ward County |  | Unclassifiable/Attainment |  | Unclassifiable/Attainment.
Wells County |  | Unclassifiable/Attainment |  | Unclassifiable/Attainment.
Williams County |  | Unclassifiable/Attainment |  | Unclassifiable/Attainment.
ᵃ Includes Indian Country located in each county or area, except as otherwise specified.
¹ This date is 90 days after January 5, 2005, unless otherwise noted.
² This date is 30 days after November 13, 2009, unless otherwise noted.

37. Section 81.336 is amended as follows:

a. By revising the table heading for “Ohio—PM2.5” to read as set forth below.

b. By adding a new table entitled “Ohio—PM2.5 (24-Hour NAAQS)” to the end of the section.

§ 81.336 Ohio.

* * * * *

Ohio—PM2.5 (Annual NAAQS)

* * * * *

Ohio—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Canton-Massillon, OH:
Stark County |  | Unclassifiable/Attainment |  | Nonattainment.
Cleveland-Akron-Lorain, OH:
Cuyahoga County |  | Unclassifiable/Attainment |  | Nonattainment.
Lake County |  | Unclassifiable/Attainment |  | Nonattainment.
Lorain County |  | Unclassifiable/Attainment |  | Nonattainment.
Medina County |  | Unclassifiable/Attainment |  | Nonattainment.
Portage County |  | Unclassifiable/Attainment |  | Nonattainment.
Summit County |  | Unclassifiable/Attainment |  | Nonattainment.
Steubenville-Weirton, OH-WV:
Jefferson County |  | Unclassifiable/Attainment |  | Nonattainment.
Rest of State:
Adams County |  | Unclassifiable/Attainment |  | Unclassifiable/Attainment.
Allen County |  | Unclassifiable/Attainment |  | Unclassifiable/Attainment.
Ashland County |  | Unclassifiable/Attainment |  | Unclassifiable/Attainment.
Ashtabula County |  | Unclassifiable/Attainment |  | Unclassifiable/Attainment.
Athens County |  | Unclassifiable/Attainment |  | Unclassifiable/Attainment.
Auglaize County |  | Unclassifiable/Attainment |  | Unclassifiable/Attainment.
Belmont County |  | Unclassifiable/Attainment |  | Unclassifiable/Attainment.
Brown County |  | Unclassifiable/Attainment |  | Unclassifiable/Attainment.
Butler County |  | Unclassifiable/Attainment |  | Unclassifiable/Attainment.
Carroll County |  | Unclassifiable/Attainment |  | Unclassifiable/Attainment.
Champaign County |  | Unclassifiable/Attainment |  | Unclassifiable/Attainment.
Clark County |  | Unclassifiable/Attainment |  | Unclassifiable/Attainment.
Clermont County |  | Unclassifiable/Attainment |  | Unclassifiable/Attainment.
Clinton County |  | Unclassifiable/Attainment |  | Unclassifiable/Attainment.
Columbiana County |  | Unclassifiable/Attainment |  | Unclassifiable/Attainment.
Coshocton County |  | Unclassifiable/Attainment |  | Unclassifiable/Attainment.
Crawford County |  | Unclassifiable/Attainment |  | Unclassifiable/Attainment.
Darke County |  | Unclassifiable/Attainment |  | Unclassifiable/Attainment.
Defiance County |  | Unclassifiable/Attainment |  | Unclassifiable/Attainment.
Delaware County |  | Unclassifiable/Attainment |  | Unclassifiable/Attainment.
Erie County |  | Unclassifiable/Attainment |  | Unclassifiable/Attainment.
Fairfield County |  | Unclassifiable/Attainment |  | Unclassifiable/Attainment.
Fayette County |  | Unclassifiable/Attainment |  | Unclassifiable/Attainment.
Franklin County |  | Unclassifiable/Attainment |  | Unclassifiable/Attainment.
Fulton County |  | Unclassifiable/Attainment |  | Unclassifiable/Attainment.
Gallia County |  | Unclassifiable/Attainment |  | Unclassifiable/Attainment.
Geauga County |  | Unclassifiable/Attainment |  | Unclassifiable/Attainment.
Greene County |  | Unclassifiable/Attainment |  | Unclassifiable/Attainment.
Guernsey County |  | Unclassifiable/Attainment |  | Unclassifiable/Attainment.
Hamilton County |  | Unclassifiable/Attainment |  | Unclassifiable/Attainment.
Hancock County |  | Unclassifiable/Attainment |  | Unclassifiable/Attainment.
Hardin County |  | Unclassifiable/Attainment |  | Unclassifiable/Attainment.
Harrison County |  | Unclassifiable/Attainment |  | Unclassifiable/Attainment.
Henry County |  | Unclassifiable/Attainment |  | Unclassifiable/Attainment.
Highland County |  | Unclassifiable/Attainment |  | Unclassifiable/Attainment.
Hocking County |  | Unclassifiable/Attainment |  | Unclassifiable/Attainment.
Holmes County |  | Unclassifiable/Attainment |  | Unclassifiable/Attainment.
Huron County |  | Unclassifiable/Attainment |  | Unclassifiable/Attainment.
Jackson County |  | Unclassifiable/Attainment |  | Unclassifiable/Attainment.
Knox County |  | Unclassifiable/Attainment |  | Unclassifiable/Attainment.
Lawrence County |  | Unclassifiable/Attainment |  | Unclassifiable/Attainment.
Licking County |  | Unclassifiable/Attainment |  | Unclassifiable/Attainment.
Logan County |  | Unclassifiable/Attainment |  | Unclassifiable/Attainment.
Lucas County |  | Unclassifiable/Attainment |  | Unclassifiable/Attainment.
Madison County |  | Unclassifiable/Attainment |  | Unclassifiable/Attainment.
Mahoning County |  | Unclassifiable/Attainment |  | Unclassifiable/Attainment.
Marion County |  | Unclassifiable/Attainment |  | Unclassifiable/Attainment.
Meigs County |  | Unclassifiable/Attainment |  | Unclassifiable/Attainment.
Mercer County |  | Unclassifiable/Attainment |  | Unclassifiable/Attainment.
Miami County |  | Unclassifiable/Attainment |  | Unclassifiable/Attainment.
Monroe County |  | Unclassifiable/Attainment |  | Unclassifiable/Attainment.
Montgomery County |  | Unclassifiable/Attainment |  | Unclassifiable/Attainment.
Morgan County |  | Unclassifiable/Attainment |  | Unclassifiable/Attainment.
Morrow County |  | Unclassifiable/Attainment |  | Unclassifiable/Attainment.
Muskingum County |  | Unclassifiable/Attainment |  | Unclassifiable/Attainment.
Noble County |  | Unclassifiable/Attainment |  | Unclassifiable/Attainment.
Ottawa County |  | Unclassifiable/Attainment |  | Unclassifiable/Attainment.
Paulding County |  | Unclassifiable/Attainment |  | Unclassifiable/Attainment.
Perry County |  | Unclassifiable/Attainment |  | Unclassifiable/Attainment.
Pickaway County |  | Unclassifiable/Attainment |  | Unclassifiable/Attainment.
Pike County |  | Unclassifiable/Attainment |  | Unclassifiable/Attainment.
Preble County |  | Unclassifiable/Attainment |  | Unclassifiable/Attainment.
Putnam County |  | Unclassifiable/Attainment |  | Unclassifiable/Attainment.
Richland County |  | Unclassifiable/Attainment |  | Unclassifiable/Attainment.
Ross County |  | Unclassifiable/Attainment |  | Unclassifiable/Attainment.
Sandusky County |  | Unclassifiable/Attainment |  | Unclassifiable/Attainment.
Scioto County |  | Unclassifiable/Attainment |  | Unclassifiable/Attainment.
Seneca County |  | Unclassifiable/Attainment |  | Unclassifiable/Attainment.
Shelby County |  | Unclassifiable/Attainment |  | Unclassifiable/Attainment.
Trumbull County |  | Unclassifiable/Attainment |  | Unclassifiable/Attainment.
Tuscarawas County |  | Unclassifiable/Attainment |  | Unclassifiable/Attainment.
Union County |  | Unclassifiable/Attainment |  | Unclassifiable/Attainment.
Van Wert County |  | Unclassifiable/Attainment |  | Unclassifiable/Attainment.
Vinton County |  | Unclassifiable/Attainment |  | Unclassifiable/Attainment.
Warren County |  | Unclassifiable/Attainment |  | Unclassifiable/Attainment.
Washington County |  | Unclassifiable/Attainment |  | Unclassifiable/Attainment.
Wayne County |  | Unclassifiable/Attainment |  | Unclassifiable/Attainment.
Williams County |  | Unclassifiable/Attainment |  | Unclassifiable/Attainment.
Wood County |  | Unclassifiable/Attainment |  | Unclassifiable/Attainment.
Wyandot County |  | Unclassifiable/Attainment |  | Unclassifiable/Attainment.
ᵃ Includes Indian Country located in each county or area, except as otherwise specified.
¹ This date is 90 days after January 5, 2005, unless otherwise noted.
² This date is 30 days after November 13, 2009, unless otherwise noted.

38. Section 81.337 is amended as follows:

a. By revising the table heading for “Oklahoma—PM2.5” to read as set forth below.

b. By adding a new table entitled “Oklahoma—PM2.5 (24-Hour NAAQS)” to the end of the section.

§ 81.337 Oklahoma.

* * * * *

Oklahoma—PM2.5 (Annual NAAQS)

* * * * *

Oklahoma—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
AQCR 017 Metropolitan Fort Smith Interstate:
Adair County |  | Unclassifiable/Attainment |  | Unclassifiable/Attainment.
Cherokee County |  | Unclassifiable/Attainment |  | Unclassifiable/Attainment.
Le Flore County |  | Unclassifiable/Attainment |  | Unclassifiable/Attainment.
Sequoyah County |  | Unclassifiable/Attainment |  | Unclassifiable/Attainment.
AQCR 022 Shreveport-Texarkana-Tyler Intrastate:
McCurtain County |  | Unclassifiable/Attainment |  | Unclassifiable/Attainment.
AQCR 184 Central Oklahoma Intrastate:
Canadian County |  | Unclassifiable/Attainment |  | Unclassifiable/Attainment.
Cleveland County |  | Unclassifiable/Attainment |  | Unclassifiable/Attainment.
Grady County |  | Unclassifiable/Attainment |  | Unclassifiable/Attainment.
Kingfisher County |  | Unclassifiable/Attainment |  | Unclassifiable/Attainment.
Lincoln County |  | Unclassifiable/Attainment |  | Unclassifiable/Attainment.
Logan County |  | Unclassifiable/Attainment |  | Unclassifiable/Attainment.
McClain County |  | Unclassifiable/Attainment |  | Unclassifiable/Attainment.
Oklahoma County |  | Unclassifiable/Attainment |  | Unclassifiable/Attainment.
Pottawatomie County |  | Unclassifiable/Attainment |  | Unclassifiable/Attainment.
AQCR 185 North Central Oklahoma Intrastate:
Garfield County |  | Unclassifiable/Attainment |  | Unclassifiable/Attainment.
Grant County |  | Unclassifiable/Attainment |  | Unclassifiable/Attainment.
Kay County |  | Unclassifiable/Attainment |  | Unclassifiable/Attainment.
Noble County |  | Unclassifiable/Attainment |  | Unclassifiable/Attainment.
Payne County |  | Unclassifiable/Attainment |  | Unclassifiable/Attainment.
AQCR 186 Northeastern Oklahoma Intrastate:
Craig County |  | Unclassifiable/Attainment |  | Unclassifiable/Attainment.
Creek County |  | Unclassifiable/Attainment |  | Unclassifiable/Attainment.
Delaware County |  | Unclassifiable/Attainment |  | Unclassifiable/Attainment.
Mayes County |  | Unclassifiable/Attainment |  | Unclassifiable/Attainment.
Muskogee County |  | Unclassifiable/Attainment |  | Unclassifiable/Attainment.
Nowata County |  | Unclassifiable/Attainment |  | Unclassifiable/Attainment.
Okmulgee County |  | Unclassifiable/Attainment |  | Unclassifiable/Attainment.
Osage County |  | Unclassifiable/Attainment |  | Unclassifiable/Attainment.
Ottawa County |  | Unclassifiable/Attainment |  | Unclassifiable/Attainment.
Pawnee County |  | Unclassifiable/Attainment |  | Unclassifiable/Attainment.
Rogers County |  | Unclassifiable/Attainment |  | Unclassifiable/Attainment.
Tulsa County |  | Unclassifiable/Attainment |  | Unclassifiable/Attainment.
Wagoner County |  | Unclassifiable/Attainment |  | Unclassifiable/Attainment.
Washington County |  | Unclassifiable/Attainment |  | Unclassifiable/Attainment.
AQCR 187 Northwestern Oklahoma Intrastate:
Alfalfa County |  | Unclassifiable/Attainment |  | Unclassifiable/Attainment.
Beaver County |  | Unclassifiable/Attainment |  | Unclassifiable/Attainment.
Blaine County |  | Unclassifiable/Attainment |  | Unclassifiable/Attainment.
Cimarron County |  | Unclassifiable/Attainment |  | Unclassifiable/Attainment.
Custer County |  | Unclassifiable/Attainment |  | Unclassifiable/Attainment.
Dewey County |  | Unclassifiable/Attainment |  | Unclassifiable/Attainment.
Ellis County |  | Unclassifiable/Attainment |  | Unclassifiable/Attainment.
Harper County |  | Unclassifiable/Attainment |  | Unclassifiable/Attainment.
Major County |  | Unclassifiable/Attainment |  | Unclassifiable/Attainment.
Roger Mills County |  | Unclassifiable/Attainment |  | Unclassifiable/Attainment.
Texas County |  | Unclassifiable/Attainment |  | Unclassifiable/Attainment.
Woods County |  | Unclassifiable/Attainment |  | Unclassifiable/Attainment.
Woodward County |  | Unclassifiable/Attainment |  | Unclassifiable/Attainment.
AQCR 188 Southeastern Oklahoma Intrastate:
Atoka County |  | Unclassifiable/Attainment |  | Unclassifiable/Attainment.
Bryan County |  | Unclassifiable/Attainment |  | Unclassifiable/Attainment.
Carter County |  | Unclassifiable/Attainment |  | Unclassifiable/Attainment.
Choctaw County |  | Unclassifiable/Attainment |  | Unclassifiable/Attainment.
Coal County |  | Unclassifiable/Attainment |  | Unclassifiable/Attainment.
Garvin County |  | Unclassifiable/Attainment |  | Unclassifiable/Attainment.
Haskell County |  | Unclassifiable/Attainment |  | Unclassifiable/Attainment.
Hughes County |  | Unclassifiable/Attainment |  | Unclassifiable/Attainment.
Johnston County |  | Unclassifiable/Attainment |  | Unclassifiable/Attainment.
Latimer County |  | Unclassifiable/Attainment |  | Unclassifiable/Attainment.
Love County |  | Unclassifiable/Attainment |  | Unclassifiable/Attainment.
McIntosh County |  | Unclassifiable/Attainment |  | Unclassifiable/Attainment.
Marshall County |  | Unclassifiable/Attainment |  | Unclassifiable/Attainment.
Murray County |  | Unclassifiable/Attainment |  | Unclassifiable/Attainment.
Okfuskee County |  | Unclassifiable/Attainment |  | Unclassifiable/Attainment.
Pittsburg County |  | Unclassifiable/Attainment |  | Unclassifiable/Attainment.
Pontotoc County |  | Unclassifiable/Attainment |  | Unclassifiable/Attainment.
Pushmataha County |  | Unclassifiable/Attainment |  | Unclassifiable/Attainment.
Seminole County |  | Unclassifiable/Attainment |  | Unclassifiable/Attainment.
AQCR 189 Southwestern Oklahoma Intrastate:
Beckham County |  | Unclassifiable/Attainment |  | Unclassifiable/Attainment.
Caddo County |  | Unclassifiable/Attainment |  | Unclassifiable/Attainment.
Comanche County |  | Unclassifiable/Attainment |  | Unclassifiable/Attainment.
Cotton County |  | Unclassifiable/Attainment |  | Unclassifiable/Attainment.
Greer County |  | Unclassifiable/Attainment |  | Unclassifiable/Attainment.
Harmon County |  | Unclassifiable/Attainment |  | Unclassifiable/Attainment.
Jackson County |  | Unclassifiable/Attainment |  | Unclassifiable/Attainment.
Jefferson County |  | Unclassifiable/Attainment |  | Unclassifiable/Attainment.
Kiowa County |  | Unclassifiable/Attainment |  | Unclassifiable/Attainment.
Stephens County |  | Unclassifiable/Attainment |  | Unclassifiable/Attainment.
Tillman County |  | Unclassifiable/Attainment |  | Unclassifiable/Attainment.
Washita County |  | Unclassifiable/Attainment |  | Unclassifiable/Attainment.
ᵃ Includes Indian Country located in each county or area, except as otherwise specified.
¹ This date is 90 days after January 5, 2005, unless otherwise noted.
² This date is 30 days after November 13, 2009, unless otherwise noted.

39. Section 81.338 is amended as follows:

a. By revising the table heading for “Oregon—PM2.5” to read as set forth below.

b. By adding a new table entitled “Oregon—PM2.5 (24-Hour NAAQS)” to the end of the section.

§ 81.338 Oregon.

* * * * *

Oregon—PM2.5 (Annual NAAQS)

* * * * *

Oregon—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Klamath Falls, OR:
Klamath County (part) |  | Unclassifiable/Attainment |  | Nonattainment.
Townships and ranges defined by T37S R9E Sections 31-32. T38S R8E Sections 1-5, 8-16, 22-26, 35-36. T38S R9E Sections 5-8, 14-15, 17-36. T39S R8E Sections 1-2, 11-13, 24. T39S R9E Sections 1-27. T39S R10E Sections 3-10, 15-20, 29-30.
Oakridge, OR:
Lane County (part) |  | Unclassifiable/Attainment |  | Nonattainment.
Boundary is defined as a line from Township 21 South, Range 2 East, Section 11 (northwest corner) east to Township 21 South, Range 3 East, Section 11 (northeast corner), south to Township 21 South, Range 3 East, Section 23 (southeast corner), west to Township 21 South, Range 2 East, Section 23 (southwest corner) connecting back to Township 21 South, Range 2 East, Section 11 (northwest corner).
Rest of State:
Portland-Vancouver AQMA: (Air Quality Maintenance Area)
Clackamas County (part) |  | Unclassifiable/Attainment |  | Unclassifiable/Attainment.
Multnomah County (part) |  | Unclassifiable/Attainment |  | Unclassifiable/Attainment.
Washington County (part) |  | Unclassifiable/Attainment |  | Unclassifiable/Attainment.
Salem Area: (Salem Area Transportation Study):
Marion County (part) |  | Unclassifiable/Attainment |  | Unclassifiable/Attainment.
Polk County |  | Unclassifiable/Attainment |  | Unclassifiable/Attainment.
AQCR 190 Central Oregon Intrastate:
Crook County |  | Unclassifiable/Attainment |  | Unclassifiable/Attainment.
Deschutes County |  | Unclassifiable/Attainment |  | Unclassifiable/Attainment.
Hood River County |  | Unclassifiable/Attainment |  | Unclassifiable/Attainment.
Jefferson County |  | Unclassifiable/Attainment |  | Unclassifiable/Attainment.
Klamath County (remainder) |  | Unclassifiable/Attainment |  | Unclassifiable/Attainment.
Lake County |  | Unclassifiable/Attainment |  | Unclassifiable/Attainment.
Sherman County |  | Unclassifiable/Attainment |  | Unclassifiable/Attainment.
Wasco County |  | Unclassifiable/Attainment |  | Unclassifiable/Attainment.
AQCR 191 Eastern Oregon Intrastate:
Baker County |  | Unclassifiable/Attainment |  | Unclassifiable/Attainment.
Gilliam County |  | Unclassifiable/Attainment |  | Unclassifiable/Attainment.
Grant County |  | Unclassifiable/Attainment |  | Unclassifiable/Attainment.
Harney County |  | Unclassifiable/Attainment |  | Unclassifiable/Attainment.
Malheur County |  | Unclassifiable/Attainment |  | Unclassifiable/Attainment.
Morrow County |  | Unclassifiable/Attainment |  | Unclassifiable/Attainment.
Umatilla County |  | Unclassifiable/Attainment |  | Unclassifiable/Attainment.
Union County |  | Unclassifiable/Attainment |  | Unclassifiable/Attainment.
Wallowa County |  | Unclassifiable/Attainment |  | Unclassifiable/Attainment.
Wheeler County |  | Unclassifiable/Attainment |  | Unclassifiable/Attainment.
AQCR 192 Northwest Oregon Intrastate:
Clatsop County |  | Unclassifiable/Attainment |  | Unclassifiable/Attainment.
Lincoln County |  | Unclassifiable/Attainment |  | Unclassifiable/Attainment.
Tillamook County |  | Unclassifiable/Attainment |  | Unclassifiable/Attainment.
AQCR 193 Portland Interstate (part):
Lane County (part) |  | Unclassifiable/Attainment |  | Unclassifiable/Attainment.
Eugene Springfield Air Quality Maintenance AQCR 193 Portland Interstate:
Benton County |  | Unclassifiable/Attainment |  | Unclassifiable/Attainment.
Clackamas County (remainder) |  | Unclassifiable/Attainment |  | Unclassifiable/Attainment.
Columbia County |  | Unclassifiable/Attainment |  | Unclassifiable/Attainment.
Lane County (remainder) |  | Unclassifiable/Attainment |  | Unclassifiable/Attainment.
Linn County |  | Unclassifiable/Attainment |  | Unclassifiable/Attainment.
Marion County (part) |  | Unclassifiable/Attainment |  | Unclassifiable/Attainment.
The area outside the Salem Area Transportation Study
Multnomah County (remainder) |  | Unclassifiable/Attainment |  | Unclassifiable/Attainment.
Polk County (part) |  | Unclassifiable/Attainment |  | Unclassifiable/Attainment.
The area outside the Salem Area Transportation Study
Washington County (remainder) |  | Unclassifiable/Attainment |  | Unclassifiable/Attainment.
Yamhill County |  | Unclassifiable/Attainment |  | Unclassifiable/Attainment.
AQCR 194 Southwest Oregon Intrastate (part):
Jackson County (part) |  | Unclassifiable/Attainment |  | Unclassifiable/Attainment.
Medford-Ashland Air Quality Maintenance Area AQCR 194 Southwest Oregon Intrastate: (remainder of):
Coos County |  | Unclassifiable/Attainment |  | Unclassifiable/Attainment.
Curry County |  | Unclassifiable/Attainment |  | Unclassifiable/Attainment.
Douglas County |  | Unclassifiable/Attainment |  | Unclassifiable/Attainment.
Jackson County (remainder) |  | Unclassifiable/Attainment |  | Unclassifiable/Attainment.
Josephine County |  | Unclassifiable/Attainment |  | Unclassifiable/Attainment.
ᵃ Includes Indian Country located in each county or area, except as otherwise specified.
¹ This date is 90 days after January 5, 2005, unless otherwise noted.
² This date is 30 days after November 13, 2009, unless otherwise noted.

40. Section 81.339 is amended as follows:

a. By revising the table heading for “Pennsylvania—PM2.5” to read as set forth below.

b. By adding a new table entitled “Pennsylvania—PM2.5 (24-Hour NAAQS)” to the end of the section.

§ 81.339 Pennsylvania.

* * * * *

Pennsylvania—PM2.5 (Annual NAAQS)

* * * * *

Pennsylvania—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Allentown, PA:
Lehigh County |  | Unclassifiable/Attainment |  | Nonattainment.
Northampton County |  | Unclassifiable/Attainment |  | Nonattainment.
Harrisburg-Lebanon-Carlisle-York, PA:
Cumberland County |  | Unclassifiable/Attainment |  | Nonattainment.
Dauphin County |  | Unclassifiable/Attainment |  | Nonattainment.
Lebanon County |  | Unclassifiable/Attainment |  | Nonattainment.
York County |  | Unclassifiable/Attainment |  | Nonattainment.
Johnstown, PA:
Cambria County |  | Unclassifiable/Attainment |  | Nonattainment.
Indiana County (part) |  | Unclassifiable/Attainment |  | Nonattainment.
Townships of West Wheatfield, Center, East Wheatfield, and Armagh Borough and Homer City Borough
Lancaster, PA:
Lancaster County |  | Unclassifiable/Attainment |  | Nonattainment.
Liberty-Clairton, PA:
Allegheny County (part) |  | Unclassifiable/Attainment |  | Nonattainment.
Lincoln Borough, Clairton City, Glassport Borough, Liberty Borough, Port Vue Borough.
Philadelphia-Wilmington, PA-NJ-DE:
Bucks County |  | Unclassifiable/Attainment |  | Nonattainment.
Chester County |  | Unclassifiable/Attainment |  | Nonattainment.
Delaware County |  | Unclassifiable/Attainment |  | Nonattainment.
Montgomery County |  | Unclassifiable/Attainment |  | Nonattainment.
Philadelphia County |  | Unclassifiable/Attainment |  | Nonattainment.
Pittsburgh-Beaver Valley, PA:
Allegheny County (remainder) |  | Unclassifiable/Attainment |  | Nonattainment.
Armstrong County (part) |  | Unclassifiable/Attainment |  | Nonattainment.
Elderton Borough and Plumcreek and Washington Townships.
Beaver County |  | Unclassifiable/Attainment |  | Nonattainment.
Butler County |  | Unclassifiable/Attainment |  | Nonattainment.
Greene County (part) |  | Unclassifiable/Attainment |  | Nonattainment.
Monongahela Township.
Lawrence County (part) |  | Unclassifiable/Attainment |  | Nonattainment.
Township of Taylor south of New Castle City.
Washington County |  | Unclassifiable/Attainment |  | Nonattainment.
Westmoreland County |  | Unclassifiable/Attainment |  | Nonattainment.
Youngstown-Warren-Sharon, OH-PA:
Mercer County |  | Unclassifiable/Attainment |  | Unclassifiable/Attainment.
Rest of State:
AQCR 151 Northeast Pennsylvania-Upper Delaware Valley Interstate:
Berks County |  | Unclassifiable/Attainment |  | Unclassifiable/Attainment.
Bradford County |  | Unclassifiable/Attainment |  | Unclassifiable/Attainment.
Carbon County |  | Unclassifiable/Attainment |  | Unclassifiable/Attainment.
Lackawanna County |  | Unclassifiable/Attainment |  | Unclassifiable/Attainment.
Luzerne County |  | Unclassifiable/Attainment |  | Unclassifiable/Attainment.
Monroe County |  | Unclassifiable/Attainment |  | Unclassifiable/Attainment.
Pike County |  | Unclassifiable/Attainment |  | Unclassifiable/Attainment.
Schuylkill County |  | Unclassifiable/Attainment |  | Unclassifiable/Attainment.
Sullivan County |  | Unclassifiable/Attainment |  | Unclassifiable/Attainment.
Susquehanna County |  | Unclassifiable/Attainment |  | Unclassifiable/Attainment.
Tioga County |  | Unclassifiable/Attainment |  | Unclassifiable/Attainment.
Wayne County |  | Unclassifiable/Attainment |  | Unclassifiable/Attainment.
Wyoming County |  | Unclassifiable/Attainment |  | Unclassifiable/Attainment.
AQCR 178 Northwest Pennsylvania-Youngstown Interstate:
Cameron County |  | Unclassifiable/Attainment |  | Unclassifiable/Attainment.
Clarion County |  | Unclassifiable/Attainment |  | Unclassifiable/Attainment.
Clearfield County |  | Unclassifiable/Attainment |  | Unclassifiable/Attainment.
Crawford County |  | Unclassifiable/Attainment |  | Unclassifiable/Attainment.
Elk County |  | Unclassifiable/Attainment |  | Unclassifiable/Attainment.
Erie County |  | Unclassifiable/Attainment |  | Unclassifiable/Attainment.
Forest County |  | Unclassifiable/Attainment |  | Unclassifiable/Attainment.
Jefferson County |  | Unclassifiable/Attainment |  | Unclassifiable/Attainment.
Lawrence County (remainder) |  | Unclassifiable/Attainment |  | Unclassifiable/Attainment.
McKean County |  | Unclassifiable/Attainment |  | Unclassifiable/Attainment.
Potter County |  | Unclassifiable/Attainment |  | Unclassifiable/Attainment.
Venango County |  | Unclassifiable/Attainment |  | Unclassifiable/Attainment.
Warren County |  | Unclassifiable/Attainment |  | Unclassifiable/Attainment.
AQCR 195 Central Pennsylvania Intrastate:
Bedford County |  | Unclassifiable/Attainment |  | Unclassifiable/Attainment.
Blair County |  | Unclassifiable/Attainment |  | Unclassifiable/Attainment.
Centre County |  | Unclassifiable/Attainment |  | Unclassifiable/Attainment.
Clinton County |  | Unclassifiable/Attainment |  | Unclassifiable/Attainment.
Columbia County |  | Unclassifiable/Attainment |  | Unclassifiable/Attainment.
Fulton County |  | Unclassifiable/Attainment |  | Unclassifiable/Attainment.
Huntingdon County |  | Unclassifiable/Attainment |  | Unclassifiable/Attainment.
Juniata County |  | Unclassifiable/Attainment |  | Unclassifiable/Attainment.
Lycoming County |  | Unclassifiable/Attainment |  | Unclassifiable/Attainment.
Mifflin County |  | Unclassifiable/Attainment |  | Unclassifiable/Attainment.
Montour County |  | Unclassifiable/Attainment |  | Unclassifiable/Attainment.
Northumberland County |  | Unclassifiable/Attainment |  | Unclassifiable/Attainment.
Snyder County |  | Unclassifiable/Attainment |  | Unclassifiable/Attainment.
Somerset County |  | Unclassifiable/Attainment |  | Unclassifiable/Attainment.
Union County |  | Unclassifiable/Attainment |  | Unclassifiable/Attainment.
AQCR 196 South Central Pennsylvania Intrastate:
Adams County |  | Unclassifiable/Attainment |  | Unclassifiable/Attainment.
Franklin County |  | Unclassifiable/Attainment |  | Unclassifiable/Attainment.
Perry County |  | Unclassifiable/Attainment |  | Unclassifiable/Attainment.
AQCR 197 Southwest Pennsylvania Intrastate:
Armstrong County (remainder) |  | Unclassifiable/Attainment |  | Unclassifiable/Attainment.
Fayette County |  | Unclassifiable/Attainment |  | Unclassifiable/Attainment.
Greene County (remainder) |  | Unclassifiable/Attainment |  | Unclassifiable/Attainment.
Indiana County (remainder) |  | Unclassifiable/Attainment |  | Unclassifiable/Attainment.
ᵃ Includes Indian Country located in each county or area, except as otherwise specified.
¹ This date is 90 days after January 5, 2005, unless otherwise noted.
² This date is 30 days after November 13, 2009, unless otherwise noted.

41. Section 81.340 is amended as follows:

a. By revising the table heading for “Rhode Island—PM2.5” to read as set forth below.

b. By adding a new table entitled “Rhode Island—PM2.5 (24-Hour NAAQS)” to the end of the section.

§ 81.340 Rhode Island.

* * * * *

Rhode Island—PM2.5 (Annual NAAQS)

* * * * *

Rhode Island—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Bristol County |  | Unclassifiable/Attainment |  | Unclassifiable/Attainment.
Kent County |  | Unclassifiable/Attainment |  | Unclassifiable/Attainment.
Newport County |  | Unclassifiable/Attainment |  | Unclassifiable/Attainment.
Providence County |  | Unclassifiable/Attainment |  | Unclassifiable/Attainment.
Washington County |  | Unclassifiable/Attainment |  | Unclassifiable/Attainment.
ᵃ Includes Indian Country located in each county or area, except as otherwise specified.
¹ This date is 90 days after January 5, 2005, unless otherwise noted.
² This date is 30 days after November 13, 2009, unless otherwise noted.

42. Section 81.341 is amended as follows:

a. By revising the table heading for “South Carolina—PM2.5” to read as set forth below.

b. By adding a new table entitled “South Carolina—PM2.5 (24-Hour NAAQS)” to the end of the section.

§ 81.341 South Carolina.

* * * * *

South Carolina—PM2.5 (Annual NAAQS)

* * * * *

42. Section 81.341 is amended as follows:

a. By revising the table heading for “South Carolina

South Carolina—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Abbeville County |  | Unclassifiable/Attainment |  | Unclassifiable/Attainment.
Aiken County |  | Unclassifiable/Attainment |  | Unclassifiable/Attainment.
Allendale County |  | Unclassifiable/Attainment |  | Unclassifiable/Attainment.
Anderson County |  | Unclassifiable/Attainment |  | Unclassifiable/Attainment.
Bamberg County |  | Unclassifiable/Attainment |  | Unclassifiable/Attainment.
Barnwell County |  | Unclassifiable/Attainment |  | Unclassifiable/Attainment.
Beaufort County |  | Unclassifiable/Attainment |  | Unclassifiable/Attainment.
Berkeley County |  | Unclassifiable/Attainment |  | Unclassifiable/Attainment.
Calhoun County |  | Unclassifiable/Attainment |  | Unclassifiable/Attainment.
Charleston County |  | Unclassifiable/Attainment |  | Unclassifiable/Attainment.
Cherokee County |  | Unclassifiable/Attainment |  | Unclassifiable/Attainment.
Chester County |  | Unclassifiable/Attainment |  | Unclassifiable/Attainment.
Chesterfield County |  | Unclassifiable/Attainment |  | Unclassifiable/Attainment.
Clarendon County |  | Unclassifiable/Attainment |  | Unclassifiable/Attainment.
Colleton County |  | Unclassifiable/Attainment |  | Unclassifiable/Attainment.
Darlington County |  | Unclassifiable/Attainment |  | Unclassifiable/Attainment.
Dillon County |  | Unclassifiable/Attainment |  | Unclassifiable/Attainment.
Dorchester County |  | Unclassifiable/Attainment |  | Unclassifiable/Attainment.
Edgefield County |  | Unclassifiable/Attainment |  | Unclassifiable/Attainment.
Fairfield County |  | Unclassifiable/Attainment |  | Unclassifiable/Attainment.
Florence County |  | Unclassifiable/Attainment |  | Unclassifiable/Attainment.
Georgetown County |  | Unclassifiable/Attainment |  | Unclassifiable/Attainment.
Greenwood County |  | Unclassifiable/Attainment |  | Unclassifiable/Attainment.
Greenville County |  | Unclassifiable/Attainment |  | Unclassifiable/Attainment.
Hampton County |  | Unclassifiable/Attainment |  | Unclassifiable/Attainment.
Horry County |  | Unclassifiable/Attainment |  | Unclassifiable/Attainment.
Jasper County |  | Unclassifiable/Attainment |  | Unclassifiable/Attainment.
Kershaw County |  | Unclassifiable/Attainment |  | Unclassifiable/Attainment.
Lancaster County |  | Unclassifiable/Attainment |  | Unclassifiable/Attainment.
Laurens County |  | Unclassifiable/Attainment |  | Unclassifiable/Attainment.
Lee County |  | Unclassifiable/Attainment |  | Unclassifiable/Attainment.
Lexington County |  | Unclassifiable/Attainment |  | Unclassifiable/Attainment.
McCormick County |  | Unclassifiable/Attainment |  | Unclassifiable/Attainment.
Marion County |  | Unclassifiable/Attainment |  | Unclassifiable/Attainment.
Marlboro County |  | Unclassifiable/Attainment |  | Unclassifiable/Attainment.
Newberry County |  | Unclassifiable/Attainment |  | Unclassifiable/Attainment.
Oconee County |  | Unclassifiable/Attainment |  | Unclassifiable/Attainment.
Orangeburg County |  | Unclassifiable/Attainment |  | Unclassifiable/Attainment.
Pickens County |  | Unclassifiable/Attainment |  | Unclassifiable/Attainment.
Richland County |  | Unclassifiable/Attainment |  | Unclassifiable/Attainment.
Saluda County |  | Unclassifiable/Attainment |  | Unclassifiable/Attainment.
Spartanburg County |  | Unclassifiable/Attainment |  | Unclassifiable/Attainment.
Sumter County |  | Unclassifiable/Attainment |  | Unclassifiable/Attainment.
Union County |  | Unclassifiable/Attainment |  | Unclassifiable/Attainment.
Williamsburg County |  | Unclassifiable/Attainment |  | Unclassifiable/Attainment.
York County |  | Unclassifiable/Attainment |  | Unclassifiable/Attainment.
ᵃ Includes Indian Country located in each county or area, except as otherwise specified.
¹ This date is 90 days after January 5, 2005, unless otherwise noted.
² This date is 30 days after November 13, 2009, unless otherwise noted.

43. Section 81.342 is amended as follows:

a. By revising the table heading for “South Dakota—PM2.5” to read as set forth below.

b. By adding a new table entitled “South Dakota—PM2.5 (24-Hour NAAQS)” to the end of the section.

§ 81.342 South Dakota.

* * * * *

South Dakota—PM2.5 (Annual NAAQS)

* * * * *

South Dakota—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Aurora County |  | Unclassifiable/Attainment |  | Unclassifiable/Attainment.
Beadle County |  | Unclassifiable/Attainment |  | Unclassifiable/Attainment.
Bennett County |  | Unclassifiable/Attainment |  | Unclassifiable/Attainment.
Bon Homme County |  | Unclassifiable/Attainment |  | Unclassifiable/Attainment.
Brookings County |  | Unclassifiable/Attainment |  | Unclassifiable/Attainment.
Brown County |  | Unclassifiable/Attainment |  | Unclassifiable/Attainment.
Brule County |  | Unclassifiable/Attainment |  | Unclassifiable/Attainment.
Buffalo County |  | Unclassifiable/Attainment |  | Unclassifiable/Attainment.
Butte County |  | Unclassifiable/Attainment |  | Unclassifiable/Attainment.
Campbell County |  | Unclassifiable/Attainment |  | Unclassifiable/Attainment.
Charles Mix County |  | Unclassifiable/Attainment |  | Unclassifiable/Attainment.
Clark County |  | Unclassifiable/Attainment |  | Unclassifiable/Attainment.
Clay County |  | Unclassifiable/Attainment |  | Unclassifiable/Attainment.
Codington County |  | Unclassifiable/Attainment |  | Unclassifiable/Attainment.
Croson County |  | Unclassifiable/Attainment |  | Unclassifiable/Attainment.
Custer County |  | Unclassifiable/Attainment |  | Unclassifiable/Attainment.
Davison County |  | Unclassifiable/Attainment |  | Unclassifiable/Attainment.
Day County |  | Unclassifiable/Attainment |  | Unclassifiable/Attainment.
Deuel County |  | Unclassifiable/Attainment |  | Unclassifiable/Attainment.
Dewey County |  | Unclassifiable/Attainment |  | Unclassifiable/Attainment.
Douglas County |  | Unclassifiable/Attainment |  | Unclassifiable/Attainment.
Edmunds County |  | Unclassifiable/Attainment |  | Unclassifiable/Attainment.
Fall River County |  | Unclassifiable/Attainment |  | Unclassifiable/Attainment.
Faulk County |  | Unclassifiable/Attainment |  | Unclassifiable/Attainment.
Grant County |  | Unclassifiable/Attainment |  | Unclassifiable/Attainment.
Gregory County |  | Unclassifiable/Attainment |  | Unclassifiable/Attainment.
Haakon County |  | Unclassifiable/Attainment |  | Unclassifiable/Attainment.
Hamlin County |  | Unclassifiable/Attainment |  | Unclassifiable/Attainment.
Hand County |  | Unclassifiable/Attainment |  | Unclassifiable/Attainment.
Hanson County |  | Unclassifiable/Attainment |  | Unclassifiable/Attainment.
Harding County |  | Unclassifiable/Attainment |  | Unclassifiable/Attainment.
Hughes County |  | Unclassifiable/Attainment |  | Unclassifiable/Attainment.
Hutchinson County |  | Unclassifiable/Attainment |  | Unclassifiable/Attainment.
Hyde County |  | Unclassifiable/Attainment |  | Unclassifiable/Attainment.
Jackson County |  | Unclassifiable/Attainment |  | Unclassifiable/Attainment.
Jerauld County |  | Unclassifiable/Attainment |  | Unclassifiable/Attainment.
Jones County |  | Unclassifiable/Attainment |  | Unclassifiable/Attainment.
Kingsbury County |  | Unclassifiable/Attainment |  | Unclassifiable/Attainment.
Lake County |  | Unclassifiable/Attainment |  | Unclassifiable/Attainment.
Lawrence County |  | Unclassifiable/Attainment |  | Unclassifiable/Attainment.
Lincoln County |  | Unclassifiable/Attainment |  | Unclassifiable/Attainment.
Lyman County |  | Unclassifiable/Attainment |  | Unclassifiable/Attainment.
McCook County |  | Unclassifiable/Attainment |  | Unclassifiable/Attainment.
McPherson County |  | Unclassifiable/Attainment |  | Unclassifiable/Attainment.
Marshall County |  | Unclassifiable/Attainment |  | Unclassifiable/Attainment.
Meade County |  | Unclassifiable/Attainment |  | Unclassifiable/Attainment.
Mellette County |  | Unclassifiable/Attainment |  | Unclassifiable/Attainment.
Miner County |  | Unclassifiable/Attainment |  | Unclassifiable/Attainment.
Minnehaha County |  | Unclassifiable/Attainment |  | Unclassifiable/Attainment.
Moody County |  | Unclassifiable/Attainment |  | Unclassifiable/Attainment.
Pennington County |  | Unclassifiable/Attainment |  | Unclassifiable/Attainment.
Perkins County |  | Unclassifiable/Attainment |  | Unclassifiable/Attainment.
Potter County |  | Unclassifiable/Attainment |  | Unclassifiable/Attainment.
Roberts County |  | Unclassifiable/Attainment |  | Unclassifiable/Attainment.
Sanborn County |  | Unclassifiable/Attainment |  | Unclassifiable/Attainment.
Shannon County |  | Unclassifiable/Attainment |  | Unclassifiable/Attainment.
Spink County |  | Unclassifiable/Attainment |  | Unclassifiable/Attainment.
Stanley County |  | Unclassifiable/Attainment |  | Unclassifiable/Attainment.
Sully County |  | Unclassifiable/Attainment |  | Unclassifiable/Attainment.
Todd County |  | Unclassifiable/Attainment |  | Unclassifiable/Attainment.
Tripp County |  | Unclassifiable/Attainment |  | Unclassifiable/Attainment.
Turner County |  | Unclassifiable/Attainment |  | Unclassifiable/Attainment.
Union County |  | Unclassifiable/Attainment |  | Unclassifiable/Attainment.
Walworth County |  | Unclassifiable/Attainment |  | Unclassifiable/Attainment.
Yankton County |  | Unclassifiable/Attainment |  | Unclassifiable/Attainment.
Ziebach County |  | Unclassifiable/Attainment |  | Unclassifiable/Attainment.
ᵃ Includes Indian Country located in each county or area, except as otherwise specified.
¹ This date is 90 days after January 5, 2005, unless otherwise noted.
² This date is 30 days after November 13, 2009, unless otherwise noted.

44. Section 81.343 is amended as follows:

a. By revising the table heading for “Tennessee—PM2.5” to read as set forth below.

b. By adding a new table entitled “Tennessee—PM2.5 (24-Hour NAAQS)” to the end of the section.

§ 81.343 Tennessee.

* * * * *

Tennessee—PM2.5 (Annual NAAQS)

* * * * *

Tennessee—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Knoxville, TN:
Anderson County |  | Unclassifiable/Attainment |  | Nonattainment.
Blount County |  | Unclassifiable/Attainment |  | Nonattainment.
Knox County |  | Unclassifiable/Attainment |  | Nonattainment.
Loudon County |  | Unclassifiable/Attainment |  | Nonattainment.
Roane County (part) |  | Unclassifiable/Attainment |  | Nonattainment.
The area described by U.S. Census 2000 block group identifier 47-145-0307-2.
Rest of State:
Bedford County |  | Unclassifiable/Attainment |  | Unclassifiable/Attainment.
Benton County |  | Unclassifiable/Attainment |  | Unclassifiable/Attainment.
Bledsoe County |  | Unclassifiable/Attainment |  | Unclassifiable/Attainment.
Bradley County |  | Unclassifiable/Attainment |  | Unclassifiable/Attainment.
Campbell County |  | Unclassifiable/Attainment |  | Unclassifiable/Attainment.
Cannon County |  | Unclassifiable/Attainment |  | Unclassifiable/Attainment.
Carroll County |  | Unclassifiable/Attainment |  | Unclassifiable/Attainment.
Carter County |  | Unclassifiable/Attainment |  | Unclassifiable/Attainment.
Cheatham County |  | Unclassifiable/Attainment |  | Unclassifiable/Attainment.
Chester County |  | Unclassifiable/Attainment |  | Unclassifiable/Attainment.
Claiborne County |  | Unclassifiable/Attainment |  | Unclassifiable/Attainment.
Clay County |  | Unclassifiable/Attainment |  | Unclassifiable/Attainment.
Cocke County |  | Unclassifiable/Attainment |  | Unclassifiable/Attainment.
Coffee County |  | Unclassifiable/Attainment |  | Unclassifiable/Attainment.
Crockett County |  | Unclassifiable/Attainment |  | Unclassifiable/Attainment.
Cumberland County |  | Unclassifiable/Attainment |  | Unclassifiable/Attainment.
Davidson County |  | Unclassifiable/Attainment |  | Unclassifiable/Attainment.
Decatur County |  | Unclassifiable/Attainment |  | Unclassifiable/Attainment.
DeKalb County |  | Unclassifiable/Attainment |  | Unclassifiable/Attainment.
Dickson County |  | Unclassifiable/Attainment |  | Unclassifiable/Attainment.
Dyer County |  | Unclassifiable/Attainment |  | Unclassifiable/Attainment.
Fayette County |  | Unclassifiable/Attainment |  | Unclassifiable/Attainment.
Fentress County |  | Unclassifiable/Attainment |  | Unclassifiable/Attainment.
Franklin County |  | Unclassifiable/Attainment |  | Unclassifiable/Attainment.
Gibson County |  | Unclassifiable/Attainment |  | Unclassifiable/Attainment.
Giles County |  | Unclassifiable/Attainment |  | Unclassifiable/Attainment.
Grainger County |  | Unclassifiable/Attainment |  | Unclassifiable/Attainment.
Greene County |  | Unclassifiable/Attainment |  | Unclassifiable/Attainment.
Grundy County |  | Unclassifiable/Attainment |  | Unclassifiable/Attainment.
Hamblen County |  | Unclassifiable/Attainment |  | Unclassifiable/Attainment.
Hamilton County |  | Unclassifiable/Attainment |  | Unclassifiable/Attainment.
Hancock County |  | Unclassifiable/Attainment |  | Unclassifiable/Attainment.
Hardeman County |  | Unclassifiable/Attainment |  | Unclassifiable/Attainment.
Hardin County |  | Unclassifiable/Attainment |  | Unclassifiable/Attainment.
Hawkins County |  | Unclassifiable/Attainment |  | Unclassifiable/Attainment.
Haywood County |  | Unclassifiable/Attainment |  | Unclassifiable/Attainment.
Henderson County |  | Unclassifiable/Attainment |  | Unclassifiable/Attainment.
Henry County |  | Unclassifiable/Attainment |  | Unclassifiable/Attainment.
Hickman County |  | Unclassifiable/Attainment |  | Unclassifiable/Attainment.
Houston County |  | Unclassifiable/Attainment |  | Unclassifiable/Attainment.
Humphreys County |  | Unclassifiable/Attainment |  | Unclassifiable/Attainment.
Jackson County |  | Unclassifiable/Attainment |  | Unclassifiable/Attainment.
Jefferson County |  | Unclassifiable/Attainment |  | Unclassifiable/Attainment.
Johnson County |  | Unclassifiable/Attainment |  | Unclassifiable/Attainment.
Lake County |  | Unclassifiable/Attainment |  | Unclassifiable/Attainment.
Lauderdale County |  | Unclassifiable/Attainment |  | Unclassifiable/Attainment.
Lawrence County |  | Unclassifiable/Attainment |  | Unclassifiable/Attainment.
Lewis County |  | Unclassifiable/Attainment |  | Unclassifiable/Attainment.
Lincoln County |  | Unclassifiable/Attainment |  | Unclassifiable/Attainment.
McMinn County |  | Unclassifiable/Attainment |  | Unclassifiable/Attainment.
McNairy County |  | Unclassifiable/Attainment |  | Unclassifiable/Attainment.
Macon County |  | Unclassifiable/Attainment |  | Unclassifiable/Attainment.
Madison County |  | Unclassifiable/Attainment |  | Unclassifiable/Attainment.
Marion County |  | Unclassifiable/Attainment |  | Unclassifiable/Attainment.
Marshall County |  | Unclassifiable/Attainment |  | Unclassifiable/Attainment.
Maury County |  | Unclassifiable/Attainment |  | Unclassifiable/Attainment.
Meigs County |  | Unclassifiable/Attainment |  | Unclassifiable/Attainment.
Monroe County |  | Unclassifiable/Attainment |  | Unclassifiable/Attainment.
Montgomery County |  | Unclassifiable/Attainment |  | Unclassifiable/Attainment.
Moore County |  | Unclassifiable/Attainment |  | Unclassifiable/Attainment.
Morgan County |  | Unclassifiable/Attainment |  | Unclassifiable/Attainment.
Obion County |  | Unclassifiable/Attainment |  | Unclassifiable/Attainment.
Overton County |  | Unclassifiable/Attainment |  | Unclassifiable/Attainment.
Perry County |  | Unclassifiable/Attainment |  | Unclassifiable/Attainment.
Pickett County |  | Unclassifiable/Attainment |  | Unclassifiable/Attainment.
Polk County |  | Unclassifiable/Attainment |  | Unclassifiable/Attainment.
Putnam County |  | Unclassifiable/Attainment |  | Unclassifiable/Attainment.
Rhea County |  | Unclassifiable/Attainment |  | Unclassifiable/Attainment.
Roane County (remainder) |  | Unclassifiable/Attainment |  | Unclassifiable/Attainment.
Robertson County |  | Unclassifiable/Attainment |  | Unclassifiable/Attainment.
Rutherford County |  | Unclassifiable/Attainment |  | Unclassifiable/Attainment.
Scott County. |  | Unclassifiable/Attainment |  | Unclassifiable/Attainment.
Sequatchie County |  | Unclassifiable/Attainment |  | Unclassifiable/Attainment.
Sevier County |  | Unclassifiable/Attainment |  | Unclassifiable/Attainment.
Shelby County |  | Unclassifiable/Attainment |  | Unclassifiable/Attainment.
Smith County |  | Unclassifiable/Attainment |  | Unclassifiable/Attainment.
Stewart County |  | Unclassifiable/Attainment |  | Unclassifiable/Attainment.
Sullivan County |  | Unclassifiable/Attainment |  | Unclassifiable/Attainment.
Sumner County |  | Unclassifiable/Attainment |  | Unclassifiable/Attainment.
Tipton County |  | Unclassifiable/Attainment |  | Unclassifiable/Attainment.
Trousdale County |  | Unclassifiable/Attainment |  | Unclassifiable/Attainment.
Unicoi County |  | Unclassifiable/Attainment |  | Unclassifiable/Attainment.
Union County |  | Unclassifiable/Attainment |  | Unclassifiable/Attainment.
Van Buren County |  | Unclassifiable/Attainment |  | Unclassifiable/Attainment.
Warren County |  | Unclassifiable/Attainment |  | Unclassifiable/Attainment.
Washington County |  | Unclassifiable/Attainment |  | Unclassifiable/Attainment.
Wayne County |  | Unclassifiable/Attainment |  | Unclassifiable/Attainment.
Weakley County |  | Unclassifiable/Attainment |  | Unclassifiable/Attainment.
White County |  | Unclassifiable/Attainment |  | Unclassifiable/Attainment.
Williamson County |  | Unclassifiable/Attainment |  | Unclassifiable/Attainment.
Wilson County |  | Unclassifiable/Attainment |  | Unclassifiable/Attainment.
ᵃ Includes Indian Country located in each county or area, except as otherwise specified.
¹ This date is 90 days after January 5, 2005, unless otherwise noted.
² This date is 30 days after November 13, 2009, unless otherwise noted.

45. Section 81.344 is amended as follows:

a. By revising the table heading for “Texas—PM2.5” to read as set forth below.

b. By adding a new table entitled “Texas—PM2.5 (24-Hour NAAQS)” to the end of the section.

§ 81.344 Texas.

* * * * *

Texas—PM2.5 (Annual NAAQS)

* * * * *

Texas—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
AQCR 022 Shreveport-Texarkana-Tyler Interstate:
Anderson County |  | Unclassifiable/Attainment |  | Unclassifiable/Attainment.
Bowie County |  | Unclassifiable/Attainment |  | Unclassifiable/Attainment.
Camp County |  | Unclassifiable/Attainment |  | Unclassifiable/Attainment.
Cass County |  | Unclassifiable/Attainment |  | Unclassifiable/Attainment.
Cherokee County |  | Unclassifiable/Attainment |  | Unclassifiable/Attainment.
Delta County |  | Unclassifiable/Attainment |  | Unclassifiable/Attainment.
Franklin County |  | Unclassifiable/Attainment |  | Unclassifiable/Attainment.
Gregg County |  | Unclassifiable/Attainment |  | Unclassifiable/Attainment.
Harrison County |  | Unclassifiable/Attainment |  | Unclassifiable/Attainment.
Hopkins County |  | Unclassifiable/Attainment |  | Unclassifiable/Attainment.
Lamar County |  | Unclassifiable/Attainment |  | Unclassifiable/Attainment.
Marion County |  | Unclassifiable/Attainment |  | Unclassifiable/Attainment.
Morris County |  | Unclassifiable/Attainment |  | Unclassifiable/Attainment.
Panola County |  | Unclassifiable/Attainment |  | Unclassifiable/Attainment.
Rains County |  | Unclassifiable/Attainment |  | Unclassifiable/Attainment.
Red River County |  | Unclassifiable/Attainment |  | Unclassifiable/Attainment.
Rusk County |  | Unclassifiable/Attainment |  | Unclassifiable/Attainment.
Smith County |  | Unclassifiable/Attainment |  | Unclassifiable/Attainment.
Titus County |  | Unclassifiable/Attainment |  | Unclassifiable/Attainment.
Upshur County |  | Unclassifiable/Attainment |  | Unclassifiable/Attainment.
Van Zandt County |  | Unclassifiable/Attainment |  | Unclassifiable/Attainment.
Wood County |  | Unclassifiable/Attainment |  | Unclassifiable/Attainment.
AQCR 106 S Louisiana-SE Texas Interstate (remainder of):
Angelina County |  | Unclassifiable/Attainment |  | Unclassifiable/Attainment.
Houston County |  | Unclassifiable/Attainment |  | Unclassifiable/Attainment.
Jasper County |  | Unclassifiable/Attainment |  | Unclassifiable/Attainment.
Nacogdoches County |  | Unclassifiable/Attainment |  | Unclassifiable/Attainment.
Newton County |  | Unclassifiable/Attainment |  | Unclassifiable/Attainment.
Polk County |  | Unclassifiable/Attainment |  | Unclassifiable/Attainment.
Sabine County |  | Unclassifiable/Attainment |  | Unclassifiable/Attainment.
San Augustine County |  | Unclassifiable/Attainment |  | Unclassifiable/Attainment.
San Jacinto County |  | Unclassifiable/Attainment |  | Unclassifiable/Attainment.
Shelby County |  | Unclassifiable/Attainment |  | Unclassifiable/Attainment.
Trinity County |  | Unclassifiable/Attainment |  | Unclassifiable/Attainment.
Tyler County |  | Unclassifiable/Attainment |  | Unclassifiable/Attainment.
AQCR 153 El Paso-Las Cruces-Alamogordo Interstate:
Brewster County |  | Unclassifiable/Attainment |  | Unclassifiable/Attainment.
Culberson County |  | Unclassifiable/Attainment |  | Unclassifiable/Attainment.
El Paso County |  | Unclassifiable/Attainment |  | Unclassifiable/Attainment.
Hudspeth County |  | Unclassifiable/Attainment |  | Unclassifiable/Attainment.
Jeff Davis County |  | Unclassifiable/Attainment |  | Unclassifiable/Attainment.
Presidio County |  | Unclassifiable/Attainment |  | Unclassifiable/Attainment.
AQCR 210 Abilene-Wichita Falls Intrastate:
Archer County |  | Unclassifiable/Attainment |  | Unclassifiable/Attainment.
Baylor County |  | Unclassifiable/Attainment |  | Unclassifiable/Attainment.
Brown County |  | Unclassifiable/Attainment |  | Unclassifiable/Attainment.
Callahan County |  | Unclassifiable/Attainment |  | Unclassifiable/Attainment.
Clay County |  | Unclassifiable/Attainment |  | Unclassifiable/Attainment.
Coleman County |  | Unclassifiable/Attainment |  | Unclassifiable/Attainment.
Comanche County |  | Unclassifiable/Attainment |  | Unclassifiable/Attainment.
Cottle County |  | Unclassifiable/Attainment |  | Unclassifiable/Attainment.
Eastland County |  | Unclassifiable/Attainment |  | Unclassifiable/Attainment.
Fisher County |  | Unclassifiable/Attainment |  | Unclassifiable/Attainment.
Foard County |  | Unclassifiable/Attainment |  | Unclassifiable/Attainment.
Hardeman County |  | Unclassifiable/Attainment |  | Unclassifiable/Attainment.
Haskell County |  | Unclassifiable/Attainment |  | Unclassifiable/Attainment.
Jack County |  | Unclassifiable/Attainment |  | Unclassifiable/Attainment.
Jones County |  | Unclassifiable/Attainment |  | Unclassifiable/Attainment.
Kent County |  | Unclassifiable/Attainment |  | Unclassifiable/Attainment.
Knox County |  | Unclassifiable/Attainment |  | Unclassifiable/Attainment.
Mitchell County |  | Unclassifiable/Attainment |  | Unclassifiable/Attainment.
Montague County |  | Unclassifiable/Attainment |  | Unclassifiable/Attainment.
Nolan County |  | Unclassifiable/Attainment |  | Unclassifiable/Attainment.
Runnels County |  | Unclassifiable/Attainment |  | Unclassifiable/Attainment.
Scurry County |  | Unclassifiable/Attainment |  | Unclassifiable/Attainment.
Shackelford County |  | Unclassifiable/Attainment |  | Unclassifiable/Attainment.
Stephens County |  | Unclassifiable/Attainment |  | Unclassifiable/Attainment.
Stonewall County |  | Unclassifiable/Attainment |  | Unclassifiable/Attainment.
Taylor County |  | Unclassifiable/Attainment |  | Unclassifiable/Attainment.
Throckmorton County |  | Unclassifiable/Attainment |  | Unclassifiable/Attainment.
Wichita County |  | Unclassifiable/Attainment |  | Unclassifiable/Attainment.
Wilbarger County |  | Unclassifiable/Attainment |  | Unclassifiable/Attainment.
Young County |  | Unclassifiable/Attainment |  | Unclassifiable/Attainment.
AQCR 211 Amarillo-Lubbock Intrastate:
Armstrong County |  | Unclassifiable/Attainment |  | Unclassifiable/Attainment.
Bailey County |  | Unclassifiable/Attainment |  | Unclassifiable/Attainment.
Briscoe County |  | Unclassifiable/Attainment |  | Unclassifiable/Attainment.
Carson County |  | Unclassifiable/Attainment |  | Unclassifiable/Attainment.
Castro County |  | Unclassifiable/Attainment |  | Unclassifiable/Attainment.
Childress County |  | Unclassifiable/Attainment |  | Unclassifiable/Attainment.
Cochran County |  | Unclassifiable/Attainment |  | Unclassifiable/Attainment.
Collingsworth County |  | Unclassifiable/Attainment |  | Unclassifiable/Attainment.
Crosby County |  | Unclassifiable/Attainment |  | Unclassifiable/Attainment.
Dallam County |  | Unclassifiable/Attainment |  | Unclassifiable/Attainment.
Deaf Smith County |  | Unclassifiable/Attainment |  | Unclassifiable/Attainment.
Dickens County |  | Unclassifiable/Attainment |  | Unclassifiable/Attainment.
Donley County |  | Unclassifiable/Attainment |  | Unclassifiable/Attainment.
Floyd County |  | Unclassifiable/Attainment |  | Unclassifiable/Attainment.
Garza County |  | Unclassifiable/Attainment |  | Unclassifiable/Attainment.
Gray County |  | Unclassifiable/Attainment |  | Unclassifiable/Attainment.
Hale County |  | Unclassifiable/Attainment |  | Unclassifiable/Attainment.
Hall County |  | Unclassifiable/Attainment |  | Unclassifiable/Attainment.
Hansford County |  | Unclassifiable/Attainment |  | Unclassifiable/Attainment.
Hartley County |  | Unclassifiable/Attainment |  | Unclassifiable/Attainment.
Hemphill County |  | Unclassifiable/Attainment |  | Unclassifiable/Attainment.
Hockley County |  | Unclassifiable/Attainment |  | Unclassifiable/Attainment.
Hutchinson County |  | Unclassifiable/Attainment |  | Unclassifiable/Attainment.
King County |  | Unclassifiable/Attainment |  | Unclassifiable/Attainment.
Lamb County |  | Unclassifiable/Attainment |  | Unclassifiable/Attainment.
Lipscomb County |  | Unclassifiable/Attainment |  | Unclassifiable/Attainment.
Lubbock County |  | Unclassifiable/Attainment |  | Unclassifiable/Attainment.
Lynn County |  | Unclassifiable/Attainment |  | Unclassifiable/Attainment.
Moore County |  | Unclassifiable/Attainment |  | Unclassifiable/Attainment.
Motley County |  | Unclassifiable/Attainment |  | Unclassifiable/Attainment.
Ochiltree County |  | Unclassifiable/Attainment |  | Unclassifiable/Attainment.
Oldham County |  | Unclassifiable/Attainment |  | Unclassifiable/Attainment.
Parmer County |  | Unclassifiable/Attainment |  | Unclassifiable/Attainment.
Potter County |  | Unclassifiable/Attainment |  | Unclassifiable/Attainment.
Randall County |  | Unclassifiable/Attainment |  | Unclassifiable/Attainment.
Roberts County |  | Unclassifiable/Attainment |  | Unclassifiable/Attainment.
Sherman County |  | Unclassifiable/Attainment |  | Unclassifiable/Attainment.
Swisher County |  | Unclassifiable/Attainment |  | Unclassifiable/Attainment.
Terry County |  | Unclassifiable/Attainment |  | Unclassifiable/Attainment.
Wheeler County |  | Unclassifiable/Attainment |  | Unclassifiable/Attainment.
Yoakum County |  | Unclassifiable/Attainment |  | Unclassifiable/Attainment.
AQCR 212 Austin-Waco Intrastate:
Bastrop County |  | Unclassifiable/Attainment |  | Unclassifiable/Attainment.
Bell County |  | Unclassifiable/Attainment |  | Unclassifiable/Attainment.
Blanco County |  | Unclassifiable/Attainment |  | Unclassifiable/Attainment.
Bosque County |  | Unclassifiable/Attainment |  | Unclassifiable/Attainment.
Brazoe County |  | Unclassifiable/Attainment |  | Unclassifiable/Attainment.
Burleson County |  | Unclassifiable/Attainment |  | Unclassifiable/Attainment.
Burnet County |  | Unclassifiable/Attainment |  | Unclassifiable/Attainment.
Caldwell County |  | Unclassifiable/Attainment |  | Unclassifiable/Attainment.
Coryell County |  | Unclassifiable/Attainment |  | Unclassifiable/Attainment.
Falls County |  | Unclassifiable/Attainment |  | Unclassifiable/Attainment.
Fayette County |  | Unclassifiable/Attainment |  | Unclassifiable/Attainment.
Freestone County |  | Unclassifiable/Attainment |  | Unclassifiable/Attainment.
Grimes County |  | Unclassifiable/Attainment |  | Unclassifiable/Attainment.
Hamilton County |  | Unclassifiable/Attainment |  | Unclassifiable/Attainment.
Hays County |  | Unclassifiable/Attainment |  | Unclassifiable/Attainment.
Hill County |  | Unclassifiable/Attainment |  | Unclassifiable/Attainment.
Lampasas County |  | Unclassifiable/Attainment |  | Unclassifiable/Attainment.
Lee County |  | Unclassifiable/Attainment |  | Unclassifiable/Attainment.
Leon County |  | Unclassifiable/Attainment |  | Unclassifiable/Attainment.
Limestone County |  | Unclassifiable/Attainment |  | Unclassifiable/Attainment.
Llano County |  | Unclassifiable/Attainment |  | Unclassifiable/Attainment.
McLennan County |  | Unclassifiable/Attainment |  | Unclassifiable/Attainment.
Madison County |  | Unclassifiable/Attainment |  | Unclassifiable/Attainment.
Milam County |  | Unclassifiable/Attainment |  | Unclassifiable/Attainment.
Mills County |  | Unclassifiable/Attainment |  | Unclassifiable/Attainment.
Robertson County |  | Unclassifiable/Attainment |  | Unclassifiable/Attainment.
San Saba County |  | Unclassifiable/Attainment |  | Unclassifiable/Attainment.
Travis County |  | Unclassifiable/Attainment |  | Unclassifiable/Attainment.
Washington County |  | Unclassifiable/Attainment |  | Unclassifiable/Attainment.
Williamson County |  | Unclassifiable/Attainment |  | Unclassifiable/Attainment.
AQCR 213 Brownsville-Laredo Intrastate:
Cameron County |  | Unclassifiable/Attainment |  | Unclassifiable/Attainment.
Hidalgo County |  | Unclassifiable/Attainment |  | Unclassifiable/Attainment.
Jim Hogg County |  | Unclassifiable/Attainment |  | Unclassifiable/Attainment.
Starr County |  | Unclassifiable/Attainment |  | Unclassifiable/Attainment.
Webb County |  | Unclassifiable/Attainment |  | Unclassifiable/Attainment.
Willacy County |  | Unclassifiable/Attainment |  | Unclassifiable/Attainment.
Zapata County |  | Unclassifiable/Attainment |  | Unclassifiable/Attainment.
AQCR 214 Corpus Christi-Victoria Intrastate (part):
Nueces County |  | Unclassifiable/Attainment |  | Unclassifiable/Attainment.
AQCR 214 Corpus Christi-Victoria Intrastate (remainder of):
Aransas County |  | Unclassifiable/Attainment |  | Unclassifiable/Attainment.
Bee County |  | Unclassifiable/Attainment |  | Unclassifiable/Attainment.
Brooks County |  | Unclassifiable/Attainment |  | Unclassifiable/Attainment.
Calhoun County |  | Unclassifiable/Attainment |  | Unclassifiable/Attainment.
DeWitt County |  | Unclassifiable/Attainment |  | Unclassifiable/Attainment.
Duval County |  | Unclassifiable/Attainment |  | Unclassifiable/Attainment.
Goliad County |  | Unclassifiable/Attainment |  | Unclassifiable/Attainment.
Gonzales County |  | Unclassifiable/Attainment |  | Unclassifiable/Attainment.
Jackson County |  | Unclassifiable/Attainment |  | Unclassifiable/Attainment.
Jim Wells County |  | Unclassifiable/Attainment |  | Unclassifiable/Attainment.
Kenedy County |  | Unclassifiable/Attainment |  | Unclassifiable/Attainment.
Kleberg County |  | Unclassifiable/Attainment |  | Unclassifiable/Attainment.
Lavaca County |  | Unclassifiable/Attainment |  | Unclassifiable/Attainment.
Live Oak County |  | Unclassifiable/Attainment |  | Unclassifiable/Attainment.
McMullen County |  | Unclassifiable/Attainment |  | Unclassifiable/Attainment.
Refugio County |  | Unclassifiable/Attainment |  | Unclassifiable/Attainment.
San Patricio County |  | Unclassifiable/Attainment |  | Unclassifiable/Attainment.
AQCR 215 Metro Dallas-Fort Worth Intrastate (remainder of):
Cooke County |  | Unclassifiable/Attainment |  | Unclassifiable/Attainment.
Erath County |  | Unclassifiable/Attainment |  | Unclassifiable/Attainment.
Fannin County |  | Unclassifiable/Attainment |  | Unclassifiable/Attainment.
Grayson County |  | Unclassifiable/Attainment |  | Unclassifiable/Attainment.
Henderson County |  | Unclassifiable/Attainment |  | Unclassifiable/Attainment.
Hood County |  | Unclassifiable/Attainment |  | Unclassifiable/Attainment.
Hunt County |  | Unclassifiable/Attainment |  | Unclassifiable/Attainment.
Navarro County |  | Unclassifiable/Attainment |  | Unclassifiable/Attainment.
Palo Pinto County |  | Unclassifiable/Attainment |  | Unclassifiable/Attainment.
Somervell County |  | Unclassifiable/Attainment |  | Unclassifiable/Attainment.
Wise County |  | Unclassifiable/Attainment |  | Unclassifiable/Attainment.
AQCR 216 Metro Houston-Galveston Intrastate (remainder of):
Austin County |  | Unclassifiable/Attainment |  | Unclassifiable/Attainment.
Colorado County |  | Unclassifiable/Attainment |  | Unclassifiable/Attainment.
Matagorda County |  | Unclassifiable/Attainment |  | Unclassifiable/Attainment.
Walker County |  | Unclassifiable/Attainment |  | Unclassifiable/Attainment.
Wharton County |  | Unclassifiable/Attainment |  | Unclassifiable/Attainment.
AQCR 217 Metro San Antonio Intrastate (remainder of):
Atascosa County |  | Unclassifiable/Attainment |  | Unclassifiable/Attainment.
Bandera County |  | Unclassifiable/Attainment |  | Unclassifiable/Attainment.
Dimmit County |  | Unclassifiable/Attainment |  | Unclassifiable/Attainment.
Edwards County |  | Unclassifiable/Attainment |  | Unclassifiable/Attainment.
Frio County |  | Unclassifiable/Attainment |  | Unclassifiable/Attainment.
Gillespie County |  | Unclassifiable/Attainment |  | Unclassifiable/Attainment.
Karnes County |  | Unclassifiable/Attainment |  | Unclassifiable/Attainment.
Kendall County |  | Unclassifiable/Attainment |  | Unclassifiable/Attainment.
Kerr County |  | Unclassifiable/Attainment |  | Unclassifiable/Attainment.
Kinney County |  | Unclassifiable/Attainment |  | Unclassifiable/Attainment.
La Salle County |  | Unclassifiable/Attainment |  | Unclassifiable/Attainment.
Maverick County |  | Unclassifiable/Attainment |  | Unclassifiable/Attainment.
Medina County |  | Unclassifiable/Attainment |  | Unclassifiable/Attainment.
Real County |  | Unclassifiable/Attainment |  | Unclassifiable/Attainment.
Uvalde County |  | Unclassifiable/Attainment |  | Unclassifiable/Attainment.
Val Verde County |  | Unclassifiable/Attainment |  | Unclassifiable/Attainment.
Wilson County |  | Unclassifiable/Attainment |  | Unclassifiable/Attainment.
Zavala County |  | Unclassifiable/Attainment |  | Unclassifiable/Attainment.
AQCR 218 Midland-Odessa-San Angelo Intrastate (part):
Ector County |  | Unclassifiable/Attainment |  | Unclassifiable/Attainment.
AQCR 218 Midland-Odessa-San Angelo Intrastate (remainder of):
Andrews County |  | Unclassifiable/Attainment |  | Unclassifiable/Attainment.
Borden County |  | Unclassifiable/Attainment |  | Unclassifiable/Attainment.
Coke County |  | Unclassifiable/Attainment |  | Unclassifiable/Attainment.
Concho County |  | Unclassifiable/Attainment |  | Unclassifiable/Attainment.
Crane County |  | Unclassifiable/Attainment |  | Unclassifiable/Attainment.
Crockett County |  | Unclassifiable/Attainment |  | Unclassifiable/Attainment.
Dawson County |  | Unclassifiable/Attainment |  | Unclassifiable/Attainment.
Gaines County |  | Unclassifiable/Attainment |  | Unclassifiable/Attainment.
Glasscock County |  | Unclassifiable/Attainment |  | Unclassifiable/Attainment.
Howard County |  | Unclassifiable/Attainment |  | Unclassifiable/Attainment.
Irion County |  | Unclassifiable/Attainment |  | Unclassifiable/Attainment.
Kimble County |  | Unclassifiable/Attainment |  | Unclassifiable/Attainment.
Loving County |  | Unclassifiable/Attainment |  | Unclassifiable/Attainment.
McCulloch County |  | Unclassifiable/Attainment |  | Unclassifiable/Attainment.
Martin County |  | Unclassifiable/Attainment |  | Unclassifiable/Attainment.
Mason County |  | Unclassifiable/Attainment |  | Unclassifiable/Attainment.
Menard County |  | Unclassifiable/Attainment |  | Unclassifiable/Attainment.
Midland County |  | Unclassifiable/Attainment |  | Unclassifiable/Attainment.
Pecos County |  | Unclassifiable/Attainment |  | Unclassifiable/Attainment.
Reagan County |  | Unclassifiable/Attainment |  | Unclassifiable/Attainment.
Reeves County |  | Unclassifiable/Attainment |  | Unclassifiable/Attainment.
Schleicher County |  | Unclassifiable/Attainment |  | Unclassifiable/Attainment.
Sterling County |  | Unclassifiable/Attainment |  | Unclassifiable/Attainment.
Sutton County |  | Unclassifiable/Attainment |  | Unclassifiable/Attainment.
Terrell County |  | Unclassifiable/Attainment |  | Unclassifiable/Attainment.
Tom Green County |  | Unclassifiable/Attainment |  | Unclassifiable/Attainment.
Upton County |  | Unclassifiable/Attainment |  | Unclassifiable/Attainment.
Ward County |  | Unclassifiable/Attainment |  | Unclassifiable/Attainment.
Winkler County |  | Unclassifiable/Attainment |  | Unclassifiable/Attainment.
Beaumont/Port Arthur, TX:
Hardin County |  | Unclassifiable/Attainment |  | Unclassifiable/Attainment.
Jefferson County |  | Unclassifiable/Attainment |  | Unclassifiable/Attainment.
Orange County |  | Unclassifiable/Attainment |  | Unclassifiable/Attainment.
Dallas-Fort Worth, TX:
Collin County |  | Unclassifiable/Attainment |  | Unclassifiable/Attainment.
Dallas County |  | Unclassifiable/Attainment |  | Unclassifiable/Attainment.
Denton County |  | Unclassifiable/Attainment |  | Unclassifiable/Attainment.
Ellis County |  | Unclassifiable/Attainment |  | Unclassifiable/Attainment.
Johnson County |  | Unclassifiable/Attainment |  | Unclassifiable/Attainment.
Kaufman County |  | Unclassifiable/Attainment |  | Unclassifiable/Attainment.
Parker County |  | Unclassifiable/Attainment |  | Unclassifiable/Attainment.
Rockwell County |  | Unclassifiable/Attainment |  | Unclassifiable/Attainment.
Tarrant County |  | Unclassifiable/Attainment |  | Unclassifiable/Attainment.
Houston-Galveston-Brazoria, TX:
Brazoria County |  | Unclassifiable/Attainment |  | Unclassifiable/Attainment.
Chambers County |  | Unclassifiable/Attainment |  | Unclassifiable/Attainment.
Fort Bend County |  | Unclassifiable/Attainment |  | Unclassifiable/Attainment.
Galveston County |  | Unclassifiable/Attainment |  | Unclassifiable/Attainment.
Harris County |  | Unclassifiable/Attainment |  | Unclassifiable/Attainment.
Liberty County |  | Unclassifiable/Attainment |  | Unclassifiable/Attainment.
Montgomery County |  | Unclassifiable/Attainment |  | Unclassifiable/Attainment.
Waller County |  | Unclassifiable/Attainment |  | Unclassifiable/Attainment.
San Antonio, TX:
Bexar County |  | Unclassifiable/Attainment |  | Unclassifiable/Attainment.
Comal County |  | Unclassifiable/Attainment |  | Unclassifiable/Attainment.
Guadalupe County |  | Unclassifiable/Attainment |  | Unclassifiable/Attainment.
Victoria Area:
Victoria County |  | Unclassifiable/Attainment |  | Unclassifiable/Attainment.
ᵃ Includes Indian Country located in each county or area, except as otherwise specified.
¹ This date is 90 days after January 5, 2005, unless otherwise noted.
² This date is 30 days after November 13, 2009, unless otherwise noted.

46. Section 81.345 is amended as follows:

a. By revising the table heading for “Utah—PM2.5” to read as set forth below.

b. By adding a new table entitled “Utah—PM2.5 (24-Hour NAAQS)” to the end of the section.

§ 81.345 Utah.

* * * * *

Utah—PM2.5 (Annual NAAQS)

* * * * *

Utah—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Logan, UT-ID:
Cache County (part) |  | Unclassifiable/Attainment |  | Nonattainment.
All portions of Cache County west of and including any portion of the following townships located within Utah: Township 15 North Range 1 East; Township 14 North Range 1 East; Township 13 North Range 1 East; Township 12 North Range 1 East; Township 11 North Range 1 East; Township 10 North Range 1 East; Township 9 North Range 1 East.
Provo, UT:
Utah County (part) |  | Unclassifiable/Attainment |  | Nonattainment.
The area of Utah County that lies west of the Wasatch Mountain Range (and this includes the Cities of Provo and Orem) with an eastern boundary for Utah County to be defined as the following Townships: Township 3 South Range 1 East; Township 4 South Range 2 East; Township 5 South Range 3 East; Township 6 South Range 3 East; Township 7 South Range 3 East; Township 8 South Range 3 East; Township 9 South Range 3 East; Township 10 South Range 2 East.
Salt Lake City, UT:
Box Elder County (part) |  | Unclassifiable/Attainment |  | Nonattainment.
The following Townships or portions thereof as noted (including Brigham City): Township 7 North Range 2 West; Township 8 North Range 2 West; Township 9 North Range 2 West; Township 10 North Range 2 West; Township 11 North Range 2 West; Township 12 North Range 2 West; Township 13 North Range 2 West; Township 9 North Range 3 West; Township 10 North Range 3 West; Township 11 North Range 3 West; Township 12 North Range 3 West; Township 13 North Range 3 West; Township 13 North Range 4 West; Township 12 North Range 4 West; Township 11 North Range 4 West; Township 10 North Range 4 West; Township 9 North Range 4 West; Township 13 North Range 5 West; Township 12 North Range 5 West; Township 11 North Range 5 West; Township 10 North Range 5 West; Township 9 North Range 5 West; Township 13 North Range 6 West; Township 12 North Range 6 West; Township 11 North Range 6 West; Township 10 North Range 6 West; Township 9 North Range 6 West; Township 7 North Range 1 West (portion located in Box Elder County); Township 8 North Range 1 West (portion located in Box Elder County); Township 9 North Range 1 West (portion located in Box Elder County).
Davis County |  | Unclassifiable/Attainment |  | Nonattainment.
Salt Lake County |  | Unclassifiable/Attainment |  | Nonattainment.
Tooele County (part) |  | Unclassifiable/Attainment |  | Nonattainment.
The following Townships or portions thereof as noted (including Tooele City: Township 1 South Range 3 West; Township 2 South Range 3 West; Township 3 South Range 3 West; Township 3 South Range 4 West; Township 2 South Range 4 West; Township 2 South Range 5 West; Township 3 South Range 5 West; Township 3 South Range 6 West; Township 2 South Range 6 West; Township 1 South Range 6 West; Township 1 South Range 5 West; Township 1 South Range 4 West; Township 1 South Range 7 West; Township 2 South Range 7 West; Township 3 South Range 7 West; all Sections within Township 4 South Range 7 West except for Sections 29, 30, 31 and 32; Township 4 South Range 6 West; Township 4 South Range 5 West; Township 4 South Range 4 West; Township 4 South Range 3 West.
Weber County (part) |  | Unclassifiable/Attainment |  | Nonattainment.
The area of Weber County that lies west of the Wasatch Mountain Range with an eastern boundary for Weber County to be defined as the following Townships (or portion thereof) extending to the western boundary of Weber County: Township 5 North Range 1 West; Township 6 North Range 1 West; all Sections within Township 7 North Range 1 West located within Weber County except for Sections 1, 2, 3, 4, 11, 12, 13 and 24; Township 7 North Range 2 West (portion located in Weber County).
Rest of State:
Beaver County |  | Unclassifiable/Attainment |  | Unclassifiable/Attainment.
Box Elder County (remainder) |  | Unclassifiable/Attainment |  | Unclassifiable/Attainment.
Cache County (remainder) |  | Unclassifiable/Attainment |  | Unclassifiable/Attainment.
Carbon County |  | Unclassifiable/Attainment |  | Unclassifiable/Attainment.
Daggett County |  | Unclassifiable/Attainment |  | Unclassifiable/Attainment.
Duchesne County |  | Unclassifiable/Attainment |  | Unclassifiable/Attainment.
Emery County |  | Unclassifiable/Attainment |  | Unclassifiable/Attainment.
Garfield County |  | Unclassifiable/Attainment |  | Unclassifiable/Attainment.
Grand County |  | Unclassifiable/Attainment |  | Unclassifiable/Attainment.
Iron County |  | Unclassifiable/Attainment |  | Unclassifiable/Attainment.
Juab County |  | Unclassifiable/Attainment |  | Unclassifiable/Attainment.
Kane County |  | Unclassifiable/Attainment |  | Unclassifiable/Attainment.
Millard County |  | Unclassifiable/Attainment |  | Unclassifiable/Attainment.
Morgan County |  | Unclassifiable/Attainment |  | Unclassifiable/Attainment.
Piute County |  | Unclassifiable/Attainment |  | Unclassifiable/Attainment.
Rich County |  | Unclassifiable/Attainment |  | Unclassifiable/Attainment.
San Juan County |  | Unclassifiable/Attainment |  | Unclassifiable/Attainment.
Sanpete County |  | Unclassifiable/Attainment |  | Unclassifiable/Attainment.
Sevier County |  | Unclassifiable/Attainment |  | Unclassifiable/Attainment.
Summit County |  | Unclassifiable/Attainment |  | Unclassifiable/Attainment.
Tooele County (remainder) |  | Unclassifiable/Attainment |  | Unclassifiable/Attainment.
Uintah County |  | Unclassifiable/Attainment |  | Unclassifiable/Attainment.
Utah County (remainder) |  | Unclassifiable/Attainment |  | Unclassifiable/Attainment.
Wasatch County |  | Unclassifiable/Attainment |  | Unclassifiable/Attainment.
Washington County |  | Unclassifiable/Attainment |  | Unclassifiable/Attainment.
Wayne County |  | Unclassifiable/Attainment |  | Unclassifiable/Attainment.
Weber County (remainder) |  | Unclassifiable/Attainment |  | Unclassifiable/Attainment.
ᵃ Includes Indian Country located in each county or area, except as otherwise specified.
¹ This date is 90 days after January 5, 2005, unless otherwise noted.
² This date is 30 days after November 13, 2009, unless otherwise noted.

47. Section 81.346 is amended as follows:

a. By revising the table heading for “Vermont—PM2.5” to read as set forth below.

b. By adding a new table entitled “Vermont—PM2.5 (24-Hour NAAQS)” to the end of the section.

§ 81.346 Vermont.

* * * * *

Vermont—PM2.5 (Annual NAAQS)

* * * * *

Vermont—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Statewide:
Addison County |  | Unclassifiable Attainment |  | Unclassifiable/Attainment.
Bennington County |  | Unclassifiable Attainment |  | Unclassifiable/Attainment.
Caledonia County |  | Unclassifiable Attainment |  | Unclassifiable/Attainment.
Chittenden County |  | Unclassifiable Attainment |  | Unclassifiable/Attainment.
Essex County |  | Unclassifiable Attainment |  | Unclassifiable/Attainment.
Franklin County |  | Unclassifiable Attainment |  | Unclassifiable/Attainment.
Grand Isle County |  | Unclassifiable Attainment |  | Unclassifiable/Attainment.
Lamoille County |  | Unclassifiable Attainment |  | Unclassifiable/Attainment.
Orange County |  | Unclassifiable Attainment |  | Unclassifiable/Attainment.
Orleans County |  | Unclassifiable Attainment |  | Unclassifiable/Attainment.
Rutland County |  | Unclassifiable Attainment |  | Unclassifiable/Attainment.
Washington County |  | Unclassifiable Attainment |  | Unclassifiable/Attainment.
Windham County |  | Unclassifiable Attainment |  | Unclassifiable/Attainment.
Windsor County |  | Unclassifiable Attainment |  | Unclassifiable/Attainment.
ᵃ Includes Indian Country located in each county or area, except as otherwise specified.
¹ This date is 90 days after January 5, 2005, unless otherwise noted.
² This date is 30 days after November 13, 2009, unless otherwise noted.

48. Section 81.347 is amended as follows:

a. By revising the table heading for “Virginia—PM2.5” to read as set forth below.

b. By adding a new table entitled “Virginia—PM2.5 (24-Hour NAAQS)” to the end of the section.

§ 81.347 Virginia.

* * * * *

Virginia—PM2.5 (Annual NAAQS)

* * * * *

Virginia—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
AQCR 047 National Capital Interstate (DC-MD-VA) (part):
Arlington County |  | Unclassifiable/Attainment |  | Unclassifiable/Attainment.
Fairfax County |  | Unclassifiable/Attainment |  | Unclassifiable/Attainment.
Loudoun County |  | Unclassifiable/Attainment |  | Unclassifiable/Attainment.
Prince William County |  | Unclassifiable/Attainment |  | Unclassifiable/Attainment.
Alexandria City |  | Unclassifiable/Attainment |  | Unclassifiable/Attainment.
Fairfax City |  | Unclassifiable/Attainment |  | Unclassifiable/Attainment.
Falls Church City |  | Unclassifiable/Attainment |  | Unclassifiable/Attainment.
Manassas City |  | Unclassifiable/Attainment |  | Unclassifiable/Attainment.
Manassas Park City |  | Unclassifiable/Attainment |  | Unclassifiable/Attainment.
AQCR 207 Eastern Tennessee-SW Virginia Interstate (remainder of):
Bland County |  | Unclassifiable/Attainment |  | Unclassifiable/Attainment.
Buchanan County |  | Unclassifiable/Attainment |  | Unclassifiable/Attainment.
Carroll County |  | Unclassifiable/Attainment |  | Unclassifiable/Attainment.
Dickenson County |  | Unclassifiable/Attainment |  | Unclassifiable/Attainment.
Grayson County |  | Unclassifiable/Attainment |  | Unclassifiable/Attainment.
Lee County |  | Unclassifiable/Attainment |  | Unclassifiable/Attainment.
Russell County |  | Unclassifiable/Attainment |  | Unclassifiable/Attainment.
Scott County |  | Unclassifiable/Attainment |  | Unclassifiable/Attainment.
Smyth County |  | Unclassifiable/Attainment |  | Unclassifiable/Attainment.
Tazewell County |  | Unclassifiable/Attainment |  | Unclassifiable/Attainment.
Washington County |  | Unclassifiable/Attainment |  | Unclassifiable/Attainment.
Wise County |  | Unclassifiable/Attainment |  | Unclassifiable/Attainment.
Wythe County |  | Unclassifiable/Attainment |  | Unclassifiable/Attainment.
Bristol City |  | Unclassifiable/Attainment |  | Unclassifiable/Attainment.
Galax City |  | Unclassifiable/Attainment |  | Unclassifiable/Attainment.
Norton City |  | Unclassifiable/Attainment |  | Unclassifiable/Attainment.
AQCR 222 Central Virginia Intrastate:
Amelia County |  | Unclassifiable/Attainment |  | Unclassifiable/Attainment.
Amherst County |  | Unclassifiable/Attainment |  | Unclassifiable/Attainment.
Appomattox County |  | Unclassifiable/Attainment |  | Unclassifiable/Attainment.
Bedford County |  | Unclassifiable/Attainment |  | Unclassifiable/Attainment.
Brunswick County |  | Unclassifiable/Attainment |  | Unclassifiable/Attainment.
Buckingham County |  | Unclassifiable/Attainment |  | Unclassifiable/Attainment.
Campbell County |  | Unclassifiable/Attainment |  | Unclassifiable/Attainment.
Charlotte County |  | Unclassifiable/Attainment |  | Unclassifiable/Attainment.
Cumberland County |  | Unclassifiable/Attainment |  | Unclassifiable/Attainment.
Franklin County |  | Unclassifiable/Attainment |  | Unclassifiable/Attainment.
Halifax County |  | Unclassifiable/Attainment |  | Unclassifiable/Attainment.
Henry County |  | Unclassifiable/Attainment |  | Unclassifiable/Attainment.
Lunenburg County |  | Unclassifiable/Attainment |  | Unclassifiable/Attainment.
Mecklenburg County |  | Unclassifiable/Attainment |  | Unclassifiable/Attainment.
Nottoway County |  | Unclassifiable/Attainment |  | Unclassifiable/Attainment.
Patrick County |  | Unclassifiable/Attainment |  | Unclassifiable/Attainment.
Pittsylvania County |  | Unclassifiable/Attainment |  | Unclassifiable/Attainment.
Prince Edward County |  | Unclassifiable/Attainment |  | Unclassifiable/Attainment.
Bedford City |  | Unclassifiable/Attainment |  | Unclassifiable/Attainment.
Danville City |  | Unclassifiable/Attainment |  | Unclassifiable/Attainment.
Lynchburg City |  | Unclassifiable/Attainment |  | Unclassifiable/Attainment.
Martinsville City |  | Unclassifiable/Attainment |  | Unclassifiable/Attainment.
AQCR 223 Hampton Roads Intrastate (remainder of):
Southampton County |  | Unclassifiable/Attainment |  | Unclassifiable/Attainment.
Franklin City |  | Unclassifiable/Attainment |  | Unclassifiable/Attainment.
AQCR 224 NE Virginia Intrastate (remainder of):
Accomack County |  | Unclassifiable/Attainment |  | Unclassifiable/Attainment.
Albemarle County |  | Unclassifiable/Attainment |  | Unclassifiable/Attainment.
Caroline County |  | Unclassifiable/Attainment |  | Unclassifiable/Attainment.
Culpeper County |  | Unclassifiable/Attainment |  | Unclassifiable/Attainment.
Essex County |  | Unclassifiable/Attainment |  | Unclassifiable/Attainment.
Fauquier County |  | Unclassifiable/Attainment |  | Unclassifiable/Attainment.
Fluvanna County |  | Unclassifiable/Attainment |  | Unclassifiable/Attainment.
Greene County |  | Unclassifiable/Attainment |  | Unclassifiable/Attainment.
King and Queen County |  | Unclassifiable/Attainment |  | Unclassifiable/Attainment.
King George County |  | Unclassifiable/Attainment |  | Unclassifiable/Attainment.
King William County |  | Unclassifiable/Attainment |  | Unclassifiable/Attainment.
Lancaster County |  | Unclassifiable/Attainment |  | Unclassifiable/Attainment.
Louisa County |  | Unclassifiable/Attainment |  | Unclassifiable/Attainment.
Madison County |  | Unclassifiable/Attainment |  | Unclassifiable/Attainment.
Mathews County |  | Unclassifiable/Attainment |  | Unclassifiable/Attainment.
Middlesex County |  | Unclassifiable/Attainment |  | Unclassifiable/Attainment.
Nelson County |  | Unclassifiable/Attainment |  | Unclassifiable/Attainment.
Northampton County |  | Unclassifiable/Attainment |  | Unclassifiable/Attainment.
Northumberland County |  | Unclassifiable/Attainment |  | Unclassifiable/Attainment.
Orange County |  | Unclassifiable/Attainment |  | Unclassifiable/Attainment.
Rappahannock County |  | Unclassifiable/Attainment |  | Unclassifiable/Attainment.
Richmond County |  | Unclassifiable/Attainment |  | Unclassifiable/Attainment.
Westmoreland County |  | Unclassifiable/Attainment |  | Unclassifiable/Attainment.
Charlottesville City |  | Unclassifiable/Attainment |  | Unclassifiable/Attainment.
AQCR 225 State Capital Intrastate (remainder of):
Dinwiddie County |  | Unclassifiable/Attainment |  | Unclassifiable/Attainment.
Goochland County |  | Unclassifiable/Attainment |  | Unclassifiable/Attainment.
Greensville County |  | Unclassifiable/Attainment |  | Unclassifiable/Attainment.
New Kent County |  | Unclassifiable/Attainment |  | Unclassifiable/Attainment.
Powhatan County |  | Unclassifiable/Attainment |  | Unclassifiable/Attainment.
Surry County |  | Unclassifiable/Attainment |  | Unclassifiable/Attainment.
Sussex County |  | Unclassifiable/Attainment |  | Unclassifiable/Attainment.
Emporia City |  | Unclassifiable/Attainment |  | Unclassifiable/Attainment.
Petersburg City |  | Unclassifiable/Attainment |  | Unclassifiable/Attainment.
AQCR 226 Valley of Virginia Intrastate:
Alleghany County |  | Unclassifiable/Attainment |  | Unclassifiable/Attainment.
Augusta County |  | Unclassifiable/Attainment |  | Unclassifiable/Attainment.
Bath County |  | Unclassifiable/Attainment |  | Unclassifiable/Attainment.
Clarke County |  | Unclassifiable/Attainment |  | Unclassifiable/Attainment.
Craig County |  | Unclassifiable/Attainment |  | Unclassifiable/Attainment.
Floyd County |  | Unclassifiable/Attainment |  | Unclassifiable/Attainment.
Giles County |  | Unclassifiable/Attainment |  | Unclassifiable/Attainment.
Highland County |  | Unclassifiable/Attainment |  | Unclassifiable/Attainment.
Montgomery County |  | Unclassifiable/Attainment |  | Unclassifiable/Attainment.
Page County |  | Unclassifiable/Attainment |  | Unclassifiable/Attainment.
Pulaski County |  | Unclassifiable/Attainment |  | Unclassifiable/Attainment.
Rockbridge County |  | Unclassifiable/Attainment |  | Unclassifiable/Attainment.
Rockingham County |  | Unclassifiable/Attainment |  | Unclassifiable/Attainment.
Shenandoah County |  | Unclassifiable/Attainment |  | Unclassifiable/Attainment.
Warren County |  | Unclassifiable/Attainment |  | Unclassifiable/Attainment.
Buena Vista City |  | Unclassifiable/Attainment |  | Unclassifiable/Attainment.
Covington City |  | Unclassifiable/Attainment |  | Unclassifiable/Attainment.
Harrisonburg City |  | Unclassifiable/Attainment |  | Unclassifiable/Attainment.
Lexington City |  | Unclassifiable/Attainment |  | Unclassifiable/Attainment.
Radford City |  | Unclassifiable/Attainment |  | Unclassifiable/Attainment.
Staunton City |  | Unclassifiable/Attainment |  | Unclassifiable/Attainment.
Waynesboro City |  | Unclassifiable/Attainment |  | Unclassifiable/Attainment.
Frederick Co., VA:
Frederick County |  | Unclassifiable/Attainment |  | Unclassifiable/Attainment.
Winchester City |  | Unclassifiable/Attainment |  | Unclassifiable/Attainment.
Fredericksburg, VA:
Spotsylvania County |  | Unclassifiable/Attainment |  | Unclassifiable/Attainment.
Stafford County |  | Unclassifiable/Attainment |  | Unclassifiable/Attainment.
City of Fredericksburg |  | Unclassifiable/Attainment |  | Unclassifiable/Attainment.
Norfolk-Virginia-Beach Newport News (Hampton Roads), VA:
Gloucester County |  | Unclassifiable/Attainment |  | Unclassifiable/Attainment.
Isle of Wight County |  | Unclassifiable/Attainment |  | Unclassifiable/Attainment.
James City County |  | Unclassifiable/Attainment |  | Unclassifiable/Attainment.
York County |  | Unclassifiable/Attainment |  | Unclassifiable/Attainment.
Chesapeake City |  | Unclassifiable/Attainment |  | Unclassifiable/Attainment.
Hampton City |  | Unclassifiable/Attainment |  | Unclassifiable/Attainment.
Newport News City |  | Unclassifiable/Attainment |  | Unclassifiable/Attainment.
Norfolk City |  | Unclassifiable/Attainment |  | Unclassifiable/Attainment.
Poquoson City |  | Unclassifiable/Attainment |  | Unclassifiable/Attainment.
Portsmouth City |  | Unclassifiable/Attainment |  | Unclassifiable/Attainment.
Suffolk City |  | Unclassifiable/Attainment |  | Unclassifiable/Attainment.
Virginia Beach City |  | Unclassifiable/Attainment |  | Unclassifiable/Attainment.
Williamsburg City |  | Unclassifiable/Attainment |  | Unclassifiable/Attainment.
Richmond-Petersburg, VA:
Charles City County |  | Unclassifiable/Attainment |  | Unclassifiable/Attainment.
Chesterfield County |  | Unclassifiable/Attainment |  | Unclassifiable/Attainment.
Hanover County |  | Unclassifiable/Attainment |  | Unclassifiable/Attainment.
Henrico County |  | Unclassifiable/Attainment |  | Unclassifiable/Attainment.
Prince George County |  | Unclassifiable/Attainment |  | Unclassifiable/Attainment.
Colonial Heights City |  | Unclassifiable/Attainment |  | Unclassifiable/Attainment.
Hopewell City |  | Unclassifiable/Attainment |  | Unclassifiable/Attainment.
Richmond City |  | Unclassifiable/Attainment |  | Unclassifiable/Attainment.
Roanoke, VA:
Botetourt County |  | Unclassifiable/Attainment |  | Unclassifiable/Attainment.
Roanoke County |  | Unclassifiable/Attainment |  | Unclassifiable/Attainment.
Roanoke City. |  | Unclassifiable/Attainment |  | Unclassifiable/Attainment.
Salem City |  | Unclassifiable/Attainment |  | Unclassifiable/Attainment.
ᵃ Includes Indian Country located in each county or area, except as otherwise specified.
¹ This date is 90 days after January 5, 2005, unless otherwise noted.
² This date is 30 days after November 13, 2009, unless otherwise noted.

49. Section 81.348 is amended as follows:

a. By revising the table heading for “Washington—PM2.5” to read as set forth below.

b. By adding a new table entitled “Washington—PM2.5 (24-Hour NAAQS)” to the end of the section.

§ 81.348 Washington.

* * * * *

Washington—PM2.5 (Annual NAAQS)

* * * * *

Washington—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Tacoma, WA:
Pierce County (part) |  | Unclassifiable/Attainment |  | Nonattainment.
Starting from where an extension of Kennedy Road Northeast would intersect Commencement Bay, proceed north to the intersection of Marine View Drive (State Route 509) and Kennedy Road Northeast. Proceed south on Marine View Drive to Hylebos Creek. Proceed south along Hylebos Creek to 12th Street East. Proceed east on 12th Street East to 70th Avenue East. Proceed south on 70th Avenue East to State Route 99 (S.R. 99). Proceed north on S.R. 99 0.1 mile north of Birch Street to a driveway to the east. Proceed east along the driveway and continue east along the same alignment to the Pierce County Line/Comprehensive Urban Growth Area (CUGA) boundary. Proceed east along the Pierce County Line/CUGA boundary to the eastern boundary of Edgewood. Proceed south along the eastern boundary of Edgewood to eastern boundary of the Sumner Urban Service Area. Proceed south along eastern boundary of the Sumner Urban Service Area to the eastern boundary of the Puyallup Urban Service Area. Proceed south along the eastern boundary of the Puyallup Urban Service Area to the eastern boundary of Puyallup/CUGA boundary. Proceed south and then west along the CUGA boundary to the eastern boundary of McChord Air Force Base. Proceed north along the eastern boundary of McChord Air Force Base to the northernmost point on the eastern boundary. Proceed from the northernmost point on the eastern boundary of McChord Air Force Base to the south right-of-way of S.R. 512. Proceed west along the south right-of-way of S.R. 512 to the south right-of-way of I-5. Proceed south along the south right-of-way to I-5 to the point opposite the boundary between Lakewood and Camp Murray. Proceed north across I-5 to the boundary between Lakewood and Camp Murray. Proceed north along the western boundary of Lakewood to the point where the western boundary coincides with the CUGA boundary. Proceed north along the CUGA boundary to the southern boundary of Point Defiance Park. Proceed east along the southern boundary of Point Defiance Park to Commencement Bay/CUGA boundary. Proceed southeast, then northeast, and finally northwest along the CUGA boundary to the starting point.
Rest of State:
Adams County |  | Unclassifiable/Attainment |  | Unclassifiable/Attainment.
Asotin County |  | Unclassifiable/Attainment |  | Unclassifiable/Attainment.
Benton County |  | Unclassifiable/Attainment |  | Unclassifiable/Attainment.
Clark County |  | Unclassifiable/Attainment |  | Unclassifiable/Attainment.
Clallam County |  | Unclassifiable/Attainment |  | Unclassifiable/Attainment.
Columbia County |  | Unclassifiable/Attainment |  | Unclassifiable/Attainment.
Cowlitz County |  | Unclassifiable/Attainment |  | Unclassifiable/Attainment.
Douglas County |  | Unclassifiable/Attainment |  | Unclassifiable/Attainment.
Ferry County |  | Unclassifiable/Attainment |  | Unclassifiable/Attainment.
Franklin County |  | Unclassifiable/Attainment |  | Unclassifiable/Attainment.
Garfield County |  | Unclassifiable/Attainment |  | Unclassifiable/Attainment.
Grant County |  | Unclassifiable/Attainment |  | Unclassifiable/Attainment.
Grays Harbor County |  | Unclassifiable/Attainment |  | Unclassifiable/Attainment.
Island County |  | Unclassifiable/Attainment |  | Unclassifiable/Attainment.
Jefferson County |  | Unclassifiable/Attainment |  | Unclassifiable/Attainment.
King County |  | Unclassifiable/Attainment |  | Unclassifiable/Attainment.
Kitsap County |  | Unclassifiable/Attainment |  | Unclassifiable/Attainment.
Kittitas County |  | Unclassifiable/Attainment |  | Unclassifiable/Attainment.
Klickitat County |  | Unclassifiable/Attainment |  | Unclassifiable/Attainment.
Lincoln County |  | Unclassifiable/Attainment |  | Unclassifiable/Attainment.
Mason County |  | Unclassifiable/Attainment |  | Unclassifiable/Attainment.
Okanogan County |  | Unclassifiable/Attainment |  | Unclassifiable/Attainment.
Pacific County |  | Unclassifiable/Attainment |  | Unclassifiable/Attainment.
Pend Oreille County |  | Unclassifiable/Attainment |  | Unclassifiable/Attainment.
Pierce County (remainder) |  | Unclassifiable/Attainment |  | Unclassifiable/Attainment.
San Juan County |  | Unclassifiable/Attainment |  | Unclassifiable/Attainment.
Skagit County |  | Unclassifiable/Attainment |  | Unclassifiable/Attainment.
Skamania County |  | Unclassifiable/Attainment |  | Unclassifiable/Attainment.
Snohomish County |  | Unclassifiable/Attainment |  | Unclassifiable/Attainment.
Spokane County |  | Unclassifiable/Attainment |  | Unclassifiable/Attainment.
Stevens County |  | Unclassifiable/Attainment |  | Unclassifiable/Attainment.
Thurston County |  | Unclassifiable/Attainment |  | Unclassifiable/Attainment.
Wahkiakum County |  | Unclassifiable/Attainment |  | Unclassifiable/Attainment.
Walla Walla County |  | Unclassifiable/Attainment |  | Unclassifiable/Attainment.
Whatcom County |  | Unclassifiable/Attainment |  | Unclassifiable/Attainment.
Whitman County |  | Unclassifiable/Attainment |  | Unclassifiable/Attainment.
Yakima County |  | Unclassifiable/Attainment |  | Unclassifiable/Attainment.
ᵃ Includes Indian Country located in each county or area, except as otherwise specified.
¹ This date is 90 days after January 5, 2005, unless otherwise noted.
² This date is 30 days after November 13, 2009, unless otherwise noted.

50. Section 81.349 is amended as follows:

a. By revising the table heading for “West Virginia—PM2.5” to read as set forth below.

b. By adding a new table entitled “West Virginia—PM2.5 (24-Hour NAAQS)” to the end of the section.

§ 81.349 West Virginia.

* * * * *

West Virginia—PM2.5 (Annual NAAQS)

* * * * *

West Virginia—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Charleston, WV:
Kanawha County |  | Unclassifiable/Attainment |  | Nonattainment.
Putnam County |  | Unclassifiable/Attainment |  | Nonattainment.
Steubenville-Weirton, OH-WV:
Brooke County |  | Unclassifiable/Attainment |  | Nonattainment.
Hancock County |  | Unclassifiable/Attainment |  | Nonattainment.
Rest of State:
Barbour County |  | Unclassifiable/Attainment |  | Unclassifiable/Attainment.
Berkley County |  | Unclassifiable/Attainment |  | Unclassifiable/Attainment.
Boone County |  | Unclassifiable/Attainment |  | Unclassifiable/Attainment.
Braxton County |  | Unclassifiable/Attainment |  | Unclassifiable/Attainment.
Cabell County |  | Unclassifiable/Attainment |  | Unclassifiable/Attainment.
Calhoun County |  | Unclassifiable/Attainment |  | Unclassifiable/Attainment.
Clay County |  | Unclassifiable/Attainment |  | Unclassifiable/Attainment.
Doddridge County |  | Unclassifiable/Attainment |  | Unclassifiable/Attainment.
Fayette County |  | Unclassifiable/Attainment |  | Unclassifiable/Attainment.
Gilmer County |  | Unclassifiable/Attainment |  | Unclassifiable/Attainment.
Grant County |  | Unclassifiable/Attainment |  | Unclassifiable/Attainment.
Greenbrier County |  | Unclassifiable/Attainment |  | Unclassifiable/Attainment.
Hampshire County |  | Unclassifiable/Attainment |  | Unclassifiable/Attainment.
Hardy County |  | Unclassifiable/Attainment |  | Unclassifiable/Attainment.
Harrison County |  | Unclassifiable/Attainment |  | Unclassifiable/Attainment.
Jackson County |  | Unclassifiable/Attainment |  | Unclassifiable/Attainment.
Jefferson County |  | Unclassifiable/Attainment |  | Unclassifiable/Attainment.
Lewis County |  | Unclassifiable/Attainment |  | Unclassifiable/Attainment.
Lincoln County |  | Unclassifiable/Attainment |  | Unclassifiable/Attainment.
Logan County |  | Unclassifiable/Attainment |  | Unclassifiable/Attainment.
McDowell County |  | Unclassifiable/Attainment |  | Unclassifiable/Attainment.
Mason County |  | Unclassifiable/Attainment |  | Unclassifiable/Attainment.
Marion County |  | Unclassifiable/Attainment |  | Unclassifiable/Attainment.
Marshall County |  | Unclassifiable/Attainment |  | Unclassifiable/Attainment.
Mercer County |  | Unclassifiable/Attainment |  | Unclassifiable/Attainment.
Mineral County |  | Unclassifiable/Attainment |  | Unclassifiable/Attainment.
Mingo County |  | Unclassifiable/Attainment |  | Unclassifiable/Attainment.
Monongalia County |  | Unclassifiable/Attainment |  | Unclassifiable/Attainment.
Monroe County |  | Unclassifiable/Attainment |  | Unclassifiable/Attainment.
Morgan County |  | Unclassifiable/Attainment |  | Unclassifiable/Attainment.
Nicholas County |  | Unclassifiable/Attainment |  | Unclassifiable/Attainment.
Ohio County |  | Unclassifiable/Attainment |  | Unclassifiable/Attainment.
Pendleton County |  | Unclassifiable/Attainment |  | Unclassifiable/Attainment.
Pleasants County |  | Unclassifiable/Attainment |  | Unclassifiable/Attainment.
Pocahontas County |  | Unclassifiable/Attainment |  | Unclassifiable/Attainment.
Preston County |  | Unclassifiable/Attainment |  | Unclassifiable/Attainment.
Raleigh County |  | Unclassifiable/Attainment |  | Unclassifiable/Attainment.
Randolph County |  | Unclassifiable/Attainment |  | Unclassifiable/Attainment.
Ritchie County |  | Unclassifiable/Attainment |  | Unclassifiable/Attainment.
Roane County |  | Unclassifiable/Attainment |  | Unclassifiable/Attainment.
Summers County |  | Unclassifiable/Attainment |  | Unclassifiable/Attainment.
Taylor County |  | Unclassifiable/Attainment |  | Unclassifiable/Attainment.
Tucker County |  | Unclassifiable/Attainment |  | Unclassifiable/Attainment.
Tyler County |  | Unclassifiable/Attainment |  | Unclassifiable/Attainment.
Upshur County |  | Unclassifiable/Attainment |  | Unclassifiable/Attainment.
Wayne County |  | Unclassifiable/Attainment |  | Unclassifiable/Attainment.
Webster County |  | Unclassifiable/Attainment |  | Unclassifiable/Attainment.
Wetzel County |  | Unclassifiable/Attainment |  | Unclassifiable/Attainment.
Wirt County |  | Unclassifiable/Attainment |  | Unclassifiable/Attainment.
Wood County |  | Unclassifiable/Attainment |  | Unclassifiable/Attainment.
Wyoming County |  | Unclassifiable/Attainment |  | Unclassifiable/Attainment.
ᵃ Includes Indian Country located in each county or area, except as otherwise specified.
¹ This date is 90 days after January 5, 2005, unless otherwise noted.
² This date is 30 days after November 13, 2009, unless otherwise noted.

51. Section 81.350 is amended as follows:

a. By revising the table heading for “Wisconsin—PM2.5” to read as set forth below.

b. By adding a new table entitled “Wisconsin—PM2.5 (24-Hour NAAQS)” to the end of the section.

§ 81.350 Wisconsin.

* * * * *

Wisconsin—PM2.5 (Annual NAAQS)

* * * * *

Wisconsin—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Milwaukee-Racine, WI:
Milwaukee County |  | Unclassifiable/Attainment |  | Nonattainment.
Racine County |  | Unclassifiable/Attainment |  | Nonattainment.
Waukesha County |  | Unclassifiable/Attainment |  | Nonattainment.
Rest of State:
Adams County |  | Unclassifiable/Attainment |  | Unclassifiable/Attainment.
Ashland County |  | Unclassifiable/Attainment |  | Unclassifiable/Attainment.
Barron County |  | Unclassifiable/Attainment |  | Unclassifiable/Attainment.
Bayfield County |  | Unclassifiable/Attainment |  | Unclassifiable/Attainment.
Brown County |  | Unclassifiable/Attainment |  | Unclassifiable/Attainment.
Buffalo County |  | Unclassifiable/Attainment |  | Unclassifiable/Attainment.
Burnett County |  | Unclassifiable/Attainment |  | Unclassifiable/Attainment.
Calumet County |  | Unclassifiable/Attainment |  | Unclassifiable/Attainment.
Chippewa County |  | Unclassifiable/Attainment |  | Unclassifiable/Attainment.
Clark County |  | Unclassifiable/Attainment |  | Unclassifiable/Attainment.
Columbia County |  | Unclassifiable/Attainment |  | Unclassifiable/Attainment.
Crawford County |  | Unclassifiable/Attainment |  | Unclassifiable/Attainment.
Dane County |  | Unclassifiable/Attainment |  | Unclassifiable/Attainment.
Dodge County |  | Unclassifiable/Attainment |  | Unclassifiable/Attainment.
Door County |  | Unclassifiable/Attainment |  | Unclassifiable/Attainment.
Douglas County |  | Unclassifiable/Attainment |  | Unclassifiable/Attainment.
Dunn County |  | Unclassifiable/Attainment |  | Unclassifiable/Attainment.
Eau Claire County |  | Unclassifiable/Attainment |  | Unclassifiable/Attainment.
Florence County |  | Unclassifiable/Attainment |  | Unclassifiable/Attainment.
Fond du Lac County |  | Unclassifiable/Attainment |  | Unclassifiable/Attainment.
Forest County |  | Unclassifiable/Attainment |  | Unclassifiable/Attainment.
Grant County |  | Unclassifiable/Attainment |  | Unclassifiable/Attainment.
Green County |  | Unclassifiable/Attainment |  | Unclassifiable/Attainment.
Green Lake County |  | Unclassifiable/Attainment |  | Unclassifiable/Attainment.
Iowa County |  | Unclassifiable/Attainment |  | Unclassifiable/Attainment.
Iron County |  | Unclassifiable/Attainment |  | Unclassifiable/Attainment.
Jackson County |  | Unclassifiable/Attainment |  | Unclassifiable/Attainment.
Jefferson County |  | Unclassifiable/Attainment |  | Unclassifiable/Attainment.
Juneau County |  | Unclassifiable/Attainment |  | Unclassifiable/Attainment.
Kenosha County |  | Unclassifiable/Attainment |  | Unclassifiable/Attainment.
Kewaunee County |  | Unclassifiable/Attainment |  | Unclassifiable/Attainment.
La Crosse County |  | Unclassifiable/Attainment |  | Unclassifiable/Attainment.
Lafayette County |  | Unclassifiable/Attainment |  | Unclassifiable/Attainment.
Langlade County |  | Unclassifiable/Attainment |  | Unclassifiable/Attainment.
Lincoln County |  | Unclassifiable/Attainment |  | Unclassifiable/Attainment.
Manitowoc County |  | Unclassifiable/Attainment |  | Unclassifiable/Attainment.
Marathon County |  | Unclassifiable/Attainment |  | Unclassifiable/Attainment.
Marinette County |  | Unclassifiable/Attainment |  | Unclassifiable/Attainment.
Marquette County |  | Unclassifiable/Attainment |  | Unclassifiable/Attainment.
Menominee County |  | Unclassifiable/Attainment |  | Unclassifiable/Attainment.
Monroe County |  | Unclassifiable/Attainment |  | Unclassifiable/Attainment.
Oconto County |  | Unclassifiable/Attainment |  | Unclassifiable/Attainment.
Oneida County |  | Unclassifiable/Attainment |  | Unclassifiable/Attainment.
Outagamie County |  | Unclassifiable/Attainment |  | Unclassifiable/Attainment.
Ozaukee County |  | Unclassifiable/Attainment |  | Unclassifiable/Attainment.
Pepin County |  | Unclassifiable/Attainment |  | Unclassifiable/Attainment.
Pierce County |  | Unclassifiable/Attainment |  | Unclassifiable/Attainment.
Polk County |  | Unclassifiable/Attainment |  | Unclassifiable/Attainment.
Portage County |  | Unclassifiable/Attainment |  | Unclassifiable/Attainment.
Price County |  | Unclassifiable/Attainment |  | Unclassifiable/Attainment.
Richland County |  | Unclassifiable/Attainment |  | Unclassifiable/Attainment.
Rock County |  | Unclassifiable/Attainment |  | Unclassifiable/Attainment.
Rusk County |  | Unclassifiable/Attainment |  | Unclassifiable/Attainment.
St. Croix County |  | Unclassifiable/Attainment |  | Unclassifiable/Attainment.
Sauk County |  | Unclassifiable/Attainment |  | Unclassifiable/Attainment.
Sawyer County |  | Unclassifiable/Attainment |  | Unclassifiable/Attainment.
Shawano County |  | Unclassifiable/Attainment |  | Unclassifiable/Attainment.
Sheboygan County |  | Unclassifiable/Attainment |  | Unclassifiable/Attainment.
Taylor County |  | Unclassifiable/Attainment |  | Unclassifiable/Attainment.
Trempealeau County |  | Unclassifiable/Attainment |  | Unclassifiable/Attainment.
Vernon County |  | Unclassifiable/Attainment |  | Unclassifiable/Attainment.
Vilas County |  | Unclassifiable/Attainment |  | Unclassifiable/Attainment.
Walworth County |  | Unclassifiable/Attainment |  | Unclassifiable/Attainment.
Washburn County |  | Unclassifiable/Attainment |  | Unclassifiable/Attainment.
Washington County |  | Unclassifiable/Attainment |  | Unclassifiable/Attainment.
Waupaca County |  | Unclassifiable/Attainment |  | Unclassifiable/Attainment.
Waushara County |  | Unclassifiable/Attainment |  | Unclassifiable/Attainment.
Winnebago County |  | Unclassifiable/Attainment |  | Unclassifiable/Attainment.
Wood County |  | Unclassifiable/Attainment |  | Unclassifiable/Attainment.
ᵃ Includes Indian Country located in each county or area, except as otherwise specified.
¹ This date is 90 days after January 5, 2005, unless otherwise noted.
² This date is 30 days after November 13, 2009, unless otherwise noted.

52. Section 81.351 is amended as follows:

a. By revising the table heading for “Wyoming—PM2.5” to read as set forth below.

b. By adding a new table entitled “Wyoming—PM2.5 (24-Hour NAAQS)” to the end of the section.

§ 81.351 Wyoming.

* * * * *

Wyoming—PM2.5 (Annual NAAQS)

* * * * *

Wyoming—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Casper, WY:
Natrona County (part) |  | Unclassifiable/Attainment |  | Unclassifiable/Attainment.
The portion within the City of Casper.
Cheyenne, WY:
Laramie County (part) |  | Unclassifiable/Attainment |  | Unclassifiable/Attainment.
The portion within the City of Cheyenne.
Evanston, WY:
Uinta County (part) |  | Unclassifiable/Attainment |  | Unclassifiable/Attainment.
The portion within the City of Evanston.
Gillette, WY:
Campbell County (part) |  | Unclassifiable/Attainment |  | Unclassifiable/Attainment.
The portion within the City of Gillette.
Jackson, WY:
Teton County (part) |  | Unclassifiable/Attainment |  | Unclassifiable/Attainment.
The portion within the City of Jackson.
Lander, WY:
Fremont County (part) |  | Unclassifiable/Attainment |  | Unclassifiable/Attainment.
The portion within the City of Lander.
Laramie, WY:
Albany County (part) |  | Unclassifiable/Attainment |  | Unclassifiable/Attainment.
The portion within the City of Laramie.
Riverton, WY:
Fremont County (part) |  | Unclassifiable/Attainment |  | Unclassifiable/Attainment.
The portion within the City of Riverton.
Rock Springs, WY:
Sweetwater County (part) |  | Unclassifiable/Attainment |  | Unclassifiable/Attainment.
The portion within the City of Rock Springs.
Sheridan, WY:
Sheridan County (part) |  | Unclassifiable/Attainment |  | Unclassifiable/Attainment.
The portion within the City of Sheridan.
Rest of State:
Albany County (remainder) |  | Unclassifiable/Attainment |  | Unclassifiable/Attainment.
Big Horn County |  | Unclassifiable/Attainment |  | Unclassifiable/Attainment.
Campbell County |  | Unclassifiable/Attainment |  | Unclassifiable/Attainment.
Carbon County |  | Unclassifiable/Attainment |  | Unclassifiable/Attainment.
Converse County |  | Unclassifiable/Attainment |  | Unclassifiable/Attainment.
Crook County |  | Unclassifiable/Attainment |  | Unclassifiable/Attainment.
Fremont County (remainder) |  | Unclassifiable/Attainment |  | Unclassifiable/Attainment.
Goshen County |  | Unclassifiable/Attainment |  | Unclassifiable/Attainment.
Hot Springs County |  | Unclassifiable/Attainment |  | Unclassifiable/Attainment.
Johnson County |  | Unclassifiable/Attainment |  | Unclassifiable/Attainment.
Laramie County (remainder) |  | Unclassifiable/Attainment |  | Unclassifiable/Attainment.
Lincoln County |  | Unclassifiable/Attainment |  | Unclassifiable/Attainment.
Natrona County (remainder) |  | Unclassifiable/Attainment |  | Unclassifiable/Attainment.
Niobrara County |  | Unclassifiable/Attainment |  | Unclassifiable/Attainment.
Park County |  | Unclassifiable/Attainment |  | Unclassifiable/Attainment.
Platte County |  | Unclassifiable/Attainment |  | Unclassifiable/Attainment.
Sheridan County (remainder) |  | Unclassifiable/Attainment |  | Unclassifiable/Attainment.
Sublette County |  | Unclassifiable/Attainment |  | Unclassifiable/Attainment.
Sweetwater County |  | Unclassifiable/Attainment |  | Unclassifiable/Attainment.
Teton County (remainder) |  | Unclassifiable/Attainment |  | Unclassifiable/Attainment.
Uinta County (remainder) |  | Unclassifiable/Attainment |  | Unclassifiable/Attainment.
Washakie County |  | Unclassifiable/Attainment |  | Unclassifiable/Attainment.
Weston County |  | Unclassifiable/Attainment |  | Unclassifiable/Attainment.
ᵃ Includes Indian Country located in each county or area, except as otherwise specified.
¹ This date is 90 days after January 5, 2005, unless otherwise noted.
² This date is 30 days after November 13, 2009, unless otherwise noted.

53. Section 81.352 is amended as follows:

a. By revising the table heading for “American Samoa—PM2.5” to read as set forth below.

b. By adding a new table entitled “American Samoa—PM2.5 (24-Hour NAAQS)” to the end of the section.

§ 81.352 American Samoa.

* * * * *

American Samoa—PM2.5 (Annual NAAQS)

* * * * *

American Samoa—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Territory wide:
Eastern District |  | Unclassifiable/Attainment |  | Unclassifiable/Attainment.
Manu‘a District |  | Unclassifiable/Attainment |  | Unclassifiable/Attainment.
Rose Island |  | Unclassifiable/Attainment |  | Unclassifiable/Attainment.
Swains Island |  | Unclassifiable/Attainment |  | Unclassifiable/Attainment.
Western District |  | Unclassifiable/Attainment |  | Unclassifiable/Attainment.
ᵃ Includes Indian Country located in each county or area, except as otherwise specified.
¹ This date is 90 days after January 5, 2005, unless otherwise noted.
² This date is 30 days after November 13, 2009, unless otherwise noted.

54 Section 81.353 is amended as follows:

a. By revising the table heading for “Guam—PM2.5” to read as set forth below.

b. By adding a new table entitled “Guam—PM2.5 (24-Hour NAAQS)” to the end of the section.

§ 81.353 Guam.

* * * * *

Guam—PM2.5 (Annual NAAQS)

* * * * *

Guam—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Territory wide:
Guam |  | Unclassifiable/Attainment |  | Unclassifiable/Attainment.
ᵃ Includes Indian Country located in each county or area, except as otherwise specified.
¹ This date is 90 days after January 5, 2005, unless otherwise noted.
² This date is 30 days after November 13, 2009, unless otherwise noted.

55. Section 81.354 is amended as follows:

a. By revising the table heading for “Northern Mariana Islands—PM2.5” to read as set forth below.

b. By adding a new table entitled “Northern Mariana Islands—PM2.5 (24-Hour NAAQS)” to the end of the section.

§ 81.354 Northern Mariana Islands.

* * * * *

Northern Mariana Islands—PM2.5 (Annual NAAQS)

* * * * *

Northern Mariana Islands—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Territory wide:
Northern Islands Municipality |  | Unclassifiable/Attainment |  | Unclassifiable/Attainment.
Rota Municipality |  | Unclassifiable/Attainment |  | Unclassifiable/Attainment.
Saipan Municipality |  | Unclassifiable/Attainment |  | Unclassifiable/Attainment.
Tinian Municipality |  | Unclassifiable/Attainment |  | Unclassifiable/Attainment.
ᵃ Includes Indian Country located in each county or area, except as otherwise specified.
¹ This date is 90 days after January 5, 2005, unless otherwise noted.
² This date is 30 days after November 13, 2009, unless otherwise noted.

56. Section 81.355 is amended as follows:

a. By revising the table heading for “Puerto Rico—PM2.5” to read as set forth below.

b. By adding a new table entitled “Puerto Rico—PM2.5 (24-Hour NAAQS)” to the end of the section.

§ 81.355 Puerto Rico.

* * * * *

Puerto Rico—PM2.5 (Annual NAAQS)

* * * * *

Puerto Rico—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Territory wide:
Adjuntas Municipio |  | Unclassifiable/Attainment |  | Unclassifiable/Attainment.
Aguada Municipio |  | Unclassifiable/Attainment |  | Unclassifiable/Attainment.
Aguadilla Municipio |  | Unclassifiable/Attainment |  | Unclassifiable/Attainment.
Aguas Buenas Municipio |  | Unclassifiable/Attainment |  | Unclassifiable/Attainment.
Aibonito Municipio |  | Unclassifiable/Attainment |  | Unclassifiable/Attainment.
Añasco Municipio |  | Unclassifiable/Attainment |  | Unclassifiable/Attainment.
Arecibo Municipio |  | Unclassifiable/Attainment |  | Unclassifiable/Attainment.
Arroyo Municipio |  | Unclassifiable/Attainment |  | Unclassifiable/Attainment.
Barceloneta Municipio |  | Unclassifiable/Attainment |  | Unclassifiable/Attainment.
Barranquitas Municipio |  | Unclassifiable/Attainment |  | Unclassifiable/Attainment.
Bayamón County |  | Unclassifiable/Attainment |  | Unclassifiable/Attainment.
Cabo Rojo Municipio |  | Unclassifiable/Attainment |  | Unclassifiable/Attainment.
Caguas Municipio |  | Unclassifiable/Attainment |  | Unclassifiable/Attainment.
Camuy Municipio |  | Unclassifiable/Attainment |  | Unclassifiable/Attainment.
Canóvanas Municipio |  | Unclassifiable/Attainment |  | Unclassifiable/Attainment.
Carolina Municipio |  | Unclassifiable/Attainment |  | Unclassifiable/Attainment.
Cataño County |  | Unclassifiable/Attainment |  | Unclassifiable/Attainment.
Cayey Municipio |  | Unclassifiable/Attainment |  | Unclassifiable/Attainment.
Ceiba Municipio |  | Unclassifiable/Attainment |  | Unclassifiable/Attainment.
Ciales Municipio |  | Unclassifiable/Attainment |  | Unclassifiable/Attainment.
Cidra Municipio |  | Unclassifiable/Attainment |  | Unclassifiable/Attainment.
Coamo Municipio |  | Unclassifiable/Attainment |  | Unclassifiable/Attainment.
Comerío Municipio |  | Unclassifiable/Attainment |  | Unclassifiable/Attainment.
Corozal Municipio |  | Unclassifiable/Attainment |  | Unclassifiable/Attainment.
Culebra Municipio |  | Unclassifiable/Attainment |  | Unclassifiable/Attainment.
Dorado Municipio |  | Unclassifiable/Attainment |  | Unclassifiable/Attainment.
Fajardo Municipio |  | Unclassifiable/Attainment |  | Unclassifiable/Attainment.
Florida Municipio |  | Unclassifiable/Attainment |  | Unclassifiable/Attainment.
Guánica Municipio |  | Unclassifiable/Attainment |  | Unclassifiable/Attainment.
Guayama Municipio |  | Unclassifiable/Attainment |  | Unclassifiable/Attainment.
Guayanilla Municipio |  | Unclassifiable/Attainment |  | Unclassifiable/Attainment.
Guaynabo County |  | Unclassifiable/Attainment |  | Unclassifiable/Attainment.
Gurabo Municipio |  | Unclassifiable/Attainment |  | Unclassifiable/Attainment.
Hatillo Municipio |  | Unclassifiable/Attainment |  | Unclassifiable/Attainment.
Hormigueros Municipio |  | Unclassifiable/Attainment |  | Unclassifiable/Attainment.
Humacao Municipio |  | Unclassifiable/Attainment |  | Unclassifiable/Attainment.
Isabela Municipio |  | Unclassifiable/Attainment |  | Unclassifiable/Attainment.
Jayuya Municipio |  | Unclassifiable/Attainment |  | Unclassifiable/Attainment.
Juana Díaz Municipio |  | Unclassifiable/Attainment |  | Unclassifiable/Attainment.
Juncos Municipio |  | Unclassifiable/Attainment |  | Unclassifiable/Attainment.
Lajas Municipio |  | Unclassifiable/Attainment |  | Unclassifiable/Attainment.
Lares Municipio |  | Unclassifiable/Attainment |  | Unclassifiable/Attainment.
Las Marías Municipio |  | Unclassifiable/Attainment |  | Unclassifiable/Attainment.
Las Piedras Municipio |  | Unclassifiable/Attainment |  | Unclassifiable/Attainment.
Loíza Municipio |  | Unclassifiable/Attainment |  | Unclassifiable/Attainment.
Luquillo Municipio |  | Unclassifiable/Attainment |  | Unclassifiable/Attainment.
Manatí Municipio |  | Unclassifiable/Attainment |  | Unclassifiable/Attainment.
Maricao Municipio |  | Unclassifiable/Attainment |  | Unclassifiable/Attainment.
Maunabo Municipio |  | Unclassifiable/Attainment |  | Unclassifiable/Attainment.
Mayagnez Municipio |  | Unclassifiable/Attainment |  | Unclassifiable/Attainment.
Moca Municipio |  | Unclassifiable/Attainment |  | Unclassifiable/Attainment.
Morovis Municipio |  | Unclassifiable/Attainment |  | Unclassifiable/Attainment.
Naguabo Municipio |  | Unclassifiable/Attainment |  | Unclassifiable/Attainment.
Naranjito Municipio |  | Unclassifiable/Attainment |  | Unclassifiable/Attainment.
Orocovis Municipio |  | Unclassifiable/Attainment |  | Unclassifiable/Attainment.
Patillas Municipio |  | Unclassifiable/Attainment |  | Unclassifiable/Attainment.
Peñuelas Municipio |  | Unclassifiable/Attainment |  | Unclassifiable/Attainment.
Ponce Municipio |  | Unclassifiable/Attainment |  | Unclassifiable/Attainment.
Quebradillas Municipio |  | Unclassifiable/Attainment |  | Unclassifiable/Attainment.
Rincón Municipio |  | Unclassifiable/Attainment |  | Unclassifiable/Attainment.
Río Grande Municipio |  | Unclassifiable/Attainment |  | Unclassifiable/Attainment.
Sabana Grande Municipio |  | Unclassifiable/Attainment |  | Unclassifiable/Attainment.
Salinas Municipio |  | Unclassifiable/Attainment |  | Unclassifiable/Attainment.
San Germán Municipio |  | Unclassifiable/Attainment |  | Unclassifiable/Attainment.
San Juan Municipio |  | Unclassifiable/Attainment |  | Unclassifiable/Attainment.
San Lorenzo Municipio |  | Unclassifiable/Attainment |  | Unclassifiable/Attainment.
San Sebastián Municipio |  | Unclassifiable/Attainment |  | Unclassifiable/Attainment.
Santa Isabel Municipio |  | Unclassifiable/Attainment |  | Unclassifiable/Attainment.
Toa Alta Municipio |  | Unclassifiable/Attainment |  | Unclassifiable/Attainment.
Toa Baja County |  | Unclassifiable/Attainment |  | Unclassifiable/Attainment.
Trujillo Alto Municipio |  | Unclassifiable/Attainment |  | Unclassifiable/Attainment.
Utuado Municipio |  | Unclassifiable/Attainment |  | Unclassifiable/Attainment.
Vega Alta Municipio |  | Unclassifiable/Attainment |  | Unclassifiable/Attainment.
Vega Baja Municipio |  | Unclassifiable/Attainment |  | Unclassifiable/Attainment.
Vieques Municipio |  | Unclassifiable/Attainment |  | Unclassifiable/Attainment.
Villalba Municipio |  | Unclassifiable/Attainment |  | Unclassifiable/Attainment.
Yabucoa Municipio |  | Unclassifiable/Attainment |  | Unclassifiable/Attainment.
Yauco Municipio |  | Unclassifiable/Attainment |  | Unclassifiable/Attainment.
ᵃ Includes Indian Country located in each county or area, except as otherwise specified.
¹ This date is 90 days after January 5, 2005, unless otherwise noted.
² This date is 30 days after November 13, 2009, unless otherwise noted.

57. Section 81.356 is amended as follows:

a. By revising the table heading for “Virgin Islands—PM2.5” to read as set forth below.

b. By adding a new table entitled “Virgin Islands—PM2.5 (24-Hour NAAQS)” to the end of the section.

§ 81.356 Virgin Islands.

* * * * *

Virgin Islands—PM2.5 (Annual NAAQS)

* * * * *

Virgin Islands—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Territory wide:
St. Croix |  | Unclassifiable/Attainment |  | Unclassifiable/Attainment.
St. John |  | Unclassifiable/Attainment |  | Unclassifiable/Attainment.
St. Thomas |  | Unclassifiable/Attainment |  | Unclassifiable/Attainment.
ᵃ Includes Indian Country located in each county or area, except as otherwise specified.
¹ This date is 90 days after November 13, 2009, unless otherwise noted.
² This date is 30 days after November 13, 2009, unless otherwise noted.

[FR Doc. E9-25711 Filed 11-12-09; 8:45 am]

BILLING CODE 6560-50-P